DEPARTMENT OF TRANSPORTATION

Pipeline and Hazardous Materials Safety Administration

49 CFR Parts 171, 172, 173, 175, 176, 178 and 180

[Docket Nos. PHMSA-2013-0260 (HM-215M)]

RIN 2137-AF05

Hazardous Materials: Harmonization With International Standards (RRR)

AGENCY: Pipeline and Hazardous Materials Safety Administration (PHMSA), DOT.

ACTION: Final rule.

SUMMARY: PHMSA is amending the Hazardous Materials Regulations to maintain alignment with international standards by incorporating various amendments, including changes to proper shipping names, hazard classes, packing groups, special provisions, packaging authorizations, air transport quantity limitations, and vessel stowage requirements. These revisions are necessary to harmonize the Hazardous Materials Regulations with recent changes made to the International Maritime Dangerous Goods (IMDG) Code, the International Civil Aviation Organization's Technical Instructions (ICAO TI) for the Safe Transport of Dangerous Goods by Air, the United Nations Recommendations on the Transport of Dangerous Goods (UN Model Regulations) and subsequently address three petitions for rulemaking.

DATES: Effective Date: January 1, 2015.

Voluntary compliance date: PHMSA is authorizing voluntary compliance beginning January 1, 2015.

Delayed compliance date: Unless otherwise specified, compliance with the amendments adopted in this final rule is required beginning January 1, 2016.

Incorporation by reference date: The incorporation by reference of certain publications listed in this rule is approved by the Director of the Federal Register as of January 1, 2015.

FOR FURTHER INFORMATION CONTACT: Steven Webb, Office of Hazardous Materials Standards or Vincent Babich, International Standards, telephone (202) 366-8553, Pipeline and Hazardous Materials Safety Administration, U.S. Department of Transportation, 1200 New Jersey Avenue SE., 2nd Floor, Washington, DC 20590-0001.

SUPPLEMENTARY INFORMATION:

I. Executive Summary

II. Background

III. Incorporation by Reference Discussion Under 1 CFR Part 51

IV. Comment Discussion

V. Section-by-Section Review

VI. Regulatory Analyses and Notices

A. Statutory/Legal Authority for the Rulemaking

B. Executive Orders 12866 and 13563 and DOT Regulatory Policies and Procedures

C. Executive Order 13132

D. Executive Order 13175

E. Regulatory Flexibility Act, Executive Order 13272, and DOT Policies and Procedures

F. Paperwork Reduction Act

G. Regulatory Identifier Number (RIN)

H. Unfunded Mandates Reform Act

I. Environment Assessment

J. Privacy Act

K. Executive Order 13609 and International Trade Analysis

I. Executive Summary

In this final rule, PHMSA is amending the Hazardous Materials Regulations (HMR; 49 CFR parts 171-180) to incorporate changes adopted in the IMDG Code, the ICAO Technical Instructions, and the UN Model Regulations, effective January 1, 2015. These changes ensure the domestic hazard classification, hazard communication and packaging requirements are consistent with those employed throughout the world.

Federal law and policy strongly favor the harmonization of domestic and international standards for hazardous materials transportation. The Federal hazardous materials transportation law (Federal hazmat law; 49 U.S.C. 5101 et seq.) directs PHMSA to participate in relevant international standard-setting bodies and encourages alignment of the HMR with international transport standards to the extent practicable while recognizing that deviations may at times be necessary to be consistent with the public interest (see 49 U.S.C. 5120). Harmonization facilitates international trade by minimizing the costs and other burdens of complying with multiple or inconsistent safety requirements for transportation of hazardous materials. Harmonization has also become increasingly important as the volume of hazardous materials transported in international commerce grows. Safety is often enhanced by creating a uniform framework for compliance. PHMSA actively participates in relevant international standard-setting bodies and promotes the adoption of standards consistent with the high safety standards set by the HMR.

The foreign trade of chemicals is a large segment of the United States economy. In 2000, U.S. foreign trade in chemicals totaled $154 billion and generated a $6 billion positive trade balance. The consistency of regulations reduces regulatory compliance costs and helps to avoid costly frustrations of international shipments. PHMSA's continued leadership in maintaining consistency with international regulations enhances the hazardous materials safety program and assists in maintaining a favorable trade balance.

II. Background

PHMSA published a notice of proposed rulemaking (NPRM) under Docket HM-215M (79 FR 50741, August 25, 2014) to incorporate various amendments to harmonize the HMR with recent changes to the UN Model Regulations, the IMDG Code, and the ICAO Technical Instructions. When considering alignment of the HMR with international standards, we review and evaluate each amendment on its own merit, on the basis of its overall impact on transportation safety, and on the basis of the economic implications associated with its adoption into the HMR. Our goal is to harmonize without diminishing the level of safety currently provided by the HMR or imposing undue burdens on the regulated community.

Based on this review and evaluation, in this final rule, PHMSA is amending the HMR to incorporate changes from the 18th Revised Edition of the UN Model Regulations, Amendment 37-14 to the IMDG Code, and the 2015-2016 ICAO Technical Instructions, which become effective January 1, 2015 (The IMDG Code is effective January 1, 2015; however, Amendment 36-12 may continue to be used until January 1, 2016). Notable amendments to the HMR in this final rule include the following:

• Updating references to international regulations including the ICAO Technical Instructions, the IMDG Code, the UN Model Regulations, the UN Manual of Tests and Criteria the Canadian Transportation of Dangerous Goods Regulations and various technical standards.

• Adding, revising, or removing certain proper shipping names, hazard classes, packing groups, special provisions, packaging authorizations, bulk packaging requirements, and passenger and cargo aircraft maximum quantity limits from the Hazardous Materials Table (HMT).

• Adopting an exception from the HMR for marine pollutants up to 5 L (1.3 gal) for liquids or 5 kg (11 lbs.) for solids when these materials are packaged in accordance with the general packaging requirements of §§ 173.24 and 173.24a. These exceptions are consistent with the UN Model Regulations, the IMDG Code, and the ICAO TI.

• Modifying the list of marine pollutants in Appendix B to § 172.101.

• Adding minimum sizes for the OVERPACK and SALVAGE markings.

• Revising and adding vessel stowage codes listed in column 10B of the HMT and segregation requirements in § 176.83 consistent with the IMDG Code.

• Adsorbed gases: Adopting new entries into the HMR; adding a definition; authorizing packagings; and adding safety requirements including quantity limitations and filling limits.

• Harmonizing with the latest version of the ICAO TI to ensure that the information currently authorized by the HMR to be provided by means of an alternative document be included on a shipping paper for batteries transported under the provisions of § 173.185(c)(4)(v) equivalent to Section IB of ICAO TI Packing Instructions 965 and 968. PHMSA is also harmonizing with the latest version of the ICAO TI by requiring a “CARGO AIRCRAFT ONLY” label on packages containing small lithium metal batteries not packed in or with equipment.

• Amending the HMR definition of non-bulk packaging by adding a new paragraph (4) to include bags and boxes conforming to the applicable requirements for specification packagings in subpart L of part 178 of this subchapter, if they have a maximum net mass of 400 kg (882 pounds) or less.

III. Incorporation by Reference Discussion Under 1 CFR Part 51

The United Nations Recommendations on the Transport of Dangerous Goods—Model Regulations, Manual of Tests and Criteria, all of the Transport Canada Clear Language Amendments, and the IAEA Regulations are all free and easily accessible for the public to access on the internet, with access provided via Web sites provided by the parent organization. The International Civil Aviation Organization Technical Instructions for the Safe Transport of Dangerous Goods by Air, International Maritime Organization International Maritime Dangerous Goods Code, and all of the International Organization for Standardization references are available for interested parties to purchase in either print or electronic versions through the parent organization Web sites. The price charged for these standards not freely available to interested parties helps to cover the cost of developing, maintaining, hosting, and accessing these standards. The specific standards are discussed in greater detail in the following analysis.

IV. Comment Discussion

In response to PHMSA's August 25, 2014 NPRM (79 FR 50741), PHMSA received comments from the following organizations and individuals:

• Aaron Adamczyk

• Alaska Airlines

• American Chemistry Council (ACC)

• American Society of Travel Agents

• Anonymous

• Autoliv

• Carla Clark

• The Council on Safe Transportation of Hazardous Articles, Inc. (COSTHA)

• The Dangerous Goods Advisory Council (DGAC)

• Dow Chemical

• Edward Altemos

• Entegris

• Gregory Sutherland

• The Institute of Makers of Explosives (IME)

• International Vessel Operators Dangerous Goods Association (IVODGA)

• James Lynch

• Jeffery Richmond

• Katherine Whelan

• Key Safety Systems

• Paul Rankin/RIPA

• Sally Mitchell

• Shondra Hector

• TK Holdings Inc. (Takata)

• TRW Automotive

• Veolia ES Technical Solutions, L.L.C. (Veolia)

• United Parcel Service (UPS)

Below is a listing of major amendments to the international transportation regulations that we proposed for adoption into the HMR, a brief synopsis of the comments we received regarding those proposals, and PHMSA's position regarding the comments. Additional comments are addressed in the section-by-section analysis section.¹

¹ Comments which were outside the scope of this rulemaking are not addressed in this final rule.

Incorporation by Reference

In the NPRM, PHMSA proposed to incorporate by reference the latest editions of various international transport standards including the 2015-2016 ICAO TI, Amendment 37-14 of the IMDG Code, the 18th Revised Edition of the UN Model Regulations, the International Atomic Energy Agency Safety Standards for Protecting People and the Environment; Regulations for the Safe Transport of Radioactive Material, No. SSR-6, and the Canadian Transportation of Dangerous Goods Regulations. Finally, PHMSA proposed the incorporation by reference of new and updated standards published by the International Organization for Standardization (ISO). PHMSA received general support from the commenters on the principle of harmonizing the U.S. regulations with international transport and technical standards. We did not receive any comments that opposed our proposals to incorporate these standards and will adopt them in this final rule.

Exceptions for Marine Pollutants

In the NPRM, PHMSA proposed to add a new exception from the HMR to § 171.4 for marine pollutants up to 5 L (1.3 gallons) for liquids or 5 kg (11 lbs) for solids when these materials are packaged in accordance with the general packaging requirements of §§ 173.24 and 173.24a.

PHMSA received comments from Gregory Sutherland, DGAC, IVODGA, and COSTHA concerning our proposed amendments to this section. General support for the harmonization effort was provided by COSTHA, IVODGA, and DGAC.

Mr. Sutherland asks if the intent of the proposal was to eliminate limited quantity and excepted quantity shipments of marine pollutants, and further asks why anyone would offer a marine pollutant as a limited or excepted quantity with the new exception in place. PHMSA is not proposing to remove the ability to offer marine pollutants as limited or excepted quantities, but does agree with the commenter that the vast majority of shippers of limited or excepted quantity amounts of marine pollutants will choose to utilize the new exception instead of existing limited or excepted quantity provisions. Mr. Sutherland notes that as proposed there would be no restriction on the number of 5 L containers that are permitted in a combination package, so a package containing four 5 L bottles would contain 20 L of non-regulated marine pollutants, but a 10 L jerrican would be fully regulated. Mr. Sutherland is correct. There is no limit to the number of up to 5 L or 5 kg single or inner packagings that may be placed inside of a package under the conditions of the exception. Lastly, Mr. Sutherland notes that as proposed there would be no requirement to mark a freight container with the large marine pollutant marking even if that freight container contains nothing but packages of excepted marine pollutants. Mr. Sutherland is correct. If the shipments of marine pollutants are below the provided quantity thresholds per inner or single packaging and meet the applicable general packaging provisions no marking would be required on a cargo transport unit, regardless of the number of packages being offered under the exception.

DGAC noted that they believe the language in the proposed paragraph (c)(l) could be clarified, as a partial reading could imply that single or inner packagings of 5 L or 5 kg of any material are excepted from the HMR. PHMSA agrees. The wording of the proposed exception is not clear enough to indicate that all shipments of marine pollutants meeting the quantity thresholds and general packaging provisions can utilize the exception assuming they are not also hazardous substances or hazardous wastes. The use of the exception for single or inner packagings of 5 L or 5 kg or less is not limited to materials offered under the UN identification numbers UN 3077 and UN 3082, but would also apply to marine pollutants that meet the definition of other hazard classes (i.e. paints or n.o.s. entries that meet the definition of more than one hazard class). PHMSA is amending the exception in 171.4 for clarification.

IVODGA, while providing general support for harmonization on this issue, notes the reporting requirements under the International Convention for the Prevention of Pollution from Ships (MARPOL) and the Environmental Protection Agency (EPA) Vessel's General Permit (VGP) Plan requirements and has some concern regarding the vessel operator's ability to identify these marine pollutants. Vessel owners or operators may be caught in a situation where they are transporting materials which may be excepted from various transport requirements, but still require reporting under domestic and international mandates. IVODGA states that some consideration of these reporting requirements should be addressed since these substances in small packages still represent a hazard if spilled from or on a vessel during operational phases especially when transported in container load quantities.

PHMSA asserts that excepting up to 5 L for liquids and 5 kg for solids provides significant benefit to the shipper and aligns with requirements of other modes of transportation and international regulations. EPA's VGP Plan regulates discharges incidental to normal operations. Reporting requirements under the VGP Plan are for reportable quantities of substances as listed in Appendix A in 49 CFR 172.101, and does not cover marine pollutants. PHMSA data over the past 10 years contains just one record of a marine pollutant released on a vessel.² Furthermore, that one incident involved a 55 gallon drum which would not be impacted by the proposed amendment. National Response Center (NRC) incident reporting since 2009 shows 415 initial reports to the NRC involving containership during that period. 78 of those reports involved leaking containers on deck, with 5 of the leaks reaching the water. Thirteen of those reports involved the loss of containers or pallets over the side. None of the incidents over the time period involved marine pollutants that would be excepted as a result of this final rule.

² Incident data can be accessed at https://hazmatonline.phmsa.dot.gov/IncidentReportsSearch/.

Modification of Marine Pollutant List in Appendix B to § 172.101

In the NPRM, PHMSA proposed the addition of 62 new entries consistent with the IMDG Code and removing the entry “Chlorotoluenes (meta-;para-)” based on its removal from the IMDG Code.

PHMSA received two comments from the ACC regarding our proposed addition of dodecene, to the list of marine pollutants. In its first comment, the ACC requests a 30 day extension of the comment period to better understand “dodecene's place on other lists referenced in the proposed rule.” ACC notes that it would use the time to coordinate with industry to better understand the information contained in the dodecene Regulation on Registration, Evaluation, Authorization and Restriction of Chemicals (REACH) dossiers. PHMSA is denying the ACC's request for a 30 day extension of the comment period for this rulemaking as the revision to include dodecene in the Marine Pollutant List is consistent with our standard practice of aligning Appendix B with the indicative list of marine pollutants found in the IMDG Code. In its second comment, the ACC notes that the use of the name “dodecene” in both the IMDG Code and PHMSA's proposed rule makes it unclear exactly what substance is being regulated. When manufactured, dodecene may represent a number of Chemical Abstracts Service (CAS) numbers and different chemical properties. In other words, this single description of dodecene may not reflect what ACC panel members currently manufacture and ship. The ACC also notes that the REACH registration of a close analog of dodecene, 1-dodecene/dodec-1-ene, indicates that dodecene would not meet the criteria of a Marine Pollutant, as set forth in the PHMSA list, based on aquatic toxicity data. The REACH dossier indicates “conclusive but not sufficient for classification” on both acute and chronic environmental categories associated with this compound. The inclusion of all entries proposed for addition in the NPRM was thoroughly vetted by several sub-committees of the International Maritime Organization prior to adoption into amendment 37-14 of the IMDG Code. The Group of Experts on the Scientific Aspects of Marine Environmental Protection (GESAMP) data assigns all dodecene isomers a B1 numerical rating of 4. This rating of 4 indicates acute aquatic toxicity, and thus merits inclusion of dodecene (all isomers) to the list of marine pollutants in Appendix B to § 172.101.

Adsorbed Gas HMT Entries

In the NPRM, PHMSA proposed to revise the Hazardous Materials Table (HMT) in § 172.101 to include seventeen new entries for adsorbed gases consistent with amendments adopted into the UN Model Regulations. We also proposed to add into the HMR a definition, authorized packagings, and safety requirements including quantity limitations and filling limits.

PHMSA received three comments from COSTHA, DGAC, and Entegris noting that the entry for “Arsine, adsorbed” was not added to the HMT in the NPRM as intended. As a result, PHMSA is adding the entry “UN3522, Arsine, adsorbed” to the HMT. Entegris also provided comment suggesting that § 173.302c cannot be referenced in the HMT as a packaging instruction for bulk shipments of adsorbed gases, as there is no internationally accepted standard or authorization for bulk receptacles containing such gases. PHMSA agrees with the Entegris comment that bulk packagings for adsorbed gases are not presently authorized. As a result, PHMSA is revising Column (8C) of the HMT for the Adsorbed gas entries to indicate “None.”

In addition, Entegris and COSTHA requested that PHMSA incorporate provisions for the use of DOT specification cylinders to transport adsorbed gasses. PHMSA agrees with the commenters that appropriate provisions for the use of DOT cylinders should be considered. However this action was not proposed in the NPRM. Continued transportation of adsorbed gases is provided for under the provisions of Special Permit 14237 and PHMSA will consider inclusion of DOT specification cylinder authorizations under a future rulemaking.

Lithium Battery Harmonization Proposals

In the NPRM, PHMSA proposed harmonization with the latest version of the ICAO TI to ensure that the information currently authorized by the HMR, to be provided by means of an alternative document, be included on a shipping paper for batteries transported under the provisions of § 173.185(c)(4)(v) which is equivalent to Section IB of ICAO TI Packing Instructions 965 and 968. PHMSA specifically requested input as to the costs and benefits of harmonizing the provisions of the HMR with the provisions of the ICAO TI by requiring shipping papers as opposed to alternative documentation. PHMSA received comments from UPS and Alaska Airlines concerning removal of the alternative document. UPS supported our proposed change to the documentation requirement for packages containing smaller lithium batteries transported in accordance with § 173.185(c)(4)(v). UPS also commented that the proposal to introduce a shipping paper requirement for shipments offered under § 173.185(c)(4)(v) could be interpreted to conflict with the statement in the preceding paragraph § 173.185(c) in that such shipments are excepted from the requirements in subparts C through H of part 172. UPS suggests that § 173.185(c) should be clarified in this regard. We agree clarification is warranted. Alaska Airlines commented that it would like to see increased harmonization between the HMR and the ICAO TI with regard to the documentation required while stating there is no reason to deviate from the ICAO TI. We agree, and note that the amendments proposed do provide for such consistency.

Taking into account the comments from Alaska Airlines, PHMSA confirmed that the proposed amendments align with the requirements of the ICAO TI with regard to documentation. However, based on the comment from UPS, in this final rule PHMSA is revising § 173.185(c)(4)(v) as suggested by UPS for clarity. This editorial amendment will clarify that packages offered in accordance with § 173.185(c)(4)(v) are subject to the shipping paper requirements of subpart C of Part 172.

In the NPRM, PHMSA proposed revision of § 173.185(c)(1)(iii) to harmonize with the latest version of the ICAO TI by providing the option to use a “CARGO AIRCRAFT ONLY” label or the existing HMR marking requirement on packages containing small lithium metal batteries excluding those packed with or contained in equipment. PHMSA received comments from UPS and COSTHA in support of the proposal. UPS commented that the provision in this paragraph excepting lithium metal cells or batteries packed with or contained in equipment in quantities “less than 5 kg net weight” from the § 173.185(c)(1)(iii) marking requirement differs slightly in wording from the current ICAO TI and previous requirements of the HMR. In this final rule, PHMSA is revising § 173.185(c)(1)(iii) as proposed in the NPRM with an additional editorial revision to clarify that lithium metal cells or batteries packed with or contained in equipment in quantities “not exceeding” as opposed to “less than” 5 kg net weight are not subject to the marking or “CARGO AIRCRAFT ONLY” label requirement. This provides editorial consistency with the provisions of the ICAO TI.

In the NPRM, PHMSA proposed to amend the lithium battery requirements by authorizing use of a large packaging for a single large lithium battery or batteries contained in equipment. PHMSA received one comment from COSTHA in support of this proposal.

Definition of Non-Bulk Packaging

To harmonize with the 18th Revised Edition of the UN Model Regulations, in the NPRM, PHMSA proposed to amend the definition of non-bulk packaging in § 171.8 to include a bag or box having a capacity of greater than 450 liters (119 gallons) provided the net mass of the bag or box is 400 kg (882 pounds) or less. PHMSA received comments from Key Safety Systems, RIPA, TK Holdings Inc., and TRW Automotive in support of this proposal. However, RIPA conditioned their support on the presumption that the references to “bag” and “box” in the definition do limit users to all the conditions stipulated in subpart L of part 178. For example, the standard for each of the different bags provided in subpart L of part 178 imposes a maximum net mass limitation of 50 kg (110 pounds). PHMSA agrees that the text proposed in the revised definition of non-bulk packaging requiring the bag or box to conform to all applicable requirements for the specification packagings in subpart L of part 178 should be clarified and has revised the definition to include that the packaging may not exceed the maximum net mass limitation provided in subpart L of part 178.

Vessel Stowage and Segregation Changes

In the NPRM, PHMSA proposed to revise and add vessel stowage codes listed in column 10B of the HMT and segregation requirements in § 176.83 consistent with the IMDG Code. These changes harmonize the HMR with the IMDG Code and provide additional guidance on the loading and stowage of various materials. Additionally, we proposed to increase the required segregation distances between Division 4.3 dangerous when wet material (i.e. materials liable to give off a flammable or toxic gas in contact with water) and Class 3 flammable liquids and Division 2.1 flammable gases. PHMSA received a comment from IVODGA providing general support for this harmonization effort.

V. Section-by-Section Review

The following is a section-by-section review of the amendments adopted in this final rule:

Part 171

Section 171.4

Section 171.4 prohibits the transportation of materials meeting the definition of a marine pollutant except in accordance with HMR requirements. Paragraph (c) provides that marine pollutants transported in non-bulk packagings are excepted from the HMR unless the transportation is by vessel. PHMSA is adding a new exception from the HMR for marine pollutants up to 5 L (1.3 gallons) for liquids or 5 kg (11 pounds) for solids when these materials are packaged in accordance with the general packaging requirements of §§ 173.24 and 173.24a. This amendment, applicable to all modes, exempts small packages of hazardous material from the HMR that are regulated only because of the presence of one or more marine pollutants.

Comments received on this issue are discussed in detail in the Section IV “Comment Discussion” portion of this final rule. As a result of comments from DGAC, PHMSA is amending the exception in 171.4 to indicate that the use of the exception for single or inner packagings of 5 L or 5 kg or less is not limited to materials offered under the UN identification numbers UN 3077 and UN 3082, but also applies to marine pollutants that meet the definition of other hazard classes (i.e. paints or N.O.S. entries that meet the definition of more than one hazard class).

Section 171.7

Section 171.7 provides a listing of all standards incorporated by reference into the HMR. For this rulemaking, we evaluated updated international consensus standards pertaining to proper shipping names, hazard classes, packing groups, special provisions, packaging authorizations, air transport quantity limitations, and vessel stowage requirements and determined that the revised standards provide an enhanced level of safety without imposing significant compliance burdens. These standards have a well-established and documented safety history and their adoption will maintain the high safety standard currently achieved under the HMR. Therefore, we are adding and revising the incorporation by reference materials under the following organizations:

Paragraph (s)(1) which incorporates the International Atomic Energy Agency (IAEA) Regulations for the Safe Transport of Radioactive Material 1996 edition is revised to incorporate the SSR-6 2012 Edition. The SSR-6 2012 Edition is replacing TS-R-1 (ST-1, Revised) 1996 Edition to address concerns over domestic and international differences in the transport conditions applicable to shipments of excepted fissile materials, PHMSA is adding additional requirements to § 171.23 to ensure domestic concerns are addressed. Please see the discussion in the Section-by-Section Review under § 171.23 for a summary of changes.

Paragraph (t)(1) which incorporates the International Civil Aviation Organization Technical Instructions for the Safe Transport of Dangerous Goods by Air, 2013-2014 Edition is revised to incorporate the 2015-2016 Edition.

Paragraph (v)(2), which incorporates the International Maritime Organization International Maritime Dangerous Goods Code, 2012 Edition, Incorporating Amendment 36-12, English Edition, Volumes 1 and 2, is revised to incorporate the 2014 Edition, Amendment 37-14.

In paragraph (w) various International Organization for Standardization (ISO) entries which contain standards for the specifications, design, construction, testing and use of gas cylinders are incorporated by reference. ISO 9809-1:2010 (E), ISO 9809-2:2010 (E), ISO 9809-3:2010 (E), ISO 10297:1999 (E), ISO 11114-1:2012 (E), ISO 11117:1998(E), and ISO 11513:2011(E) are added.

In paragraph (bb)(1), the Transport Canada, Transportation of Dangerous Goods Regulations, including Clear Language Amendments 1 through 7 sub-paragraphs (ix), (x), (xi), and (xii), are added to include Amendment 8 (SOR/2011-239) which was published on November 9, 2011; Amendment 9 (SOR/2011-60) published March 16, 2011; Amendment 10 (SOR/2011-210) published October 12, 2011; and Amendment 11 (SOR/2012-245) published December 5, 2012 respectively. In the preamble of our January 7, 2013 final rule (HM215-L [78 FR 987]) we indicated we were adopting Amendments 8, 9 and 10 of the Transportation of Dangerous Goods Regulations, however this adoption inadvertently did not appear in the published regulatory text. To correct this oversight, we are again including the adoption of Amendments 8, 9 and 10, along with the adoption of the most recent, Amendment 11.

Paragraph (dd)(1), the United Nations Recommendations on the Transport of Dangerous Goods— Model Regulations, 17th Revised Edition (2011), Volumes I and II, is revised to incorporate the 18th Revised Edition (2013), Volumes I and II.

Paragraph (dd)(2), the United Nations Recommendations on the Transport of Dangerous Goods—Manual of Tests and Criteria, Fifth Revised Edition (2009), including Amendment 1 (2011), is revised to reference § 171.24, and sub-paragraph (iii) is added to incorporate Amendment 2 (2013).

Section 171.8

This section defines terms generally used throughout the HMR that have broad or multi-modal applicability. PHMSA is adding the following defined terms:

Adsorbed gas: The adoption of this term directs the reader to § 173.115 for the definition. See the § 173.115 entry of the Section-by-Section Review for a complete discussion of the adoption of the definition of adsorbed gas.

Bundle of cylinders: Consistent with the ICAO TI, PHMSA is amending this definition to clarify that a “bundle of cylinders” is not permitted for air transport.

Large salvage packaging: Consistent with the UN Model Regulations, PHMSA is defining a large salvage packaging. A large salvage packaging is a special packaging into which damaged, defective or leaking hazardous materials packages, or hazardous materials that have spilled or leaked are placed for the purpose of transport for recovery or disposal. The general requirements for a large salvage packaging are consistent with the existing requirements for a “large packaging.” Large salvage packagings are not authorized for air transport. PHMSA received a comment from RIPA providing general support for the addition of this definition.

Neutron radiation detector: Consistent with the UN Model Regulations, PHMSA is defining a neutron radiation detector. A neutron radiation detector is a device that detects neutron radiation. In such a device, a gas may be contained in a hermetically sealed electron tube transducer that converts neutron radiation into a measurable electric signal.

Non-bulk packaging: Part 6 of the UN Model regulations was revised to remove the volumetric limit for certain packaging types that would be considered non-bulk packagings under the HMR. This was based on recognition by the UN Transport of Dangerous Goods Sub-Committee that there are packagings suitable for the transportation of high volume, low mass materials (e.g., airbags) where the capacity of a box may exceed 450 liters (119 gallons) while the net mass of the box is less than 400 kg (882 pounds). Absent a corresponding amendment to the HMR, U.S. manufacturers and shippers would be placed at a competitive disadvantage by not being authorized to use the same packaging configurations other than as authorized for use by Part 171 Subpart C (use of international transport standards and regulations). Therefore, to maintain consistency with the UN Model Regulations, and to authorize the use of these packaging configurations for domestic transport, PHMSA is revising the HMR definition of non-bulk packaging by adding a new paragraph (4) to include bags and boxes conforming to the applicable requirements for specification packagings in subpart L of part 178 of this subchapter, if they have a maximum net mass of 400 kg (882 pounds) or less. Based on our review of the UN Model Regulations, these are the only packagings affected by the UN amendment, as only bags and boxes do not have specified volumetric limitations.

PHMSA received comments from Key Safety Systems, RIPA, TK Holdings Inc., and TRW Automotive in support of this proposal. However, RIPA conditioned their support on the presumption that the references to “bag” and “box” in the definition do limit users to all the conditions stipulated in subpart L of part 178. For example, the standard for each of the different bags provided in subpart L of part 178 imposes a maximum net mass limitation of 50 kg (110 pounds). PHMSA believes that the text proposed in the revised definition of non-bulk packaging requiring the bag or box to conform to all applicable requirements for the specification packagings in subpart L or part 178 is clear in requiring the bags and boxes to completely conform to the specification, including the questioned maximum net mass limitation of 50 kg (110 pounds) for bags.

Radiation Detection System: Consistent with the UN Model Regulations, PHMSA is defining a radiation detection system. A radiation detection system is an apparatus that contains radiation detectors as components.

Section 171.23

Section 171.23 prescribes requirements for specific materials and packagings transported under various international standards. Section 171.22(b)(2) requires shipments made in accordance with an authorized international standard or regulation to conform to all applicable requirements of Subpart C of Part 171 which includes any requirements found in § 171.23.

Paragraph (b)(2) of this section requires the shipping paper description of items such as air bag inflators, air bag modules, and seat-belt pretensioners to conform to the requirements in § 173.166(c). Consistent with the UN Model Regulations, PHMSA is revising the proper shipping name of these items to read “Safety device,” with the addition of the term “pyromechanical device” being included as a “Safety device.” Paragraph (b)(2) is being revised to reference the new proper shipping name, “Safety device” and the new term “pyromechanical device.” As a consequence of the addition of the proper shipping name “Safety devices, pyrotechnic,” and special provision 161 being removed, paragraph (b)(2)(ii) is removed.

PHMSA received one comment from DGAC concerning paragraph (b)(2)(i). Paragraph (b)(2)(i) states that an EX number or product code number must be included as part of the shipping description. DGAC notes that safety devices tested and certified as Class 9 in accordance with § 173.166(b) do not require EX numbers and that the wording in this paragraph is confusing as it conveys that all safety devices require either an EX number or product code in association with the basic description on a shipping paper. We agree with DGAC that the EX number or product code shipping paper requirements when offering under international standards in accordance with § 171.23(b) may be confusing when compared to the corresponding domestic requirements in § 173.166(c) that only require the EX number or product code on a shipping paper for safety devices classed as Class 1, but excepts Class 9 safety devices from this requirement. Taking into account the comments from DGAC, in this final rule, PHMSA is removing § 171.23(b)(2)(i) as the preceding paragraph (b)(2) requires that for each safety device, the shipping paper description must conform to the requirements in § 173.166(c). By removing (b)(2)(i) and directing readers to the EX number and product code requirements prescribed in § 173.166(c), any potential conflict between the two sections is removed.

Paragraph (b)(11) of this section prescribes additional requirements for shipments of radioactive materials made under authorized international standards or regulations. PHMSA is incorporating by reference the 2012 IAEA SSR-6 regulations to replace the TS-R-1 (ST-1, Revised) 1996 Edition to allow shipments to be offered for transportation or transported under the most recent IAEA regulations. Several changes to the definition of excepted fissile materials and the requirements for its transport were adopted by the IAEA. Under their respective statutory authorities, DOT and the Nuclear Regulatory Commission (NRC) jointly regulate the transportation of radioactive materials to, from, and within the United States. The NRC has not initiated any rulemaking activities to address changes made by the IAEA regarding the transportation of excepted fissile materials. In order to maintain uniform treatment for shippers of excepted fissile materials, PHMSA is amending § 171.23 to require that shipments of excepted fissile materials offered in accordance with the IAEA SSR-6 regulations must also conform to the requirements of § 173.453.

Section 171.24

Section 171.24 details additional requirements for the use of the ICAO TI. PHMSA is amending the marking requirement for packages containing primary lithium batteries and cells that meet the exceptions in paragraph (d)(1)(ii). Packages meeting these exceptions currently are required to be marked with an indication that they contain lithium batteries, and that these lithium batteries are forbidden for transport aboard passenger aircraft. PHMSA is making this change to allow the message that these batteries are forbidden for transport aboard passenger aircraft to be expressed through the current marking or by using a CARGO AIRCRAFT ONLY label as shown in § 172.448.

Section 171.25

Section 171.25 details additional requirements for the use of the IMDG Code. PHMSA is amending the marking requirement for packages containing primary lithium batteries and cells that meet the exceptions in § 173.185(c) in paragraph (b)(3). Packages meeting these exceptions currently are required to be marked with an indication that they contain lithium batteries, and that these lithium batteries are forbidden for transport aboard passenger aircraft. PHMSA is proposing to allow the message that these batteries are forbidden for transport aboard passenger aircraft to be expressed through the current marking or by using a CARGO AIRCRAFT ONLY label as shown in § 172.448.

Part 172

Section 172.101

Section 172.101 provides instructions for using the Hazardous Materials Table (HMT) and the HMT itself. In this final rule, PHMSA is revising the instructional text that precedes the HMT for paragraph (k) of this section.

Paragraph (k) of § 172.101 explains the purpose of column (10) of the HMT and prescribes the vessel stowage and segregation requirements for specific entries in the HMT. Column (10) is divided into two columns: column (10A) [Vessel stowage] specifies the authorized stowage locations on board cargo and passenger vessels and column (10B) [Other provisions] specifies special stowage and segregation provisions. PHMSA is amending this instructional text to note that the codes in column 10B address not only codes for stowage requirements, but also, in certain instances, handling requirements that need to be observed during loading of the hazardous materials. The IMO, in amendment 37-14 of the IMDG Code, has split their stowage and segregation column (16) in the dangerous goods list into two columns and assigned codes to the existing stowage, handling, and segregation text. The new first column (16a) in the IMDG Code is entitled stowage and handling, and the second column (16b) is titled segregation. PHMSA is maintaining the HMR's current column 10A and 10B system, with text in this section and § 176.84 indicating that handling/loading of hazardous materials is also covered by certain codes in column 10B. See Section 176.84 other requirements for stowage, cargo handling, and segregation for cargo vessels and passenger vessels for a detailed discussion of changes.

Hazardous Materials Table (HMT)

In this final rule, PHMSA is proposing to amend the HMT. Readers should review all changes for a complete understanding of the amendments. For purposes of the Government Printing Office's typesetting procedures, changes to the HMT appear under three sections of the Table, “remove,” “add,” and “revise.” Certain entries in the HMT, such as those with revisions to the proper shipping names, appear as a “remove” and “add.” Amendments to the HMT include the following:

New HMT Entries

UN3507—Uranium hexafluoride, radioactive material, excepted package, less than 0.1 kg per package, non-fissile or fissile-excepted

This new HMT entry addresses small quantities of uranium hexafluoride having corrosive properties by assigning the material to Class 8 with a subsidiary risk of Class 7, since this is more consistent with the general rule of classification of radioactive material in limited quantities possessing other hazards per § 173.423. Shipments must comply with new special provision 369 and requirements found in § 173.420(d).

PHMSA received one comment from Veolia requesting that the proper shipping name be amended to read “Radioactive material, uranium hexafluoride, excepted package, less than 0.1 kg per package, non-fissile or fissile excepted” in order to maintain the listing of all radioactive material proper shipping names in a manner that they appear in succession in the HMT. PHMSA is maintaining the proper shipping name as proposed for the purpose of international harmonization of shipping descriptions. It is important to note that the primary hazard indicated in the HMT and all applicable international dangerous goods lists is a Class 8 hazard. As such, there is no need to amend the proper shipping name to maintain a sequential list of all entries having a Class 7 primary hazard.

UN3508—Capacitor, asymmetric with an energy storage capacity greater than 0.3Wh

This new HMT entry covers asymmetric capacitors with an energy storage capacity greater than 0.3 Wh. Asymmetric capacitors are assigned as a Class 9 miscellaneous hazardous material.

UN3510—Adsorbed gas, flammable, n.o.s.

UN3511—Adsorbed gas, n.o.s.

UN3512—Adsorbed gas, toxic, n.o.s.

UN3513—Adsorbed gas, oxidizing, n.o.s.

UN3514—Adsorbed gas, toxic, flammable, n.o.s.

UN3515—Adsorbed gas, toxic, oxidizing, n.o.s.

UN3516—Adsorbed gas, toxic, corrosive, n.o.s.

UN3517—Adsorbed gas, toxic, flammable, corrosive, n.o.s.

UN3518—Adsorbed gas, toxic, oxidizing, corrosive, n.o.s.

UN3519—Boron trifluoride, adsorbed

UN3520—Chlorine, adsorbed

UN3521—Silicon tetrafluoride, adsorbed

UN3522—Arsine, adsorbed

UN3523—Germane, adsorbed

UN3524—Phosphorus pentafluoride, adsorbed

UN3525—Phosphine, adsorbed

UN3526—Hydrogen selenide, adsorbed

The “Adsorbed gas” HMT entries are added to address shipments of gas, which when packaged for transport, are adsorbed onto a solid porous material in a pressure receptacle. Entries classified as Division 2.3 gases are forbidden for transport by aircraft. PHMSA received three comments from COSTHA, DGAC, and Entegris noting that the entry for “Arsine, adsorbed” was not added to the HMT in the NPRM as intended. As a result, in this final rule PHMSA is adding the entry “UN3522, Arsine, adsorbed” to the HMT. Entegris also provided a comment suggesting that § 173.302c cannot be referenced in the HMT as a packaging instruction for bulk shipments of adsorbed gases, as there is no internationally accepted standard or authorization for bulk receptacles containing such gases. PHMSA agrees with the Entegris comment that bulk packagings for adsorbed gases are not presently authorized. As a result, in this final rule, PHMSA is revising Column (8C) of the HMT for the Adsorbed gas entries to indicate “None.” .

Duplicate entries for UN0214 Trinitrobenzene, dry or wetted with less than 30 percent water, by mass currently exist in the HMT; while the UN1354 entry has been inadvertently overwritten by one of these UN0214 entries in an unidentified previous rulemaking. PHMSA is removing one of the duplicate UN0214 entries, and reinserting the correct UN1354 entry.

Amendments to the Column (1) Symbols

Section 172.101(b) describes column (1) of the HMT and the associated symbols that may be indicated in the column. In accordance with § 172.101(b), the symbol “G” identifies proper shipping names for which one or more technical names of the hazardous material must be entered in parentheses in association with the basic description on a shipping paper. The symbol “I” indicates these proper shipping names are appropriate for describing materials in international transportation, but that an alternate proper shipping name may be selected when only domestic transportation is involved. The letter “A” denotes a material that is subject to the requirements of this subchapter only when offered or intended for transportation by aircraft, unless the material is a hazardous substance or a hazardous waste.

In this final rule, PHMSA is adding international proper shipping names for “Asbestos, amphibole (amosite, tremolite, actinolite, anthophyllite, crocidolite)” and “Asbestos, chrysotile,” and removing shipping descriptions for Blue, Brown, and White Asbestos. These new international proper shipping names for “Asbestos, amphibole” and “Asbestos, chrysotile” have an “I” assigned in column one. PHMSA is also assigning a “G” to the “Asbestos, amphibole” entry. The “G” indicates that the technical name(s) of the hazardous material must be entered in parentheses, in association with the basic description. In the case of this proper shipping name, the technical name shown should be selected from the list of five different minerals (amosite, tremolite, actinolite, anthophyllite, crocidolite) indicated in italics after the proper shipping name. See the amendments to column (2) of the HMT for additional discussion regarding the revision of the proper shipping names for these entries.

In this final rule PHMSA is assigning an “A” to column 1 for “Fish meal, stabilized or Fish scrap, stabilized” consistent with changes made to the ICAO TI. PHMSA received one comment from Alaska Airlines supporting the assignment of an “A” to column one for this material.

Amendments to the Column (2) Hazardous Materials Descriptions and Proper Shipping Names

Section 172.101(c) describes column (2) of the HMT and the requirements for hazardous materials descriptions and proper shipping names.

In the NPRM, the proper shipping name for “UN0222, Ammonium nitrate, with more than 0.2 percent combustible substances, including any organic substance calculated as carbon, to the exclusion of any other added substance” was proposed to be amended by removing the italicized text and placing the text into the new special provision 370. PHMSA received one comment from IME stating that the NPRM did not provide an adequate explanation to justify why the UN Sub-Committee of Experts on the Transport of Dangerous Goods (UNSCETDG) recommends this change. IME provides several reasons that this amendment should not be adopted. IME notes that while the italicized text is not “lost” when placed in the new special provision 370, the absence of the text from the proper shipping name will add to confusion about this form of ammonium nitrate as UN0222 is one of six classifications of solid ammonium nitrate. Of the six, only UN0222 and NA0331 are Class 1 entries and all of these entries have been distinguished from each other by italicized text. IME further notes there was no proposal to remove clarifying italicized text from other entries.

A review of the change to the UN Model Regulations revealed that the italicized text assigned to the proper shipping name for UN0222 was removed to resolve a potential contradiction with the new special provision 370 assigned to UN0222. The qualifying italicized text associated with this entry applies to materials with more than 0.2 percent combustible substances; however, special provision 370 provides that Ammonium nitrate with not more than 0.2% combustible substances that give a positive result when tested in accordance with Test Series 2 of the UN Manual of Tests and Criteria must also be assigned to UN0222. In this scenario, a user of the HMT with a material containing less than 0.2 percent combustible substances (see UN1942) may not be immediately aware that UN0222 should be used if the material simultaneously gives a positive result when tested in accordance with Test Series 2. By moving the italicized text from the proper shipping name to the special provision this contradiction is avoided by providing instruction for Ammonium nitrate containing both more than, and less than 0.2 percent combustible substances. Following the review PHMSA determined that any minor contradiction that may exist between maintaining the qualifying text as part of the proper shipping name or in the special provision is negligible. We agree with the comment submitted by IME that retaining the italicized text in association with the proper shipping name does have a benefit, and as such, we are retaining the italicized text “with more than 0.2 percent combustible substances, including any organic substance calculated as carbon, to the exclusion of any other added substance” as part of the proper shipping name.

The proper shipping name for “UN1942, Ammonium nitrate, with not more than 0.2% combustible materials, including any organic substance, calculated as carbon to the exclusion of any other added substance” is amended by replacing the word “materials” in italicized text with “substances” and the comma following “substance” is placed after the word “carbon.” Due to the present placement of the comma in the description for the two ammonium nitrate entries, the 0.2% combustible materials/substances are measured differently. This amendment ensures that the 0.2% combustible level is calculated as carbon in the case of organic substances. PHMSA received one comment from DGAC noting that the entry in the proposed HMT contained italicized text inconsistent with the amendment discussed in the NPRM (79 FR 50750). We agree and are correcting the italicized text as part of the proper shipping name consistent with the NPRM preamble discussion.

Two new proper shipping names “Asbestos, amphibole (amosite, tremolite, actinolite, anthophyllite, crocidolite)” and “Asbestos, chrysotile” are assigned to identification numbers UN2212 and UN2590, respectively. These new proper shipping names more appropriately describe the material than the present “UN2212, Blue asbestos (Crocidolite) or Brown asbestos (amosite, mysorite)” and “UN2590, White asbestos (chrysotile, actinolite, anthophyllite, tremolite).” In the scientific community, Asbestos is divided into two chemical group names, “Amphiboles” and “Chrysotile”. The amphibole group includes five different minerals (amosite, tremolite, actinolite, anthophyllite, crocidolite). The chrysotile group includes only the mineral chrysotile.

The proper shipping name for “UN3499, Capacitor, electric double layer (with an energy storage capacity greater than 0.3 Wh)” is amended by placing the phrase “electric double layer” in Roman type. This amendment is necessary to differentiate this HMT entry from the new HMT entry, Capacitor, asymmetric.

A new proper shipping name “Safety devices, electrically initiated” is assigned to identification number UN3268. Current proper shipping names assigned to UN3268 are “Air bag inflators, or Air bag modules, or Seat-belt pretensioners.” The adopted proper shipping name more appropriately describes materials authorized under this HMT entry in conjunction with the revision to special provision 160 to include a number of automotive industry life-saving appliances that are actuated by the electric signal of the crash sensor.

A new proper shipping name of “Safety devices, pyrotechnic” is assigned to identification number UN0503. The current proper shipping names assigned to UN0503 are “Air bag inflators, or Air bag modules, or Seat-belt pretensioners.” The adopted proper shipping name more appropriately describes Class 1 materials authorized under this HMT entry.

PHMSA received a comment from COSTHA noting that stocks of these materials are well into the millions, and therefore they requested that PHMSA identify a transition period during which the previous proper shipping names may continue to be used in association with the relevant UN number. COSTHA believes a 1-year transition (until January 1, 2016) would be sufficient to re-mark packages already in the supply chain. PHMSA notes that this final rule provides for a one year delayed compliance date from the date of publication. It is also important to note that § 172.101(l)(ii) provides for the ability to use preprinted shipping papers and package markings, until depleted or for a one year period, subsequent to the effective date of a rulemaking change, whichever is less.

The proper shipping name for “UN1082, Trifluorochloroethylene, stabilized” is amended by adding “Refrigerant gas R 1113” as an alternative proper shipping name for consistency with the dangerous goods lists of the various international standards and the HMT of the HMR. The adopted proper shipping name for UN1082 is “Trifluorochloroethylene, stabilized or Refrigerant gas R 1113”. PHMSA received one comment from DGAC noting that this entry is not listed in the proposed HMT under the “REMOVE” instruction; however, the new entry is listed under the “ADD” instruction. As a result, in this final rule, PHMSA is adding “UN1082, Trifluorochloroethylene, stabilized” to the entries under “REMOVE” in the instructions to amend the HMT. This will correct the regulatory instruction for amending the proper shipping name.

Amendments to Column (5) Packing Group

Section 172.101(f) describes Column (5) of the HMT and the designation of the packing group(s) assigned to each proper shipping name.

For the entries “UN3316, Chemical kits” and “UN3316, First aid kits” the Packing Groups II and III designations are adopted. The assignment of packing groups to these entries are not a new requirement; however, including packing group assignments in the HMT will ensure that shippers are aware that the most stringent packing group must be assigned to any individual substance in the kit in accordance with § 173.161(b)(2).

PHMSA received one comment from DGAC noting that the Packing Group III designation for “UN3316, First aid kits” was not added to the HMT. In this final rule, we are adding the Packing Group III entry to the HMT accordingly.

The HMT entries for several articles are revised to remove packing group assignments. For articles, the packing group does not relate to the degree of hazard posed by the material but rather is assigned generically to the article. There is limited value in requiring an indication of the packing group in association with the shipment. Currently and without specific rationale, some articles are assigned packing groups while others are not. This change provides a level of consistency for all articles specifically listed in the HMT. In this final rule, PHMSA is removing packing group assignments from the following HMT entries:

Proper shipping name | UN No.
Ammunition, tear-producing, non-explosive, without burster or expelling charge, non-fuzed | UN2017
Ammunition, toxic, non-explosive, without burster or expelling charge, non-fuzed | UN2016
Batteries, containing sodium | UN3292
Batteries, wet, filled with acid, electric storage | UN2794
Batteries, wet, filled with alkali, electric storage | UN2795
Batteries, wet, non-spillable, electric storage | UN2800
Lithium ion batteries including lithium ion polymer batteries | UN3480
Lithium ion batteries contained in equipment including lithium ion polymer batteries | UN3481
Lithium ion batteries packed with equipment including lithium ion polymer batteries | UN3481
Lithium metal batteries including lithium alloy batteries | UN3090
Lithium metal batteries contained in equipment including lithium alloy batteries | UN3091
Lithium metal batteries packed with equipment including lithium alloy batteries | UN3091
Mercury contained in manufactured articles | UN3506
Oxygen generator, chemical (including when contained in associated equipment, e.g., passenger service units (PSUs), portable breathing equipment (PBE), etc) | UN3356
Safety devices, electrically initiated * | UN3268
Tear gas candles | UN1700
* See amendments to Column 2

PHMSA received comment from DGAC noting that for UN2794, UN2795, and UN2800, the Column (5) packing group assignments were removed in the HMT but not discussed in the NPRM preamble. The entries for these articles have been added to the above table for clarity.

Amendments to the Column (7) Special Provisions

Section 172.101(h) describes Column (7) of the HMT and § 172.102(c) the special provisions assigned to specific entries in the HMT. The particular modifications to the entries in the HMT are discussed below. See Section 172.102 special provisions for a detailed discussion of the additions, revisions, and deletions to the special provisions addressed in this final rule.

In this final rule, special provision 134 is added to the HMT entry “UN3072, Life-saving appliances, not self-inflating containing dangerous goods as equipment.” The addition of this special provision will clarify that equipment containing only lithium batteries must be consigned under the entries “Lithium batteries contained in equipment” or “Lithium batteries packed with equipment,” as appropriate.

PHMSA received one comment from DGAC noting for the entry “UN2990, Life-Saving Appliances, Self Inflating,” that “Special Provision 338 is missing from Column 7 in the proposed HMT.” This was an inadvertent omission. Special provision 338 has been reestablished.

Several HMT entries are revised to include new special provision 367. Special provision 367 authorizes the use of the “Paint related material” entries for consignments of packages containing “Paint” and “Paint related material” in the same package. This special provision also authorizes the proper shipping name “Printing ink related material” for consignments of packages containing “Printing Ink” and “Printing ink related material” in the same package.

In this final rule, new special provision 367 is assigned to the following entries:

Proper shipping name | UN No.
Paint including paint, lacquer, enamel, stain, shellac solutions, varnish, polish, liquid filler, and liquid lacquer base | UN1263
Paint or Paint related material | UN3066
Paint, corrosive, flammable (including paint, lacquer, enamel, stain, shellac solutions, varnish, polish, liquid filler, and liquid lacquer base) | UN3470
Paint, flammable, corrosive, (including paint, lacquer, enamel, stain, shellac, varnish, polish, liquid filler and liquid lacquer base) | UN3469
Paint related material including paint thinning, drying, removing, or reducing compound | UN1263
Paint related material corrosive, flammable (including paint thinning or reducing compound) | UN3470
Paint related material, flammable, corrosive (including paint thinning or reducing compound) | UN3469
Printing ink, flammable or Printing ink related material (including printing ink thinning or reducing compound), flammable | UN1210

PHMSA received one comment from DGAC regarding the UN1210 PG II entry in the proposed HMT. DGAC noted that 367 inserted before 149 in Column (7) and is in non-sequential order. We agree and have amended the entry accordingly.

In this final rule, we are adding new special provision 368 to the HMT entry “UN2910, Radioactive material, excepted package-limited quantity of material.”

In this final rule, new special provision 369 is assigned to the new HMT entry “UN3507, Uranium hexafluoride, radioactive material, excepted package, less than 0.1 kg per package, non-fissile or fissile-excepted.”

In this final rule, new special provision 370 is assigned to the HMT entry “UN0222, Ammonium nitrate.” This special provision addresses a situation where Ammonium Nitrate, with not more than 0.2% carbon, does not satisfy Test Series 2 and therefore cannot be accommodated under the entry for “UN1942, Ammonium nitrate.”

In this final rule, new special provision 371 is assigned to the HMT entry “UN3164, Articles, pressurized pneumatic or hydraulic containing non-flammable gas.”

In this final rule, special provision IB6 is replaced with IB8 and special provisions IP2, and IP4 are added for the HMT Packing Group III entry “UN3089, Metal powders, flammable, n.o.s.” IB8 is presently assigned to the Packing Group II entry, therefore, fiberboard, wooden and flexible IBCs are allowed for the Packing Group II materials, but are forbidden for the less dangerous Packing Group III substance. These revisions will correct the inconsistency.

In this final rule, new special provision A61 is assigned to the HMT entries “UN 3107, Organic peroxide type E, liquid” and “UN 3109, Organic peroxide type F, liquid”

Several HMT entries are revised to include new portable tank special provision TP47. Special provision TP47 indicates that the 2.5 year internal portable tank examination may be waived or substituted by other test methods or inspection procedures specified by the competent authority or its authorized body, provided that the portable tank is dedicated to the transport of the organometallic. However, this examination is required when the conditions of § 180.605(f) are met.

In this NPRM, new special provision TP47 is assigned to the following entries:

Proper shipping name | UN No.
Organometallic substance, liquid, pyrophoric, water-reactive | UN3394
Organometallic substance, liquid, water-reactive | UN3398
Organometallic substance, liquid, water-reactive, flammable | UN3399
Organometallic substance, solid, pyrophoric, water-reactive | UN3393
Organometallic substance, solid, water-reactive | UN3395
Organometallic substance, solid, water-reactive, flammable | UN3396
Organometallic substance, solid, water-reactive, self-heating | UN3397

PHMSA received one comment from DGAC noting that for the entry “UN3375, Ammonium nitrate emulsion,” IB2 and TP32 are listed in Column (7) in the changes to the proposed HMR. DGAC notes that “these special provisions are not present in Column (7) in the 10-1-13 version of the HMR.” Although the addition of IB2 to Column (7) was not described in the amendments to Column (7) of the NPRM, this revision was intentional. PHMSA is aligning with international standards to add IBCs as an authorized packaging for UN3375. In the NPRM, portable tank special provision TP32 was inadvertently added to this HMT entry in error. While this portable tank special provision was assigned to UN3375 in the UN Model Regulations and the IMDG Code, the HMR do not authorize UN3375 in portable tanks and therefore a portable tank special provision is not appropriate. In this final rule, for the entry UN3375, Ammonium nitrate emulsion,” PHMSA is adding special provisions IB2, IP16, and removing TP32 as proposed in the NPRM. New special provision IP16 is described in the Section 172.102 special provisions discussion for IBC Codes and IP Codes.

Amendments to Column (8B) Non-Bulk Packaging Authorizations.

PHMSA received one comment from DGAC noting that for the entry “UN3375, Ammonium nitrate emulsion,” 231 is listed in is listed in Column (8B) in the changes to the proposed HMT. DGAC notes that packaging authorization 214 is present in Column (8B) in the 10-1-13 version of 49 CFR. Although this revision was not described in the amendments to Column (8B) of the NPRM, the revision from 231 to 214 was intentional as discussed in the section-by-section review of § 173.231 (79 FR 50764).

Amendments to Column (8C) Bulk Packaging Authorizations.

PHMSA received one comment from DGAC noting that for the entry “UN 3375, Ammonium nitrate emulsion,” 231 is listed in Column (8C) in the changes to the proposed HMT. The UN Sub-Committee of Experts on the Transportation of Dangerous Goods added authorizations for certain IBCs in the UN Model regulations for UN 3375. This authorization necessitates the incorporation of a bulk packaging authorization for this HMT entry. In this final rule PHMSA is creating a new § 173.251 and assigning it to column (8C) for this entry to authorize the use of IBC's.

Amendments to the Column (9) Quantity Limitations.

Section 172.101(j) describes Column (9) of the HMT and the quantity limitations for specific entries in the HMT. Furthermore, Columns (9A) and (9B) specify the maximum quantities that may be offered for transportation in one package by passenger-carrying aircraft or passenger-carrying rail car (Column (9A) or by cargo-only aircraft (Column (9B). The indication of “forbidden” means the material may not be offered for transportation or transported in the applicable mode of transport.

For the entry “UN3497, Krill meal” quantity limits of 15 kg and 50 kg for PG II, and 25 kg and 100 kg for PG III, are adopted for columns (9A) and (9B) respectively. Previously, there was no limit to the amount authorized to be shipped in one package. These new quantity limits are consistent with authorized quantity limits found in the ICAO TI.

At the 24th meeting the ICAO DGP, it was agreed to incorporate certain UN numbers contained in the UN Model Regulations, but not currently listed in the ICAO TI. For the entries “UN2216, Fish meal, stabilized or Fish scrap, stabilized,” and “UN1374 Fish meal, unstabilized or Fish scrap, unstabilized” the panel determined that they should be forbidden for transport on both cargo and passenger aircraft. In this final rule, PHMSA is aligning with the ICAO TI by revising columns (9A) and (9B) to “Forbidden.” PHMSA received one comment from Alaska Airlines in support of this revision.

DGAC commented that for the HMT entry “UN3221, Self-reactive liquid type B,” columns (9A) and (9B) in the current HMT contain a (2) footnote, and that in the NPRM, PHMSA proposed revising these limitations to indicate “Forbidden” without any preamble discussion. This entry was revised in a Federal Register correction document (78 FR 17874), but due to a publication error was not transitioned into the printed or electronic versions of the CFR. In this rulemaking PHMSA is reinstating the correct quantity limitation notation of “Forbidden” in columns 9A and 9B for this entry.

Amendments to the Column (10) Vessel Stowage Requirements.

Section 172.101(k) explains the purpose of column (10) of the HMT and prescribes the vessel stowage and segregation requirements for specific entries in the HMT. Column (10) is divided into two columns: column (10A) [Vessel stowage] specifies the authorized stowage locations on board cargo and passenger vessels and column (10B) [Other provisions] specifies special stowage and segregation provisions.

The IMO, in amendment 37-14 of the IMDG Code, split their stowage and segregation column (16) in the dangerous goods list into two columns and assigned codes to the existing stowage, handling, and segregation text. The new first column (16a) in the IMDG Code is titled stowage and handling, and the second column (16b) is titled segregation. PHMSA is maintaining the HMT's current column (10A) and (10B), while also harmonizing our vessel stowage codes in columns (10A) and (10B) as closely as possible with those in amendment 37-14 of the IMDG Code. There are several instances where PHMSA is maintaining additional codes (see UN numbers 0019, 0020, 0021, 0301, 0303, 1017, 1131, 1389, 1392, 1420, 1422, 1780, 1942, 1950, 2679, 2912, 3015, 3071, 3101-3106, 3108-3110, 3242, 3323, and 3497) that vary from IMDG Code stowage and segregation requirements. These additional stowage and segregation provisions vary by UN number, but are considered additional precautions deemed necessary to ensure the safe transport of these commodities during transportation by vessel.

During the preparation of the NPRM and final rule, PHMSA and the United States Coast Guard conducted an extensive review of all HMT entries to verify that domestic entries correspond as closely as possible with the provisions found in the IMDG Code. PHMSA is making numerous changes to the codes found in the HMT's column (10B) [Other provisions] as a result of this review. The majority of the changes are a result of work done at the IMO to eliminate duplicate and unnecessary provisions. Some of the proposed changes to column (10B) are adopted to harmonize existing differences in stowage, handling, and segregation provisions between the HMR and the IMDG Code. A table of changes, listed in alphabetical order, showing the proper shipping name, UN identification number, any stowage codes adopted for removal, and any stowage codes adopted for addition is provided below. If a column is blank, no changes were adopted. The meaning of the codes in column (10B) can be found either in § 176.84 or are listed in the § 176.84 Section-by-Section change portion of this final rule.

Proper shipping name | UN ID No. | Proposed removals | Proposed additions
Aircraft hydraulic power unit fuel tank | UN3165 |  | 21, 40, 49, 100
Acrylamide, solid | UN2074 |  | 25
Acrylamide solution | UN3426 |  | 25
Aldol | UN2839 |  | 25
Alkali metal alloys, liquid, n.o.s. | UN1421 |  | 13, 148
Alkali metal amalgam, liquid | UN1389 |  | 13, 148
Alkali metal amalgam, solid | UN3401 |  | 13, 148
Alkali metal amides | UN1390 |  | 13, 148
Alkali metal dispersions, flammable or Alkaline earth metal dispersions, flammable | UN3482 |  | 13, 148
Alkali metal dispersions, or Alkaline earth metal dispersions | UN1391 |  | 13, 148
Alkaline earth metal alloys, n.o.s. | UN1393 |  | 13, 148
Alkaline earth metal amalgams, liquid | UN1392 |  | 13, 148
Alkaline earth metal amalgams, solid | UN3402 |  | 13, 148
Allyl chloroformate | UN1722 |  | 21, 100
Aluminum borohydride or Aluminum borohydride in devices | UN2870 |  | 13, 148
Aluminum carbide | UN1394 |  | 13, 148
Aluminum ferrosilicon powder (PG II and III) | UN1395 |  | 13, 148
Aluminum hydride | UN2463 |  | 13, 148
Aluminum phosphide | UN1397 |  | 13, 148
Aluminum powder, coated (PG II and III) | UN1309 |  | 147, 148
Aluminum powder, uncoated (PG II and III) | UN1396 |  | 13, 148
Aluminum silicon powder, uncoated | UN1398 |  | 13, 148
Aluminum smelting by-products or Aluminum remelting by-products (PG II and III) | UN3170 |  | 13, 148
N-Aminoethylpiperazine | UN2815 |  | 25
Aminopyridines (o-; m-; p-) | UN2671 |  | 25
Ammonium nitrate based fertilizer | UN2067 |  | 124
Ammonium nitrate, liquid | UN2426 |  | 124
Ammonium nitrate | UN1942 |  | 66, 124
Ammonium polysulfide, solution (PG II and III) | UN2818 |  | 25
Ammonium sulfide solution | UN2683 |  | 25
Anisoyl chloride | UN1729 |  | 40
Antimony pentafluoride | UN1732 |  | 40
Arsenic bromide | UN1555 |  | 25
Barium | UN1400 |  | 13, 148
Barium alloys, pyrophoric | UN1854 |  | 13, 148
Barium azide, wetted | UN1571 |  | 36
Barium peroxide | UN1449 | 56 | 66, 148
Batteries, containing sodium | UN3292 |  | 13, 148
Beryllium, powder | UN1567 |  | 13, 147, 148
Boron tribromide | UN2692 |  | 25
Boron trifluoride dihydrate | UN2851 |  | 25
Boron trifluoride dimethyl etherate | UN2965 |  | 25
Bromoform | UN2515 |  | 25
Bromine | UN1744 |  | 25
Bromine solutions (both PG I entries) | UN1744 |  | 25
Bromobenzyl cyanides, liquid | UN1694 |  | 25
Bromobenzyl cyanides, solid | UN3449 |  | 25
tert-Butyl hypochlorite | UN3255 |  | 40
Butyl mercaptan | UN2347 |  | 102
5-tert-Butyl-2,4,6-trinitro-m-xylene or Musk xylene | UN2956 |  | 40
Butyric acid | UN2820 |  | 25
Calcium | UN1401 |  | 13, 148
Calcium carbide (PG I and II) | UN1402 |  | 13, 148
Calcium cyanamide with more than 0.1 percent of calcium carbide | UN1403 |  | 13, 148
Calcium hydride | UN1404 |  | 13, 148
Calcium manganese silicon | UN2844 |  | 13, 148
Calcium peroxide | UN1457 | 56 | 66, 148
Calcium phosphide | UN1360 |  | 13, 148
Calcium, pyrophoric or Calcium alloys, pyrophoric | UN1855 |  | 13, 148
Calcium silicide (PG II and III | UN1405 |  | 13, 148
Carbon, activated | UN1362 |  | 25
Carbon (PG II and III) | UN1361 |  | 25
Castor beans or Castor meal or Castor pomace or Castor flake | UN2969 |  | 44, 122
Cerium, slabs, ingots, or rods | UN1333 |  | 13, 147, 148
Cerium, turnings or gritty powder | UN3078 |  | 13, 148
Cesium or Caesium | UN1407 |  | 13, 148
Chloroacetonitrile | UN2668 |  | 25
Chloroacetophenone, liquid, (CN) | UN3416 |  | 25
Chloroacetophenone, solid, (CN) | UN1697 |  | 25
Chlorocresols solution (PG II and III) | UN2669 |  | 25
Chloromethyl chloroformate | UN2745 | 21, 100 |
Chloronitrobenzenes, liquid | UN3409 |  | 44, 89, 100, 141
Chlorosilanes, water-reactive, flammable, corrosive, n.o.s | UN2988 |  | 13, 147, 148
Corrosive liquids, water-reactive, n.o.s. (PG I and II) | UN3094 |  | 13, 148
Corrosive solids, toxic, n.o.s. (PG III) | UN2923 | 95 |
Corrosive solids, water-reactive, n.o.s. (PG I and II) | UN3096 |  | 13, 148
Crotonic acid, liquid | UN3472 |  | 25
Crotonic acid, solid | UN2823 |  | 25
Cyanogen bromide | UN1889 |  | 52
Cyanuric chloride | UN2670 |  | 25
Cyclohexyl mercaptan | UN3054 |  | 102
1,1-Dichloro-1-nitroethane | UN2650 |  | 25
1,3-Dichloroacetone | UN2649 |  | 25
1,3-Dichloropropanol-2 | UN2750 |  | 25
Diethylthiophosphoryl chloride | UN2751 |  | 25
Dipicryl sulfide, wetted | UN2852 |  | 36
2-Ethylhexyl chloroformate | UN2748 | 21, 100 |
Ferrocerium | UN1323 |  | 13, 147, 148
Ferrosilicon with 30 percent or more but less than 90 percent silicon | UN1408 |  | 148
Ferrous metal borings or Ferrous metal shavings or Ferrous metal turnings or Ferrous metal cuttings in a form liable to self-heating | UN2793 |  | 13, 148
Fuel cell cartridges or Fuel cell cartridges contained in equipment or Fuel cell cartridges packed with equipment, containing water-reactive substances | UN3476 |  | 13, 148
Hafnium powder, dry (PG I, II, and III) | UN2545 |  | 13, 148
Hexachlorocyclopentadiene | UN2646 |  | 25
Hexamethylenediamine, solid | UN2280 |  | 25
Hydrofluoric acid, with more than 60 percent strength | UN1790 |  | 25
Hydrofluoric acid, with not more than 60 percent strength | UN1790 |  | 25
Hydrogen, refrigerated liquid (cryogenic liquid) | UN1966 |  | 57
Hypochlorites, inorganic, n.o.s | UN3212 | 106 |
Iron oxide, spent, or Iron sponge, spent obtained from coal gas purification | UN1376 |  | 13, 148
Isopropyl chloroformate | UN2407 |  | 21, 100
Life-saving appliances, not self inflating | UN3072 |  | 122
Life-saving appliances | UN2990 |  | 122
Lithium | UN1415 |  | 13, 148
Lithium aluminum hydride | UN1410 |  | 13, 148
Lithium aluminum hydride, ethereal | UN1411 |  | 13, 148
Lithium borohydride | UN1413 |  | 13, 148
Lithium ferrosilicon | UN2830 |  | 13, 148
Lithium hydride | UN1414 |  | 13, 148
Lithium hydride, fused solid | UN2805 |  | 13, 148
Lithium peroxide | UN1472 |  | 148
Lithium silicon | UN1417 |  | 13, 148
Magnesium aluminum phosphide | UN1419 |  | 13, 148
Magnesium diamide | UN2004 |  | 13, 148
Magnesium granules, coated, particle size not less than 149 microns | UN2950 |  | 13, 148
Magnesium hydride | UN2010 |  | 13, 148
Magnesium or Magnesium alloys with more than 50 percent magnesium in pellets, turnings or ribbons | UN1869 |  | 13, 147, 148
Magnesium peroxide | UN1476 |  | 148
Magnesium phosphide | UN2011 |  | 13, 148
Magnesium, powder or Magnesium alloys, powder (PG I, II, and III) | UN1418 |  | 13, 148
Magnesium silicide | UN2624 |  | 13, 148
Maleic anhydride | UN2215 |  | 95, 102
Maleic anhydride, molten | UN2215 |  | 95, 102
Malononitrile | UN2647 |  | 25
Maneb or Maneb preparations with not less than 60 percent maneb | UN2210 |  | 13. 148
Maneb stabilized or Maneb preparations, stabilized against self-heating | UN2968 |  | 13, 148
Mercaptans, liquid, flammable, n.o.s. or Mercaptan mixture, liquid, flammable, n.o.s (PG I, II, and III) | UN3336 |  | 102
Mercaptans, liquid, flammable, toxic, n.o.s. or Mercaptan mixtures, liquid, flammable, toxic, n.o.s. (PG II and III) | UN1228 |  | 102
Mercaptans, liquid, toxic, flammable, n.o.s. or Mercaptan mixtures, liquid, toxic, flammable, n.o.s., flash point not less than 23 degrees C | UN3071 |  | 102
Metal catalyst, dry (PG I, II, and III) | UN2881 |  | 13, 147, 148
Metal hydrides, water reactive, n.o.s.(PG I and II) | UN1409 |  | 13, 148
Metal powder, self-heating, n.o.s. (PG II and III) | UN3189 |  | 13, 148
Metal powders, flammable, n.o.s. (PG II and III) | UN3089 |  | 13, 74, 147, 148
Metallic substance, water-reactive, n.o.s. (PG I, II, and III) | UN3208 |  | 13, 148
Metallic substance, water-reactive, self-heating, n.o.s. (PG I, II, and III) | UN3209 |  | 13, 148
Methyl iodide | UN2644 |  | 25
Methyl magnesium bromide, in ethyl ether | UN1928 |  | 13, 148
Methyl vinyl ketone, stabilized |  |  | 21, 100
Organic peroxide type B, liquid | UN3101 | 40 | 25
Organic peroxide type B, liquid, temperature controlled | UN3111 | 40 | 25
Organic peroxide type B, solid | UN3102 | 40 | 25
Organic peroxide type B, solid, temperature controlled | UN3112 | 40 | 25
Organic peroxide type C, liquid | UN3103 | 40 | 25
Organic per0oxide type C, liquid, temperature controlled | UN3113 | 40 | 25
Organic peroxide type C, solid | UN3104 | 40 | 25
Organic peroxide type C, solid, temperature controlled | UN3114 | 40 | 25
Organic peroxide type D, liquid | UN3105 | 40 | 25
Organic peroxide type D, liquid, temperature controlled | UN3115 | 40 | 25
Organic peroxide type D, solid | UN3106 | 40 | 25
Organic peroxide type D, solid, temperature controlled | UN3116 | 40 | 25
Organic peroxide type E, liquid | UN3107 | 40 | 25
Organic peroxide type E, liquid, temperature controlled | UN3117 | 40 | 25
Organic peroxide type E, solid | UN3108 | 40 | 25
Organic peroxide type E, solid, temperature controlled | UN3118 | 40 | 25
Organic peroxide type F, liquid | UN3109 | 40 | 25
Organic peroxide type F, liquid, temperature controlled | UN3119 | 40 | 25
Organic peroxide type F, solid | UN3110 | 40 | 25
Organic peroxide type F, solid, temperature controlled | UN3120 |  | 25
Organometallic substance, liquid, pyrophoric | UN3392 |  | 13, 148
Organometallic substance, liquid, pyrophoric, water-reactive | UN3394 |  | 13, 52, 148
Organometallic substance, liquid, water-reactive (PG I, II, and III) | UN3398 |  | 13, 148
Organometallic substance, liquid, water-reactive, flammable (PG I, II, and III) | UN3399 |  | 13, 148
Organometallic substance, solid, pyrophoric | UN3391 |  | 13, 148
Organometallic substance, solid, pyrophoric, water-reactive | UN3393 |  | 13, 148
Organometallic substance, solid, water-reactive (PG I, II, and III) | UN3395 |  | 13, 148
Organometallic substance, solid, water-reactive, flammable (PG I, II, and III) | UN3396 |  | 13, 148
Organometallic substance, solid, water-reactive, self-heating (PG I, II, and III) | UN3397 |  | 13, 148
Oxidizing liquid, corrosive, n.o.s. (PG I) | UN3098 | 106 |
Oxidizing liquid, corrosive, n.o.s. (PG II and III) | UN3098 | 106, 34 |
Oxidizing liquid, n.o.s. (PG I, II, and III) | UN3139 | 106 |
Oxidizing liquid, toxic, n.o.s (PG I, II, and III) | UN3099 | 106 |
Oxidizing solid, corrosive, n.o.s (PG I, II, and III) | UN3085 | 106 |
Oxidizing solid, flammable, n.o.s. | UN3137 |  | 13, 147, 148
Oxidizing solid, toxic, n.o.s. (PG I) | UN3087 | 106 |
Oxidizing solid, toxic, n.o.s. (PG II and III) | UN3087 | 95, 106 |
Oxidizing solid, water reactive, n.o.s. | UN3121 |  | 13, 148
Pentaborane | UN1380 |  | 13, 148
Peroxides, inorganic, n.o.s. (PG II and III) | UN1483 |  | 148
Persulfates, inorganic, aqueous solution, n.o.s. | UN3216 |  | 58
Pesticides, liquid, flammable, toxic, flash point less than 23 degrees C (PG I and II) | UN3021 |  | 40
Phenyl chloroformate | UN2746 | 21, 100 |
Phosphorus heptasulfide, free from yellow or white phosphorus | UN1339 |  | 13, 147, 148
Phosphorus pentasulfide, free from yellow or white phosphorus | UN1340 |  | 13, 148
Phosphorus oxybromide | UN1939 |  | 25
Phosphorus pentabromide | UN2691 |  | 25
Phosphorus trioxide | UN2578 |  | 25
Phosphorus trisulfide, free from yellow or white phosphorus | UN1343 |  | 13, 147, 148
Piperazine | UN2579 |  | 25
Potassium | UN2257 |  | 13, 148
Potassium borohydride | UN1870 |  | 13, 148
Potassium, metal alloys, liquid | UN1420 |  | 13, 148
Potassium, metal alloys, solid | UN3403 |  | 13, 52, 148
Potassium peroxide | UN1491 |  | 148
Potassium phosphide | UN2012 |  | 13, 148
Potassium sodium alloys, liquid | UN1422 |  | 13, 148
Potassium sodium alloys, solid | UN3404 |  | 13, 148
Potassium superoxide | UN2466 |  | 148
Pyrophoric liquid, inorganic, n.o.s | UN3194 |  | 13, 148
Pyrophoric liquids, organic, n.o.s | UN2845 |  | 13, 148
Pyrophoric metals, n.o.s., or Pyrophoric alloys, n.o.s. | UN1383 |  | 13, 148
Pyrophoric solid, inorganic, n.o.s. | UN3200 |  | 13, 148
Pyrophoric solids, organic, n.o.s. | UN2846 |  | 13, 148
Quinoline | UN2656 |  | 25
Rubidium | UN1423 |  | 13, 148
Seed cake with not more than 1.5 percent oil and not more than 11 percent moisture | UN2217 |  | 120
Self-reactive liquid type B | UN3221 |  | 25, 127
Self-reactive liquid type B, temperature controlled | UN3231 |  | 25
Self-reactive liquid type C | UN3223 |  | 25
Self-reactive liquid type C, temperature controlled | UN3233 |  | 25
Self-reactive liquid type D | UN3225 |  | 25
Self-reactive liquid type D, temperature controlled | UN3235 |  | 25
Self-reactive liquid type E | UN3227 |  | 25
Self-reactive liquid type E, temperature controlled | UN3237 |  | 25
Self-reactive liquid type F | UN3229 |  | 25
Self-reactive liquid type F, temperature controlled | UN3239 |  | 25
Self-reactive solid type B | UN3222 |  | 25, 127
Self-reactive solid type B, temperature controlled | UN3232 |  | 25
Self-reactive solid type C | UN3224 |  | 25
Self-reactive solid type C, temperature controlled | UN3234 |  | 25
Self-reactive solid type D | UN3226 |  | 25
Self-reactive solid type D, temperature controlled | UN3236 |  | 25
Self-reactive solid type E | UN3228 |  | 25
Self-reactive solid type E, temperature controlled | UN3238 |  | 25
Self-reactive solid type F | UN3230 |  | 25
Self-reactive solid type F, temperature controlled | UN3240 |  | 25
Sodium | UN1428 |  | 13, 148
Sodium aluminum hydride | UN2835 |  | 13, 148
Sodium borohydride | UN1426 |  | 13, 148
Sodium dinitro-o-cresolate, wetted | UN3369 |  | 28
Sodium hydride | UN1427 |  | 13, 148
Sodium peroxide | UN1504 |  | 148
Sodium phosphide | UN1432 |  | 13, 148
Stannic phosphide | UN1433 |  | 13, 148
Strontium peroxide | UN1509 |  | 148
Strontium phosphide | UN2013 |  | 13, 148
Sodium superoxide | UN2547 |  | 148
Titanium powder, dry (PG I, II, and III) | UN2546 |  | 13, 148
Titanium sponge granules or Titanium sponge powders | UN2878 |  | 13, 147, 148
Titanium trichloride, pyrophoric or Titanium trichloride mixtures, pyrophoric | UN2441 |  | 13, 148
Toxic by inhalation liquid, water-reactive, n.o.s. with an LC50 lower than or equal to 200 ml/m³ and saturated vapor concentration greater than or equal to 500 LC50 | UN3385 |  | 13, 148
Toxic by inhalation liquid, water-reactive, n.o.s. with an LC50 lower than or equal to 1000 ml/m³ and saturated vapor concentration greater than or equal to 10 LC50 | UN3386 |  | 13, 148
Toxic by inhalation liquid, water-reactive, flammable, n.o.s. with an LC50 lower than or equal to 200 ml/m3 and saturated vapor concentration greater than or equal to 500 LC50 | UN3490 |  | 13, 148
Toxic by inhalation liquid, water-reactive, flammable, n.o.s. with an LC50 lower or equal to 1000 ml/m3 and saturated vapor concentration greater than or equal to 10 LC50 | UN3491 |  | 13, 148
Toxic liquid, corrosive, inorganic, n.o.s. (PG I and II) | UN3289 |  | 40
Toxic liquid, inorganic, n.o.s (PG I, II, and III) | UN3287 |  | 40
Toxic liquids, water-reactive, n.o.s. (PG I and II) | UN3123 |  | 13, 148
Toxic solid, corrosive, inorganic, n.o.s. (PG I and II | UN3290 |  | 40
Toxic solid, inorganic, n.o.s. (PG I, II, and III) | UN3288 |  | 40
Toxic solids, water-reactive, n.o.s. (PG I and II) | UN3125 |  | 13, 148
Trifluoroacetic acid | UN2699 |  | 25
Trimethylacetyl chloride | UN2438 |  | 21, 100
Trinitrobenzene, wetted, with not less than 10% water, by mass | UN3367 |  | 28
Trinitrobenzoic acid, wetted with not less than 10% water by mass | UN3368 |  | 28
Trinitrobenzoic acid, wetted with not less than 30 percent water, by mass | UN1355 |  | 28
Trinitrochlorobenzene (picryl chloride), wetted, with not less than 10% water by mass | UN3365 |  | 28
Trinitrophenol (picric acid), wetted, with not less than 10 percent water by mass | UN3364 |  | 28
Trinitrotoluene (TNT), wetted, with not less than 10 percent water by mass | UN3366 |  | 28
Urea nitrate, wetted, with not less than 10 percent water by mass | UN3370 |  | 28
Vinylpyridines, stabilized | UN3073 |  | 100
Water-reactive liquid, corrosive, n.o.s. (PG I, II, and III) | UN3129 |  | 13, 148
Water-reactive liquid, n.o.s. (PG I, II, and III) | UN3148 |  | 13, 148
Water-reactive liquid, toxic, n.o.s. (PG I, II, and III) | UN3130 |  | 13, 148
Water-reactive solid, corrosive, n.o.s. (PG I, II, and III) | UN3131 |  | 13, 148
Water-reactive solid, flammable, n.o.s. (PG I, II, and III) | UN3132 |  | 13, 148
Water-reactive solid, n.o.s. (PG I, II, and III) | UN2813 |  | 13, 148
Water-reactive, solid, oxidizing, n.o.s. (PG II and III) | UN3133 |  | 13, 148
Water-reactive solid, self-heating, n.o.s. (PG I, II, and III) | UN3135 |  | 13, 148
Water-reactive solid, toxic, n.o.s. (PG I, II, and III) | UN3134 |  | 13, 148
Zinc ashes | UN1435 |  | 13, 148
Zinc dithionite or Zinc hydrosulfite | UN1931 | 49 | 13, 26, 123
Zinc peroxide | UN1516 |  | 148
Zinc phosphide | UN1714 |  | 13, 148
Zinc powder or Zinc dust (PG I, II, and III) | UN1436 |  | 13, 148
Zirconium, dry, coiled wire, finished metal sheets, strip (thinner than 254 microns but not thinner than 18 microns) | UN2858 |  | 13, 147, 148
Zirconium, dry, finished sheets, strip or coiled wire | UN2009 |  | 13, 148
Zirconium powder, dry (PG I, II, and III) | UN2008 |  | 13, 148
Zirconium powder, wetted with not less than 25 percent water (a visible excess of water must be present) (a) mechanically produced, particle size less than 53 microns; (b) chemically produced, particle size less than 840 microns | UN1358 |  | 13, 147, 148
Zirconium scrap | UN1932 |  | 13, 148

PHMSA received two comments concerning amendments to column (10B) of the HMT. IVODGA commented providing full support for the changes as proposed in the NPRM. DGAC provided multiple editorial comments related to the assignment of various vessel stowage codes primarily based on the codes indicated in the above table when compared to what was proposed in the NPRM. The DGAC comments are as follows:

“Aluminum Ferrosilicon Powder (UN1395) The PG III entry is missing Vessel Stowage Code 148 in column 10B in the Docket HMT . . .” PHMSA agrees and has amended column (10B) accordingly.

“Aluminum Powder Coated (UN1309) Per the table of 176.84 changes, 13, 147, and 148 are to be added in column 10B for this entry (PG II and III) . . . The addition of 13 is not necessary as this entry (PG II and III) already lists a Vessel Stowage Code 13 in column 10B per the 10-1-13 version of 49 CFR.” PHMSA agrees and code 13 is removed from the table of changes.

“Ammonium Sulfide Solution (UN2683) The vessel stowage codes listed in column 10B in the proposed HMT for this entry are not in numerical order . . . The vessel stowage codes are listed as 12, 25, 22, 52, 100 versus 12, 22, 25, 52, 100.” PHMSA agrees and the codes are reordered.

“Barium Peroxide (UN1449) The Vessel Stowage Location listed in column 10A in the proposed HMT is C . . . In the 10-1-13 Version of 49 CFR, the Vessel Stowage Location listed in Column 10A is A.” Although not specifically identified in the preamble to the NPRM the stowage category for this UN number has been amended by the IMO in amendment 37-14 of the IMDG Code. As a result PHMSA is revising column (10A) to read C.

“Batteries, Dry, Containing Potassium Hydroxide Solid (UN3028) Vessel stowage code 52 is removed in column 10B in the proposed HMT for this entry . . . There is no entry in the Table of 176.84 Changes . . .” Code 52 should not have been proposed for removal in association with this entry and is reinserted in the HMT.

“Batteries, Wet, Filled With Acid (UN2794) Vessel Stowage Code 146 is removed in column 10B in the proposed HMT for this entry . . . There is no entry in the table of 176.84 changes . . .” Code 146 should not have been proposed for removal in association with this entry and it has been reinserted in the HMT.

“Batteries, Wet, Filled With Alkali (UN2795) Vessel stowage codes 52 and 146 are removed in column 10B in the proposed HMT for this entry . . . There is no entry in the table of 176.84 changes . . .” Codes 52 and 146 should not have been proposed for removal in association with this entry and they have been reinserted in the HMT.

Boron Trifluoride Dihydrate (UN2851) This entry is incorrectly identified in the table of 176.84 changes as Boron Trifluoride Dehydrate. PHMSA agrees and has modified the table accordingly.

“Boron Trifluoride Dimethyl Etherate (UN2965) This entry is listing Vessel Stowage Codes 13, 21, 25, 28, 40, 49, 100, 147, 148 in column 10B in the proposed HMT . . . Vessel Stowage Codes 21, 28, 40, 49, 100 are present in the 10-1-13 version of 49 CFR. Per the Table of 176.84 changes, only 25 was to be added for this entry. [There is no mention of adding 13, 147, 148] . . .” Codes 13, 147, and 148 should not have been proposed for addition in association with this entry and the HMT has been amended accordingly.

“Bromine (UN1744) This entry is listing Vessel Stowage Codes 12, 25, 40, 66, 74 in column 10B in the proposed HMT . . . Vessel stowage codes 12, 40, 66, 74, 89, 90 are present in the 10-1-13 version of 49 CFR. Per the table of 176.84 changes, only 25 was to be added for this entry. [There is no mention of removing 89 and 90] . . .” DGAC is correct and codes 89 and 90 are reinserted in the HMT.

Bromoform (UN2515) There is no UN number shown in the table of 176.84 changes. The appropriate UN number has been added to the table.

“Calcium Peroxide (UN1457) The Vessel Stowage Location listed in column 10A in the proposed HMT is C . . . In the 10-1-13 version of 49 CFR, the Vessel Stowage Location listed in column 10A is A.” Although not specifically identified in the preamble to the NPRM, the stowage category for this UN number has been amended by the IMO in amendment 37-14 of the IMDG Code. As a result PHMSA is revising column (10A) to read C.

“Cerium (UN1333) This entry is listing Vessel Stowage Codes 13, 66, 74, 91, 147, 148 in column 10B in the proposed HMT . . . Vessel stowage codes 74 and 91 are present in the 10-1-13 version of 49 CFR. Per the table of 176.84 changes, only 13, 147, and 148 are to be added for this entry and there is no mention of adding 66 . . .” Code 66 should not have been proposed for addition in association with this entry and has been removed from the HMT.

“Chlorocresols, Solid (UN3437) This entry is listing Vessel Stowage Codes 12 and 25 in column 10B in the proposed HMT . . . Vessel Stowage Code 12 is present in the 10-1-13 version of 49 CFR. There is no entry in the table of 176.84 changes for Chlorocresols, Solid . . .” This proposed change was noted in the NPRM table of proposed changes. No action needed.

Chlorocresols Solution (UN2669) This entry is incorrectly identified in the table of 176.84 changes as having the UN number UN3437 assigned instead of UN2669. PHMSA agrees and has modified the table accordingly.

“Chloromethyl Chloroformate (UN2745) Per the table of 176.84 changes, Vessel Stowage Code 12 is proposed to be added for this entry . . . The addition of 12 is not necessary as this entry already lists a Vessel Stowage Code 12 in column 10B per the 10-1-13 version of 49 CFR.” Code 12 should not have been listed in the table of changes in association with this entry and has been removed from the table of changes.

“Corrosive Solids, Water-Reactive, N.O.S. (UN3096) Per the table of 176.84 changes, Vessel Stowage Codes 13 and 148 are proposed to be added for this entry (PG I, II, and III) . . . There is no PG III entry for this PSN per the 10-1-13 version of 49 CFR. In addition, the text listed for the PG II and III entries in the proposed HMT is actually the same as the above HMT entry for UN2923—Corrosive Solids, Toxic, N.O.S. . . .” The commenter is correct. The PG III entry has been removed from the HMT and the PG II entry has been updated to include codes 13 and 148.

“Ferrosilicon (UN1408) Per the table of 176.84 changes, Vessel Stowage Codes 13 and 148 are proposed to be added for this entry . . . The addition of 13 is not necessary as this entry already lists a Vessel Stowage Code 13 in column 10B per the 10-1-13 version of 49 CFR . . .” Code 13 should not have been listed in the table of changes in association with this entry and has been removed from the table of changes.

“Lithium Peroxide (UN1472) Per the Table of 176.84 Changes, Vessel Stowage Codes 13 and 148 are proposed to be added for this entry . . . The addition of 13 is not necessary as this entry already lists a Vessel Stowage Code 13 in Column 10B per the 10-1-13 Version of 49 CFR. The Vessel Stowage Location listed in Column 10A in the Docket HMT is C . . . In the 10-1-13 Version of 49 CFR, the Vessel Stowage Location listed in Column 10A is A.” Code 13 has been removed from the table of changes. Although not specifically identified in the preamble to the NPRM, the stowage category for this UN number has been amended by the IMO in amendment 37-14 of the IMDG Code. As a result PHMSA is revising column (10A) to read C.

“Magnesium Peroxide (UN1476) Per the table of 176.84 changes, Vessel Stowage Codes 13 and 148 are proposed to be added for this entry . . . The addition of 13 is not necessary as this entry already lists a Vessel Stowage Code 13 in column 10B per the 10-1-13 Version of 49 CFR. The Vessel Stowage Location listed in column 10A in the Docket HMT is C . . . In the 10-1-13 Version of 49 CFR, the Vessel Stowage Location listed in column 10A is A.” Code 13 has been removed from the table of changes. Although not specifically identified in the preamble to the NPRM the stowage category for this UN number has been amended by the IMO in amendment 37-14 of the IMDG Code. As a result PHMSA is revising column (10A) to read C.

“Metal Powder, Self-Heating, N.O.S. (UN3189) Per the table of 176.84 changes, Vessel Stowage Codes 13, 147, and 148 are proposed to be added for this entry (PG II and III) . . . This entry (PG II and III) is only listing Vessel Stowage Codes 13 and 148 in Column 10B in the Docket HMT . . .” Only codes 13 and 148 are assigned to this entry, and the table of changes has been updated accordingly.

“Metal Powders, Flammable, N.O.S. (UN3089) This entry (PG II and III) is listing Vessel Stowage Codes 13, 74, 147, and 148 in column 10B in the proposed HMT . . . In the 10-1-13 version of 49 CFR, there are no entries for Vessel Stowage Codes in column 10B. Per the Table of 176.84 Changes (1st entry), Vessel Stowage Code 74 is proposed to be added for this entry . . . Per the table of 176.84 changes (2nd entry), Vessel Stowage Codes 13, 74, 147, and 148 are proposed to be added for this entry . . .” The table of changes has been updated to reflect only one HMT entry changing.

“Organic Peroxide Type E liquid (UN3107) Vessel Stowage Code 40 is listed in Column 10B in the proposed HMT for this entry. Vessel Stowage Code 25 is not listed in Column 10B in the proposed HMT for this entry . . . Per the Table of 176.84 Changes, 40 was to be removed and 25 was to be added for this entry . . .” The commenter is correct. Code 40 has been removed from the HMT.

“Organic Peroxide Type F, Solid, Temperature Controlled (UN3120) Per the table of 176.84 changes, Vessel Stowage Code 40 was to be removed and 25 was to be added for this entry . . . The removal of 40 is not necessary as this entry does not list a Vessel Stowage Code 40 in Column 10B per the 10-1-13 version of 49 CFR.” Code 40 has been removed from the table of changes.

“Organometallic Substance, Liquid, Water-Reactive (UN3398) The PG II entry for this entry is listing IP2 as a Special Provision in Column 7 and D versus E in Column 10A . . . These changes are not present in the 10-1-13 version of 49 CFR.” The commenter is correct. Special provision IP2 has been removed from column 7 of the HMT and the correct stowage category for this entry is E.

“Organometallic Substance, Solid, Pyrophoric (UN3391) This entry is listing Vessel Stowage Codes 13 and 148 in column 10B in the proposed HMT . . . In the 10-1-13 version of 49 CFR, there are no entries for Vessel Stowage Codes in Column 10B. There is no entry in the table of 176.84 changes . . . for this PSN.” DGAC is correct. Codes 13 and 148 have been added to the table of changes.

“Oxidizing Liquid, Toxic, N.O.S. (UN3099) Per the table of 176.84 changes, Vessel Stowage Code 106 was to be removed for this entry (PG I, II, and III) . . . This entry is not listing a Vessel Stowage Code of 95 in Column 10B for the PG II and PG III entries in the proposed HMT . . . In the 10-1-13 version of 49 CFR, Vessel Stowage Code 95 is listed for the PG II and PG III entries for this entry.” DGAC is correct and code 95 has been placed in column (10B) for these entries.

“Oxidizing Solid, Corrosive, N.O.S. (UN3085) Per the table of 176.84 changes, Vessel Stowage Code 106 was to be removed for this entry (PG I, II, and III) . . . This entry is not listing a Vessel Stowage Code of 34 in column 10B for the PG II and PG III entries in the proposed HMT . . . In the 10-1-13 version of 49 CFR, Vessel Stowage Code 34 is listed for the PG II and PG III listings for this entry.” DGAC is correct and code 34 has been placed in column (10B) for these entries.

“Peroxides, Inorganic, N.O.S. (UN1483) The Vessel Stowage Location listed in Column 10A in the proposed HMT is C . . . In the 10-1-13 Version of 49 CFR, the Vessel Stowage Location listed in column 10A is A.” Although not specifically identified in the preamble to the NPRM, the stowage category for this UN number has been amended by the IMO in amendment 37-14 of the IMDG Code. As a result PHMSA is revising column (10A) to read C.

“Phenyl Chloroformate (UN2746) Per the table of 176.84 Changes, Vessel Stowage Codes 21 and 10 are to be removed for this entry . . . Per the 10-1-13 version of 49 CFR, this entry does not list a Vessel Stowage Code 10 in Column 10B. In the 10-1-13 version of 49 CFR, this entry does however list a Vessel Stowage Code 100 in Column 10B.” DGAC is correct. Code 100 is removed from the HMT.

“Phosphorus Pentasulfide (UN1340) This entry is listing Vessel Stowage Codes 13 and 148 in Column 10B in the proposed HMT . . . There is no entry in the Table of 176.84 Changes . . . for this PSN.” DGAC is correct in that codes 13 and 148 were added by the IMO and have been added to the table of changes.

“Potassium Peroxide (UN1491) The Vessel Stowage Location listed in column 10A in the proposed HMT is C . . . In the 10-1-13 Version of 49 CFR, the Vessel Stowage Location listed in Column 10A is B.” Although not specifically identified in the preamble to the NPRM, the stowage category for this UN number has been amended by the IMO in amendment 37-14 of the IMDG Code. As a result PHMSA is revising column (10A) to read C.

“Potassium, Metal Alloys, Solid (UN3403) This entry is listed in proposed HMT with Vessel Stowage Codes 13, 52, and 148 in Column 10B . . . Per the 10-1-13 version of 49 CFR, this entry does not list any Vessel Stowage Codes in column 10B. Per the Table of 176.84 changes (1st entry), Vessel Stowage Codes 13 and 148 are to be added for this entry . . . Per the Table of 176.84 changes (2nd entry), Vessel Stowage Codes 13, 52, and 148 are to be added for this entry . . .” There should have only been one entry for the PSN in the table of changes. The entries are consolidated and codes 13, 52, and 148 are added.

“Potassium Superoxide (UN2466) Per the Table of 176.84 Changes, Vessel Stowage Codes 13 and 148 are to be added for this entry . . . The addition of 13 is not necessary as this entry already lists a Vessel Stowage Code 13 in Column 10B per the 10-1-13 Version of 49 CFR. The Vessel Stowage Location listed in Column 10A in the proposed HMT is D . . . In the 10-1-13 Version of 49 CFR, the Vessel Stowage Location listed in Column 10A is B.” Code 13 is removed from the table of changes. Although not specifically identified in the preamble to the NPRM, the stowage category for this UN number has been amended by the IMO in amendment 37-14 of the IMDG Code. Further review of the change made at IMO indicates the correct stowage category to be E. As a result PHMSA is revising column 10A to read E.

“Self-Reactive Liquid Type B, Temperature Controlled (UN3231) Vessel Stowage Code 25 is added in Column 10B in the proposed HMT . . . There is no entry in the Table of 176.84 Changes . . . for this PSN.” DGAC is correct and an entry for this PSN has been added to the table of changes.

“Sodium Peroxide (UN1504) Per the Table of 176.84 changes, Vessel Stowage Codes 13 and 148 are proposed to be added for this entry . . . The addition of 13 is not necessary as this entry already lists a Vessel Stowage Code 13 in Column 10B per the 10-1-13 version of 49 CFR. The Vessel Stowage Location listed in Column 10A in the Docket HMT is C . . . In the 10-1-13 Version of 49 CFR, the Vessel Stowage Location listed in Column 10A is B.” Code 13 is removed from the table of changes. Although not specifically identified in the preamble to the NPRM, the stowage category for this UN number has been amended by the IMO in amendment 37-14 of the IMDG Code. As a result PHMSA is revising column (10A) to read C.

“Sodium Superoxide (UN2547) In the proposed HMT, Vessel Stowage Codes 13, 52, 66, 75, and 148 are listed in Column 10B. Per the 10-1-13 version of 49 CFR, 13, 52, 66, and 75 are listed as Vessel Stowage Codes in Column 10B. This entry is not listed in the Table of 176.84 Changes . . . The Vessel Stowage Location listed in Column 10A is D . . . In the 10-1-13 Version of 49 CFR, the Vessel Stowage Location listed in column 10A is E.” DGAC is correct that code 148 was added by the IMO and thus, has been added to the table of changes. Although not specifically identified in the preamble to the NPRM, the stowage category for this UN number has been amended by the IMO in amendment 37-14 of the IMDG Code. As a result PHMSA is revising column (10A) to read D.

“Strontium Peroxide (UN1509) Per the Table of 176.84 Changes, Vessel Stowage Codes 13 and 148 are proposed to be added for this entry . . . The addition of 13 is not necessary as this entry already lists a Vessel Stowage Code 13 in Column 10B per the 10-1-13 Version of 49 CFR. The Vessel Stowage Location listed in Column 10A in the Docket HMT is C . . . In the 10-1-13 Version of 49 CFR, the Vessel Stowage Location listed in Column 10A is A.” Code 13 has been removed from the table of changes. Although not specifically identified in the preamble to the NPRM, the stowage category for this UN number has been amended by the IMO in amendment 37-14 of the IMDG Code. As a result PHMSA is revising column (10A) to read C.

“Zinc Peroxide (UN1516) Per the Table of 176.84 Changes, Vessel Stowage Codes 13 and 148 are proposed to be added for this entry. The addition of 13 is not necessary as this entry already lists a Vessel Stowage Code 13 in Column 10B per the 10-1-13 Version of 49 CFR. The Vessel Stowage Location listed in column 10A in the Docket HMT is C . . . In the 10-1-13 version of 49 CFR, the Vessel Stowage Location listed in Column 10A is A.” Code 13 has been removed from the table of changes. Although not specifically identified in the preamble to the NPRM, the stowage category for this UN number has been amended by the IMO in amendment 37-14 of the IMDG Code. As a result PHMSA is revising column (10A) to read C.

Appendix B to § 172.101

Appendix B to § 172.101 lists Marine Pollutants regulated under the HMR. In this final rule, PHMSA is revising the List of Marine Pollutants by adding sixty-two new entries consistent with the IMDG Code. These changes include those substances that, by virtue of meeting the Group of Experts on the Scientific Aspects of Marine Environmental Protection (GESAMP) defining criteria for marine pollutants, were either assigned a “P” in the dangerous goods list or identified in the alphabetical index to amendment 37-14 of the IMDG Code. The entry “Chlorotoluenes (meta-;para-)” is removed based on its removal from the IMDG Code.

PHMSA received two comments from the ACC regarding our proposed addition of one specific material, dodecene, to the list of marine pollutants. In its first comment, the ACC requests a 30 day extension of the comment period to better understand “dodecene's place on other lists referenced in the proposed rule.” ACC notes that it would use the time to coordinate with industry to better understand the information contained in the dodecene Regulation on Registration, Evaluation, Authorisation and Restriction of Chemicals (REACH) dossiers. PHMSA is denying the ACC's request for a 30 day extension of the comment period for this rulemaking as the revision to include dodecene in the Marine Pollutant List is consistent with our standard practice of aligning Appendix B with the indicative list of marine pollutants found in the IMDG Code. In its second comment, the ACC notes that the use of the name “dodecene” in both the IMDG Code and PHMSA proposed rule makes it unclear exactly what substance is being regulated. When manufactured, “dodecene” may represent a number of Chemical Abstracts Service (CAS) numbers and different chemical properties. In other words, this single description of dodecene may not reflect what the Panel members currently manufacture and ship. The ACC also notes that the REACH registration of a close analog of dodecene, 1-dodecene/dodec-1-ene, indicates that dodecene would not meet the criteria of a Marine Pollutant, as set forth in the PHMSA list, based on aquatic toxicity data. The REACH dossier indicates “conclusive but not sufficient for classification” on both acute and chronic environmental categories associated with this compound. The inclusion of all entries proposed for addition in the NPRM were thoroughly vetted by several sub-committees of the International Maritime Organization prior to adoption into amendment 37-14 of the IMDG Code. The GESAMP data assigns all dodecene isomers a B1 numerical rating of 4. This rating of 4 indicates acute aquatic toxicity, and thus merits inclusion of dodecene to the list of marine pollutants in Appendix B to § 172.101.

Section 172.102 Special Provisions

Section 172.102 lists special provisions applicable to the transportation of specific hazardous materials. Special provisions contain packaging requirements, prohibitions, and exceptions applicable to particular quantities or forms of hazardous materials. PHMSA is adopting the following revisions to § 172.102, special provisions:

Special Provision 28

Special provision 28 states that the dihydrated sodium salt of dichloroisocyanuric acid is not subject to the requirements of this subchapter. In this final rule, PHMSA is revising special provision 28 to convey that the dihydrated sodium salt of dichloroisocyanuric acid does not meet the definition of a Division 5.1 (oxidizer) and is not subject to the requirements of the subchapter unless it meets the criteria for inclusion in another Class or Division, such as Class 9, environmentally hazardous substance. Some formulations of the dihydrated sodium salt of dichloroisocyanuric acid meet the criteria for classification as an environmentally hazardous substance.

Special Provision 52

Special provision 52 authorizes use of the HMT entry “UN2067, Ammonium nitrate based fertilizer” for substances that do not exhibit explosive properties of Class 1 when tested in accordance with Test Series 1 and 2 of the UN Manual of Tests and Criteria, Part I. In this final rule, PHMSA is revising special provision 52 by removing the requirement to test in accordance with Test Series 1 because Test Series 2 determines whether such properties are indeed those of Class 1, not Test Series 1.

Special Provision 147

This special provision describes the composition of the material for which the use of the HMT entry “UN3375, Ammonium nitrate emulsion or Ammonium nitrate suspension or Ammonium nitrate gel, intermediate for blasting explosives” is authorized and prohibits the material from being classified and transported unless approved by the Associate Administrator. Special provision 147 requires that these substances must satisfactorily pass Test Series 8 of the UN Manual of Tests and Criteria, Part I, Section 18. Test Series 8 contains four test types. Tests 8(a), (b) and (c) are used for classification purposes while Test 8(d) is used to assess suitability for transport in portable tanks. The use of this entry (UN 3375) therefore requires only that Tests 8(a), (b) and (c) are satisfactorily passed. In this final rule, PHMSA is revising special provision 147 by clarifying that Tests 8(a), (b) and (c), not the entire Test Series 8, are required for use in classification and subsequent approval by the Associate Administrator. PHMSA received one comment from IME in support of this revision.

Special Provision 160

Special provision 160 is presently assigned to “UN3268, Air bag inflators, or Air bag modules, or Seat-belt pretensioners” in Class 9. Special provision 160 includes the requirement that air bag inflators and modules must be tested in accordance with Test series 6 (c) of Part I of the UN Manual of Tests and Criteria. In this final rule, PHMSA is revising special provision 160 in conjunction with revising the proper shipping name for UN3268 to “Safety devices, electrically initiated.” The entry is revised to clarify that it applies to safety devices used in vehicles including vessels and aircraft, and pyromechanical devices that are added to the list of authorized devices. The development of safety products has seen significant progress since the introduction of UN3268 and the range of current products extends beyond what can presently be assigned to UN3268. Some of the newer safety products include elements that are actuated by the electrical signal of the crash sensor (e.g. pyromechanical devices). Examples include: Devices that interrupt the electrical connection in case of emergency by disconnecting the main power cable in the vehicle from the battery to prevent short circuit and consequentially minimize the risk of fire in the vehicle; and actuators which are used for active headrests or for pedestrian protection to release special hinges of the engine hood. In addition, PHMSA is clarifying that this entry does not apply to life saving appliances described in § 173.219 (UN Nos. 2990 and 3072).

PHMSA received comments from Key Safety Systems, TK Holdings Inc., and TRW Automotive requesting that special provision 160 be revised to note that if the air bag inflator unit and or pyromechanical device satisfactorily passes the series 6(c) test, it is not necessary to repeat the test on the air bag module. PHMSA is not convinced the requested change is necessary. The purpose of the exception from testing in this special provision is to state that air bag modules do not need to be tested if the air bag inflators were tested. Air bag inflators are any article used to inflate a module, which includes inflators that use compressed gas, gas generant tablets, or a hybrid design. Pyromechanical devices are generally piston type devices and would not be used to inflate modules. Therefore the addition of “pyromechanical devices” to the sentence in SP160 excepting air bag modules from being re-tested would not be appropriate.

Special Provision 161

Special provision 161 required that for domestic transportation the alternate shipping description “Articles, pyrotechnic for technical purposes” be used to describe air bag inflators, air bag modules and seat-belt pretensioners (UN0503) meeting the criteria for a Division 1.4G explosive. This was done to ensure a different shipping name was used to describe these articles to differentiate them from air bag inflators, air bag modules and seat-belt pretensioners (UN3268) in Class 9. In this final rule, PHMSA, consistent with the UN Model Regulations, is adopting new proper shipping names for these items, “Safety devices” (UN3268) for those articles assigned to Class 9, and “Safety Devices, pyrotechnic” (UN0503) for those articles assigned to Division 1.4G. Since the proper shipping names for these items would no longer be the same, there would be no need to use a different proper shipping name for these articles assigned to Division 1.4G. Therefore the need for this special provision would be obsolete and we are deleting it from the regulations and deleting its reference from the UN0503 entry in the HMT. Under this revision, for domestic transportation, air bag inflators, air bag modules and seat-belt pretensioners (UN0503) meeting the criteria for a Division 1.4G explosive, that are currently described as “Articles, pyrotechnic for technical purposes” would be described as “Safety devices, pyrotechnic” (UN0503).

Special Provision 238

Special provision 238 addresses the shipment of neutron radiation detectors. In this final rule, PHMSA is revising special provision 238 to align with the UN Model Regulations special provision 373 by expanding the transport conditions for neutron radiation detectors and radiation detection systems containing such detectors. Paragraph a. is restructured into: (a)(1), general transport requirements; (a)(2), requirements for radiation detectors transported as individual components; and (a)(3), requirements for completed neutron radiation detection systems containing detectors. Consistent with the UN Model Regulations, PHMSA is adopting the following revisions to the transport conditions: [1] In (a)(1), increase the total amount of gas authorized per detector from 12.8 grams to 13 grams; clarify that the minimum burst pressure is demonstrated by design type qualification testing; and add a new leaktightness standard; [2] in (a)(2), clarify that in addition to being packed in a strong outer package, that the completed package must be capable of withstanding a drop of 1.8 meters (6-foot) without leakage of gas contents; and increase the total amount of gas from all detectors per outer packaging from 51.2 grams to 52 grams; and [3], in (a)(3), add a new requirement that for completed neutron radiation detection systems, the detectors must be contained in a strong sealed outer casing; and adding a new requirement that the completed system must be capable of withstanding a 1.8 meter (6-foot) drop test without leakage unless a system's outer casing affords equivalent protection.

PHMSA received a comment from James Lynch asking how the 1 × 10−¹⁰ cm³/s leaktightness prior to filling limit was arrived at and proposing an alternative limit amount. The limit, as proposed and adopted, was determined by the UN Committee of Experts on the Transport of Dangerous Goods to provide an appropriate level of safety to ensure essentially no gas will leak from the detector once filled. In the interest harmonization is maintaining the limit as proposed in the NPRM. Mr. Lynch also commented that in paragraph (a)(1)(iii) that the 1800 kPa should specify “gauge.” While Mr. Lynch is correct that paragraph (a)(1)(iii) is applicable pressure at the “gauge,” in the interest of harmonization PHMSA is maintaining the revisions as proposed in the NPRM.

PHMSA received a comment from Bechtel Plant Machinery Inc. requesting a 90 day extension of the final rule comment period to further review the logistical and technical impact of these proposed regulation changes for the transportation of neutron radiation detectors. PHMSA is denying Bechtel Plant Machinery Inc.'s request for an extension of the comment period for this final rule. We are revising the HMR to maintain alignment with international standards by incorporating various amendments, including revision of the transport conditions for neutron radiation detectors in special provision 238. In addition, the revisions to special provision 238 do not invalidate existing special permits or de minimis interpretations issued by PHMSA. Further, for reasons mentioned elsewhere in this rulemaking, it is imperative that a harmonization rulemaking be published on or near January 1st, 2015 to facilitate unencumbered commerce. It is important to note that the transport provisions for these detectors in the ICAO TI, which this final rule harmonizes with, will become effective January 1st, 2015.

Special Provision 342

This special provision, assigned to “UN1040, Ethylene oxide or Ethylene oxide with nitrogen” allows sterilization devices containing ethylene oxide, conforming to the conditions in the special provision, and packaged in accordance with § 173.4a of the HMR to be offered for transportation and transported by all modes even though Column (9A) of the § 172.101 HMT lists the material as forbidden by passenger aircraft.

Consistent with the ICAO TI, in this final rule PHMSA is further clarifying that irrespective of both Columns (9A) and (9B) of the § 172.101 HMT listing the material as forbidden, ethylene oxide conforming to the conditions in the special provision is eligible for air transport. Specifically, we are supplementing the language in this special provision “irrespective of the restriction of § 173.4a(b)” with “and the indication of “forbidden” in columns (9A) and (9B) of the § 172.101 table.”

Special Provision 362

Special provision 362 specifies when a material can be considered a chemical under pressure. Specifically, the special provision states that classification of these materials is to be based on hazard characteristics of the components in the propellant, the liquid, or the solid forms. In this final rule, PHMSA is revising special provision 362 by adding a new paragraph (f) to clarify that chemicals under pressure containing components forbidden for transport on both passenger and cargo aircraft must not be transported by air. PHMSA received one comment from DGAC noting that as proposed special provision 362 has two paragraph d's. PHMSA has amended the final rule text to ensure proper paragraph sequencing.

Special Provision 367

A new special provision 367 is added to clarify that the proper shipping name “Paint related material” or “Printing ink related material” may be used for consignments of packages containing both “Paint” and “Paint related material” or “Printing Ink” and “Printing ink related material” in the same package and sharing the same identification number (UN 1210, UN 1263, UN 3066, UN 3469, or UN 3470). For example, “UN1263, Paint including paint, lacquer, enamel, stain, shellac solutions, varnish, polish, liquid filler, and liquid lacquer base” and “UN1263, Paint related material” contained in the same package, may be consigned under the entry “UN1263, Paint related material including paint thinning, drying, removing, or reducing compound.” Paint mainly consists of resin, pigment and solvent. Thinning compounds consist primarily of solvent as well. Thus, under the same UN entry, there is no difference between “Paint” and “Paint related material” with regard to transport requirements. PHMSA received one comment from COSTHA providing support for this new provision. COSTHA noted that this provision will greatly enhance the efficiencies of businesses transporting these materials.

Special Provision 368

In this final rule, PHMSA is adding new special provision 368 and assigning it to “UN2910, Radioactive material, excepted package-limited quantity of material” to clarify that in the case of non-fissile or fissile-excepted uranium hexafluoride, the material must be classified under UN3507 or UN2978.

Special Provision 369

The 18th Revised Edition of the UN Model Regulations has adopted a new proper shipping name of “UN3507, Uranium hexafluoride, radioactive material, excepted package, less than 0.1 kg per package, non-fissile or fissile-excepted”, to address small quantities of uranium hexafluoride containing corrosive properties, thus a new special provision is necessary in the HMR. In this final rule, PHMSA assigns special provision 369 to UN3507 to specify a primary hazard of Class 8 with subsidiary risk of Class 7, subject to certain conditions.

Special Provision 370

In this final rule, PHMSA is adding new special provision 370 and assigning it to the revised HMT entry “UN0222, Ammonium Nitrate.” In the NPRM, PHMSA proposed revising the proper shipping name for UN0222 by removing the qualifying italicized text assigned to UN0222 and including it in this special provision. Based on a comment submitted by IME and discussed in the section-by-section review of amendments to Column (2) of the HMT, we are not moving the qualifying italicized text from the proper shipping name to the special provision in this final rule. In this final rule, we are maintaining paragraph b. of special provision 370 as proposed in the NPRM to clarify that ammonium nitrate with not more than 0.2% combustible substances, including any organic substance calculated as carbon, to the exclusion of any added substance, that gives a positive result when tested in accordance with Test Series 2 of the UN Manual of Tests and Criteria, Part I must be assigned to UN0222.

Special Provision 371

In this final rule, PHMSA is adding a new special provision 371 and assigning it to “UN3164, Articles, pressurized pneumatic or hydraulic containing non-flammable gas.” This special provision sets forth the requirements for confetti-shooters pressurized with gas instead of pyrotechnics. The shooter consists in principle, of a jacket of cardboard, the pressurized receptacle filled with compressed air or nitrogen, a lock mechanism made of plastics, a plug of rubber and a metal cap for closing the receptacle, and different types of confetti. By turning a ring, or the bottom part of the shooter, a mechanism is unlocked and the pressurized gas is discharged so that the confetti is shot away for a few meters. This type of shooter does not contain any amount of explosives and therefore cannot be assigned to Class 1, and does not meet the requirements for gas cartridges or small pressure receptacles. The requirements set forth in the special provision ensure the same level of safety as for confetti-shooters with pyrotechnics.

Special Provision 372

In this final rule, PHMSA is adding a new special provision 372 and assigning it to the new HMT entry “UN3508, Capacitor, asymmetric.” This special provision states that this entry applies to asymmetric capacitors with an energy storage capacity greater than 0.3 watt hours (Wh) and that asymmetric capacitors with an energy storage capacity of 0.3 Wh or less are not subject to the requirements of this subchapter. This special provision also provides that nickel-carbon asymmetric capacitors containing Class 8 alkaline electrolytes must be transported as UN 2795, Batteries, wet, filled with alkali, electric storage. PHMSA received one comment from COSTHA supporting the amendment as proposed noting that this provision now gives clear guidance on how manufacturers are to ship these articles.

Special Provision A60

Special provision A60 permits “UN2014, Hydrogen peroxide, aqueous solution,” to be transported in excepted quantities. The special provision authorizes packagings to include a vent to permit the slow escape of gas (i.e. not more than 0.1 mL/hour per 30 mL inner packaging at 20 °C (68 °F) produced from gradual decomposition. As venting is permitted, the requirements of §§ 173.24(g)(1) and 173.27(c) are impracticable and should not apply. To address the issue, the ICAO DGP adopted a proposal to clarify that these general requirements prohibiting venting should not be applicable. In this final rule, we are harmonizing with the ICAO TI and waiving the general requirements of §§ 173.24(g)(1) and 173.27(c). Special provision A60 is revised accordingly.

Special Provision A61

In this final rule, PHMSA is adding a new special provision A61 and assigning it to the HMT entries “UN 3107, Organic peroxide type E, liquid” and “UN 3109, Organic peroxide type F, liquid.” PHMSA is aligning with Packing Instruction 570 of the ICAO TI to allow for limited venting of oxygen in the case of specialized peroxyacetic acid packagings when transported by cargo aircraft, provided the packaging requirements of this special provision are met. It was reported to the ICAO DGP that peroxyacetic acid was commonly used as a sterilizer for health care purposes and that there is a need to transport the material by air for use in sterilizing medical equipment using custom packagings. The basis for the requirements that these specialized packagings must meet originated from exemptions to permit the transport of this substance in small containers approved by several national authorities. The inclusion of this new special provision will eliminate the need for these exemptions and facilitate international transport.

IBC Codes and IP Codes

Section 172.102(c)(4) prescribes situations where Large Packagings are authorized. In this final rule, PHMSA is authorizing the use of large packagings for lithium batteries without assigning IB3 or IB8 to the corresponding entries in the § 172.101 Table by adding a reference to § 173.185 before the reference to § 173.225(e). See Section 173.185 Lithium batteries for a detailed discussion of the proposed a use of rigid large packagings for lithium batteries. In this final rule, PHMSA is authorizing the use of large packagings for lithium batteries without assigning IB3 or IB8 to the corresponding entries in the § 172.101 Table by revising by adding a reference to § 173.185 before the reference to § 173.225(e). See Section 173.185 Lithium batteries for a detailed discussion of the proposed a use of rigid large packagings for lithium batteries.

In two final rules published in the Federal Register on January 19, 2011 (76 FR 3308; HM-215K) and January 7, 2013 (78 FR 988; HM-215L) the Table 1 (IBC Codes) in paragraph (c)(4) were editorially revised to remove UN Specifications 31A, 31B, 31N, 31H1, 31H2, 31HZ1, and 31HZ2 from IBC Codes IB4 through IB8. The revisions were consistent with amendments to the UN Model Regulations that removed the specifications from the indicated codes in the table because IBC Codes IB4 through IB8 are assigned to solids, whereas, UN Specifications 31A, 31B, 31N, 31H1, 31H2, 31HZ1, and 31HZ2 are authorized for transportation of liquids and IBC Codes IB1 through IB3 and are assigned to liquid materials only. Information presented to the UN Committee of Experts on the Transport of Dangerous Goods (UNCOE) in this last biennium indicated that the removal of the above UN Specifications from IBC Codes IB4 through IB8 has created a problem. Prior to implementation of these revisions, certain liquid IBC types were used to transport powdery solids and solids that become liquid under conditions of transport. These solids may be loaded and unloaded from the IBC in liquid form raising the question of whether the remaining IBCs, which are intended for gravity or pressure discharge, are appropriate. The UN sub-committee adopted a proposal to reinstate the IBCs that were previously authorized. In this final rule, we are harmonizing with the UN Model Regulations by revising the IBC Codes IB4 through IB8 in paragraph (c)(4), Table 1 (IBC Codes) to reinstate IBC's previously authorized.

A new IP Code 16 is added and assigned to UN3375. Consistent with international regulations, this special provision would authorize require IBCs of type 31A and 31N if approved by the Associate Administrator.

Special Provision TP47

In this final rule, PHMSA is adding a new special provision TP47 and assigning it to the organometallic substance HMT entries UN3393 through UN3399. The special provision waives the 2.5 year internal inspection for portable tanks used for the transport of liquid and solid organometallic substances provided that the portable tank remains in the dedicated service of transporting organometallic substances. However, all other required 2.5 year inspections and tests would still be performed, as well as the full 5 year periodic test and inspection, which would include an internal inspection.

Before an internal inspection can be performed, the tank must be cleaned and purged. In this process, it is difficult to ensure that water, impurities, or contaminants introduced during cleaning are fully removed before organometallic substances are again introduced into the tank, which could potentially result in a dangerous reaction or have an effect on the purity of the product. Since these organometallic substances are fully compatible with and are not corrosive to the materials of construction used in such tanks, the likelihood that an internal inspection will reveal any corrosion, pitting or other deterioration of the tank is unlikely. To increase safety and avoid the risk of a dangerous reaction or product contamination the 2.5 year internal inspection is waived, provided the portable tank remains in the dedicated service of transporting organometallic substances and the tank does exhibit damaged or corroded areas, leakage, or other conditions that indicate a deficiency in accordance with § 180.605(f). PHMSA received one comment from Dow Chemical in support of this special provision.

Section 172.204

This section describes the text that must be contained within the shipper's certification on a shipping paper. PHMSA received a comment from Gregory Sutherland noting that PHMSA did not propose in the NPRM to align the text with the requirements of the UN Model Regulations and the IMDG Code in Section 172.204(a)(2) to allow the shipper's certification to be either below or above the required elements of a shipping paper. PHMSA agrees that harmonizing provisions for shipper's certification placement and language, by providing the allowance to place the certification either below or above other required elements, is necessary to facilitate international commerce. As a result, PHMSA is adding a note following § 172.204(a)(2) to allow substitution of the word “below” for the currently authorized “above” if appropriate.

Section 172.315

In this final rule, PHMSA is revising the specifications for the limited quantity markings prescribed in § 172.315(a)(2) and (b)(2) to be consistent with the revised specifications in the UN Model Regulations. To promote uniformity and consistency with the UN Model Regulations we are allowing manufacturers and printers necessary time to produce markings that conform to the revised specifications, and to deplete supplies of existing markings. PHMSA is adding a transitional period to authorize a limited quantity marking that is in conformance with the requirements of the regulations in effect on December 31, 2014, to be used until December 31, 2016. PHMSA received one comment from DGAC noting that many packages, especially those containing consumer products, may be permanently marked with the limited quantity marking and remain in the distribution cycle for an extended period of time. DGAC recommended that a provision be added which authorizes limited quantity markings conforming to the current requirements and permanently affixed to a package to be authorized for the useful life of the package. PHMSA agrees that there may be packages or packagings marked for an indefinite period of time and is adding a new paragraph (a)(2)(ii) and (b)(2)(ii) to § 172.315 to read “For domestic transportation, a packaging marked prior to January 1, 2017 and in conformance with the requirements of this paragraph in effect on December 31, 2014, may continue in service until the end of its useful life.”

Section 172.317

To promote the uniformity of the “Keep Away From Heat” handling mark throughout the international transportation community, the ICAO Technical Instructions have adopted revisions to clarify and standardize the specifications for this hazard communications element. In this final rule, PHMSA is revising the specifications in § 172.317(b) to be consistent with the revised specifications in the ICAO TI. Thus, we are adopting provisions to allow manufacturers and printers necessary time to produce markings that conform to the revised specifications, and to deplete supplies of existing markings. We are also adopting a transitional period to authorize a “Keep Away From Heat” handling mark that is in conformance with the requirements of the regulations in effect on December 31, 2014, to be used until December 31, 2016. For domestic transportation, we are authorizing a packaging marked with a “Keep Away From Heat” handling mark prior to January 1, 2017 and in conformance with the requirements of the regulations in effect on December 31, 2014, to continue in service until the end of its useful life.

Section 172.322

In this final rule, PHMSA is clarifying in § 172.322(a)(2) and (b), that the marking requirements for marine pollutants are required unless otherwise provided for in the regulations.

In § 172.322(e), PHMSA is deleting the obsolete date of January 14, 2010 for the requirements for the marine pollutant mark.

To promote the uniformity of the marine pollutant mark throughout the international transportation community, the UN Model Regulations have adopted revisions to clarify and standardize the specifications for this hazard communications element. In this final rule, PHMSA is revising § 172.322(e) to be consistent with the revised specifications for this marking in the UN Model Regulations. We are also adopting a transitional period to authorize a marine pollutant mark that is in conformance with the requirements of the regulations in effect on December 31, 2014, to be used until December 31, 2016, so that manufacturers and printers will have the necessary time to deplete existing supply and to produce markings that conform to the revised specifications. For domestic transportation, we are authorizing a packaging marked with a marine pollutant mark prior to January 1, 2017 and in conformance with the requirements of the regulations in effect on December 31, 2014, to continue in service until the end of its useful life.

Section 172.326

Section 172.326 prescribes marking requirements for portable tanks. PHMSA received a comment from Edward Altemos noting that in the NPRM PHMSA did not propose to harmonize this section with recent changes adopted into Amendment 37-14 of the IMDG Code. Amendment 37-14 of the IMDG Code adopted a reduced size proper shipping name exception for portable tanks having a capacity of less than 3,000 L (792.52 gallons). Prior to this amendment proper shipping name markings on all portable tanks were required to be at least 65 mm (2.5 inches) high. Mr. Atlemos requests PHMSA harmonize with the IMDG Code on this issue. PHMSA agrees and is amending paragraph (a) accordingly.

Section 172.327

To promote the uniformity of markings, in this final rule, PHMSA is revising and clarifying the specifications for the “petroleum sour crude oil” mark prescribed in § 172.327(a) to be consistent with the revised specifications for markings in the UN Model Regulations. Also, to allow manufacturers and printers necessary time to produce markings that conform to the revised specifications, and to allow for the depletion of supplies of existing markings, we are adopting a transitional period to authorize a “petroleum sour crude oil” mark that is in conformance with the requirements of the regulations in effect on December 31, 2014, to be used until December 31, 2016. For domestic transportation, we are authorizing a packaging marked with a “petroleum sour crude oil mark” prior to January 1, 2017 and in conformance with the requirements of the regulations in effect on December 31, 2014, to continue in service until the end of its useful life.

Section 172.407

The UN Model Regulations have adopted revisions to clarify and standardize the specifications for labels to promote the uniformity of hazard communications labels throughout the international transportation community. In this final rule, PHMSA is revising § 172.407(c) to be consistent with UN Model Regulations. In addition, PHMSA is revising (d)(2)(iii) that provides a color alternative for the symbol on the ORGANIC PEROXIDE LABEL to be consistent with the UN Model Regulations. Also to be consistent with the UN Model Regulations, and to allow manufacturers and printers necessary time to produce labels that conform to the revised specifications, and to allow for the depletion of supplies of existing labels, we are adopting a transitional period to authorize a label that is in conformance with the requirements of the regulations in effect on December 31, 2014, to be used until December 31, 2016.

PHMSA received one comment from DGAC noting that many packages may be permanently labeled and remain in service for an extended period of time. DGAC recommended that a provision be added which authorizes labels conforming to the current requirements and permanently affixed to a package to be authorized for the life of the package. PHMSA agrees that there may be packages or packagings labeled for an indefinite period of time and in response is adding a new paragraph (c)(1)(iv) to § 172.407 to read “For domestic transportation, a packaging labeled prior to January 1, 2017 and in conformance with the requirements of this paragraph in effect on December 31, 2014, may continue in service until the end of its useful life.”

Finally, PHMSA is adding paragraph (d)(2)(iv) to permit, consistent with the UN Model Regulations, a FLAMMABLE GAS label to be displayed on cylinders and gas cartridges for liquefied petroleum gases, where the symbol may be shown in the background color of the receptacle if adequate contrast is provided.

Section 172.512

The placarding requirements for freight containers and aircraft unit load devices are described in § 172.512. The reference in § 172.512(a)(3) to part 7; chapter 2, section 2.7 of the ICAO TI in this paragraph is inaccurate. This reference became inaccurate because part 7; chapter 2, section 2.7 of the ICAO TI now refers to replacement of labels, whereas section 2.8 refers to identification of unit load devices containing dangerous goods. PHMSA is revising this paragraph for the correct reference to cite part 7; chapter 2, section 2.8.

Section 172.519

The UN Model Regulations have adopted revisions to clarify and standardize the specifications for placards. In this final rule, PHMSA is revising the specifications for placards prescribed in § 172.519(c) to be consistent with the UN Model Regulations. Additionally, to allow manufacturers and printers necessary time to produce placards that conform to the revised specifications, and to allow for the depletion of supplies of existing placards, we are providing a transitional period. This transitional period authorizes a placard that is in conformance with the requirements of the regulations in effect on December 31, 2014, to be used until December 31, 2016. Finally, PHMSA realizes that in domestic transportation, numerous placards of a semi-permanent nature are in service. PHMSA is allowing, that for domestic transportation, a placard manufactured prior to January 1, 2017, in conformance with the requirements of the regulations in effect on December 31, 2014, may continue in domestic service until the end of its useful life provided the color tolerances are maintained and are in accordance with the display requirements of the subchapter.

Part 173

Section 173.2a

Section 173.2a outlines classification requirements for materials having more than one hazard. In this final rule, PHMSA is amending paragraph (a)(1) to note that shipments of “UN3507, Uranium hexafluoride, radioactive material, excepted package, less than 0.1 kg per package” are not required to apply the radioactive hazard as the primary hazard. This change is adopted to incorporate the transportation provisions for excepted packages of uranium hexafluoride adopted in the 18th Revised Edition of the UN Model Regulations, the IMDG Code and the ICAO TI.

Section 173.3

The UN Model Regulations have adopted revisions to clarify and standardize the specifications for markings. In this final rule, PHMSA is revising the specifications for markings for salvage packagings prescribed in § 173.3(c)(3); salvage cylinders prescribed in § 173.3(d)(3); and prescribing requirements for the marking of the proposed large salvage packaging in § 173.3(f) to be consistent with the revised specifications for salvage packaging markings in the UN Model Regulations. Also, to be consistent with the UN Model Regulations, and to allow shippers necessary time to implement the new marking requirements, we are adopting a transitional period to authorize a marking that is in conformance with the requirements of the regulations in effect on December 31, 2014, to be used until December 31, 2016. PHMSA also realizes that salvage packagings and salvage cylinders are typically marked in a durable manner. PHMSA is authorizing, for domestic transportation, a salvage packaging or a salvage cylinder that is marked prior to January 1, 2017 in conformance with the requirements of the regulations in effect on December 31, 2014, to continue in service until the end of its useful life. PHMSA received one comment from RIPA supporting the transition period for “already fabricated and durably marked salvage packagings,” but requesting an additional transition year for embossed packagings. PHMSA notes however, that as is being adopted in this final rule a salvage cylinder that is marked prior to January 1, 2017 in conformance with the requirements of the regulations in effect on December 31, 2014, may continue in service until the end of its useful life.

Also PHMSA is adding a new paragraph (f) to § 173.3 authorizing and prescribing the use of large salvage packaging for all modes of transportation other than air. PHMSA received one comment from RIPA providing general support for the amendments as proposed.

Section 173.4a

The UN Model Regulations have been revised to clarify and standardize the specifications for the marking of excepted quantities of packaged hazardous materials. In this final rule, PHMSA is revising § 173.4a(g)(2) to be consistent with the revised specifications for these markings in the UN Model Regulations. We are adding a transition period so that manufacturers and printers can produce markings that conform to the revised specifications, and deplete existing supplies. An excepted quantities marking that is in conformance with the requirements of the regulations in effect on December 31, 2014, can be used until December 31, 2016. For domestic transportation, we are authorizing a packaging marked with an excepted quantities marking prior to January 1, 2017 and in conformance with the requirements of the regulations in effect on December 31, 2014, to continue in service until the end of its useful life.

Section 173.9

In this final rule, PHMSA is revising the specifications for the fumigant marking prescribed in § 173.9(e) to be consistent with the revised specifications for these markings in the UN Model Regulations. Also consistent with the UN Model Regulations, to allow manufacturers and printers necessary time to produce markings that conform to the revised specifications, and to allow for the depletion of supplies of existing markings, we are authorizing a transitional period to authorize a fumigant marking that is in conformance with the requirements of the regulations in effect on December 31, 2014, to be used until December 31, 2016.

Section 173.11

In this final rule, PHMSA is adding a new § 173.11 that provides exceptions to the regulations for certain light bulbs containing hazardous materials based on their transport conditions, the quantity of hazardous materials contained in each light bulb or package, and the type of packaging. This new section is consistent with newly adopted provisions in the UN Model Regulations. In the NPRM, PHMSA proposed using the term “lamp” in this section for consistency with the language contained in the UN Model Regulations. However, a reference to “light bulbs” remained in § 173.307(a)(6). PHMSA received one comment from Alaska Airlines noting that this may be confusing for shippers and suggested defining the terms lamp and light bulb. We agree that using both of these terms may be confusing; however we do not believe there is a need for defining these two terms as they apply to the same commodity. Therefore, in this final rule, PHMSA is revising the language in § 173.11 and § 173.307 to include the term “lamp” in association with “light bulb.”

Section 173.24

In this final rule, PHMSA is revising § 173.24 to authorize the use of supplementary packagings within an outer packaging (e.g., an intermediate packaging or a receptacle inside a required inner packaging) in addition to what is required by the regulations provided all applicable requirements are met and, if appropriate, suitable cushioning is used to prevent movement within the packaging. This revision is consistent with newly adopted provisions in the UN Model Regulations. PHMSA received one comment from Veolia requesting clarification that the newly proposed requirement under § 173.24(c)(2) for the use of “appropriate suitable cushioning” is only required when movement of the inner receptacles within the outer packaging would result in breakage of the inner receptacles during transportation. PHMSA has revised § 173.24(c)(2) to clarify that appropriate suitable cushioning is only required when necessary.

Section 173.25

To promote the uniformity of markings, the UN Model Regulations have been revised to clarify and standardize the specifications for the overpack marking. In this final rule, PHMSA is revising § 173.25(a)(4) to be consistent with the revised specifications for these markings in the UN Model Regulations. Also consistent with the UN Model Regulations, to allow manufacturers and printers necessary time to produce markings that conform to the revised specifications, and to allow for the depletion of supplies of existing markings, we are adopting a transitional period to authorize an overpack marking that is in conformance with the requirements of the regulations in effect on December 31, 2014, to be used until December 31, 2016. For domestic transportation, we are authorizing an overpack marked with an overpack marking prior to January 1, 2017 and in conformance with the requirements of the regulations in effect on December 31, 2014, to continue in service until the end of its useful life. PHMSA received one comment from RIPA providing general support for this amendment.

Section 173.62

Consistent with the UN Model Regulations, in this final rule, PHMSA is revising § 173.62 relating to specific packaging requirements for explosives as follows:

In paragraph (b), in the Explosives Table, the entry for UN0222 is revised to expand the packaging authorizations to include Packing Instruction 117 in addition to the existing Packaging Instructions 112(b) and 112(c).

In paragraph (c), in the Table of Packing Methods, Packing Instruction 116 is revised to delete provision 5, which states that woven plastic bags (5H2 or 5H3) must be used only for UN 0082, 0241, 0331 and 0332. Packing Instruction 117 is revised to add provision 5 which states, “For UN0222, when other than metal or rigid plastics IBCs are used, they must be offered for transportation in a closed freight container or a closed transport vehicle.”; and provision 6 which states, “For UN0222, flexible IBCs must be sift-proof and water-resistant or must be fitted with a sift-proof and water-resistant liner.” Packing Instructions 131 and 137 are revised to expand the authorization for outer packagings to include solid plastic boxes (4H2).

Section 173.115

Section 173.115 prescribes the definitions for Class 2 materials. In this final rule a new paragraph (m) is added to define the term “Adsorbed gas.” The term means a gas which when packaged for transport is adsorbed onto a solid porous material resulting in an internal receptacle pressure of less than 101.3 kPa at 20 °C and less than 300 kPa at 50 °C.

Currently the HMR do not prescribe requirements for the transport of adsorbed gases. In this final rule, PHMSA is adopting various transportation requirements for adsorbed gases. Therefore in this final rule we are adopting the above definition of an adsorbed gas based on the definition found in the 18th Revised Edition of the UN Model Regulations, the IMDG Code and the ICAO TI.

Section 173.121

Section 173.121 prescribes the requirements for the selection of packing groups for Class 3 flammable liquids. Paragraph (b) of this section describes the criteria for inclusion of viscous Class 3 materials in Packing Group III. Paragraph (b)(1)(ii) currently states that the mixture cannot contain any substances with a primary or subsidiary risk of Division 6.1 or Class 8. In this final rule, PHMSA is revising paragraph (b)(1)(ii) to clarify that a mixture or any separated solvent cannot contain any substances with a primary or subsidiary risk of Division 6.1 or Class 8. This change is consistent with the current language in the 18th Revised Edition of the UN Model Regulations, the IMDG Code and the ICAO TI.

Section 173.127

In this final rule, PHMSA is revising § 173.127(a) to authorize an alternative test for assigning packing groups to Division 5.1 oxidizing solids. The test is in addition to the currently authorized test using potassium bromate/cellulose mixture. The alternative test uses calcium peroxide as a reference substance which is neither carcinogenic nor as acutely toxic as potassium bromate. In addition, the alternative test replaces the highly subjective visual determination of the burning time with a gravimetric determination of the burning rate. This change is consistent with the test adopted into the UN Model Regulations.

Section 173.151

Section 173.151 provides exceptions for Class 4 hazardous materials. In this final rule, PHMSA is revising paragraph (b) to replace a pre-existing paragraph (b)(2) relating to exceptions for charcoal briquettes (NA1361) that was inadvertently deleted in the final rule dated January 7, 2013 (HM-215K; 78 FR 1101).

Section 173.161

Section 173.161 prescribes packaging requirements for chemical kits and first aid kits that contain small amounts of hazardous materials. Paragraph (b)(2) contains the requirement that “The packing group assigned to the chemical kit and first aid kit as a whole must be the most stringent packing group assigned to any individual substance in the kit . . .” This requirement creates problems for shippers and air transport acceptance personnel because it does not specify what must be shown for the packing group on the shipping paper, or what packaging standard must be applied to kits containing hazardous materials to which no packing group is assigned. In this final rule, PHMSA is revising paragraph (b)(2) to require that for kits containing only hazardous materials to which no packing group is assigned, a packing group need not be indicated on the shipping paper although such packagings shall meet the Packing Group II performance level. PHMSA received one comment from UPS providing full support for the amendments as proposed.

Section 173.164

Section 173.164 prescribes requirements for the transportation of Mercury (metallic and articles containing mercury). In this final rule, PHMSA is eliminating the existing exception for lamps containing mercury in paragraph (a)(5) since this exception will be covered in the new § 173.11 relating to exceptions for shipment of light bulbs containing hazardous materials.

Section 173.166

Section 173.166 prescribes requirements for the transportation of air bag inflators, air bag modules and seat-belt pretensioners, UN3268 and UN0503. Due to technological developments, new safety devices for vehicles are becoming available. The devices include pyromechanical devices that meet the definition of a hazardous material but are not accurately described by the proper shipping names Air bag inflators, Air bag modules, or Seat-belt pretensioners. The proper shipping name for these devices has been revised in the UN Model Regulations to “Safety devices, electrically initiated” for UN 3268 and “Safety devices, pyrotechnic” for UN0503. Consistent with the UN Model Regulations, PHMSA is adopting these revised proper shipping names and revising § 173.166 to adopt the term “Safety Devices” for these items. An entry for the existing proper shipping name “Air bag inflators, or Air bag modules, or Seat-belt pretensioners” has been left in the § 172.101 Hazardous Materials Table to direct the reader to the new proper shipping names “Safety devices, electrically initiated” and “Safety devices, pyrotechnic.” PHMSA received multiple comments (Takata, Autoliv, TRW Automotive, and COSTHA) supporting the inclusion of new proper shipping names for “Safety devices.”

The current § 173.166(b)(1)(iv) provides that under certain conditions a Class 9 (UN3268) air bag inflator, air bag module, or seat-belt pretensioner design is not required to be submitted to the Associate Administrator for approval or assigned an EX number. In the NPRM, PHMSA proposed not extending this exception to all Class 9 safety devices and maintaining this exception only for air bag inflators, air bag modules, and seat-belt pretensioners. All other types of safety devices, such as pyromechanical devices, that are candidates for Class 9 must be submitted to the Associate Administrator for approval. Takata, Autoliv, TRW Automotive, and COSTHA provided comments opposing PHMSA's proposal to not extend this exception to all “Safety, devices.” A summary of the commenters' positions follows:

• Employees who prepare shipping papers will have a difficult task to determine when an EX number is or is not required to be contained on the shipping paper, and training for this requirement by January 1, 2015 will be difficult to achieve.

• Automated software used to prepare shipping papers for hazardous materials will not be capable of differentiating between air bag inflators, air bag modules, seat-belt pretensioners and all other Class 9 (UN3268) safety devices. Software programs are written to either require an EX number or not require an EX number for UN3268 (Class 9) devices.

• Carriers are not capable of determining when a Class 9, UN3268 “Safety Device” does or does not require an EX number on the shipping papers.

• PHMSA approved explosives test labs will witness testing of Safety Devices, other than air bag inflators, air bag modules and seat-belt pretensioners, to determine proper classification. The devices will either pass criteria for classification as Class 9 (UN3268), Class 1.4G (UN0503) or they will fail to obtain classification as a Safety Device. There will be no increased risk to safety based on the explosives examiner's classification determination.

• The new Safety Devices, other than air bag inflators, air bag modules and seat-belt pretensioners, have already been manufactured and shipped for several years, but with classifications such as Class 1.4S (UN0323) or “Not regulated as a Class 1 Explosive”. These devices typically contain significantly lower amounts of pyrotechnics, and therefore pose less risk to safety when shipping and handling. The commenters are not aware of any incidents or accidents involving these devices.

• Adding the requirement for certain Safety Devices to be submitted to PHMSA for approval and an EX number will add to PHMSA's approval workload. Current processing time for approvals is 180 to 200 days. This delay in bringing new products to market will hurt U.S. manufacturers and carriers because new products will be sourced to other nations.

As noted in the proposed rule, the three items currently excepted have a long history of safety in their design and manufacture. New devices do not yet have such an established safety history. PHMSA, in the interest of safety, is limiting use of the exception to articles and devices currently authorized under the exception. PHMSA is not opposed to reexamining the exception from Associate Administrator approval for all safety devices, once a sufficient number of these new devices have been evaluated and the data provides assurance that an appropriate level of safety is maintained. PHMSA is however excepting these new types of safety devices classified as Class 9 materials from the requirement to mark the EX number on shipping papers and packages by revising § 173.166(c)(2). This revision addresses the commenters concerns about the ability for carriers and downstream offerors to know when a safety device classified as a Class 9 material does or does not require an EX number to be indicated on documentation or packages.

Additionally, in this final rule, PHMSA is adding a new paragraph (d)(5) to § 173.166 to permit the continued transportation of an air bag inflator, air bag module, or seat-belt pretensioner that was classed and approved for transportation prior to January 1, 2015 under the terms of the existing approval, using the proper shipping name “Safety Devices” or “Safety Devices, Pyrotechnic” as appropriate.

PHMSA received a comment from COSTHA noting potential logistical problems ensuring that all packages, either currently in transportation or in storage awaiting further offering in transportation, are both marked and described with the new proper shipping names “Safety devices” or “Safety devices, pyrotechnic” as appropriate. COSTHA notes that while the majority of shippers of these devices are transitioning to the new authorized shipping names for documentation purposes, ensuring proper shipping name markings on packages are consistent with the new shipping names may prove difficult. COSTHA asks for a transitional period for packages containing “Air bag inflators”, “Air bag modules”, and “Seat-belt pretensioners” allowing them to be marked with previously authorized proper shipping names while shipping papers would indicate the new proper shipping names as proposed in the NPRM.

PHMSA agrees that this situation may occur, and in this final rule PHMSA is adding a new paragraph (d)(6) to § 173.166 to permit until January 1, 2016, the domestic transportation by highway, rail, and vessel of packages containing “Air bag inflators”, “Air bag modules”, or “Seat-belt pretensioners” that are marked or documented either with a previously authorized proper shipping name (Air bag inflators, Air bag modules, or Seat-belt pretensioners) for these articles; or with the appropriate new proper shipping name authorized under this rulemaking (Safety devices or Safety devices, pyrotechnic). This exception can be applied in part or in whole. Packages may be marked with a previously authorized proper shipping name (e.g., Air bag inflators) and declared on shipping papers with a proper shipping name authorized under this rulemaking (e.g., Safety devices). Conversely, packages may be marked with a proper shipping name authorized under this rulemaking (e.g., Safety devices) and declared on shipping papers with a previously authorized proper shipping name (e.g., Air bag inflators). It is also important to note that in accordance with the January 1, 2016 delayed compliance date of this rulemaking, packages that are both marked and declared using a proper shipping name in effect on December 31, 2014 may continue to be offered for transport and transported until January 1, 2016.

Section 173.167

Section 173.167 prescribes the requirements for consumer commodities intended for air transportation. In this final rule, PHMSA is revising the drop test requirements in (a)(4) by including the criteria for passing the test. A completed consumer commodity package will be considered to have passed the drop test if the outer packaging does not exhibit any damage liable to affect safety during transport and there is no leakage from the inner packaging(s).

Section 173.176

This section addresses capacitors by prescribing the testing, marking, safety, and packaging requirements for electric double layer capacitors with energy storage capacity greater than 0.3 watt hours (Wh). In this final rule, PHMSA is revising § 173.176 to include provisions for asymmetric capacitors in accordance with the new HMT entry “UN3508, Capacitor, asymmetric (with an energy storage capacity greater than 0.3Wh).” In addition, paragraph (a)(5) presently requires that capacitors must be marked with the energy storage capacity in Wh. Many pre-existing capacitors do not have Wh marking and are not permitted to be transported even when all other requirements of this section are met. PHMSA is amending paragraph (a)(5) to require that the Wh marking is required for non-asymmetric capacitors manufactured after December 31, 2013 and for asymmetric capacitors manufactured after December 31, 2015.

Section 173.181

This section prescribes the non-bulk packaging requirements applicable to pyrophoric liquids. On January 7, 2013, PHMSA published final rule PHMSA-2012-0027 (HM-215L) [78 FR 987] to maintain alignment with international standards by incorporating various amendments, including changes to proper shipping names, hazard classes, packing groups, special provisions, packaging authorizations, air transport quantity limitations, and vessel stowage requirements. In that final rule, PHMSA revised paragraphs (b) and (c) to add authorized packagings for these materials. Paragraphs (c)1-3 were inadvertently deleted due to an incorrect amendatory instruction and in this final rule, PHMSA is placing paragraphs (c)1-3 back into § 173.181 as they were prior to the publication of HM-215L.

Section 173.185

In this final rule, PHMSA is adding paragraph (b)(6) and revising paragraph(f)(3) to authorize and prescribe the use of a large packaging for a single large lithium battery or a battery contained in equipment. This authorization does not include transportation by aircraft. The addition of this packaging type into this section is consistent with provisions for lithium batteries in the UN Model Regulations. PHMSA received one comment from COSTHA in support of this proposal.

The ICAO DGP took a decision during the most recent biennium to remove the alternative written documentation option in Section IB of ICAO TI Packing Instructions 965 and 968 and instead require a standard transport document (shipping paper). Section IB is applicable to packages that exceed the number or quantity (mass) limits for smaller lithium batteries in Section II of Packing Instructions 965 and 968, thus excepting such packages from specification packaging requirements when containing no more than 2.5 kg of lithium metal cells or batteries or 10 kg of lithium ion cells or batteries per package. As this revision will appear in the 2015-2016 Edition of the ICAO TI, in this final rule PHMSA is amending paragraph (c)(4)(v) to require a shipping paper for these packages containing no more than 2.5 kg of lithium metal cells or batteries or 10 kg of lithium ion cells or batteries per package. PHMSA sought input as to the costs and benefits of harmonizing the provisions of the HMR with the provisions of the ICAO Technical Instructions by requiring shipping papers as opposed to alternative documentation. PHMSA also solicited comments on the costs and benefits of maintaining a domestic difference within the HMR to continue to allow the use of the alternative documentation in lieu of a shipping paper as required by the ICAO Technical Instructions. PHMSA received comments from UPS and Alaska Airlines concerning removal of the alternative document. UPS supported our proposed change to the documentation requirement for packages containing smaller lithium batteries transported in accordance with § 173.185(c)(4)(v). UPS also commented that the proposal to introduce a shipping paper requirement for shipments offered under § 173.185(c)(4)(v) could be interpreted to conflict with the statement in the preceding paragraph § 173.185(c) that such shipments are excepted from the requirements in subparts C through H of part 172. UPS suggests that § 173.185(c) should be clarified in this regard. We agree clarification is warranted. Alaska Airlines commented that they would like to see increased harmonization between the 49 CFR and ICAO TI with regard to the documentation required while stating there is no reason to deviate from the ICAO TI. We agree, and note that the amendments proposed do provide for such consistency.

Taking into account the comments from Alaska Airlines, PHMSA confirmed that the proposed documentation amendments do align with the requirements of the ICAO TI. However, in this final rule PHMSA is revising § 173.185(c)(4)(v) as suggested by UPS for clarity. This editorial amendment will clarify that packages offered in accordance with § 173.185(c)(4)(v) are subject to the shipping paper requirements of subpart C of Part 172.

At the April 2014 meeting, the ICAO Working Group on Lithium Batteries, forbade the shipment of lithium metal cells and batteries as cargo on passenger aircraft with the exception of lithium metal cells and batteries packed with or contained in equipment not exceeding 5 kg net weight. This prohibition of lithium metal batteries as cargo on passenger aircraft is consistent with current HMR requirements. As a consequence to this prohibition, Section II of Packing Instruction 968 in the ICAO TI was amended to require shipments of small lithium metal cells and batteries to display the “CARGO AIRCRAFT ONLY” label where previously only a lithium battery handling marking was required. Presently under the HMR, a package containing such lithium metal cells or batteries as provided in § 173.185(c)(1)(iii), is required to be marked “PRIMARY LITHIUM BATTERIES—FORBIDDEN FOR TRANSPORT ABOARD PASSENGER AIRCRAFT” or “LITHIUM METAL BATTERIES—FORBIDDEN FOR TRANSPORT ABOARD PASSENGER AIRCRAFT.” In this final rule, PHMSA is providing an alternative to the existing marking requirement in § 173.185(c)(1)(iii) with the option to display a “CARGO AIRCRAFT ONLY” label. This allowance to either utilize the current marking or the “CARGO AIRCRAFT ONLY” label provides shippers with the flexibility to utilize supplies of preprinted markings or packagings, while also allowing shippers to transition to the use of the “CARGO AIRCRAFT ONLY” if desired.

PHMSA received comments from UPS and COSTHA in support of the proposal. UPS also commented that the provision in this paragraph excepting lithium metal cells or batteries packed with or contained in equipment in quantities “less than 5 kg net weight” from the § 173.185(c)(1)(iii) marking requirement differs slightly in wording from the current ICAO TI and previous requirements of the HMR. In this final rule, PHMSA is revising § 173.185(c)(1)(iii) as proposed in the NPRM with an additional editorial revision to clarify that lithium metal cells or batteries packed with or contained in equipment in quantities “not exceeding” as opposed to “less than” 5 kg net weight are not subject to the marking or “CARGO AIRCRAFT ONLY” label requirement. This provides editorial consistency with the provisions of the ICAO TI.

Section 173.199

In this final rule, PHMSA is revising the specifications for the Category B infectious substance marking in § 173.199(a)(5) to be consistent with the revised specifications for these markings in the UN Model Regulations. Also consistent with the UN Model Regulations, to allow manufacturers and printers necessary time to produce markings that conform to the revised specifications, and to allow for the depletion of supplies of existing markings, we are adopting a transitional period to authorize a Category B infectious substance marking that is in conformance with the requirements of the regulations in effect on December 31, 2014, to be used until December 31, 2016. For domestic transportation, we are authorizing a packaging marked with a Category B infectious substance marking prior to January 1, 2017 and in conformance with the requirements of the regulations in effect on December 31, 2014, to continue in service until the end of its useful life.

Section 173.225

This section prescribes packaging requirements and other provisions for organic peroxides. In this final rule, PHMSA is revising the Organic Peroxide Portable Tank Table in paragraph (g). PHMSA is revising the entry in the second column of the table pertaining to the hazardous material “Peroxyacetic acid, distilled, stabilized, not more than 41%” to include a Note 1, that a “Corrosive” subsidiary risk placard is required.” The adoption of this requirement is consistent with the requirements in the UN Model Regulations.

Section 173.231

Currently, the § 172.101 HMT Column (8B) packaging authorization for Ammonium nitrate emulsion, suspension, or gel, UN3375, directs the reader to § 173.214 which requires that packagings and methods of shipment must be approved by the Associate Administrator prior to the first shipment. In this final rule, PHMSA is adding a new § 173.231 titled “Ammonium nitrate emulsion, suspension, or gel” and assigning this section to UN3375 to authorize and prescribe the use of non-bulk packagings for this material. The requirements of the new section are consistent with the requirements in the UN Model Regulations.

Section 173.251

Currently, the § 172.101 HMT Column (8C) packaging authorization for Ammonium nitrate emulsion, suspension, or gel, UN3375, directs the reader to § 173.214 which requires that packagings and method of shipment must be approved by the Associate Administrator prior to the first shipment. In this final rule, PHMSA is adding a new § 173.251 titled “Bulk packaging for ammonium nitrate emulsion, suspension, or gel” and assigning this section to UN3375 to authorize and prescribe the use of IBC's for this material. The requirements of the new section are consistent with the requirements in the UN Model Regulations.

Section 173.301b

In this final rule, PHMSA is revising paragraph (c) relating to pressure receptacle valve requirements to include that a valve manufactured on or before December 31, 2008, conforming to the requirements in ISO 10297:1999 is authorized. This proposed revision is consistent with the requirements in the UN Model Regulations. The redesignation of several paragraphs in § 178.71 requires an amendment to paragraph (g) of § 173.301b. The current reference for marking requirements for cylinders manufactured in accordance with the requirements for underwater use direct the user to § 178.71(o)(17). This citation is incorrect prior to the publication of this rule and should have been (p)(18). With the redesignation of § 178.71(p) as paragraph (q), this reference is being changed to § 178.71(q)(18).

Section 173.302

In this final rule, PHMSA is adopting the new UN Model Regulation requirements for the transportation of adsorbed gases in cylinders. This section specifies requirements for the filling of cylinders with non-liquefied (permanent) compressed gases. PHMSA is amending the title of this section and paragraph (a) to include and specify requirements for the transportation of adsorbed gases.

Section 172.302c

In this final rule, PHMSA is adding a new § 173.302c to adopt the new authorization in the UN Model Regulations for the transportation of adsorbed gases in UN pressure receptacles. The adoption of these requirements into this new section is consistent with the requirements in the UN Model Regulations.

Section 173.307

Section 173.307 provides exceptions from the regulations for compressed gases. In this final rule, PHMSA is revising paragraph (a)(5) relating to manufactured articles or apparatuses to clarify that the exception for manufactured articles does not include light bulbs. The exceptions for light bulbs are contained in the new § 173.11 relating to exceptions for shipment of light bulbs containing hazardous materials. Also, we are revising paragraph (a)(6) relating to light bulbs to clarify that the exceptions do not apply to light bulbs as described in the new § 173.11 relating to exceptions for shipment of light bulbs containing hazardous materials.

Section 173.309

Section 173.309 prescribes requirements for fire extinguishers. In this final rule, we are adding a new introductory paragraph describing fire extinguisher types authorized for transport in accordance with this section and covered by the HMT entry “UN1044, Fire extinguishers.” PHMSA received one comment from UPS providing general support for the proposed amendments as proposed.

Section 173.403

Consistent with the UN Model regulations, in this final rule, PHMSA is revising two definitions in § 173.403 relating to the transportation of Class 7 (Radioactive Materials). “Exclusive Use” is revised to clarify that it also applies to the shipment of the load and that exclusive use only applies when compliance is required by the regulations. “Freight Container” is revised to eliminate the requirement that a “small freight container” has one outer dimension less than 1.5 m (4.9 feet).

Section 173.415

Section 173.415 authorizes Type A packages for the transport of Class 7 (radioactive) materials. In this final rule, PHMSA is amending paragraph (d) to reflect the incorporation by reference (IBR) of the IAEA Regulations for the Safe Transport of Radioactive Material, SSR-6 2012 Edition. Please see the Section-by-Section Review under § 171.7 for a discussion of the incorporation by reference.

Section 173.416

Section 173.416 authorizes Type B packages for the transport of Class 7 (radioactive) materials. In this final rule, PHMSA is amending paragraph (b) to reflect the incorporation by reference (IBR) of the IAEA Regulations for the Safe Transport of Radioactive Material, SSR-6 2012 Edition. Please see the Section-by-Section Review under § 171.7 for a discussion of the incorporation by reference.

Section 173.417

Section 173.417 authorizes fissile materials packages for the transport of Class 7 (radioactive) materials. In this final rule, PHMSA is amending paragraphs (a)(1)(iii) and (b)(2) to reflect the incorporation by reference (IBR) of the IAEA Regulations for the Safe Transport of Radioactive Material, SSR-6 2012 Edition. Please see the Section-by-Section Review under § 171.7 for a discussion of the incorporation by reference.

Section 173.420

Section 173.420 prescribes the transport conditions for uranium hexafluoride. In this final rule, PHMSA is amending this paragraph to note that fissile-excepted shipments less than 0.1 kg may be offered under UN3507. These requirements align with IAEA SSR-6 requirements, while maintaining general packaging requirements from §§ 173.24 and 173.24a.

Section 173.435

Section 173.435 provides a table of A1 and A2 values for radionuclides for Class 7 (radioactive) materials. In this final rule, PHMSA is amending note ᵃ to the table to reflect the incorporation by reference (IBR) of the IAEA Regulations for the Safe Transport of Radioactive Material, SSR-6 2012 Edition. Please see the Section-by-Section Review under § 171.7 for a discussion of the incorporation by reference.

Section 173.466

Section 173.466 specifies additional tests for Type A packagings designed for liquids and gases. During the review of this section, we found that paragraphs (a)(1) and (a)(2) were inadvertently removed in a final rule published in the Federal Register on July 11, 2014 (79 FR 40589; HM-250). As a result, PHMSA is reinstating (a)(1) and (a)(2) as they read prior to publication of the HM-250 final rule.

Section 173.473

Section 173.473 provides the requirements for foreign made packages for the transport of Class 7 (radioactive) materials. In this final rule, PHMSA is amending the introductory paragraph and paragraph (a)(1) to reflect the incorporation by reference (IBR) of the IAEA Regulations for the Safe Transport of Radioactive Material, SSR-6 2012 Edition. Please see the Section-by-Section Review under § 171.7 for a discussion of the incorporation by reference.

Part 175

Section 175.9

Section 175.9 prescribes the applicability of the HMR to special aircraft and rotocraft operations. This section also prescribes the conditions under which certain operations may be performed in accordance with 14 CFR and 49 CFR (e.g., avalanche and weather control). Consistent with the ICAO TI, in this final rule, PHMSA is revising paragraphs (b)(6) and (b)(6)(v) by including “ice jam control” and “landslide clearance” for operations where explosives are used in a similar manner to avalanche control.

Section 175.10

Section 175.10 specifies the conditions for which passengers, crew members, or an operator may carry hazardous materials aboard an aircraft. Consistent with revisions to the ICAO TI, in this final rule, PHMSA is making several revisions to this section.

PHMSA is revising paragraph (a)(11), applicable to passenger provisions for self-inflating life jackets, to include different types of self-inflating personal safety devices in order to account for those carried by, but not limited to, motorcycle and horseback riders. In addition, PHMSA is clarifying that a passenger is limited to one self-inflating safety device, in addition to two spare cartridges, and is requiring that both the safety device and spares be packed in such a manner that they cannot be accidently activated.

PHMSA is adding a new subparagraph (a)(18)(iv) to clarify that articles containing lithium metal or lithium ion cells or batteries, with a primary function to provide power to another device, must be carried as spare batteries in accordance with the provisions of this paragraph. Examples of such articles are portable power banks, portable charging stations, portable battery chargers, portable rechargers, back-up battery power stations, battery power packs, and auxiliary power sources containing lithium batteries. During the review of this provision, we found that the preceding paragraph (a)(18)(iii) was inadvertently removed in a final rule published in the Federal Register on August 6, 2014 (79 FR 46011; HM-224F). As a result, PHMSA is reinstating (a)(18)(iii).

PHMSA is revising paragraph (a)(24), applicable to small cartridges for other devices, by amending the phrase “small cylinders” to “small cartridges,” and restricting the carriage of small gas cartridges to only those without a subsidiary risk. The existing operator approval requirement was moved to make it more clearly align with the ICAO TI.

Section 175.25

Section 175.25 prescribes the notification that operators must provide to passengers regarding restrictions on the types of hazardous material they may or may not carry aboard an aircraft on their person or in checked or carry-on baggage. Consistent with revisions to the ICAO TI, in this final rule, PHMSA is revising paragraph (b) as follows: (1) For all ticket purchases, clarify that the hazardous materials notification must be presented at the point of ticket purchase, or if this is not practical, made available to passengers in another manner prior to the check-in process and; (2) for such internet purchases, require that the final ticket purchase cannot be completed until the passenger or a person acting on the passenger's behalf has been presented with this information, in addition to the existing requirement to indicate that they understand the restrictions on hazardous materials in baggage. PHMSA is revising paragraph (c) as follows: (1) Replace the text “provided” with “presented” to make it clear that passengers must see information on the types of hazardous material forbidden to be transported before proceeding with check-in and; (2) require that the check-in process cannot be completed until the passenger or a person acting on the passenger's behalf has been presented with the hazardous materials information, in addition to the existing requirement to indicate that they understand the restrictions on hazardous materials in baggage. It was reported that some operators published the required information in areas on a Web site that were not always visible to the passenger, believing that this met the requirement of being “provided.”

In paragraphs (b) and (c) PHMSA is removing the present effective dates of January 1, 2015 and the word “phone” used as an example of a ticket purchase or check-in completed remotely. Furthermore, PHMSA is removing the words “regardless if the process is completed remotely (e.g., via the Internet and Phone) or when completed at the airport, with or without assistance from another person (e.g., automated check in facility)” in order to bring paragraph (b) into full alignment with 7;5.1.1 of the ICAO TI. By removing the examples in conjunction with other revisions to paragraph (b) it is now clear that passenger notification is required for all ticket purchases; however, for assisted ticket purchase transactions via the telephone, the hazardous materials information may be provided to the passenger using any suitable method prior to the check-in process and passenger acknowledgement is not required. These revisions represent full harmonization with the ICAO TI and additional flexibility in meeting the passenger notification requirements and, therefore, the previous effective date of January 1, 2015 is waived as of publication of the rule.

In addition, the revision is consistent with a petition for rulemaking (P-1623) filed by COSTHA since it provides clarification for ticket purchases made via the telephone, permitting the hazardous materials notification to be made available in another manner to passengers prior to the check-in process.

PHMSA received comments from Jeffery Richmond, COSTHA, and the ASTA on the proposed amendments. Jeffery Richmond and ASTA both provide general support for the amendments. Mr. Richmond notes that the changes as proposed would bring § 175.25(b) into full compliance with the ICAO TI. COSTHA also provided support for the proposed amendments, but would like to note that there is a question of how the Advisory Circular (AC) will be drafted after implementation date of the final rule. COSTHA further asked if the FAA will continue to update the circular after the final rule comes into force or if this guidance information be eliminated. Lastly, COSTHA asked if PHMSA would continue to communicate with the FAA in the future on this issue.

The FAA chartered an Aviation Rulemaking Committee (ARC), which then developed recommendations for an AC on Passenger Notification of Hazardous Materials Regulations. PHMSA notes that the referenced ARC recommendations were submitted to the FAA on November 1, 2013, and a request for comments was issued by the FAA in the Federal Register on March 4, 2014 (See 79 FR 12133). The ARC recommendations are considered open pending FAA review and are beyond the scope of this rulemaking. PHMSA will continue to communicate with the FAA on all matters relating to the safe transportation of hazardous materials by aircraft.

Section 175.30

Section 175.30 prescribes inspection procedures for operators. Paragraph (e)(1) prohibits an overpack from containing a package bearing the “CARGO AIRCRAFT ONLY” label unless certain conditions are met and the overpack affords clear visibility of and easy access to the package contained within. In this final rule, PHMSA is removing paragraph (e)(1) consistent with revisions made to the ICAO TI in which current provisions require accessibility to the overpack when loaded aboard an aircraft, not the individual packages contained within, making reference to packages redundant. As the loading requirements in § 175.75(d)(1) require a package bearing the “CARGO AIRCRAFT ONLY” label to be accessible once loaded on the aircraft, but do not require that they are visible, the requirements in (e)(1) place an unnecessary burden on offerors without any additional safety function in the loading process.

Paragraph (a)(5) states that no person may accept for transportation aboard an aircraft shipments of lithium batteries described with an alternative written document authorized in § 173.185(c)(4)(v) unless the aircraft operator ensures the hazardous material is described on alternative written documentation when authorized in accordance with § 173.185(c)(4)(v). The removal of the alternative written document from § 173.185(c)(4)(v) necessitates the removal of this paragraph.

PHMSA received comments from COSTHA and UPS addressing our proposed amendments to § 175.30. COSTHA supported the removal of (e)(1) noting that this requirement is not relevant and leads to confusion. COSTHA also supported the removal of (a)(5) as the allowance of an alternate document in the HMR would create significant confusion for air carrier acceptance agents. UPS supports the amendments as proposed in the interest of global consistency.

Section 175.33

Section 175.33 establishes requirements for shipping papers and for the notification of the pilot-in-command when hazardous materials are transported by aircraft.

With the exception of package type, paragraph (a)(1)(i) currently requires any additional shipping paper description requirements provided in §§ 172.202, and 172.203 to be included on the notification of the pilot-in-command. Section 172.203(k) requires the use of technical names for “n.o.s.” and generic descriptions for proper shipping names identified by the letter “G” in column (1) of the § 172.101 Table. In this final rule, PHMSA is revising paragraph (a)(1)(i) to state that technical names are not required to be provided on the notification of pilot-in-command. This clarification aligns the HMR with changes adopted in the ICAO TI and supports the overall goal of harmonization. Harmonization of the notification of pilot-in-command requirements ensures consistency across all air operators thus reducing impediments in commerce and reducing costs associated with training to two different sets of standards. In addition, the technical name is not referenced in the Emergency Response Guidance for Aircraft Incidents Involving Dangerous Goods (Doc 9481) or the North American Emergency Response Guidebook (ERG). The ICAO panel determined that the technical names provided little benefit to safety, particularly during the initial stage of emergency response while the number of materials requiring a technical name is on the rise, thereby increasing the burden on operators to provide this information. In addition, the technical name is not referenced in the Emergency Response Guidance for Aircraft Incidents Involving Dangerous Goods (Doc 9481) or the North American Emergency Response Guidebook (ERG).

Paragraphs (a)(12) and (c)(5) both mention the alternative written document authorized in § 173.185(c)(4)(v). The removal of the alternative written document from § 173.185(c)(4)(v) necessitates the removal of these paragraphs. Any information required to be a part of the notification of the pilot-in-command previously under paragraph (a)(12) will be detailed on a shipping paper and be included on the notification of the pilot-in-command.

PHMSA received two comments concerning our proposed amendments to § 175.33. COSTHA and UPS support the removal of the technical name from the notification of pilot-in-command requirements.

Section 175.630

Section 175.630 prescribes special requirements for Division 6.1 (Toxic) and 6.2 (Infectious) materials in the HMT. Consistent with revisions to the ICAO TI, in this final rule, PHMSA is removing paragraph (a) which prescribes segregation requirements for certain Division 6.1 or Division 6.2 materials in the same compartment of an aircraft with material marked as or known to be a foodstuff, feed, or any other edible material intended for consumption by humans or animals. At the time these segregation requirements were initially included in the ICAO TI and the HMR, the packing instructions were much less detailed than they are at present. The UN Model Regulations do not impose segregation requirements for Division 6.2 infectious substances. The segregation requirements for infectious substances under the ICAO TI and HMR only apply to UN2814 and UN2900 which already require robust triple packagings. For Division 6.1, the UN Recommendations allow the segregation requirements to be relaxed for substances in Packing Groups II and III, provided the competent authority is satisfied that the packing and segregation are adequate to prevent contamination. In addition, the inspection procedures prescribed in § 175.30 require a physical check to ensure that the packagings are free from damage. The revisions adopted in this final rule are consistent with a petition for rulemaking (P-1631) filed by UPS, Inc., who voiced strong support for such action.

PHMSA received comments from COSTHA, DGAC, and UPS concerning our proposed removal of the segregation requirement. Both COSTHA and UPS support this proposal. DGAC commented that authorizing materials identified as Division 6.1 or 6.2 to be loaded in the same compartment as materials known to be food or foodstuffs may have a disruptive and underappreciated effect on companies that must operate under Food Safety Management Systems. The possibility of mixed loads of food products and Class 6 materials will require a re-evaluation of Hazard Analysis and Critical Control Point (HACCP) plans for companies shipping food in the air mode. PHMSA has reviewed the removal of the segregation requirement with regard to the effect on HACCP plans and has determined that the removal of § 175.630(a) is suitable for incorporation as proposed. To ensure consumers do not get sick, an HACCP plan requires companies shipping food to identify critical control points and establish safety protocols. These critical control points include transportation and transportation related activities such as temperature control during transit, storage, loading, unloading and physical security. Our review has determined that HACCP plan requirements are not specific to any particular hazardous material class when properly packaged in accordance with the HMR or corresponding international standard.

Section 175.705

Section 175.705 prescribes requirements for aircraft that have been contaminated with radioactive material and the procedures that must be followed prior to returning the aircraft to service. Consistent with revisions to the ICAO TI, in this final rule, PHMSA is revising paragraph (c) by stating that the dose rate at every accessible surface “must not exceed” 0.005 mSv per hour, where it presently states “is less than.”

Part 176

Section 176.80

Section 176.80 details segregation requirements in addition to any segregation requirements set forth elsewhere in subchapter C. In this final rule, PHMSA is adopting a prohibition on stowing goods of Division 1.4, compatibility group S, in the same compartment, hold, or cargo transport unit with hazardous materials of Class 1 of compatibility groups A and L. Limited quantity shipments are currently excepted from segregation requirements for vessel transport by both the IMDG Code and the HMR. The IMO noted that when creating this exception, a long standing prohibition on stowing limited quantity goods of Division 1.4, compatibility group S, in the same compartment, hold, or cargo transport unit with hazardous materials of Class 1, compatibility groups A and L, was not carried over into amendment 36-12 of the IMDG Code. Amendment 37-14 of the IMDG Code reinstates these segregation provisions, and PHMSA is adopting an equivalent change.

Section 176.83

Section 176.83 details segregation requirements for hazardous materials vessel transport. Paragraph (b) includes a table for users to determine segregation requirements between various Classes (Divisions) of hazardous materials. In this final rule, PHMSA is amending the segregation requirements for vessel transportation between hazardous materials of Class 4.3 (dangerous when wet) and Class 2.1 (flammable gas), and Class 3 (flammable liquid). Changes in the segregation table in paragraph (b) are to change the segregation requirements between goods of Class 4.3 and Class 2.1 from an “x” (segregation, if any, is shown in the § 172.101 table) to a “2” (separated from), and between goods of Class 4.3 and Class 3 from a “1” (away from) to a “2” (separated from). The meaning of these terms differs depending on the method of transport onboard a vessel (shipping break-bulk cargo versus segregation of cargo transport units on board container vessels). PHMSA assumes the majority of commodities transported by vessel that will be affected are offered in closed cargo transport units (CTU).

The segregation changes adopted in this final rule are based on amendments adopted by the IMO and are aimed at enhancing efforts to prevent the spread of fire in an emergency situation. Fire extinguishing methods available to vessel crews are often quite limited. Due to these limited fire extinguishing options, the only recommended option to control the consequences of a fire originating from these goods is to let the fire burn and to prevent the spread of fire to other cargo or equipment which is crucial for the safe operation of the ship. These changes are intended to address situations where a fire originates in a shipment of flammable liquids or gases and is likely to spread to goods which cannot be extinguished, or when a fire originates in goods which cannot be extinguished and threatens to spread to highly flammable goods. The new segregation distances will enhance efforts to control the emergency situation.

PHMSA received one comment from IVODGA fully supporting the amendments as proposed.

Section 176.84

Section 176.84 prescribes the meanings and requirements for numbered or alpha-numeric stowage provisions for vessel shipments listed in column 10B of the § 172.101 Hazardous Materials Table. The provisions in § 176.84 are broken down into general stowage provisions whose meanings are defined in the “table of provisions” in paragraph (b), and the stowage provisions applicable to vessel shipments of Class 1 explosives, which are defined in the table to paragraph (c)(2).

In this final rule, PHMSA is amending the title of the section to note that the codes in column 10B address not only codes for stowage requirements, but also handling requirements that need to be observed during loading of the hazardous materials. PHMSA is also creating footnote 3 and assigning it to stowage provision 12 and 13. Footnote 3 is added to note that these provisions apply not only to stowage of the cargo transport unit, but also to the loading of hazardous materials into the cargo transport unit.

PHMSA is additionally creating new stowage provisions 147 and 148 consistent with changes adopted in Amendment 37-14 of the IMDG Code. Stowage provision 147 is adopted to read “Stow “separated from” flammable gases and flammable liquids.” Stowage provision 148 is adopted to read “In addition: from flammable gases and flammable liquids when stowed on deck of a containership a minimum distance of two container spaces athwartship shall be maintained, when stowed on ro-ro ships a distance of 6 m athwartship shall be maintained.”

Section 176.905

Section 176.905 prescribes specific requirements for motor vehicles or mechanical equipment powered by internal combustion engines that are offered for transportation and transported by vessel. In this final rule, PHMSA is proposing to align our exceptions with those recently adopted by the IMO.

PHMSA is amending paragraphs (i)(1), (i)(2), (i)(4), and (i)(5) to require as a condition of exception from the subchapter that batteries installed in motor vehicles or mechanical equipment powered by internal combustion engines be protected from short circuit. PHMSA is also revising paragraph (i)(2), which provides conditions that must be met for vehicles or mechanical equipment with an internal combustion engine that uses liquid fuel with a flashpoint of 38 °C (100 °F) or higher. Currently up to 418 L (110 gallons) may remain in the equipment or vehicle, and if other noted conditions are met the vehicle is excepted from all other requirements of subchapter C. PHMSA is raising this fuel threshold to 450 L (119 gallons).

PHMSA is adding paragraph (i)(6) to add exceptions for fuel cell powered vehicles or mechanical equipment with an internal combustion engine powered by fuel cells. When the engine is protected from inadvertent operation by closing fuel supply lines or by other means, and the fuel supply reservoir has been drained and sealed, the vehicle or mechanical equipment is excepted from the requirements of subchapter C.

PHMSA received one comment from IVODGA fully supporting the proposed changes to § 176.905 and relevant exceptions as well as the proposed clarifications as presented. IVODGA noted that “by requiring the batteries to be protected from short circuiting, and to increase the amount of fuel to the maximum of 119 liters would effectively create a uniform standard and eliminate frustrated shipments where prior differences created different requirements.”

Part 178

Section 178.71

Consistent with the UN Model Regulations, in this final rule PHMSA is revising paragraph (a) to clarify that UN pressure receptacles and service equipment constructed according to the standards applicable at the date of manufacture may continue in use subject to the continuing qualification and maintenance provisions of part 180 of the subchapter.

PHMSA is revising paragraphs (d)(2), (g), and (k) to reflect the adoption of the latest ISO standards for the design, construction, and testing of gas cylinders and their associated service equipment. These paragraphs also contain end dates when cylinders and service equipment are no longer authorized to be manufactured in accordance with the outdated ISO standard. PHMSA received one comment from Sally Mitchell questioning the accuracy of the statement in § 178.71(d)(2), “Until December 31, 2008, the manufacture of a valve conforming to the requirements in ISO 10297:1999 (IBR, see § 171.7 of this subchapter) is authorized.” This statement is accurate and consistent with the language contained in the UN Model Regulations to authorize valves that were manufactured prior to January 1, 2009 and conform with the requirements of ISO 10297:1999. Sally Mitchell also suggested revising § 178.71(g)(1), (g)(2) and (g)(3) to permit the continued manufacture of a cylinder conforming to the requirements of the applicable the 1999 publication of ISO 9809-1 and the 2000 publication of ISO 9809-2 and 9809-3 until the later of December 31, 2018 or 10 years from the initial DOT design approval to allow manufacturers to recover their type approval expenses over the 10 year life of the approval instead of just 4 years. PHMSA does not believe this change is necessary, as a design approval is independent of the regulations and is authorized for the valid life of the approval regardless of the limitations imposed by the regulations.

Consistent with the UN Model Regulations PHMSA is adding a new paragraph (n) and redesignating existing paragraphs (n) through (s). The new paragraph (n) adopts design and construction requirements of UN cylinders for the transportation of adsorbed gases, consistent with those adopted into the UN Model Regulations.

Consistent with the UN Model Regulations, PHMSA is revising the redesignated paragraph (o) to adopt the current ISO standards relating to material compatibility.

Paragraphs (r) and (t) are being revised to change references to paragraph (p) to the newly redesignated paragraph (q).

Finally, PHMSA is adding new paragraphs (u) and (v) to adopt the marking requirements for bundles of cylinders that have been adopted in the UN Model regulations.

Section 178.75

Consistent with the UN Model Regulations, PHMSA is revising paragraph (d)(3) to reflect the adoption of the latest ISO standards for the design, construction, and testing of gas cylinders that are part of multiple-element gas containers (MEGCs). This paragraph also contains end dates when the cylinders that are part of MEGCs are no longer authorized to be manufactured in accordance with the outdated ISO standard.

Section 178.703

The UN Model Regulations have adopted revisions to clarify and standardize the specifications for markings, including the marking of IBCs, and to promote the uniformity of markings throughout the international transportation community. In this final rule, PHMSA is revising the specifications for the markings prescribed in § 178.703(b)(7)(iii) to be consistent with the UN Model Regulations. Also consistent with the UN Model Regulations, a transitional period is being proposed to authorize markings in conformance with the requirements of this paragraph in effect on December 31, 2014, to continue to be applied to all IBCs manufactured, repaired or remanufactured between January 1, 2011 and December 31, 2016. For domestic transportation, we are authorizing an IBC marked prior to January 1, 2017 and in conformance with the requirements of the regulations in effect on December 31, 2014, to continue in service until the end of its useful life.

PHMSA received one comment from RIPA providing general support for the amended IBC stacking or not designed for stacking marking specifications. RIPA did however recommend PHMSA extend the requirement to mark IBCs with the stacking or not designed for stacking mark to include IBC's undergoing routine maintenance. Currently the HMR requires this marking to be applied to all IBCs manufactured, repaired, or remanufactured prior to January 1, 2011. The amendments proposed in the NPRM were consistent with those adopted by international standards. Expanding the marking requirement to IBCs undergoing routine maintenance was not the intent of this regulatory amendment and would be inconsistent with the requirements of the international standards.

Section 178.910

In this final rule, PHMSA is revising paragraph (a) relating to the marking of large packagings to include markings for large salvage packagings. Following the large packaging design type identification code on a large packaging, a large salvage packaging conforming to the requirements of subpart P of part 178 is to be marked with the letter “T.” This change is consistent with the UN Model Regulations.

In addition, to promote the uniformity of markings throughout the international transportation community, the UN Model Regulations have adopted revisions to clarify and standardize the specifications for markings, including the marking of large packagings and large salvage packaging. In this final rule, PHMSA is revising the specifications for the markings prescribed in § 178.910(b). Also consistent with the UN Model Regulations, we are adopting a transitional period to authorize markings in conformance with the requirements of this paragraph in effect on December 31, 2014, to continue to be applied to all large packagings manufactured, repaired or remanufactured between January 1, 2015 and December 31, 2016. For domestic transportation, we are authorizing a large packaging marked prior to January 1, 2017 and in conformance with the requirements of the regulations in effect on December 31, 2014, to continue in service until the end of its useful life.

Part 180

Section 180.207

Section 180.207 prescribes the requirements for requalification of UN pressure receptacles. Table 1 in paragraph (c) of § 180.207 provides requalification intervals for UN pressure receptacles. In this final rule, PHMSA is adding an additional entry to the end of Table 1 to prescribe a requalification interval of 5 years for UN culinders used for adsorbed gases. This requalification period is consistent with the requalification period adopted in the UN Model Regulations for the use of these cylinders. Section 173.302c relating to authorization for the use of cylinders for adsorbed gases directs the reader to this section for the requalification period for these cylinders.

A new paragraph (d)(5) provides that each UN cylinder used for adsorbed gases must be inspected and tested in accordance with § 173.302c and ISO 11513:2011. Both § 173.302c and ISO 11513:2011 have been addressed in this final rule.

VI. Regulatory Analyses and Notices

A. Statutory/Legal Authority for This Rulemaking

This final rule is published under the following statutory authorities:

1. 49 U.S.C. 5103(b) authorizes the Secretary of Transportation to prescribe regulations for the safe transportation, including security, of hazardous materials in intrastate, interstate, and foreign commerce. This final rule amends regulations to maintain alignment with international standards by incorporating various amendments, including changes to proper shipping names, hazard classes, packing groups, special provisions, packaging authorizations, air transport quantity limitations and vessel stowage requirements. To this end, the final rule amends the HMR to more fully align with the biennial updates of the UN Model Regulations, the IMDG Code and the ICAO TI.

Harmonization serves to facilitate international commerce and promotes the safety of people, property, and the environment by reducing the potential for confusion and misunderstanding that could result if shippers and transporters were required to comply with two or more conflicting sets of regulatory requirements. While the intent of this rulemaking is to align the HMR with international standards, we review and consider each amendment on its own merit based on its overall impact on transportation safety and the economic implications associated with its adoption into the HMR. Our goal is to harmonize without sacrificing the current HMR level of safety and without imposing undue burdens on the regulated community. Thus, as explained in the corresponding sections above, we are not harmonizing with certain specific provisions of the UN Model Regulations, the IMDG Code, and the ICAO TI. Moreover, we are maintaining a number of current exceptions for domestic transportation that should minimize the compliance burden on the regulated community. Additionally, the U.S. Coast Guard, U.S. Department of Energy, and U.S. Department of Interior were consulted in the development of this rule.

2. 49 U.S.C. 5120(b) authorizes the Secretary of Transportation to ensure that, to the extent practicable, regulations governing the transportation of hazardous materials in commerce are consistent with standards adopted by international authorities. This final rule is amending the HMR to maintain alignment with international standards by incorporating various amendments to facilitate the transport of hazardous material in international commerce. As discussed in detail above, PHMSA is incorporating changes into the HMR based on the 18th Revised Edition of the UN Model Regulations, Amendment 37-14 to the IMDG Code, and the 2015-2016 Edition of the ICAO TI, which becomes effective January 1, 2015. The large volume of hazardous materials transported in international commerce warrants the harmonization of domestic and international requirements to the greatest extent possible.

B. Executive Orders 12866 and 13563 and DOT Regulatory Policies and Procedures

This final rule is not considered a significant regulatory action under section 3(f) of Executive Order 12866 (“Regulatory Planning and Review”) and, therefore, was not reviewed by the Office of Management and Budget. This final rule is not considered a significant rule under the Regulatory Policies and Procedures of the Department of Transportation (44 FR 11034). Additionally, E.O. 13563 (“Improving Regulation and Regulatory Review”) supplements and reaffirms E.O. 12866, stressing that, to the extent permitted by law, an agency rulemaking action must be based on benefits that justify its costs, impose the least burden, consider cumulative burdens, maximize benefits, use performance objectives, and assess available alternatives.

Benefits to Harmonization

In an earlier regulatory evaluation,³ we estimated a proxy for benefits of harmonization of the HMR with international standards of $62 million. More specifically, this $62 million was estimated by multiplying a hazard communication cost per dollar of hazardous materials output—$0.001—by the value of hazardous materials involved in international trade, as estimated by the proportion of trade (the total of gross imports and gross exports) in the fuels and lubricants, chemicals, and medicinal/dental/pharmaceutical products industries ($498 billion in 2010) ⁴ that are hazardous products (i.e., 12.4 percent).⁵ ⁶

³ HM-215L: Hazardous Materials: Harmonization with International Standards (RRR), Final Rule, Section V.B., 78 FR 1023 et seq., January 7, 2013.

⁴ As reported in the quarterly trade data of the U.S. Bureau of Economic Analysis, available at: http://www.bea.gov/international/detailed_trade_data.htm.

⁵ U.S. Census Bureau's 2007 Commodity Flow Survey, Table 10.

⁶ See Section V.B. for more detailed calculations of these figures.

For estimating benefits of this final rule, we follow a nearly identical approach with updated data and using assumptions where possible. 2012 Commodity Flow Survey data on hazardous materials are not yet available as of the date of this regulatory evaluation.

The 12.4 percent proportion of total shipment values classed as hazardous materials estimated in the earlier regulatory evaluation may have had a high-side bias due to the variety of different classes of products classified as hazardous. In actuality, the percentage of shipments properly classified as hazardous is likely lower, particularly for medicinal/dental/pharmaceuticals. Here, we assume a slightly lower proportion to arrive at an estimate of benefits of 10 percent.

We update our estimate of value of hazardous materials involved in international trade by using U.S. Trade in Goods seasonally adjusted, Census-based total gross imports and gross exports in the fuels and lubricants, chemicals, and medicinal/dental/pharmaceutical products industries for the fourth quarter of 2013, the most recent quarter available—

• Gross imports: $134 billion (rounded)

○ Fuels and lubricants: $94.744 billion

○ Chemicals: $18.637 billion

○ Medicinal/dental/pharmaceutical products: $20.613 billion

• Gross exports: $85.8 billion (rounded)

○ Fuels and lubricants: $44.301 billion

○ Chemicals: $30.089 billion

○ Medicinal/dental/pharmaceutical products: $11.416 billion

• Gross imports plus gross exports: $219.8 billion ⁷

⁷ Bureau of Economic Analysis, U.S. Department of Commerce, U.S. Trade in Goods (IDS-0008), available at: http://www.bea.gov/international/detailed_trade_data.htm.

Multiplying the quarterly estimate of $219.8 billion by 4 gives an annual estimate of gross imports plus gross exports in the three industries of $879.2 billion. Multiplying this figure by 10 percent (the estimated proportion of annual trade in these three industries that are hazardous products) by the average hazard communication cost per dollar of hazardous materials produced in the United States ($0.001) results in an estimate of benefits from adoption and incorporation of international standards of $87.9 million (rounded) annually.

If U.S. regulations are not harmonized with international standards, we estimate that it will cost U.S. companies an additional $87.9 million per year to comply with both the HMR and the international standards. Harmonizing the HMR with the international standards, however, will avert these $87.9 million in additional costs, and these averted costs are therefore considered the primary benefit attributable to this rulemaking.

Costs of Harmonization. The primary cost of updating references in the U.S. HMR (to incorporate the most recent international hazardous material standards) is the purchase of updated copies of the international standards being incorporated by reference in the HMR. These costs will be borne by offerors and transporters of hazmat if this rulemaking were finalized.

It is unknown how many individuals and firms involved in shipping hazmat will purchase copies of these international standards as a result of finalizing this rulemaking. We take a conservative approach to estimating such a figure by using the number of shippers, carriers, or other offerors or transporters of hazmat in commerce with a PHMSA registration expiring in 2014 as a proxy. Currently, PHMSA's registration database indicates 36,731 registrants as of May 20, 2014.⁸ Of these, 29,877 (approximately 81 percent) are small businesses as defined by the U.S. Small Business Administration. Further, 31,598 registrants (approximately 86 percent) indicated that they offer or transport hazmat solely by highway.

⁸ See PHMSA Hazardous Materials Registration Program Registration Data Files, link available at http://www.phmsa.dot.gov/hazmat/registration, accessed on May 20, 2014.

For conservative estimation purposes, if we that all registrants will purchase copies of all publications, this indicates an estimated cost of this amendment of $56.68 million (rounded, $1,543 cost of all publications * 36,731 registrants). In reality, all of the ISO standards incorporated will not be purchased by the majority of shippers and carriers, and will likely only impact a small subset of the regulated community. Further, it is likely that many companies will purchase multiple copies of the IMDG Code and ICAO TI, rather than only one copy. We do not believe we have sufficient data to estimate the precise number of registrants. However, we use one copy per registrant as a reasonably conservative estimate on costs of the proposed rulemaking.

However, further assuming that those who indicated that they offer or transport in commerce hazmat only via highway, two publications included in the $1,543 cost will not apply to such registrants (ICAO TI [for air] and IMDG Code [by vessel]). Therefore, costs for the 31,598 highway-only registrants would total $32.99 million ($1,543—$155 [ICAO TI]—$344 [IMDG Code] * 31,598 highway-only registrants). Conservatively (i.e., overestimating costs and underestimating benefits) assuming all other registrants (while acknowledging that, in fact, some will purchase all standards copies and some will purchase none) will purchase updated copies of all standards publications listed here indicates a total cost of this Amendment 1 of $40.91 million, incurred once ($32.99 million + $1,543 * [36,731 total registrants—31,598 highway-only registrants], rounded).

Net Benefit. Based on the discussions of benefits and costs provided above, the estimated net benefit associated with the international harmonization final rule (2137-AF05) is $47 million in the first year after publication and $87.9 million in the second year after publication. Please see the complete regulatory analysis, a copy of which has been placed in the docket for this rulemaking, for a more detailed analysis of the costs and benefits of this final rule.

C. Executive Order 13132

This final rule has been analyzed in accordance with the principles and criteria contained in Executive Order 13132 (“Federalism”). This final rule preempts State, local and Indian tribe requirements but does not propose any regulation that has substantial direct effects on the States, the relationship between the national government and the States, or the distribution of power and responsibilities among the various levels of government. Therefore, the consultation and funding requirements of Executive Order 13132 do not apply.

The Federal hazardous material transportation law, 49 U.S.C. 5101-5128, contains an express preemption provision (49 U.S.C. 5125(b)) that preempts State, local and Indian tribe requirements on certain covered subjects, as follows:

(1) The designation, description, and classification of hazardous material;

(2) The packing, repacking, handling, labeling, marking, and placarding of hazardous material;

(3) The preparation, execution, and use of shipping documents related to hazardous material and requirements related to the number, contents, and placement of those documents;

(4) The written notification, recording, and reporting of the unintentional release in transportation of hazardous material; and

(5) The design, manufacture, fabrication, inspection, marking, maintenance, recondition, repair, or testing of a packaging or container represented, marked, certified, or sold as qualified for use in transporting hazardous material in commerce.

This final rule addresses covered subject items (1), (2), (3), (4) and (5) above and preempts State, local, and Indian tribe requirements not meeting the “substantively the same” standard. This final rule is necessary to incorporate changes adopted in international standards, effective January 1, 2015. If the changes in this final rule are not adopted in the HMR, U.S. companies, including numerous small entities competing in foreign markets, would be at an economic disadvantage. These companies would be forced to comply with a dual system of regulations. The changes in this final rulemaking are intended to avoid this result. Federal hazardous materials transportation law provides at 49 U.S.C. 5125(b)(2) that, if DOT issues a regulation concerning any of the covered subjects, DOT must determine and publish in the Federal Register the effective date of Federal preemption. The effective date may not be earlier than the 90th day following the date of issuance of the final rule and not later than two years after the date of issuance. PHMSA is setting the effective date of Federal preemption to be 90 days from publication of this final rule.

D. Executive Order 13175

This final rule was analyzed in accordance with the principles and criteria contained in Executive Order 13175 (“Consultation and Coordination with Indian Tribal Governments”). Because this final rule does not have tribal implications, does not impose substantial direct compliance costs, and is required by statute, the funding and consultation requirements of Executive Order 13175 do not apply.

E. Regulatory Flexibility Act, Executive Order 13272, and DOT Procedures and Policies

The Regulatory Flexibility Act (5 U.S.C. 601 et seq.) requires an agency to review regulations to assess their impact on small entities, unless the agency determines that a rule is not expected to have a significant impact on a substantial number of small entities. This final rule facilitates the transportation of hazardous materials in international commerce by providing consistency with international standards. This final rule applies to offerors and carriers of hazardous materials, some of whom are small entities, such as chemical manufacturers, users and suppliers, packaging manufacturers, distributors, and training companies. As discussed above, under Executive Order 12866, the majority of amendments in this final rule should result in cost savings and ease the regulatory compliance burden for shippers engaged in domestic and international commerce, including trans-border shipments within North America.

Many companies will realize economic benefits as a result of these amendments. Additionally, this final rule will relieve U.S. companies, including small entities competing in foreign markets, from the burden of complying with a dual system of regulations. Therefore, we certify that these amendments will not have a significant economic impact on a substantial number of small entities.

This final rule has been developed in accordance with Executive Order 13272 (“Proper Consideration of Small Entities in Agency Rulemaking”) and DOT's procedures and policies to promote compliance with the Regulatory Flexibility Act to ensure that potential impacts of draft rules on small entities are properly considered.

F. Paperwork Reduction Act

PHMSA currently has approved information collection under Office of Management and Budget (OMB) Control Number 2137-0034, “Hazardous Materials Shipping Papers and Emergency Response Information.” We anticipate that this final rule will result in an increase in the annual information collection burden due to an increase in the number of shipping papers prepared for packages containing batteries that exceeds the number or quantity (mass) limits in the table shown in § 173.185(c)(4), but containing no more than 2.5 kg of lithium metal cells or batteries or 10 kg of lithium ion cells or batteries per package. Shipments utilizing this allowance currently provide alternative documentation containing the name and address of the offeror and consignee, the UN number, an indication of compliance with this paragraph (c)(4) (or the applicable ICAO Packing Instruction), and the number of packages and the gross mass of each package.

This rulemaking identifies a revised information collection that PHMSA will submit to OMB for approval based on the requirements in this final rule. PHMSA has developed burden estimates to reflect changes in this final rule, and estimates the information collection and recordkeeping burden in this rule are as follows:

OMB Control Number: 2137-0034.

Annual Increase in Number of Respondents: 150.

Annual Increase in Annual Number of Responses: 13,167.

Annual Increase in Annual Burden Hours: 219.

Annual Increase in Annual Burden Costs: $4,380.

PHMSA will submit the revised information collection and recordkeeping requirements to OMB for approval.

G. Regulation Identifier Number (RIN)

A regulation identifier number (RIN) is assigned to each regulatory action listed in the Unified Agenda of Federal Regulations. The Regulatory Information Service Center publishes the Unified Agenda in April and October of each year. The RIN contained in the heading of this document can be used to cross-reference this action with the Unified Agenda.

H. Unfunded Mandates Reform Act

This final rule does not impose unfunded mandates under the Unfunded Mandates Reform Act of 1995. It does not result in costs of $141.3 million or more, adjusted for inflation, to either State, local, or tribal governments, in the aggregate, or to the private sector in any one year, and is the least burdensome alternative that achieves the objective of the rule.

I. Environmental Assessment

The National Environmental Policy Act, 42 U.S.C. 4321-4375, requires that federal agencies analyze actions to determine whether the action will have a significant impact on the human environment. The Council on Environmental Quality (CEQ) regulations require federal agencies to conduct an environmental review considering: (1) The need for the action; (2) alternatives to the action; (3) probable environmental impacts of the action and alternatives; and (4) the agencies and persons consulted during the consideration process. 40 CFR 1508.9(b).

Description of Action

Docket No. PHMSA-2013-0260 (HM-215M), Final Rule. The transportation of hazardous materials in commerce is subject to the HMR, issued under authority of Federal hazardous materials transportation law, codified at 49 U.S.C. 5001 et seq. To facilitate the safe and efficient transportation of hazardous materials in international commerce, the HMR provides that both domestic and international shipments of hazardous materials may be offered for transportation and transported under provisions of the international regulations.

Purpose and Need

This action is necessary to integrate into the HMR recent changes to the International Maritime Dangerous Goods Code (IMDG Code), the International Civil Aviation Organization's Technical Instructions for the Safe Transport of Dangerous Goods by Air (ICAO TI), and the United Nations Recommendations on the Transport of Dangerous Goods—Model Regulations (UN Model Regulations) effective January 1, 2015. If the changes in this final rule are not adopted in the HMR by this effective date, U.S. companies, including numerous small entities competing in foreign markets, would be at an economic disadvantage. These companies would be forced to comply with a dual system of transport regulations that could result in shippers and carriers segmenting domestic and international operations to accommodate differing requirements. The changes to the HMR contained in this rulemaking are intended to avoid this result.

The intended effect of this action is to align the HMR with international hazardous material transport standards and requirements to the extent practicable in accordance with Federal Hazardous Materials transportation law (49 U.S.C. 5210). When considering the adoption of international hazardous material standards under the HMR, PHMSA reviews and evaluates each amendment on its own merit, on the basis of its overall impact on transportation safety, and the economic implications associated with its adoption into the HMR. Our goal is to harmonize without diminishing the level of safety currently provided by the HMR and without imposing undue burdens on the regulated public.

In this final rule, PHMSA is amending the HMR to maintain alignment with international standards by incorporating various amendments, including changes to proper shipping names, hazard classes, packing groups, special provisions, packaging authorizations, air transport quantity limitations, and vessel stowage requirements. These revisions are necessary to harmonize and align the HMR with recent amendments adopted in the UN Model Regulations, IMDG Code, and the ICAO TI. The amendments in this final rule are intended to facilitate the safe and efficient transportation of hazardous materials in international commerce, provide clarity to encourage and increase regulatory compliance, and improve the efficacy of emergency response in the event of a hazardous materials incident.

Alternatives

In developing this rule, we considered the following alternatives:

No Action Alternative

If PHMSA chose this alternative, it would not proceed with any rulemaking on this subject and the current regulatory standards would remain in effect.

Preferred Alternative

This alternative is the current rule as it appears in this final rule, applying to the transportation of hazardous materials by various transport modes (highway, rail, vessel and aircraft). The amendments included in this alternative are more fully addressed in the preamble and regulatory text sections of this final rule. However, they generally include:

(1) Updates to references to various international hazardous materials transport standards;

(2) Amendments to the hazardous materials table to add, revise, or remove certain proper shipping names, packing groups, special provisions, packaging authorizations, bulk packaging requirements and vessel stowage requirements;

(3) Amendments to add and delete various substances to the list of marine pollutants in Appendix B to § 172.101;

(4) Changes throughout the Part 173 packaging requirements to authorize more flexibility when choosing packages for hazardous materials;

(5) An exception from the HMR for marine pollutants up to 5 liters (1.3 gallons) for liquids or 5 kg (11 pounds) for solids when these materials are packaged in accordance with the general packaging requirements of §§ 173.24 and 173.24a;

(6) Minimum sizes for the OVERPACK and SALVAGE markings; and;

(7) Revisions and additions to vessel stowage codes listed in column 10B of the HMT and segregation requirements in § 176.83 consistent with the IMDG Code.

No Action Alternative

If PHMSA had selected the No Action Alternative, current regulations would remain in place, and no new provisions would be added. However, efficiencies gained through harmonization in updates to transport standards, lists of regulated substances, definitions, packagings, stowage requirements/codes, flexibilities allowed, enhanced markings, and segregation requirements would not be realized. Foregone efficiencies in the No Action Alternative include freeing up limited resources to concentrate on vessel transport hazard communication (hazcom) issues of potentially much greater environmental impact.

Additionally, the Preferred Alternative encompasses enhanced and clarified regulatory requirements, which would result in increased compliance and fewer environmental and safety incidents. Not adopting the proposed environmental and safety requirements in the final rule under the No Action Alternative would result in a lost opportunity for reducing environmental and safety-related incidents.

Greenhouse gas emissions would remain the same under the No Action Alternative.

Preferred Alternative

PHMSA selected the preferred alternative. Potential environmental impacts of each proposed amendment in the preferred alternative are discussed below:

1. Updates to references to various international hazardous materials transport standards, including the 2015-2016 Edition of the ICAO TI; Amendment 37-14 to the IMDG Code; the 18th Revised Edition of the UN Model Regulations; Amendment 2 to the 5th revised edition of the UN Manual of Tests and Criteria; incorporation by reference of the Canadian Transportation of Dangerous Goods Regulations to include amendments through Amendment 11 (SOR/2012-245) December 5, 2012 and; adding two new references standards and update four other references to standards applicable to the manufacture, use, and requalification of pressure vessels published by the International Organization for Standardization:

The HMR authorize shipments prepared in accordance with the ICAO TI and transported by motor vehicle either before or after being transported by aircraft. Similarly, the HMR authorize shipments prepared in accordance with the IMDG Code if all or part of the transportation is by vessel. The authorizations to use the ICAO TI and the IMDG code are subject to certain conditions and limitations outlined in part 171 subpart C. PHMSA believes that this adopted amendment, which will increase standardization and consistency of regulations, will result in greater protection of human health and the environment. Consistency between U.S. and international regulations enhances the safety and environmental protection of international hazardous materials transportation through better understanding of the regulations, an increased level of industry compliance, the smooth flow of hazardous materials from their points of origin to their points of destination, and consistent emergency response in the event of a hazardous materials incident.

Enhanced environmental protection will also be achieved through more targeted and effective training. This adopted amendment will eliminate inconsistent hazardous materials regulations, which hamper compliance training efforts. For ease of compliance with appropriate regulations, air and vessel carriers engaged in the transportation of hazardous materials generally elect to comply with the ICAO TI and IMDG Code as appropriate. By maintaining consistency between these international regulations and the HMR, shippers and carriers are able to train their hazmat employees in a single set of requirements for classification, packaging, hazard communication, handling, stowage, etc., thereby minimizing the possibility of improperly preparing and transporting a shipment of hazardous materials because of differences between domestic and international regulations.

Greenhouse gas emissions would remain the same under this amendment.

2. Amendments to the HMT to add, revise, or remove certain proper shipping names, packing groups, special provisions, packaging authorizations, bulk packaging requirements and vessel stowage requirements:

PHMSA believes that this amendment, which will increase standardization and consistency of regulations, will result in greater protection of human health and the environment. Consistency between U.S. and international regulations enhances the safety and environmental protection of international hazardous materials transportation through better understanding of the regulations, an increased level of industry compliance, the smooth flow of hazardous materials from their points of origin to their points of destination, and consistent emergency response in the event of a hazardous materials incident. New and revised entries to the HMT reflect emerging technologies, and a need to better describe or differentiate between existing entries. These changes mirror changes in the Dangerous Goods list of The 18th Revised Edition of the UN Model Regulations, the 2015-2016 Edition of the ICAO TI and the 37-14 amendments to the IMDG Code. It is extremely important for the domestic HMR to mirror the UN Model Regulations, the ICAO TI, and the IMDG Code with respect to the entries in the HMT to ensure consistent naming conventions across modes and international borders.

Enhanced environmental protection will also be achieved through more targeted and effective training. This amendment will eliminate inconsistent hazardous materials regulations, which hamper compliance training efforts. For ease of compliance with appropriate regulations, international carriers engaged in the transportation of hazardous materials by vessel generally elect to comply with the IMDG Code. By maintaining consistency between these international regulations and the HMR, shippers and carriers are able to train their hazmat employees in a single set of requirements for classification, packaging, hazard communication, handling, stowage, etc., thereby minimizing the possibility of improperly preparing and transporting a shipment of hazardous materials because of differences between domestic and international regulations.

The packing group assignment reflects a degree of danger associated with a particular material and identifies appropriate packaging. However, assignment of a packing group is not appropriate in all cases (e.g. explosives, gases, radioactive material). In such cases the packing group does not indicate a degree of danger and the packaging requirements for those materials are specified in the appropriate section in part 173. Similarly for articles, the packing group only reflects the degree of the danger posed by the hazardous component, but may not reflect danger of the article itself, which may be substantially reduced or changed when compared to shipping the hazardous component alone. Currently and without specific rationale, some articles are assigned packing groups while others are not. The inconsistent application of packing groups to articles can create problems for trainers when trying to explain regulatory structure to students. This change provides a level of consistency for all articles specifically listed in the HMT, without diminishing environmental protection and safety.

For adsorbed gases, PHMSA is adding into the HMR a definition, HMT entries, authorized packagings and safety requirements including but not limited to quantity limitations and filling limits. PHMSA believes that this amendment will result in greater protection of human health and the environment by facilitating the safe and efficient transport of gases adsorbed onto a porous media within cylinders. This technology allows the cylinder to be filled and transported with gas at sub-atmospheric pressure. Sub-atmospheric transport of gas minimizes potential leaks of gas during transportation, thus providing significant safety and environmental improvements over traditional high-pressure cylinders. This method of transporting gas is a proven safe method authorized through a PHMSA special permit for over ten years and recently adopted into the UN Model Regulations, the ICAO TI and the IMDG Code.

Greenhouse gas emissions would remain the same under this amendment.

3. Additions and deletions of various substances to/from the list of Marine Pollutants in HMR, Appendix B to 172.101:

As for the above amendments, PHMSA believes that this amendment, which will increase standardization and consistency of regulations, will result in greater protection of human health and the environment. Consistency between U.S. and international regulations enhances the safety and environmental protection of international hazardous materials transportation through better understanding of the regulations, an increased level of industry compliance, the smooth flow of hazardous materials from their points of origin to their points of destination, and consistent emergency response in the event of a hazardous materials incident. The additions and deletions are based on the criteria contained in the IMDG code for substances classified as toxic to the aquatic environment. The HMR maintain a list as the basis for regulating substances toxic to the aquatic environment and allow use of the criteria in the IMDG Code if a listed material does not meet the criteria for a marine pollutant. PHMSA periodically updates its list based on changes to the IMDG code and evaluation of listed materials against the IMDG code criteria. Amending the marine pollutant list facilitates consistent communication of the presence of marine pollutants and safe and efficient transportation without imposing significant burden associated with characterizing mixtures as marine pollutants.

Also similar to the above amendments, enhanced environmental protection will also be achieved through more targeted and effective training. This amendment will eliminate inconsistent hazardous materials regulations, which hamper compliance training efforts. For ease of compliance with appropriate regulations, international carriers engaged in the transportation of hazardous materials by vessel generally elect to comply with the IMDG Code. By maintaining consistency between these international regulations and the HMR, shippers and carriers are able to train their hazmat employees in a single set of requirements for classification, packaging, hazard communication, handling, stowage, etc., thereby minimizing the possibility of improperly preparing and transporting a shipment of hazardous materials because of differences between domestic and international regulations.

Greenhouse gas emissions would remain the same under this amendment.

4. Adopting changes throughout the HMR Part 173 packaging requirements to authorize more flexibility when choosing packages for hazardous materials:

These changes adopt manufacturing and performance standards for small gas pressure receptacles without a relief device, clarify the use of the HMT entry “fire extinguisher”, authorize the use of large salvage packagings and provide a list of authorized packagings for ammonium nitrate emulsions. As for the above amendments, PHMSA believes that these amendments, which increase standardization and consistency of regulations, will result in greater protection of human health and the environment. Consistency between US and international regulations enhances the safety and environmental protection of international hazardous materials transportation through better understanding of the regulations, an increased level of industry compliance, the smooth flow of hazardous materials from their points of origin to their points of destination, and consistent emergency response in the event of a hazardous materials incident. PHMSA is adopting changes throughout the Part 173 packaging requirements to authorize more flexibility when choosing packages for hazardous materials. This action is consistent with amendments adopted into the UN Model Regulations.

These amendments permit additional flexibility for authorized packages without compromising environmental protection or safety. Manufacturing and performance standards for small gas pressure receptacles ensure a safe packaging that is capable of retaining its contents without being overly prescriptive. The clarification for fire extinguishers increases the transparency of the regulations, which will in turn result in increased compliance, reduced incidents of undeclared or misdeclared hazardous material and enhanced environmental protection and safety. Increased flexibility also adds to environmental protection by increasing the ease of regulatory compliance.

Also similar to the above amendments, enhanced environmental protection will be achieved through more targeted and effective training. This amendment eliminates inconsistent hazardous materials regulations, which hamper compliance training efforts. By maintaining consistency between the UN Model Regulations and the HMR, shippers and carriers are able to train their hazmat employees in a single set of requirements for classification, packaging, hazard communication, handling, stowage, etc., thereby minimizing the possibility of improperly preparing and transporting a shipment of hazardous materials because of differences between domestic and international regulations.

Greenhouse gas emissions would remain the same under this amendment.

5. Exception from the HMR for marine pollutants up to 5 liters (1.3 gallons) for liquids or 5 kg (11 lbs.) for solids when these materials are packaged in accordance with the general packaging requirements of §§ 173.24 and 173.24a:

PHMSA believes that this amendment provides for a slight net increase in environmental protection and safety by reducing confusion and simplifying multi-modal hazardous material transportation requirements. Currently, packages containing less than 5 liters (1.3 gallons) for liquids or 5 kg (11 lbs.) of material containing marine pollutants are subject to additional requirements such as shipping papers, Class 9 labeling and UN packaging when offered for transport by air or vessel in accordance with the ICAO TI or the IMDG Code. However, these same materials would not be subject to the HMR when transported by motor vehicle, rail car or aircraft in the US. The presence of these labels in one mode of transport can cause confusion in the US supply chain.

This amendment exempts from the HMR small packages of hazardous material that are regulated because of the presence of one or more marine pollutants. Materials in these quantities pose a low risk in transportation. In addition, these low quantities of materials present even lower risks in transportation because they often contain low concentrations of marine pollutant constituents. Lastly, risks of incidents are very low. In the past 10 years, in tens of thousands of vessel shipments, PHMSA's data contains only one record of marine pollutant released on a vessel that caused environmental damage. In this incident, the material was packaged in a 55-gallon drum and would not be impacted by this amendment, since the package would still be required to display the marine pollutant mark and the shipping documents would still have to communicate the presence of a marine pollutant. By reducing the hazard communication (hazcom) burdens for lower risk commodities, industry, shippers, and transporters can focus hazcom resources on areas with potentially greater environmental and safety consequences.

This action is consistent with recent revisions to the IMDG Code. PHMSA believes that this amendment will increase standardization and consistency of regulations, may also result in greater protection of human health and the environment. Consistency between US and international regulations enhances the safety and environmental protection of international hazardous materials transportation through better understanding of the regulations, an increased level of industry compliance, the smooth flow of hazardous materials from their points of origin to their points of destination, and consistent emergency response in the event of a hazardous materials incident. Excepting these quantities of marine pollutants from the HMR will facilitate consistent communication of the presence of marine pollutants and facilitate safe and efficient transportation without imposing significant burden associated with characterizing mixtures as marine pollutants.

Also similar to the above amendments, enhanced environmental protection will also be achieved through more targeted and effective training. This amendment will eliminate inconsistent hazardous materials regulations, which hamper compliance training efforts. For ease of compliance with appropriate regulations, international carriers engaged in the transportation of hazardous materials by vessel generally elect to comply with the IMDG Code. By maintaining consistency between these international regulations and the HMR, shippers and carriers are able to train their hazmat employees in a single set of requirements for classification, packaging, hazard communication, handling, stowage, etc., thereby minimizing the possibility of improperly preparing and transporting a shipment of hazardous materials because of differences between domestic and international regulations.

Greenhouse gas emissions would remain the same under this amendment.

6. Amendments to add minimum sizes for the OVERPACK and SALVAGE markings. These markings would be characters at least 12 mm (.47 inches) high:

PHMSA believes that this amendment, which will provide for enhanced hazard communication, will result in greater protection of human health and the environment. An overpack is an enclosure to provide protection or convenience of handling for one or more packages such as pallets and crates. A salvage package is used to contain a damaged, leaking or non-conforming package. The HMR require these packages to be marked OVERPACK or SALVAGE, as appropriate. This communicates the nature of these specialized packaging configurations to package handlers and emergency responders. However, because there is currently no minimum size requirement for these marks, this information is not always readily visible. This amendment would ensure that these hazard markings are visible, thus resulting in decreased incidents with impacts to the environment and safety.

Greenhouse gas emissions would remain the same under this amendment.

7. Amendments to revise and add vessel stowage codes listed in column 10B of the HMT and segregation requirements in HMR § 176.83 consistent with the IMDG Code. These changes are designed to harmonize with the IMDG Code and would provide additional guidance on the loading and stowage of various materials. Additionally, proposed amendments to increase the required segregation distances between Division 4.3 dangerous when wet material (i.e. materials liable to give off a flammable or toxic gas in contact with water) and Class 3 flammable liquids and Division 2.1 flammable gases:

As discussed for previous amendments herein, PHMSA believes that this amendment, which will increase standardization and consistency of regulations, will result in greater protection of human health and the environment. Consistency between US and international regulations enhances the safety and environmental protection of international hazardous materials transportation through better understanding of the regulations, an increased level of industry compliance, the smooth flow of hazardous materials from their points of origin to their points of destination, and consistent emergency response in the event of a hazardous materials incident. New and revised entries to the HMT reflect emerging technologies, and a need to better describe or differentiate between existing entries. These proposed changes mirror the IMDG Code. It is extremely important for the domestic HMR and HMT to mirror the IMDG Code to ensure consistent naming conventions across modes and international borders.

Enhanced environmental protection will also be achieved through more targeted and effective training. This amendment will eliminate inconsistent hazardous materials regulations, which hamper compliance training efforts. For ease of compliance with appropriate regulations, international carriers engaged in the transportation of hazardous materials by vessel generally elect to comply with the IMDG Code. By maintaining consistency between these international regulations and the HMR, shippers and carriers are able to train their hazmat employees in a single set of requirements for classification, packaging, hazard communication, handling, stowage, etc., thereby minimizing the possibility of improperly preparing and transporting a shipment of hazardous materials because of differences between domestic and international regulations.

PHMSA also believes that this group of amendments will increase environmental protection and safety through its increased segregation distance requirements and enhanced guidance, which will better prevent materials from contacting each other and/or water in transportation. Increased segregation distances prevent the mixing of incompatible material and the subsequent evolution of flammable or toxic gases, along with attendant fires and explosions. Together, stowage and segregation help manage the risks associated with the transport of hazardous materials by water. While the risk associated with the transport of these materials is relatively low, these measures would further reduce that risk and prevent the spread of a fire between flammable materials and materials that react dangerously with water.

Greenhouse gas emissions would remain the same under this amendment.

Agencies Consulted

This final rule represents PHMSA's first action in the US for this program area. PHMSA has coordinated with the US Federal Aviation Administration and the US Coast Guard, in the development of this final rule. PHMSA has considered the views expressed in comments to the NPRM submitted by members of the public, state and local governments, and industry.

Conclusion

The provisions of this final rule build on current regulatory requirements to enhance the transportation safety and security of shipments of hazardous materials transported by highway, rail, aircraft and vessel, thereby reducing the risks of an accidental or intentional release of hazardous materials and consequent environmental damage. PHMSA believes the net environmental impact will be positive. PHMSA believes that there are no significant environmental impacts associated with this final rule.

J. Privacy Act

In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

K. Executive Order 13609 and International Trade Analysis

Under E.O. 13609, agencies must consider whether the impacts associated with significant variations between domestic and international regulatory approaches are unnecessary or may impair the ability of American business to export and compete internationally. In meeting shared challenges involving health, safety, labor, security, environmental, and other issues, international regulatory cooperation can identify approaches that are at least as protective as those that are or would be adopted in the absence of such cooperation. International regulatory cooperation can also reduce, eliminate, or prevent unnecessary differences in regulatory requirements.

Similarly, the Trade Agreements Act of 1979 (Pub. L. 96-39), as amended by the Uruguay Round Agreements Act (Pub. L. 103-465), prohibits Federal agencies from establishing any standards or engaging in related activities that create unnecessary obstacles to the foreign commerce of the United States. For purposes of these requirements, Federal agencies may participate in the establishment of international standards, so long as the standards have a legitimate domestic objective, such as providing for safety, and do not operate to exclude imports that meet this objective. The statute also requires consideration of international standards and, where appropriate, that they be the basis for U.S. standards.

PHMSA participates in the establishment of international standards to protect the safety of the American public, and we have assessed the effects of the proposed rule to ensure that it does not cause unnecessary obstacles to foreign trade. In fact, the rule is designed to facilitate international trade. Accordingly, this rulemaking is consistent with E.O. 13609 and PHMSA's obligations under the Trade Agreement Act, as amended.

List of Subjects

49 CFR Part 171

Exports, Hazardous materials transportation, Hazardous waste, Imports, Incorporation by reference, Reporting and recordkeeping requirements.

49 CFR Part 172

Education, Hazardous materials transportation, Hazardous waste, Incorporation by reference, Labeling, Markings, Packaging and containers, Reporting and recordkeeping requirements.

49 CFR Part 173

Hazardous materials transportation, Incorporation by reference, Packaging and containers, Radioactive materials, Reporting and recordkeeping requirements, Uranium.

49 CFR Part 175

Air carriers, Hazardous materials transportation, Incorporation by reference, Radioactive materials, Reporting and recordkeeping requirements.

49 CFR Part 176

Maritime carriers, Hazardous materials transportation, Incorporation by reference, Radioactive materials, Reporting and recordkeeping requirements.

49 CFR Part 178

Hazardous materials transportation, Incorporation by reference, Motor vehicle safety, Packaging and containers, Reporting and recordkeeping requirements.

49 CFR Part 180

Hazardous materials transportation, Incorporation by reference, Motor carriers, Motor vehicle safety, Packaging and containers, Railroad safety, Reporting and recordkeeping requirements.

In consideration of the foregoing, PHMSA is amending 49 CFR Chapter I as follows:

PART 171—GENERAL INFORMATION, REGULATIONS, AND DEFINITIONS

1. The authority citation for part 171 continues to read as follows:

Authority: 49 U.S.C. 5101-5128, 44701; Pub. L. 101-410 section 4 (28 U.S.C. 2461 note); Pub. L. 104-134, section 31001; 49 CFR 1.81 and 1.97.

2. In § 171.4, paragraph (c) is revised to read as follows:

§ 171.4 Marine pollutants.

* * * * *

(c) Exceptions. (1) Except when all or part of the transportation is by vessel, the requirements of this subchapter specific to marine pollutants do not apply to non-bulk packagings transported by motor vehicle, rail car or aircraft.

(2) Single or combination packagings containing a net quantity per single or inner packaging of 5 L or less for liquids or having a net mass of 5 kg or less for solids, are not subject to any other requirements of this subchapter provided the packagings meet the general requirements in §§ 173.24 and 173.24a. This exception does not apply to marine pollutants that are a hazardous waste or a hazardous substance. In the case of marine pollutants also meeting the criteria for inclusion in another hazard class, all provisions of this subchapter relevant to any additional hazards continue to apply.

* * * * *

3. In § 171.7

a. Revise paragraphs (a)(1), (s)(1), (t)(1), (v)(2), (w)(1) through (52), and (dd)(1) and (dd)(2) introductory text.

b. Add paragraphs (w)(53) through (w)(58), (bb)(1)(ix), (bb)(1)(x), (bb)(1)(xi), (bb)(1)(xii), and (dd)(2)(iii).

The revisions and additions are to read as follows:

§ 171.7 Reference material.

(a) Matter incorporated by reference—(1) General. There is incorporated, by reference in parts 170 through 189 of this subchapter, matter referred to that is not specifically set forth. This matter is hereby made a part of the regulations in parts 170 through 189 of this subchapter. The matter subject to change is incorporated only as it is in effect on the date of issuance of the regulation referring to that matter. The materials listed in paragraphs (b) through (ee) of this section have been approved for incorporation by reference by the Director of the Federal Register in accordance with 5 U.S.C. 552(a) and 1 CFR part 51. Material is incorporated as it exists on the date of the approval and a notice of any change in the material will be published in the Federal Register. Matters referenced by footnote are included as part of the regulations of this subchapter.

* * * * *

(s) * * *

(1) IAEA Safety Standards for Protecting People and the Environment; Regulations for the Safe Transport of Radioactive Material, No. SSR-6, (IAEA Regulations), 2012 Edition, into §§ 171.22; 171.23; 171.26; 173.415; 173.416; 173.417; 173.435; 173.473.

* * * * *

(t) * * *

(1) Technical Instructions for the Safe Transport of Dangerous Goods by Air (ICAO Technical Instructions), 2015-2016 Edition, copyright 2014, into §§ 171.8; 171.22; 171.23; 171.24; 172.101; 172.202; 172.401; 172.512; 172.519; 172.602; 173.56; 173.320; 175.10, 175.33; 178.3.

* * * * *

(v) * * *

(2) International Maritime Dangerous Goods Code (IMDG Code), Incorporating Amendment 37-14 (English Edition), 2014 Edition, into §§ 171.22; 171.23; 171.25; 172.101; 172.202; 172.203 172.401; 172.502; 172.519; 172.602; 173.21; 173.56; 176.2; 176.5; 176.11; 176.27; 176.30; 176.83; 176.84; 176.140; 176.720; 178.3; 178.274.

* * * * *

(w) * * *

(1) ISO 535-1991(E) Paper and board—Determination of water absorptiveness—Cobb method, 1991, into §§ 178.516; 178.707; 178.708.

(2) ISO 1496-1: 1990 (E)—Series 1 freight containers—Specification and testing, Part 1: General cargo containers. Fifth Edition, (August 15, 1990), into § 173.411.

(3) ISO 1496-3(E)—Series 1 freight containers—Specification and testing—Part 3: Tank containers for liquids, gases and pressurized dry bulk, Fourth edition, March 1995, into §§ 178.74; 178.75; 178.274.

(4) ISO 1516:2002(E), Determination of flash/no flash—Closed cup equilibrium method, Third Edition, 2002-03-01, into § 173.120.

(5) ISO 1523:2002(E), Determination of flash point—Closed cup equilibrium method, Third Edition, 2002-03-01, into § 173.120.

(6) ISO 2431-1984(E) Standard Cup Method, 1984, into § 173.121.

(7) ISO 2592:2000(E), Determination of flash and fire points—Cleveland open cup method, Second Edition, 2000-09-15, into § 173.120.

(8) ISO 2719:2002(E), Determination of flash point—Pensky-Martens closed cup method, Third Edition, 2002-11-15, into § 173.120.

(9) ISO 2919:1999(E), Radiation Protection—Sealed radioactive sources—General requirements and classification, (ISO 2919), second edition, February 15, 1999, into § 173.469.

(10) ISO 3036-1975(E) Board—Determination of puncture resistance, 1975, into § 178.708.

(11) ISO 3405:2000(E), Petroleum products—Determination of distillation characteristics at atmospheric pressure, Third Edition, 2000-03-01, into § 173.121.

(12) ISO 3574-1986(E) Cold-reduced carbon steel sheet of commercial and drawing qualities, into § 178.503; Part 178, appendix C.

(13) ISO 3679:2004(E), Determination of flash point—Rapid equilibrium closed cup method, Third Edition, 2004-04-01, into § 173.120.

(14) ISO 3680:2004(E), Determination of flash/no flash—Rapid equilibrium closed cup method, Fourth Edition, 2004-04-01, into § 173.120.

(15) ISO 3807-2(E), Cylinders for acetylene—Basic requirements—Part 2: Cylinders with fusible plugs, First edition, March 2000, into §§ 173.303; 178.71.

(16) ISO 3924:1999(E), Petroleum products—Determination of boiling range distribution—Gas chromatography method, Second Edition, 1999-08-01, into § 173.121.

(17) ISO 4126-1:2004(E): Safety devices for protection against excessive pressure—Part 1: Safety valves, Second edition 2004-02-15, into § 178.274.

(18) ISO 4126-7:2004(E): Safety devices for protection against excessive pressure—Part 7: Common data, First Edition 2004-02-15 into § 178.274.

(19) ISO 4126-7:2004/Cor.1:2006(E): Safety devices for protection against excessive pressure—Part 7: Common data, Technical Corrigendum 1, 2006-11-01, into § 178.274.

(20) ISO 4626:1980(E), Volatile organic liquids—Determination of boiling range of organic solvents used as raw materials, First Edition, 1980-03-01, into § 173.121.

(21) ISO 4706:2008(E), Gas cylinders—Refillable welded steel cylinders—Test pressure 60 bar and below, First Edition, 2008-04-15, Corrected Version, 2008-07-01, into § 178.71.

(22) ISO 6406(E), Gas cylinders—Seamless steel gas cylinders—Periodic inspection and testing, Second edition, February 2005, into § 180.207.

(23) ISO 6892 Metallic materials—Tensile testing, July 15, 1984, First Edition, into § 178.274.

(24) ISO 7225(E), Gas cylinders—Precautionary labels, Second Edition, July 2005, into § 178.71.

(25) ISO 7866(E), Gas cylinders—Refillable seamless aluminum alloy gas cylinders—Design, construction and testing, First edition, June 1999, into § 178.71.

(26) ISO 8115 Cotton bales—Dimensions and density, 1986 Edition, into § 172.102.

(27) ISO 9809-1:1999(E): Gas cylinders—Refillable seamless steel gas cylinders—Design, construction and testing—Part 1: Quenched and tempered steel cylinders with tensile strength less than 1100 MPa., First edition, June 1999, into §§ 178.37; 178.71; 178.75.

(28) ISO 9809-1:2010(E): Gas cylinders—Refillable seamless steel gas cylinders—Design, construction and testing—Part 1: Quenched and tempered steel cylinders with tensile strength less than 1 100 MPa., Second edition, 2010-04-15, into §§ 178.37; 178.71; 178.75.

(29) ISO 9809-2:2000(E): Gas cylinders—Refillable seamless steel gas cylinders—Design, construction and testing—Part 2: Quenched and tempered steel cylinders with tensile strength greater than or equal to 1 100 MPa., First edition, June 2000, into §§ 178.71; 178.75.

(30) ISO 9809-2:2010(E): Gas cylinders—Refillable seamless steel gas cylinders—Design, construction and testing—Part 2: Quenched and tempered steel cylinders with tensile strength greater than or equal to 1100 MPa., Second edition, 2010-04-15, into §§ 178.71; 178.75.

(31) ISO 9809-3:2000(E): Gas cylinders—Refillable seamless steel gas cylinders—Design, construction and testing—Part 3: Normalized steel cylinders, First edition, December 2000, into §§ 178.71; 178.75.

(32) ISO 9809-3:2010(E): Gas cylinders—Refillable seamless steel gas cylinders—Design, construction and testing—Part 3: Normalized steel cylinders, Second edition, 2010-04-15, into §§ 178.71; 178.75.

(33) ISO 9978:1992(E)—Radiation protection—Sealed radioactive sources—Leakage test methods. First Edition, (February 15, 1992), into § 173.469.

(34) ISO 10156:2010(E): Gases and gas mixtures—Determination of fire potential and oxidizing ability for the selection of cylinder valve outlets, Third edition, 2010-04-01, into § 173.115.

(35) ISO 10156:2010/Cor.1:2010(E): Gases and gas mixtures—Determination of fire potential and oxidizing ability for the selection of cylinder valve outlets, Technical Corrigendum 1, 2010-09-01, into § 173.115.

(36) ISO 10297:1999(E), Gas cylinders—Refillable gas cylinder valves—Specification and type testing, First Edition, 1995-05-01, into §§ 173.301b; 178.71.

(37) ISO 10297:2006(E), Transportable gas cylinders—Cylinder valves—Specification and type testing, Second Edition, 2006-01-15, into §§ 173.301b; 178.71.

(38) ISO 10461:2005(E), Gas cylinders—Seamless aluminum-alloy gas cylinders—Periodic inspection and testing, Second Edition, 2005-02-15 and Amendment 1, 2006-07-15, into § 180.207.

(39) ISO 10462 (E), Gas cylinders—Transportable cylinders for dissolved acetylene—Periodic inspection and maintenance, Second edition, February 2005, into § 180.207.

(40) ISO 10692-2:2001(E), Gas cylinders—Gas cylinder valve connections for use in the micro-electronics industry—Part 2: Specification and type testing for valve to cylinder connections, First Edition, 2001-08-01, into §§ 173.40; 173.302c.

(41) ISO 11114-1:2012(E), Gas cylinders—Compatibility of cylinder and valve materials with gas contents—Part 1: Metallic materials, Second edition, 2012-03-15, into §§ 173.301b; 178.71.

(42) ISO 11114-2(E), Transportable gas cylinders—Compatibility of cylinder and valve materials with gas contents—Part 2: Non-metallic materials, First edition, December 2000, into §§ 173.301b; 178.71.

(43) ISO 11117:1998(E): Gas cylinders—Valve protection caps and valve guards for industrial and medical gas cylinders.—Design, construction and tests, First edition, 1998-08-01, into § 173.301b.

(44) ISO 11117:2008(E): Gas cylinders—Valve protection caps and valve guards—Design, construction and tests, Second edition, 2008-09-01, into § 173.301b.

(45) ISO 11117:2008/Cor.1:2009(E): Gas cylinders—Valve protection caps and valve guards—Design, construction and tests, Technical Corrigendum 1, 2009-05-01, into § 173.301b.

(46) ISO 11118(E), Gas cylinders—Non-refillable metallic gas cylinders—Specification and test methods, First edition, October 1999, into § 178.71.

(47) ISO 11119-1(E), Gas cylinders—Gas cylinders of composite construction—Specification and test methods—Part 1: Hoop-wrapped composite gas cylinders, First edition, May 2002, into § 178.71.

(48) ISO 11119-2(E), Gas cylinders—Gas cylinders of composite construction—Specification and test methods—Part 2: Fully wrapped fibre reinforced composite gas cylinders with load-sharing metal liners, First edition, May 2002, into § 178.71.

(49) ISO 11119-3(E), Gas cylinders of composite construction—Specification and test methods—Part 3: Fully wrapped fibre reinforced composite gas cylinders with non-load-sharing metallic or non-metallic liners, First edition, September 2002, into § 178.71.

(50) ISO 11120(E), Gas cylinders—Refillable seamless steel tubes of water capacity between 150 L and 3000 L—Design, construction and testing, First edition, March 1999, into §§ 178.71; 178.75.

(51) ISO 11513:2011(E), Gas cylinders—Refillable welded steel cylinders containing materials for sub-atmospheric gas packaging (excluding acetylene)—Design, construction, testing, use and periodic inspection, First edition, 2011-09-12, into §§ 173.302c; 178.71; 180.207.

(52) ISO 11621(E), Gas cylinders—Procedures for change of gas service, First edition, April 1997, into §§ 173.302, 173.336, 173.337.

(53) ISO 11623(E), Transportable gas cylinders—Periodic inspection and testing of composite gas cylinders, First edition, March 2002, into § 180.207.

(54) ISO 13340:2001(E) Transportable gas cylinders—Cylinder valves for non-refillable cylinders—Specification and prototype testing, First edition, 2004-04-01, into §§ 173.301b; 178.71.

(55) ISO 13736:2008(E), Determination of flash point—Abel closed-cup method, Second Edition, 2008-09-15, into § 173.120.

(56) ISO 16111:2008(E), Transportable gas storage devices—Hydrogen absorbed in reversible metal hydride, First Edition, 2008-11-15, into §§ 173.301b; 173.311; 178.71.

(57) ISO 18172-1:2007(E), Gas cylinders—Refillable welded stainless steel cylinders—Part 1: Test pressure 6 MPa and below, First Edition, 2007-03-01, into § 178.71.

(58) ISO 20703:2006(E), Gas cylinders—Refillable welded aluminum-alloy cylinders—Design, construction and testing, First Edition, 2006-05-01, into § 178.71.

* * * * *

(bb) * * *

(1) * * *

(ix) SOR/2011-239 November 9, 2011.

(x) SOR/2011-60 March 16, 2011.

(xi) SOR/2011-210 October 12, 2011.

(xii) SOR/2012-245 December 5, 2012.

* * * * *

(dd) * * *

(1) UN Recommendations on the Transport of Dangerous Goods, Model Regulations (UN Recommendations), 18th revised edition, Volumes I and II (2013), into §§ 171.8; 171.12; 172.202; 172.401; 172.407; 172.502; 173.22; 173.24; 173.24b; 173.40; 173.56; 173.192; 173.302b; 173.304b; 178.75; 178.274.

(2) UN Recommendations on the Transport of Dangerous Goods, Manual of Tests and Criteria, (Manual of Tests and Criteria), into §§ 171.24, 172.102; 173.21; 173.56; 173.57; 173.58; 173.60; 173.115; 173.124; 173.125; 173.127; 173.128; 173.137; 173.185; 173.220; 173.225, part 173, appendix H; 178.274:

* * * * *

(iii) Fifth revised edition, amendment 2 (2013).

* * * * *

4. In § 171.8, the definitions for “Adsorbed gas,” “Large salvage packaging,” “Neutron Radiation Detector” and “Radiation Detection System” are added in alphabetical order, and the definitions for “Bundle of cylinders” and “Non-bulk packaging” are revised to read as follows:

§ 171.8 Definitions and abbreviations.

* * * * *

Adsorbed gas. See § 173.115 of this subchapter.

* * * * *

Bundle of cylinders means assemblies of UN cylinders fastened together and interconnected by a manifold and transported as a unit. The total water capacity for the bundle may not exceed 3,000 L, except that a bundle intended for the transport of gases in Division 2.3 is limited to a water capacity of 1,000 L. Not permitted for air transport.

* * * * *

Large salvage packaging means a special packaging into which damaged, defective or leaking hazardous materials packages, or hazardous materials that have spilled or leaked are placed for the purpose of transport for recovery or disposal, that—

(1) Is designed for mechanical handling; and

(2) Has a net mass greater than 400 kg (882 pounds) or a capacity of greater than 450 L (119 gallons), but has a volume of not more than 3 cubic meters (106 cubic feet).

* * * * *

Neutron Radiation Detector means a device that detects neutron radiation. In such a device, a gas may be contained in a hermetically sealed electron tube transducer that converts neutron radiation into a measurable electric signal.

* * * * *

Non-bulk packaging means a packaging which has:

(1) A maximum capacity of 450 L (119 gallons) or less as a receptacle for a liquid;

(2) A maximum net mass of 400 kg (882 pounds) or less and a maximum capacity of 450 L (119 gallons) or less as a receptacle for a solid;

(3) A water capacity of 454 kg (1000 pounds) or less as a receptacle for a gas as defined in § 173.115 of this subchapter; or

(4) Regardless of the definition of bulk packaging, a maximum net mass of 400 kg (882 pounds) or less for a bag or a box conforming to the applicable requirements for specification packagings, including the maximum net mass limitations, provided in subpart L of part 178 of this subchapter.

* * * * *

Radiation detection system means an apparatus that contains radiation detectors as components.

* * * * *

5. In § 171.23 revise paragraphs (b)(2), (b)(11)(iv) and add paragraph (b)(11)(ix) to read as follows:

§ 171.23 Requirements for specific materials and packagings transported under the ICAO Technical Instructions, IMDG Code, Transport Canada TDG Regulations, or the IAEA Regulations.

* * * * *

(b) * * *

(2) Safety devices for vehicles, vessels or aircraft, e.g. air bag inflators, air bag modules, seat-belt pretensioners, and pyromechanical devices. For each safety device, the shipping paper description must conform to the requirements in § 173.166(c) of this subchapter.

* * * * *

(11) * * *

(iv) The country of origin for the shipment must have adopted the edition of SSR-6 of the IAEA Regulations referenced in § 171.7.

* * * * *

(ix) Packages containing fissile materials must conform to the requirements of § 173.453 to be otherwise excepted from the requirements of Subpart I of Part 173 for fissile materials.

* * * * *

6. In § 171.24 paragraph (d)(1)(ii) is revised to read as follows:

§ 171.24 Additional requirements for the use of the ICAO Technical Instructions.

* * * * *

(d) * * *

(1) * * *

(ii) Lithium metal cells and batteries. Lithium metal cells and batteries (UN3090) are forbidden for transport aboard passenger-carrying aircraft. The outside of each package that contains lithium metal cells or lithium metal batteries (UN3090) transported in accordance with Packing Instruction 968, Section II must be marked “PRIMARY LITHIUM BATTERIES—FORBIDDEN FOR TRANSPORT ABOARD PASSENGER AIRCRAFT” or “LITHIUM METAL BATTERIES—FORBIDDEN FOR TRANSPORT ABOARD PASSENGER AIRCRAFT”, or labeled with a CARGO AIRCRAFT ONLY label specified in § 172.448 of this subchapter.

* * * * *

7. In § 171.25, paragraph (b)(3) is revised to read as follows:

§ 171.25 Additional requirements for the use of the IMDG Code.

* * * * *

(b) * * *

(3) The outside of each package containing lithium metal cells or batteries (UN3090) transported in accordance with special provision 188 of the IMDG Code must be marked “PRIMARY LITHIUM BATTERIES—FORBIDDEN FOR TRANSPORT ABOARD PASSENGER AIRCRAFT” or “LITHIUM METAL BATTERIES—FORBIDDEN FOR TRANSPORT ABOARD PASSENGER AIRCRAFT”, or labeled with a CARGO AIRCRAFT ONLY label specified in § 172.448 of this subchapter. The provisions of this paragraph do not apply to packages that contain 5 kg (11 pounds) net weight or less of lithium metal cells or batteries that are packed with, or contained in, equipment.

* * * * *

PART 172—HAZARDOUS MATERIALS TABLE, SPECIAL PROVISIONS, HAZARDOUS MATERIALS COMMUNICATIONS, EMERGENCY RESPONSE INFORMATION, TRAINING REQUIREMENTS, AND SECURITY PLANS

8. The authority citation for part 172 continues to read as follows:

Authority: 49 U.S.C. 5101-5128, 44701; 49 CFR 1.81, 1.96 and 1.97.

9. In § 172.101, revise paragraphs (f) and (k) introductory text to read as follows:

§ 172.101 Purpose and use of the hazardous materials table.

* * * * *

(f) Column 5: Packing group. Column 5 specifies one or more packing groups assigned to a material corresponding to the proper shipping name and hazard class for that material. Class 2, Class 7, Division 6.2 (other than regulated medical wastes), and ORM-D materials, do not have packing groups. Articles in other than Class 1 are not assigned to packing groups. For packing purposes, any requirement for a specific packaging performance level is set out in the applicable packing authorizations of Part 173. Packing Groups I, II and III indicate the degree of danger presented by the material is great, medium or minor, respectively. If more than one packing group is indicated for an entry, the packing group for the hazardous material is determined using the criteria for assignment of packing groups specified in subpart D of part 173. When a reevaluation of test data or new data indicates a need to modify the specified packing group(s), the data should be submitted to the Associate Administrator. Each reference in this column to a material which is a hazardous waste or a hazardous substance, and whose proper shipping name is preceded in Column 1 of the Table by the letter “A” or “W”, is modified to read “III” on those occasions when the material is offered for transportation or transported by a mode in which its transportation is not otherwise subject to requirements of this subchapter.

* * * * *

(k) Column 10: Vessel stowage requirements. Column 10A [Vessel stowage] specifies the authorized stowage locations on board cargo and passenger vessels. Column 10B [Other provisions] specifies codes for stowage and handling requirements for specific hazardous materials. Hazardous materials offered for transportation as limited quantities are allocated stowage category A and are not subject to the stowage codes assigned by column 10B. The meaning of each code in Column 10B is set forth in § 176.84 of this subchapter. Section 176.63 of this subchapter sets forth the physical requirements for each of the authorized locations listed in Column 10A. (For bulk transportation by vessel, see 46 CFR parts 30 to 40, 70, 98, 148, 151, 153 and 154.) The authorized stowage locations specified in Column 10A are defined as follows:

* * * * *

10. In § 172.101, the Hazardous Materials Table is amended by removing the entries under “[REMOVE]”, by adding the entries under “[ADD]” and revising entries under “[REVISE]” in the appropriate alphabetical sequence to read as follows:

Symbols | Hazardous materials descriptions and proper shipping names | Hazard class or division | Identification Nos. | PG | Label codes | Special provisions (§ 172.102) | (8) Packaging (§ 173.***): Exceptions | (8) Packaging (§ 173.***): Non-bulk | (8) Packaging (§ 173.***): Bulk | (9) Quantity limitations (see §§ 173.27 and 175.75): Passenger aircraft/rail | (9) Quantity limitations (see §§ 173.27 and 175.75): Cargo aircraft only | (10) Vessel stowage: Location | (10) Vessel stowage: Other
(1) | (2) | (3) | (4) | (5) | (6) | (7) | (8A) | (8B) | (8C) | (9A) | (9B) | (10A) | (10B)
| [REMOVE]
* * * * * * *
I | Air bag inflators, or Air bag modules, or Seat-belt pretensioners | 1.4G | UN0503 |  | 1.4G | 161, A200 | None | 62 | None | Forbidden | 75 kg | 02 | 25
| Air bag inflators, or Air bag modules, or Seat-belt pretensioners | 9 | UN3268 | III | 9 | 160, A200 | 166 | 166 | 166 | 25 kg | 100 kg | A
* * * * * * *
| Ammonium nitrate, with not more than 0.2% total combustible material, including any organic substance, calculated as carbon to the exclusion of any other added substance | 5.1 | UN1942 | III | 5.1 | A1, A29, B120, IB8, IP3, T1, TP33 | 152 | 213 | 240 | 25 kg | 100 kg | A | 25, 59, 60, 116
* * * * * * *
I | Blue asbestos (Crocidolite) or Brown asbestos (amosite, mysorite) | 9 | UN2212 | II | 9 | 156, IB8, IP2, IP4, T3, TP33 | 155 | 216 | 240 | Forbidden | Forbidden | A | 34, 40
* * * * * * *
| Capacitor, electric double layer (with an energy storage capacity greater than 0.3 Wh) | 9 | UN3499 |  | 9 | 361 | 176 | 176 | 176 | No limit | No limit | A
* * * * * * *
| Chemical kits | 9 | UN3316 |  | 9 | 15 | 161 | 161 | None | 10 kg | 10 kg | A
* * * * * * *
| First aid kits | 9 | UN3316 |  | 9 | 15 | 161 | 161 | None | 10 kg | 10 kg | A
* * * * * * *
| Trinitrobenzene, dry or wetted with less than 30 percent water, by mass | 1.1D | UN0214 | II | 1.1D |  | None | 62 | None | Forbidden | Forbidden | 04 | 25
* * * * * * *
| Trifluorochloroethylene, stabilized | 2.3 | UN1082 |  | 2.3, 2.1 | 3, B14, T50 | None | 304 | 314, 315 | Forbidden | Forbidden | D | 40
* * * * * * *
I | White asbestos (chrysotile, actinolite, anthophyllite, tremolite) | 9 | UN2590 | III | 9 | 156, IB8, IP2, IP3, T1, TP33 | 155 | 216 | 240 | 200 kg | 200 kg | A | 34, 40
* * * * * * *
| [ADD]
G | Adsorbed gas, n.o.s | 2.2 | UN3511 |  | 2.2 |  | None | 302c | None | 75 kg | 150 kg | A
G | Adsorbed gas, flammable, n.o.s | 2.1 | UN3510 |  | 2.1 |  | None | 302c | None | Forbidden | 150 kg | D | 40
G | Adsorbed gas, oxidizing, n.o.s | 2.2 | UN3513 |  | 2.2, 5.1 |  | None | 302c | None | 75 kg | 150 kg | D
G | Adsorbed gas, toxic, n.o.s. Inhalation hazard zone A | 2.3 | UN3512 |  | 2.3 | 1 | None | 302c | None | Forbidden | Forbidden | D | 40
G | Adsorbed gas, toxic, n.o.s. Inhalation hazard zone B | 2.3 | UN3512 |  | 2.3 | 2, B9, B14 | None | 302c | None | Forbidden | Forbidden | D | 40
G | Adsorbed gas, toxic, n.o.s. Inhalation hazard zone C | 2.3 | UN3512 |  | 2.3 | 3, B14 | None | 302c | None | Forbidden | Forbidden | D | 40
G | Adsorbed gas, toxic, n.o.s. Inhalation hazard zone D | 2.3 | UN3512 |  | 2.3 | 4 | None | 302c | None | Forbidden | Forbidden | D | 40
G | Adsorbed gas, toxic, corrosive, n.o.s. Inhalation hazard zone A | 2.3 | UN3516 |  | 2.3, 8 | 1 | None | 302c | None | Forbidden | Forbidden | D | 40
G | Adsorbed gas, toxic, corrosive, n.o.s. Inhalation hazard zone B | 2.3 | UN3516 |  | 2.3, 8 | 2, B9, B14 | None | 302c | None | Forbidden | Forbidden | D | 40
G | Adsorbed gas, toxic, corrosive, n.o.s. Inhalation hazard zone C | 2.3 | UN3516 |  | 2.3, 8 | 3, B14 | None | 302c | None | Forbidden | Forbidden | D | 40
G | Adsorbed gas, toxic, corrosive, n.o.s. Inhalation hazard zone D | 2.3 | UN3516 |  | 2.3, 8 | 4 | None | 302c | None | Forbidden | Forbidden | D | 40
G | Adsorbed gas, toxic, flammable, n.o.s. Inhalation hazard zone A | 2.3 | UN3514 |  | 2.3, 2.1 | 1 | None | 302c | None | Forbidden | Forbidden | D | 40
G | Adsorbed gas, toxic, flammable, n.o.s. Inhalation hazard zone B | 2.3 | UN3514 |  | 2.3, 2.1 | 2, B9, B14 | None | 302c | None | Forbidden | Forbidden | D | 40
G | Adsorbed gas, toxic, flammable, n.o.s. Inhalation hazard zone C | 2.3 | UN3514 |  | 2.3, 2.1 | 3, B14 | None | 302c | None | Forbidden | Forbidden | D | 40
G | Adsorbed gas, toxic, flammable, n.o.s. Inhalation hazard zone D | 2.3 | UN3514 |  | 2.3, 2.1 | 4 | None | 302c | None | Forbidden | Forbidden | D | 40
G | Adsorbed gas, toxic, flammable, corrosive, n.o.s. Inhalation hazard zone A | 2.3 | UN3517 |  | 2.3, 2.1, 8 | 1 | None | 302c | None | Forbidden | Forbidden | D | 17, 40
G | Adsorbed gas, toxic, flammable, corrosive, n.o.s. Inhalation hazard zone B | 2.3 | UN3517 |  | 2.3, 2.1, 8 | 2, B9, B14 | None | 302c | None | Forbidden | Forbidden | D | 17, 40
G | Adsorbed gas, toxic, flammable, corrosive, n.o.s. Inhalation hazard zone C | 2.3 | UN3517 |  | 2.3, 2.1, 8 | 3, B14 | None | 302c | None | Forbidden | Forbidden | D | 17, 40
G | Adsorbed gas, toxic, flammable, corrosive, n.o.s. Inhalation hazard zone D | 2.3 | UN3517 |  | 2.3, 2.1, 8 | 4 | None | 302c | None | Forbidden | Forbidden | D | 17, 40
G | Adsorbed gas, toxic, oxidizing, n.o.s. Inhalation hazard zone A | 2.3 | UN3515 |  | 2.3, 5.1 | 1 | None | 302c | None | Forbidden | Forbidden | D | 40
G | Adsorbed gas, toxic, oxidizing, n.o.s. Inhalation hazard zone B | 2.3 | UN3515 |  | 2.3, 5.1 | 2, B9, B14 | None | 302c | None | Forbidden | Forbidden | D | 40
G | Adsorbed gas, toxic, oxidizing, n.o.s. Inhalation hazard zone C | 2.3 | UN3515 |  | 2.3, 5.1 | 3, B14 | None | 302c | None | Forbidden | Forbidden | D | 40
G | Adsorbed gas, toxic, oxidizing, n.o.s. Inhalation hazard zone D | 2.3 | UN3515 |  | 2.3, 5.1 | 4 | None | 302c | None | Forbidden | Forbidden | D | 40
G | Adsorbed gas, toxic, oxidizing, corrosive, n.o.s. Inhalation hazard zone A | 2.3 | UN3518 |  | 2.3, 5.1, 8 | 1 | None | 302c | None | Forbidden | Forbidden | D | 40, 89, 90
G | Adsorbed gas, toxic, oxidizing, corrosive, n.o.s. Inhalation hazard zone B | 2.3 | UN3518 |  | 2.3, 5.1, 8 | 2, B9, B14 | None | 302c | None | Forbidden | Forbidden | D | 40, 89, 90
G | Adsorbed gas, toxic, oxidizing, corrosive, n.o.s. Inhalation hazard zone C | 2.3 | UN3518 |  | 2.3, 5.1, 8 | 3, B14 | None | 302c | None | Forbidden | Forbidden | D | 40, 89, 90
G | Adsorbed gas, toxic, oxidizing, corrosive, n.o.s. Inhalation hazard zone D | 2.3 | UN3518 |  | 2.3, 5.1, 8 | 4 | None | 302c | None | Forbidden | Forbidden | D | 40, 89, 90
* * * * * * *
| Air bag inflators, or Air bag modules, or Seat-belt pretensioners, see Safety devices, electrically initiated or Safety devices, pyrotechnic
* * * * * * *
| Ammonium nitrate, with not more than 0.2% combustible substances, including any organic substance calculated as carbon, to the exclusion of any other added substance | 5.1 | UN1942 | III | 5.1 | A1, A29, B120, IB8, IP3, T1, TP33 | 152 | 213 | 240 | 25 kg | 100 kg | A | 25, 59, 60, 66, 116, 124
* * * * * * *
| Arsine, adsorbed | 2.3 | UN3522 |  | 2.3, 2.1 | 1 | None | 302c | None | Forbidden | Forbidden | D
* * * * * * *
G I | Asbestos, amphibole amosite, tremolite, actinolite, anthophyllite, or crocidolite | 9 | UN2212 | II | 9 | 156, IB8, IP2, IP4, T3, TP33 | 155 | 216 | 240 | Forbidden | Forbidden | A | 34, 40
I | Asbestos, chrysotile | 9 | UN2590 | III | 9 | 156, IB8, IP2, IP3, T1, TP33 | 155 | 216 | 240 | 200 kg | 200 kg | A | 34, 40
* * * * * * *
| Boron trifluoride, adsorbed | 2.3 | UN3519 |  | 2.3, 8 | 2, B9, B14 | None | 302c | None | Forbidden | Forbidden | D | 40
* * * * * * *
| Capacitor, asymmetric with an energy storage capacity greater than 0.3 Wh | 9 | UN3508 |  | 9 | 372 | 176 | 176 | 176 | No limit | No Limit | A
| Capacitor, electric double layer with an energy storage capacity greater than 0.3 Wh | 9 | UN3499 |  | 9 | 361 | 176 | 176 | 176 | No limit | No limit | A
* * * * * * *
| Chemical kits | 9 | UN3316 | II | 9 | 15 | 161 | 161 | None | 10 kg | 10 kg | A
|  |  |  | III | 9 | 15 | 161 | 161 | None | 10 kg | 10 kg | A
* * * * * * *
| Chlorine, adsorbed | 2.3 | UN3520 |  | 2.3, 5.1, 8 | 2, B9, B14, N86 | None | 302c | None | Forbidden | Forbidden | D | 40, 89, 90
* * * * * * *
| First aid kits | 9 | UN3316 | II | 9 | 15 | 161 | 161 | None | 10 kg | 10 kg | A
| First aid kits | 9 | UN3316 | III | 9 | 15 | 161 | 161 | None | 10 kg | 10 kg | A
* * * * * * *
| Germane, adsorbed | 2.3 | UN3523 |  | 2.3, 2.1 | 2 | None | 302c | None | Forbidden | Forbidden | D | 40
* * * * * * *
| Hydrogen selenide, adsorbed | 2.3 | UN3526 |  | 2.3, 2.1 | 1 | None | 302c | None | Forbidden | Forbidden | D | 40
* * * * * * *
| Phosphine, adsorbed | 2.3 | UN3525 |  | 2.3, 2.1 | 1 | None | 302c | None | Forbidden | Forbidden | D | 40
* * * * * * *
| Phosphorus pentafluoride, adsorbed | 2.3 | UN3524 |  | 2.3, 8 | 2, B9, B14 | None | 302c | None | Forbidden | Forbidden | D | 40
* * * * * * *
| Safety devices, electrically initiated | 9 | UN3268 |  | 9 | 160, A200 | 166 | 166 | 166 | 25 kg | 100 kg | A
| Safety devices, pyrotechnic | 1.4G | UN0503 |  | 1.4G | A200 | None | 62 | None | Forbidden | 75 kg | 02 | 25
* * * * * * *
| Silicon tetrafluoride, adsorbed | 2.3 | UN3521 |  | 2.3, 8 | 2 | None | 302c | None | Forbidden | Forbidden | D | 40
* * * * * * *
| Trifluorochloroethylene, stabilized or Refrigerant gas R 1113 | 2.3 | UN1082 |  | 2.3, 2.1 | 3, B14, T50 | None | 304 | 314, 315 | Forbidden | Forbidden | D | 40
* * * * * * *
| Trinitrobenzene, dry or wetted with less than 30 percent water, by mass | 1.1D | UN0214 | II | 1.1D |  | None | 62 | None | Forbidden | Forbidden | 04 | 25
| Trinitrobenzene, wetted with not less than 30 percent water, by mass | 4.1 | UN1354 | I | 4.1 | 23, A2, A8, A19, N41 | None | 211 | None | 0.5 kg | 0.5 kg | E | 28, 36
* * * * * * *
| Uranium hexafluoride, radioactive material, excepted package, less than 0.1 kg per package, non-fissile or fissile-excepted | 8 | UN3507 | I | 8, 7 | 369 | 420 | None | None | Less than .1 kg | Less than .1 kg | A | 132
* * * * * * *
| [REVISE]
* * * * * * *
| Acrylamide, solid | 6.1 | UN2074 | III | 6.1 | IB8, IP3, T1, TP33 | 153 | 213 | 240 | 100 kg | 200 kg | A | 12, 25
| Acrylamide solution | 6.1 | UN3426 | III | 6.1 | IB3, T4, TP1 | 153 | 203 | 241 | 60 L | 220 L | A | 12, 25
* * * * * * *
| Aircraft hydraulic power unit fuel tank (containing a mixture of anhydrous hydrazine and monomethyl hydrazine) (M86 fuel) | 3 | UN3165 | I | 3, 6.1, 8 |  | None | 172 | None | Forbidden | 42 L | E | 21, 40, 49, 100
* * * * * * *
| Aldol | 6.1 | UN2839 | II | 6.1 | IB2, T7, TP2 | 153 | 202 | 243 | 5 L | 60 L | A | 12, 25
* * * * * * *
| Alkali metal alloys, liquid, n.o.s | 4.3 | UN1421 | I | 4.3 | A2, A3, A7, B48, N34 | None | 201 | 244 | Forbidden | 1 L | D | 13, 52, 148
| Alkali metal amalgam, liquid | 4.3 | UN1389 | I | 4.3 | A2, A3, A7, N34 | None | 201 | 244 | Forbidden | 1 L | D | 13, 40, 52, 148
| Alkali metal amalgam, solid | 4.3 | UN3401 | I | 4.3 | IB4, IP1, N40, T9, TP7, TP33 | None | 211 | 242 | Forbidden | 15 kg | D | 13, 52, 148
| Alkali metal amides | 4.3 | UN1390 | II | 4.3 | A6, A7, A8, A19, A20, IB7, IP2, T3, TP33 | 151 | 212 | 241 | 15 kg | 50 kg | E | 13, 40, 52, 148
| Alkali metal dispersions, flammable or Alkaline earth metal dispersions, flammable | 4.3 | UN3482 | I | 4.3, 3 | A2, A3, A7 | None | 201 | 244 | Forbidden | 1 L | D | 13, 52, 148
| Alkali metal dispersions, or Alkaline earth metal dispersions | 4.3 | UN1391 | I | 4.3 | A2, A3, A7 | None | 201 | 244 | Forbidden | 1 L | D | 13, 52, 148
* * * * * * *
| Alkaline earth metal alloys, n.o.s | 4.3 | UN1393 | II | 4.3 | A19, IB7, IP2, T3, TP33 | 151 | 212 | 241 | 15 kg | 50 kg | E | 13, 52, 148
| Alkaline earth metal amalgams, liquid | 4.3 | UN1392 | I | 4.3 | A19, N34, N40 | None | 201 | 244 | Forbidden | 1 L | E | 13, 40, 52, 148
| Alkaline earth metal amalgams, solid | 4.3 | UN3402 | I | 4.3 | A19, N34, N40, T9, TP7, TP33 | None | 211 | 242 | Forbidden | 15 kg | D | 13, 52, 148
* * * * * * *
| Allyl chloroformate | 6.1 | UN1722 | I | 6.1, 3, 8 | 2, B9, B14, B32, N41, T20, TP2, TP13, TP38, TP45 | None | 227 | 244 | Forbidden | Forbidden | D | 21, 40, 100
* * * * * * *
| Aluminum borohydride or Aluminum borohydride in devices | 4.2 | UN2870 | I | 4.2, 4.3 | B11, T21, TP7, TP33 | None | 181 | 244 | Forbidden | Forbidden | D | 13, 148
* * * * * * *
| Aluminum carbide | 4.3 | UN1394 | II | 4.3 | A20, IB7, IP2, N41, T3, TP33 | 151 | 212 | 242 | 15 kg | 50 kg | A | 13, 52, 148
* * * * * * *
| Aluminum ferrosilicon powder | 4.3 | UN1395 | II | 4.3, 6.1 | A19, IB5, IP2, T3, TP33 | 151 | 212 | 242 | 15 kg | 50 kg | A | 13, 39, 40, 52, 53, 85, 103, 148
|  |  |  | III | 4.3, 6.1 | A19, A20, IB4 | 151 | 213 | 241 | 25 kg | 100 kg | A | 13, 39, 40, 52, 53, 85, 103, 148
| Aluminum hydride | 4.3 | UN2463 | I | 4.3 | A19, N40 | None | 211 | 242 | Forbidden | 15 kg | E | 13, 148
* * * * * * *
| Aluminum phosphide | 4.3 | UN1397 | I | 4.3, 6.1 | A8, A19, N40 | None | 211 | 242 | Forbidden | 15 kg | E | 13, 40, 52, 85, 148
* * * * * * *
| Aluminum powder, coated | 4.1 | UN1309 | II | 4.1 | IB8, IP2, IP4, T3, TP33 | 151 | 212 | 240 | 15 kg | 50 kg | A | 13, 39, 52, 53, 74, 101, 147, 148
|  |  |  | III | 4.1 | IB8, IP3, T1, TP33 | 151 | 213 | 240 | 25 kg | 100 kg | A | 13, 39, 52, 53, 74, 101, 147, 148
| Aluminum powder, uncoated | 4.3 | UN1396 | II | 4.3 | A19, A20, IB7, IP2, T3, TP33 | 151 | 212 | 242 | 15 kg | 50 kg | A | 13, 39, 52, 53, 148
|  |  |  | III | 4.3 | A19, A20, IB8, IP4, T1, TP33 | 151 | 213 | 241 | 25 kg | 100 kg | A | 13, 39, 52, 53, 148
* * * * * * *
| Aluminum silicon powder, uncoated | 4.3 | UN1398 | III | 4.3 | A1, A19, IB8, IP4, T1, TP33 | 151 | 213 | 241 | 25 kg | 100 kg | A | 13, 39, 40, 52, 53, 85, 103, 148
| Aluminum smelting by-products or Aluminum remelting by-products | 4.3 | UN3170 | II | 4.3 | 128, B115, IB7, IP2, T3, TP33 | None | 212 | 242 | 15 kg | 50 kg | B | 13, 85, 103, 148
|  |  |  | III | 4.3 | 128, B115, IB8, IP4, T1, TP33 | None | 213 | 241 | 25 kg | 100 kg | B | 13, 85, 103, 148
* * * * * * *
| N-Aminoethyl piperazine | 8 | UN2815 | III | 8 | IB3, T4, TP1 | 154 | 203 | 241 | 5 L | 60 L | A | 12, 25
* * * * * * *
| Aminopyridines (o-; m-; p-) | 6.1 | UN2671 | II | 6.1 | IB8, IP2, IP4, T3, TP33 | 153 | 212 | 242 | 25 kg | 100 kg | B | 12, 25, 40, 52
* * * * * * *
| Ammonium nitrate based fertilizer | 5.1 | UN2067 | III | 5.1 | 52, 150, B120, IB8, IP3, T1, TP33 | 152 | 213 | 240 | 25 kg | 100 kg | B | 25, 59, 60, 66, 117, 124
* * * * * * *
| Ammonium nitrate emulsion or Ammonium nitrate suspension or Ammonium nitrate gel, intermediate for blasting explosives | 5.1 | UN3375 | II | 5.1 | 147, 163, IB2, IP16 | None | 231 | 251 | Forbidden | Forbidden | D | 25, 59, 60, 66, 124
* * * * * * *
| Ammonium nitrate, liquid (hot concentrated solution) | 5.1 | UN2426 |  | 5.1 | B5, T7 | None | None | 243 | Forbidden | Forbidden | D | 59, 60, 124
| Ammonium nitrate, with more than 0.2 percent combustible substances, including any organic substance calculated as carbon, to the exclusion of any other added substance | 1.1D | UN0222 | II | 1.1D | 370 | None | 62 | None | Forbidden | Forbidden | 04 | 25, 19E
* * * * * * *
| Ammonium polysulfide, solution | 8 | UN2818 | II | 8, 6.1 | IB2, T7, TP2, TP13 | 154 | 202 | 243 | 1 L | 30 L | B | 12, 25, 40, 52
|  |  |  | III | 8, 6.1 | IB3, T4, TP1, TP13 | 154 | 203 | 241 | 5 L | 60 L | B | 12, 25, 40, 52
* * * * * * *
| Ammonium sulfide solution | 8 | UN2683 | II | 8, 6.1, 3 | IB1, T7, TP2, TP13 | 154 | 202 | 243 | 1 L | 30 L | B | 12, 22, 25, 52, 100
* * * * * * *
| Ammunition, tear-producing, non-explosive, without burster or expelling charge, non-fuzed | 6.1 | UN2017 |  | 6.1, 8 |  | None | 212 | None | Forbidden | 50 kg | E | 13, 40
* * * * * * *
| Ammunition, toxic, non-explosive, without burster or expelling charge, non-fuzed | 6.1 | UN2016 |  | 6.1 |  | None | 212 | None | Forbidden | 100 kg | E | 13, 40
* * * * * * *
| Anisoyl chloride | 8 | UN1729 | II | 8 | B2, B4, IB8, IP2, IP4, T3, TP33 | 154 | 212 | 240 | 15 kg | 50 kg | A | 40
* * * * * * *
| Antimony pentafluoride | 8 | UN1732 | II | 8, 6.1 | A3, A6, A7, A10, IB2, N3, N36, T7, TP2 | None | 202 | 243 | Forbidden | 30 L | D | 40, 44, 89, 100, 141
* * * * * * *
| Arsenic bromide | 6.1 | UN1555 | II | 6.1 | IB8, IP2, IP4, T3, TP33 | 153 | 212 | 242 | 25 kg | 100 kg | A | 12, 25, 40
* * * * * * *
| Articles, pressurized pneumatic or hydraulic containing non-flammable gas | 2.2 | UN3164 |  | 2.2 | 371 | 306 | 302, 304 | None | No limit | No limit | A
* * * * * * *
| Barium | 4.3 | UN1400 | II | 4.3 | A19, IB7, IP2, T3, TP33 | 151 | 212 | 241 | 15 kg | 50 kg | E | 13, 52, 148
| Barium alloys, pyrophoric | 4.2 | UN1854 | I | 4.2 | T21, TP7, TP33 | None | 181 | None | Forbidden | Forbidden | D | 13, 148
* * * * * * *
| Barium azide, wetted with not less than 50 percent water, by mass | 4.1 | UN1571 | I | 4.1, 6.1 | 162, A2 | None | 182 | None | Forbidden | 0.5 kg | D | 28, 36
* * * * * * *
| Barium peroxide | 5.1 | UN1449 | II | 5.1, 6.1 | A9, IB6, IP2, T3, TP33 | 152 | 212 | 242 | 5 kg | 25 kg | C | 13, 52, 66, 75, 148
* * * * * * *
| Batteries, containing sodium | 4.3 | UN3292 |  | 4.3 |  | 189 | 189 | 189 | Forbidden | No limit | A | 13, 148
| Batteries, dry, containing potassium hydroxide solid, electric storage | 8 | UN3028 |  | 8 | 237 | None | 213 | None | 25 kg | 230 kg | A | 52
* * * * * * *
| Batteries, wet, filled with acid, electric storage | 8 | UN2794 |  | 8 | A51 | 159 | 159 | 159 | 30 kg | No limit | A | 146
| Batteries, wet, filled with alkali, electric storage | 8 | UN2795 |  | 8 | A51 | 159 | 159 | 159 | 30 kg | No limit | A | 52, 146
| Batteries, wet, non-spillable, electric storage | 8 | UN2800 |  | 8 |  | 159a | 159 | 159 | No limit | No limit | A |
* * * * * * *
| Beryllium, powder | 6.1 | UN1567 | II | 6.1, 4.1 | IB8, IP2, IP4, T3, TP33 | 153 | 212 | 242 | 15 kg | 50 kg | A | 13, 147, 148
* * * * * * *
+ | Boron tribromide | 8 | UN2692 | I | 8, 6.1 | 2, B9, B14, B32, N34, T20, TP2, TP13, TP38, TP45 | None | 227 | 244 | Forbidden | Forbidden | C | 12, 25
* * * * * * *
| Boron trifluoride dihydrate | 8 | UN2851 | II | 8 | IB2, T7, TP2 | 154 | 212 | 240 | 15 kg | 50 kg | B | 12, 25, 40
| Boron trifluoride dimethyl etherate | 4.3 | UN2965 | I | 4.3, 8, 3 | A19, T10, TP2, TP7, TP13 | None | 201 | 243 | Forbidden | 1 L | D | 21, 25, 28, 40, 49, 100
* * * * * * *
| Bromoform | 6.1 | UN2515 | III | 6.1 | IB3, T4, TP1 | 153 | 203 | 241 | 60 L | 220 L | A | 12, 25, 40
* * * * * * *
+ | Bromine | 8 | UN1744 | I | 8, 6.1 | 1, B9, B85, N34, N43, T22, TP2, TP10, TP13 | None | 226 | 249 | Forbidden | Forbidden | D | 12, 25, 40, 66, 74, 89, 90
* * * * * * *
+ | Bromine solutions | 8 | UN1744 | I | 8, 6.1 | 1, B9, B85, N34, N43, T22, TP2, TP10, TP13 | None | 226 | 249 | Forbidden | Forbidden | D | 12, 25, 40, 66, 74, 89, 90
+ | Bromine solutions | 8 | UN1744 | I | 8, 6.1 | 2, B9, B85, N34, N43, T22, TP2, TP10, TP13 | None | 227 | 249 | Forbidden | Forbidden | D | 12, 25, 40, 66, 74, 89, 90
* * * * * * *
| Bromobenzyl cyanides, liquid | 6.1 | UN1694 | I | 6.1 | T14, TP2, TP13 | None | 201 | 243 | Forbidden | 30 L | D | 12, 25, 40, 52
| Bromobenzyl cyanides, solid | 6.1 | UN3449 | I | 6.1 | T6, TP33 | None | 211 | 242 | 5 kg | 50 kg | D | 12, 25, 40, 52
* * * * * * *
| tert-Butyl hypochlorite | 4.2 | UN3255 | I | 4.2, 8 |  | None | 211 | 243 | Forbidden | Forbidden | D | 40
* * * * * * *
| Butyl mercaptan | 3 | UN2347 | II | 3 | A3, A6, IB2, T4, TP1 | 150 | 202 | 242 | 5 L | 60 L | D | 52, 95, 102
* * * * * * *
| 5-tert-Butyl-2,4,6-trinitro-m-xylene or Musk xylene | 4.1 | UN2956 | III | 4.1 | 159 | None | 223 | None | Forbidden | Forbidden | D | 12, 25, 40, 127
* * * * * * *
| Butyric acid | 8 | UN2820 | III | 8 | IB3, T4, TP1 | 154 | 203 | 241 | 5 L | 60 L | A | 12, 25
* * * * * * *
| Calcium | 4.3 | UN1401 | II | 4.3 | IB7, IP2, T3, TP33 | 151 | 212 | 241 | 15 kg | 50kg | E | 13, 52, 148
* * * * * * *
| Calcium carbide | 4.3 | UN1402 | I | 4.3 | A1, A8, B55, B59, IB4, IP1, N34, T9, TP7, TP33 | None | 211 | 242 | Forbidden | 15 kg | B | 13, 52, 148
|  |  |  | II | 4.3 | A1, A8, B55, B59, IB7, IP2, N34, T3, TP33 | 151 | 212 | 241 | 15 kg | 50 kg | B | 13, 52, 148
* * * * * * *
| Calcium cyanamide with more than 0.1 percent of calcium carbide | 4.3 | UN1403 | III | 4.3 | A1, A19, IB8, IP4, T1, TP33 | 151 | 213 | 241 | 25 kg | 100 kg | A | 13, 52, 148
* * * * * * *
| Calcium hydride | 4.3 | UN1404 | I | 4.3 | A19, N40 | None | 211 | 242 | Forbidden | 15 kg | E | 13, 52, 148
* * * * * * *
| Calcium manganese silicon | 4.3 | UN2844 | III | 4.3 | A1, A19, IB8, IP4, T1, TP33 | 151 | 213 | 241 | 25 kg | 100 kg | A | 13, 52, 85, 103, 148
* * * * * * *
| Calcium peroxide | 5.1 | UN1457 | II | 5.1 | IB6, IP2, T3, TP33 | 152 | 212 | 242 | 5 kg | 25 kg | C | 13, 52, 66, 75, 148
| Calcium phosphide | 4.3 | UN1360 | I | 4.3, 6.1 | A8, A19, N40 | None | 211 | 242 | Forbidden | 15 kg | E | 13, 40, 52, 85, 148
| Calcium, pyrophoric or Calcium alloys, pyrophoric | 4.2 | UN1855 | I | 4.2 |  | None | 187 | None | Forbidden | Forbidden | D | 13, 148
* * * * * * *
| Calcium silicide | 4.3 | UN1405 | II | 4.3 | A19, IB7, IP2, T3, TP33 | 151 | 212 | 241 | 15 kg | 50 kg | B | 13, 52, 85, 103, 148
|  |  |  | III | 4.3 | A1, A19, IB8, IP4, T1, TP33 | 151 | 213 | 241 | 25 kg | 100 kg | B | 13, 52, 85, 103, 148
* * * * * * *
I | Carbon, activated | 4.2 | UN1362 | III | 4.2 | IB8, IP3, T1, TP33 | None | 213 | 241 | 0.5 kg | 0.5 kg | A | 12, 25
I | Carbon, animal or vegetable origin | 4.2 | UN1361 | II | 4.2 | IB6, T3, TP33 | None | 212 | 242 | Forbidden | Forbidden | A | 12, 25
|  |  |  | III | 4.2 | IB8, IP3, T1, TP33 | None | 213 | 241 | Forbidden | Forbidden | A | 12, 25
* * * * * * *
A W | Castor beans or Castor meal or Castor pomace or Castor flake | 9 | UN2969 | II | None | IB8, IP2, IP4, T3, TP33 | 155 | 204 | 240 | No limit | No limit | E | 34, 40, 44, 122
* * * * * * *
| Cerium, slabs, ingots, or rods | 4.1 | UN1333 | II | 4.1 | IB8, IP2, IP4, N34 | None | 212 | 240 | 15 kg | 50 kg | A | 13, 74, 91, 147, 148
| Cerium, turnings or gritty powder | 4.3 | UN3078 | II | 4.3 | A1, IB7, IP2, T3, TP33 | 151 | 212 | 242 | 15 kg | 50 kg | E | 13, 52, 148
| Cesium or Caesium | 4.3 | UN1407 | I | 4.3 | A7, A19, IB4, IP1, N34, N40 | None | 211 | 242 | Forbidden | 15 kg | D | 13, 52, 148
* * * * * * *
+ | Chloroacetonitrile | 6.1 | UN2668 | I | 6.1, 3 | 2, B9, B14, B32, IB9, T20, TP2, TP13, TP38, TP45 | None | 227 | 244 | Forbidden | Forbidden | A | 12, 25, 40, 52
* * * * * * *
| Chloroacetophenone, liquid, (CN) | 6.1 | UN3416 | II | 6.1 | A3, IB2, N12, N32, N33, T7, TP2, TP13 | None | 202 | 243 | Forbidden | 60 L | D | 12, 25, 40
| Chloroacetophenone, solid, (CN) | 6.1 | UN1697 | II | 6.1 | A3, IB8, IP2, IP4, N12, N32, N33, N34, T3, TP2, TP13, TP33 | None | 212 | None | Forbidden | 100 kg | D | 12, 25, 40
* * * * * * *
| Chlorocresols solution | 6.1 | UN2669 | II | 6.1 | IB2, T7, TP2 | 153 | 202 | 243 | 5 L | 60 L | A | 12, 25
|  |  |  | III | 6.1 | IB3, T7, TP2 | 153 | 203 | 241 | 60 L | 220 L | A | 12, 25
| Chlorocresols, solid | 6.1 | UN3437 | II | 6.1 | IB8, IP2, IP4, T3, TP33 | 153 | 212 | 242 | 25 kg | 100 kg | A | 12, 25
* * * * * * *
| Chloromethyl chloroformate | 6.1 | UN2745 | II | 6.1, 8 | IB2, T7, TP2, TP13 | 153 | 202 | 243 | 1 L | 30 L | A | 12, 13, 25, 40
* * * * * * *
+ | Chloronitrobenzenes, liquid | 6.1 | UN3409 | II | 6.1 | IB2, T7, TP2 | 153 | 202 | 243 | 5 L | 60 L | A | 44, 89, 100, 141
* * * * * * *
| Chlorosilanes, water-reactive, flammable, corrosive, n.o.s | 4.3 | UN2988 | I | 4.3, 3, 8 | A2, T14, TP2, TP7, TP13 | None | 201 | 244 | Forbidden | 1 L | D | 13, 21, 28, 40, 49, 100, 147, 148
* * * * * * *
G | Corrosive liquids, water-reactive, n.o.s | 8 | UN3094 | I | 8, 4.3 | A6, A7 | None | 201 | 243 | Forbidden | 1 L | E | 13, 148
|  |  |  | II | 8, 4.3 | A6, A7 | None | 202 | 243 | 1 L | 5 L | E | 13, 148
* * * * * * *
G | Corrosive solids, toxic, n.o.s | 8 | UN2923 | I | 8, 6.1 | IB7, T6, TP33 | None | 211 | 242 | 1 kg | 25 kg | B | 40
|  |  |  | II | 8, 6.1 | IB8, IP2, IP4, T3, TP33 | 154 | 212 | 240 | 15 kg | 50 kg | B | 40
|  |  |  | III | 8, 6.1 | IB8, IP3, T1, TP33 | 154 | 213 | 240 | 25 kg | 100 kg | B | 40
G | Corrosive solids, water-reactive, n.o.s | 8 | UN3096 | I | 8, 4.3 | IB4, IP1, T6, TP33 | None | 211 | 243 | 1 kg | 25 kg | D | 13, 148
|  |  |  | II | 8, 4.3 | IB6, IP2, T3, TP33 | None | 212 | 242 | 15 kg | 50 kg | D | 13, 148
* * * * * * *
| Crotonic acid, liquid | 8 | UN3472 | III | 8 | IB8, T1 | 154 | 203 | 241 | 5 L | 60 L | A | 12, 25
| Crotonic acid, solid | 8 | UN2823 | III | 8 | IB8, IP3, T1, TP33 | 154 | 213 | 240 | 25 kg | 100 kg | A | 12, 25
* * * * * * *
| Cyanogen bromide | 6.1 | UN1889 | I | 6.1, 8 | A6, A8, T6, TP33 | None | 211 | 242 | 1 kg | 15 kg | D | 40, 52
* * * * * * *
| Cyanuric chloride | 8 | UN2670 | II | 8 | IB8, IP2, IP4, T3, TP33 | None | 212 | 240 | 15 kg | 50 kg | A | 12, 25, 40
* * * * * * *
| Cyclohexyl mercaptan | 3 | UN3054 | III | 3 | B1, IB3, T2, TP1 | 150 | 203 | 242 | 60 L | 220 L | A | 40, 95, 102
* * * * * * *
| 1,1-Dichloro-1-nitroethane | 6.1 | UN2650 | II | 6.1 | IB2, T7, TP2 | 153 | 202 | 243 | 5 L | 60 L | A | 12, 25, 40, 74
* * * * * * *
| 1,3-Dichloroacetone | 6.1 | UN2649 | II | 6.1 | IB8, IP2, IP4, T3, TP33 | 153 | 212 | 242 | 25 kg | 100 kg | B | 12, 25, 40
* * * * * * *
| 1,3-Dichloropropanol-2 | 6.1 | UN2750 | II | 6.1 | IB2, T7, TP2 | 153 | 202 | 243 | 5 L | 60 L | A | 12, 25, 40
* * * * * * *
| Diethylthiophosphoryl chloride | 8 | UN2751 | II | 8 | B2, IB2, T7, TP2 | None | 212 | 240 | 15 kg | 50 kg | D | 12, 25, 40
* * * * * * *
| Dipicryl sulfide, wetted with not less than 10 percent water, by mass | 4.1 | UN2852 | I | 4.1 | 162, A2, N41, N84 | None | 211 | None | Forbidden | 0.5 kg | D | 28, 36
* * * * * * *
| 2-Ethylhexyl chloroformate | 6.1 | UN2748 | II | 6.1, 8 | IB2, T7, TP2, TP13 | 153 | 202 | 243 | 1 L | 30 L | A | 12, 13, 25, 40
* * * * * * *
| Ferrocerium | 4.1 | UN1323 | II | 4.1 | 59, A19, IB8, IP2, IP4, T3, TP33 | 151 | 212 | 240 | 15 kg | 50 kg | A | 13, 147, 148
| Ferrosilicon with 30 percent or more but less than 90 percent silicon | 4.3 | UN1408 | III | 4.3, 6.1 | A1, A19, B6, IB8, IP4, IP7, T1, TP33 | 151 | 213 | 240 | 25 kg | 100 kg | A | 13, 40, 52, 53, 85, 103, 148
* * * * * * *
| Ferrous metal borings or Ferrous metal shavings or Ferrous metal turnings or Ferrous metal cuttings in a form liable to self-heating | 4.2 | UN2793 | III | 4.2 | A1, A19, IB8, IP3, IP7 | None | 213 | 241 | 25 kg | 100 kg | A | 13, 148
* * * * * * *
A W | Fish meal, stabilized or Fish scrap, stabilized | 9 | UN2216 | III | None | 155, IB8, IP3, T1, TP33 | 155 | 218 | 218 | Forbidden | Forbidden | B | 25, 88, 122, 128
| Fish meal, unstablized or Fish scrap, unstabilized | 4.2 | UN1374 | II | 4.2 | 155, A1, A19, IB8, IP2, IP4, T3, TP33 | None | 212 | 241 | Forbidden | Forbidden | B | 18, 25, 128
* * * * * * *
| Fuel cell cartridges or Fuel cell cartridges contained in equipment or Fuel cell cartridges packed with equipment, containing water-reactive substances | 4.3 | UN3476 |  | 4.3 | 328 | 230 | 230 | 230 | 5 kg | 50 kg | A | 13, 148
* * * * * * *
| Hafnium powder, dry | 4.2 | UN2545 | I | 4.2 |  | None | 211 | 242 | Forbidden | Forbidden | D | 13, 148
|  |  |  | II | 4.2 | A19, A20, IB6, IP2, N34, T3, TP33 | None | 212 | 241 | 15 kg | 50 kg | D | 13, 148
|  |  |  | III | 4.2 | IB8, IP3, T1, TP33 | None | 213 | 241 | 25 kg | 100 kg | D | 13, 148
* * * * * * *
| Hexachlorocyclopentadiene | 6.1 | UN2646 | I | 6.1 | 2, B9, B14, B32, B77, T20, TP2, TP13, TP38, TP45 | None | 227 | 244 | Forbidden | Forbidden | D | 25, 40
* * * * * * *
| Hexamethylenediamine, solid | 8 | UN2280 | III | 8 | IB8, IP3, T1, TP33 | 154 | 213 | 240 | 25 kg | 100 kg | A | 12, 25
* * * * * * *
| Hydrofluoric acid, with more than 60 percent strength | 8 | UN1790 | I | 8, 6.1 | A6, A7, B4, B15, B23, N5, N34, T10, TP2, TP13 | None | 201 | 243 | 0.5 L | 2.5 L | D | 12, 25, 40
| Hydrofluoric acid, with not more than 60 percent strength | 8 | UN1790 | II | 8, 6.1 | A6, A7, B15, IB2, N5, N34, T8, TP2 | 154 | 202 | 243 | 1 L | 30 L | D | 12, 25, 40
* * * * * * *
| Hydrogen, refrigerated liquid (cryogenic liquid) | 2.1 | UN1966 |  | 2.1 | T75, TP5 | None | 316 | 318, 319 | Forbidden | Forbidden | D | 40, 57
* * * * * * *
G | Hypochlorites, inorganic, n.o.s | 5.1 | UN3212 | II | 5.1 | 349, A9, IB8, IP2, IP4, T3, TP33 | 152 | 212 | 240 | 5 kg | 25 kg | D | 4, 25, 52, 56, 58, 69, 116, 118
* * * * * * *
| Iron oxide, spent, or Iron sponge, spent obtained from coal gas purification | 4.2 | UN1376 | III | 4.2 | B18, IB8, IP3, T1, TP33 | None | 213 | 240 | Forbidden | Forbidden | E | 13, 148
* * * * * * *
| Isopropyl chloroformate | 6.1 | UN2407 | I | 6.1, 3, 8 | 2, B9, B14, B32, B77, T20, TP2, TP13, TP38, TP44 | None | 227 | 244 | Forbidden | Forbidden | B | 21, 40, 100
* * * * * * *
| Krill meal | 4.2 | UN3497 | II | 4.2 | 155, IB6, IP2, T3, TP33 | None | 212 | 242 | 15 kg | 50 kg | B | 25, 88, 128
|  |  |  | III | 4.2 | 155, IB8, IP3, T1, TP33 | None | 213 | 242 | 25 kg | 100 kg | A | 128
* * * * * * *
| Life-saving appliances, not self inflating containing dangerous goods as equipment | 9 | UN3072 |  | None | 134 | None | 219 | None | No limit | No limit | A | 122
| Life-saving appliances, self inflating | 9 | UN2990 |  | None | 338 | None | 219 | None | No limit | No limit | A | 122
* * * * * * *
| Lithium | 4.3 | UN1415 | I | 4.3 | A7, A19, IB4, IP1, N45 | None | 211 | 244 | Forbidden | 15 kg | E | 13, 52, 148
* * * * * * *
| Lithium aluminum hydride | 4.3 | UN1410 | I | 4.3 | A19 | None | 211 | 242 | Forbidden | 15 kg | E | 13, 52, 148
| Lithium aluminum hydride, ethereal | 4.3 | UN1411 | I | 4.3, 3 | A2, A3, A11, N34 | None | 201 | 244 | Forbidden | 1 L | D | 13, 40, 148
* * * * * * *
| Lithium borohydride | 4.3 | UN1413 | I | 4.3 | A19, N40 | None | 211 | 242 | Forbidden | 15 kg | E | 13, 52, 148
| Lithium ferrosilicon | 4.3 | UN2830 | II | 4.3 | A19, IB7, IP2, T3, TP33 | 151 | 212 | 241 | 15 kg | 50 kg | E | 13, 40, 85, 103, 148
| Lithium ion batteries including lithium ion polymer batteries | 9 | UN3480 |  | 9 | A51 | 185 | 185 | 185 | 5 kg | 35 kg | A
| Lithium ion batteries contained in equipment including lithium ion polymer batteries | 9 | UN3481 |  | 9 | A54 | 185 | 185 | 185 | 5 kg | 35 kg | A
| Lithium ion batteries packed with equipment including lithium ion polymer batteries | 9 | UN3481 |  | 9 | A54 | 185 | 185 | 185 | 5 kg | 35 kg | A
| Lithium metal batteries including lithium alloy batteries | 9 | UN3090 |  | 9 |  | 185 | 185 | 185 | Forbidden | 35 kg | A
| Lithium metal batteries contained in equipment including lithium alloy batteries | 9 | UN3091 |  | 9 | A54, A101 | 185 | 185 | 185 | 5 kg | 35 kg | A
| Lithium metal batteries packed with equipment including lithium alloy batteries | 9 | UN3091 |  | 9 | A54 | 185 | 185 | 185 | 5 kg | 35 kg | A
* * * * * * *
| Lithium hydride | 4.3 | UN1414 | I | 4.3 | A19, N40 | None | 211 | 242 | Forbidden | 15 kg | E | 13, 52, 148
| Lithium hydride, fused solid | 4.3 | UN2805 | II | 4.3 | A8, A19, A20, IB4, T3, TP33 | 151 | 212 | 241 | 15 kg | 50 kg | E | 13, 52, 148
* * * * * * *
| Lithium peroxide | 5.1 | UN1472 | II | 5.1 | A9, IB6, IP2, N34, T3, TP33 | 152 | 212 | None | 5 kg | 25 kg | C | 13, 52, 66, 75, 148
* * * * * * *
| Lithium silicon | 4.3 | UN1417 | II | 4.3 | A19, A20, IB7, IP2, T3, TP33 | 151 | 212 | 241 | 15 kg | 50 kg | A | 13, 85, 103, 148
* * * * * * *
| Magnesium aluminum phosphide | 4.3 | UN1419 | I | 4.3, 6.1 | A19, N34, N40 | None | 211 | 242 | Forbidden | 15 kg | E | 13, 40, 52, 85, 148
* * * * * * *
| Magnesium diamide | 4.2 | UN2004 | II | 4.2 | A8, A19, A20, IB6, T3, TP33 | None | 212 | 241 | 15 kg | 50 kg | C | 13, 148
* * * * * * *
| Magnesium granules, coated, particle size not less than 149 microns | 4.3 | UN2950 | III | 4.3 | A1, A19, IB8, IP4, T1, TP33 | 151 | 213 | 240 | 25 kg | 100 kg | A | 13, 52, 148
| Magnesium hydride | 4.3 | UN2010 | I | 4.3 | A19, N40 | None | 211 | 242 | Forbidden | 15 kg | E | 13, 52, 148
| Magnesium or Magnesium alloys with more than 50 percent magnesium in pellets, turnings or ribbons | 4.1 | UN1869 | III | 4.1 | A1, IB8, IP3, T1, TP33 | 151 | 213 | 240 | 25 kg | 100 kg | A | 13, 39, 52, 53, 74, 101, 147, 148
* * * * * * *
| Magnesium peroxide | 5.1 | UN1476 | II | 5.1 | IB6, IP2, T3, TP33 | 152 | 212 | 242 | 5 kg | 25 kg | C | 13, 52, 66, 75, 148
| Magnesium phosphide | 4.3 | UN2011 | I | 4.3, 6.1 | A19, N40 | None | 211 | None | Forbidden | 15 kg | E | 13, 40, 52, 85, 148
| Magnesium, powder or Magnesium alloys, powder | 4.3 | UN1418 | I | 4.3, 4.2 | A19, B56 | None | 211 | 244 | Forbidden | 15 kg | A | 13, 39, 52, 148
|  |  |  | II | 4.3, 4.2 | A19, B56, IB5, IP2, T3, TP33 | None | 212 | 241 | 15 kg | 50 kg | A | 13, 39, 52, 148
|  |  |  | III | 4.3, 4.2 | A19, B56, IB8, IP4, T1, TP33 | None | 213 | 241 | 25 kg | 100 kg | A | 13, 39, 52, 148
* * * * * * *
| Magnesium silicide | 4.3 | UN2624 | II | 4.3 | A19, A20, IB7, IP2, T3, TP33 | 151 | 212 | 241 | 15 kg | 50 kg | B | 13, 85, 103, 148
* * * * * * *
| Maleic anhydride | 8 | UN2215 | III | 8 | IB8, IP3, T1, TP33 | 154 | 213 | 240 | 25 kg | 100 kg | A | 95, 102
| Maleic anhydride, molten | 8 | UN2215 | III | 8 | T4, TP3 | None | 213 | 240 | Forbidden | Forbidden | A | 95, 102
| Malononitrile | 6.1 | UN2647 | II | 6.1 | IB8, IP2, IP4, T3, TP33 | 153 | 212 | 242 | 25 kg | 100 kg | A | 12, 25
| Maneb or Maneb preparations with not less than 60 percent maneb | 4.2 | UN2210 | III | 4.2, 4.3 | 57, A1, A19, IB6, T1, TP33 | None | 213 | 242 | 25 kg | 100 kg | A | 13, 34, 148
| Maneb stabilized or Maneb preparations, stabilized against self-heating | 4.3 | UN2968 | III | 4.3 | 54, A1, A19, IB8, IP4, T1, TP33 | 151 | 213 | 242 | 25 kg | 100 kg | B | 13, 34, 52, 148
* * * * * * *
| Mercaptans, liquid, flammable, n.o.s. or Mercaptan mixture, liquid, flammable, n.o.s | 3 | UN3336 | I | 3 | T11, TP2 | 150 | 201 | 243 | 1 L | 30 L | E | 95, 102
|  |  |  | II | 3 | IB2, T7, TP1, TP8, TP28 | 150 | 202 | 242 | 5 L | 60 L | B | 95, 102
|  |  |  | III | 3 | B1, B52, IB3, T4, TP1, TP29 | 150 | 203 | 241 | 60 L | 220 L | B | 95, 102
| Mercaptans, liquid, flammable, toxic, n.o.s. or Mercaptan mixtures, liquid, flammable, toxic, n.o.s | 3 | UN1228 | II | 3, 6.1 | IB2, T11, TP2, TP27 | None | 202 | 243 | Forbidden | 60 L | B | 40, 95, 102
|  |  |  | III | 3, 6.1 | A6, B1, IB3, T7, TP1, TP28 | 150 | 203 | 242 | 5 L | 220 L | A | 40, 95, 102
| Mercaptans, liquid, toxic, flammable, n.o.s. or Mercaptan mixtures, liquid, toxic, flammable, n.o.s., flash point not less than 23 degrees C | 6.1 | UN3071 | II | 6.1, 3 | A6, IB2, T11, TP2, TP13, TP27 | 153 | 202 | 243 | 5 L | 60 L | C | 40, 102, 121
* * * * * * *
A W | Mercury contained in manufactured articles | 8 | UN3506 |  | 8, 6.1 | A191 | 164 | None | None | No limit | No limit | B | 40, 97
* * * * * * *
G | Metal catalyst, dry | 4.2 | UN2881 | I | 4.2 | N34, T21, TP7, TP33 | None | 187 | None | Forbidden | Forbidden | C | 13, 147, 148
|  |  |  | II | 4.2 | IB6, IP2, N34, T3, TP33 | None | 187 | 242 | Forbidden | 50 kg | C | 13, 147, 148
|  |  |  | III | 4.2 | IB8, IP3, N34, T1, TP33 | None | 187 | 241 | 25 kg | 100 kg | C | 13, 147, 148
* * * * * * *
| Metal hydrides, water reactive, n.o.s | 4.3 | UN1409 | I | 4.3 | A19, N34, N40 | None | 211 | 242 | Forbidden | 15 kg | D | 13, 52, 148
|  |  |  | II | 4.3 | A19, IB4, N34, N40, T3, TP33 | 151 | 212 | 242 | 15 kg | 50 kg | D | 13, 52, 148
* * * * * * *
| Metal powder, self-heating, n.o.s | 4.2 | UN3189 | II | 4.2 | IB6, IP2, T3, TP33 | None | 212 | 241 | 15 kg | 50 kg | C | 13, 148
|  |  |  | III | 4.2 | IB8, IP3, T1, TP33 | None | 213 | 241 | 25 kg | 100 kg | C | 13, 148
| Metal powders, flammable, n.o.s | 4.1 | UN3089 | II | 4.1 | IB8, IP2, IP4, T3, TP33 | 151 | 212 | 240 | 15 kg | 50 kg | B | 13, 74, 147, 148
|  |  |  | III | 4.1 | IB8, IP2, IP4, T1, TP33 | 151 | 213 | 240 | 25 kg | 100 kg | B | 13, 74, 147, 148
G | Metallic substance, water-reactive, n.o.s | 4.3 | UN3208 | I | 4.3 | A7, IB4 | None | 211 | 242 | Forbidden | 15 kg | E | 13, 40, 148
|  |  |  | II | 4.3 | A7, IB7, IP2, T3, TP33 | 151 | 212 | 242 | 15 kg | 50 kg | E | 13, 40, 148
|  |  |  | III | 4.3 | A7, IB8, IP4, T1, TP33 | 151 | 213 | 241 | 25 kg | 100 kg | E | 13, 40, 148
G | Metallic substance, water-reactive, self-heating, n.o.s | 4.3 | UN3209 | I | 4.3, 4.2 | A7 | None | 211 | 242 | Forbidden | 15 kg | E | 13, 40, 148
|  |  |  | II | 4.3, 4.2 | A7, IB5, IP2, T3, TP33 | None | 212 | 242 | 15 kg | 50 kg | E | 13, 40, 148
|  |  |  | III | 4.3, 4.2 | A7, IB8, IP4, T1, TP33 | None | 213 | 242 | 25 kg | 100 kg | E | 13, 40, 148
* * * * * * *
| Methyl iodide | 6.1 | UN2644 | I | 6.1 | 2, B9, B14, B32, T20, TP2, TP13, TP38, TP45 | None | 227 | 244 | Forbidden | Forbidden | D | 12, 25, 40
* * * * * * *
| Methyl magnesium bromide, in ethyl ether | 4.3 | UN1928 | I | 4.3, 3 |  | None | 201 | 243 | Forbidden | 1 L | D | 13, 148
* * * * * * *
| Methyl vinyl ketone, stabilized | 6.1 | UN1251 | I | 6.1, 3, 8 | 1, B9, B14, B30, T22, TP2, TP13, TP38, TP44 | None | 226 | 244 | Forbidden | Forbidden | B | 21, 40, 100
* * * * * * *
G | Organic peroxide type B, liquid | 5.2 | UN3101 | II | 5.2, 1 | 53 | 152 | 225 | None | Forbidden | Forbidden | D | 12, 25, 52, 53
G | Organic peroxide type B, liquid, temperature controlled | 5.2 | UN3111 | II | 5.2, 1 | 53 | None | 225 | None | Forbidden | Forbidden | D | 2, 25, 52, 53
G | Organic peroxide type B, solid | 5.2 | UN3102 | II | 5.2, 1 | 53 | 152 | 225 | None | Forbidden | Forbidden | D | 12, 25, 52, 53
G | Organic peroxide type B, solid, temperature controlled | 5.2 | UN3112 | II | 5.2, 1 | 53 | None | 225 | None | Forbidden | Forbidden | D | 2, 25, 52, 53
G | Organic peroxide type C, liquid | 5.2 | UN3103 | II | 5.2 |  | 152 | 225 | None | 5 L | 10 L | D | 12, 25, 52, 53
G | Organic peroxide type C, liquid, temperature controlled | 5.2 | UN3113 | II | 5.2 |  | None | 225 | None | Forbidden | Forbidden | D | 2, 25, 52, 53
G | Organic peroxide type C, solid | 5.2 | UN3104 | II | 5.2 |  | 152 | 225 | None | 5 kg | 10 kg | D | 12, 25, 52, 53
G | Organic peroxide type C, solid, temperature controlled | 5.2 | UN3114 | II | 5.2 |  | None | 225 | None | Forbidden | Forbidden | D | 2, 25, 52, 53
G | Organic peroxide type D, liquid | 5.2 | UN3105 | II | 5.2 |  | 152 | 225 | None | 5 L | 10 L | D | 12, 25, 52, 53
G | Organic peroxide type D, liquid, temperature controlled | 5.2 | UN3115 | II | 5.2 |  | None | 225 | None | Forbidden | Forbidden | D | 2, 25, 52, 53
G | Organic peroxide type D, solid | 5.2 | UN3106 | II | 5.2 |  | 152 | 225 | None | 5 kg | 10 kg | D | 12, 25, 52, 53
G | Organic peroxide type D, solid, temperature controlled | 5.2 | UN3116 | II | 5.2 |  | None | 225 | None | Forbidden | Forbidden | D | 2, 25, 52, 53
G | Organic peroxide type E, liquid | 5.2 | UN3107 | II | 5.2 | A61 | 152 | 225 | None | 10 L | 25 L | D | 12, 25, 52, 53
G | Organic peroxide type E, liquid, temperature controlled | 5.2 | UN3117 | II | 5.2 |  | None | 225 | None | Forbidden | Forbidden | D | 2, 25, 52, 53
G | Organic peroxide type E, solid | 5.2 | UN3108 | II | 5.2 |  | 152 | 225 | None | 10 kg | 25 kg | D | 12, 25, 52, 53
G | Organic peroxide type E, solid, temperature controlled | 5.2 | UN3118 | II | 5.2 |  | None | 225 | None | Forbidden | Forbidden | D | 2, 25, 52, 53
G | Organic peroxide type F, liquid | 5.2 | UN3109 | II | 5.2 | A61, IP5 | 152 | 225 | 225 | 10 L | 25 L | D | 12, 25, 52, 53
G | Organic peroxide type F, liquid, temperature controlled | 5.2 | UN3119 | II | 5.2 | IP5 | None | 225 | 225 | Forbidden | Forbidden | D | 2, 25, 52, 53
G | Organic peroxide type F, solid | 5.2 | UN3110 | II | 5.2 | TP33 | 152 | 225 | 225 | 10 kg | 25 kg | D | 12, 25, 52, 53
G | Organic peroxide type F, solid, temperature controlled | 5.2 | UN3120 | II | 5.2 | TP33 | None | 225 | 225 | Forbidden | Forbidden | D | 2, 25, 52, 53
* * * * * * *
G | Organometallic substance, liquid, pyrophoric | 4.2 | UN3392 | I | 4.2 | B11, T21, TP2, TP7, TP36 | None | 181 | 244 | Forbidden | Forbidden | D | 13, 78, 148
G | Organometallic substance, liquid, pyrophoric, water-reactive | 4.2 | UN3394 | I | 4.2, 4.3 | B11, T21, TP2, TP7, TP36, TP47 | None | 181 | 244 | Forbidden | Forbidden | D | 13, 52, 78, 148
G | Organometallic substance, liquid, water-reactive | 4.3 | UN3398 | I | 4.3 | T13, TP2, TP7, TP36, TP47 | None | 201 | 244 | Forbidden | 1 L | E | 13, 40, 52, 148
|  |  |  | II | 4.3, 3 | IB1, T7, TP2, TP7, TP36, TP47 | None | 202 | 243 | 1 L | 5 L | E | 13, 40, 52, 148
|  |  |  | III | 4.3, 3 | IB2, T7, TP2, TP7, TP36, TP47 | None | 203 | 242 | 5 L | 60 L | E | 13, 40, 52, 148
G | Organometallic substance, liquid, water-reactive, flammable | 4.3 | UN3399 | I | 4.3, 3 | T13, TP2, TP7, TP36, TP47 | None | 201 | 244 | Forbidden | 1 L | D | 13, 40, 52, 148
|  |  |  | II | 4.3, 3 | IB1, IP2, T7, TP2, TP7, TP36, TP47 | None | 202 | 243 | 1 L | 5 L | D | 13, 40, 52, 148
|  |  |  | III | 4.3, 3 | IB2, IP4, T7, TP2, TP7, TP36, TP47 | None | 203 | 242 | 5 L | 60 L | E | 13, 40, 52, 148
G | Organometallic substance, solid, pyrophoric | 4.2 | UN3391 | I | 4.2 | T21, TP7, TP33, TP36 | None | 187 | 244 | Forbidden | Forbidden | D | 13, 148
G | Organometallic substance, solid, pyrophoric, water-reactive | 4.2 | UN3393 | I | 4.2, 4.3 | B11, T21, TP7, TP33, TP36, TP47 | None | 187 | 244 | Forbidden | Forbidden | D | 13, 52, 148
* * * * * * *
G | Organometallic substance, solid, water-reactive | 4.3 | UN3395 | I | 4.3 | N40, T9, TP7, TP33, TP36, TP47 | None | 211 | 242 | Forbidden | 15 kg | E | 13, 40, 52, 148
|  |  |  | II | 4.3 | IB4, T3, TP33, TP36, TP47 | 151 | 212 | 242 | 15 kg | 50 kg | E | 13, 40, 52, 148
|  |  |  | III | 4.3 | IB6, T1, TP33, TP36, TP47 | 151 | 213 | 241 | 25 kg | 100 kg | E | 13, 40, 52, 148
G | Organometallic substance, solid, water-reactive, flammable | 4.3 | UN3396 | I | 4.3, 4.1 | N40, T9, TP7, TP33, TP36, TP47 | None | 211 | 242 | Forbidden | 15 kg | E | 13, 40, 52, 148
|  |  |  | II | 4.3, 4.1 | IB4, T3, TP33, TP36, TP47 | 151 | 212 | 242 | 15 kg | 50 kg | E | 13, 40, 52, 148
|  |  |  | III | 4.3, 4.1 | IB6, T1, TP33, TP36, TP47 | 151 | 213 | 241 | 25 kg | 100 kg | E | 13, 40, 52, 148
G | Organometallic substance, solid, water-reactive, self-heating | 4.3 | UN3397 | I | 4.3, 4.2 | N40, T9, TP7, TP33, TP36, TP47 | None | 211 | 242 | Forbidden | 15 kg | E | 13, 40, 52, 148
|  |  |  | II | 4.3, 4.2 | IB4, T3, TP33, TP36, TP47 | None | 212 | 242 | 15 kg | 50 kg | E | 13, 40, 52, 148
|  |  |  | III | 4.3, 4.2 | IB6, T1, TP33, TP36, TP47 | None | 213 | 241 | 25 kg | 100 kg | E | 13, 40, 52, 148
* * * * * * *
G | Oxidizing liquid, corrosive, n.o.s | 5.1 | UN3098 | I | 5.1, 8 | 62, A6 | None | 201 | 244 | Forbidden | 2.5 L | D | 13, 56, 58, 138
|  |  |  | II | 5.1, 8 | 62, IB1 | None | 202 | 243 | 1 L | 5 L | B | 13, 56, 58, 138
|  |  |  | III | 5.1, 8 | 62, IB2 | 152 | 203 | 242 | 2.5 L | 30 L | B | 13, 56, 58, 138
G | Oxidizing liquid, n.o.s | 5.1 | UN3139 | I | 5.1 | 62, 127, A2, A6 | None | 201 | 243 | Forbidden | 2.5 L | D | 56, 58, 138
|  |  |  | II | 5.1 | 62, 127, A2, IB2 | 152 | 202 | 242 | 1 L | 5 L | B | 56, 58, 138
|  |  |  | III | 5.1 | 62, 127, A2, IB2 | 152 | 203 | 241 | 2.5 L | 30 L | B | 56, 58, 138
G | Oxidizing liquid, toxic, n.o.s | 5.1 | UN3099 | I | 5.1, 6.1 | 62, A6 | None | 201 | 244 | Forbidden | 2.5 L | D | 56, 58, 138
|  |  |  | II | 5.1, 6.1 | 62, IB1 | 152 | 202 | 243 | 1 L | 5 L | B | 56, 58, 95, 138
|  |  |  | III | 5.1, 6.1 | 62, IB2 | 152 | 203 | 242 | 2.5 L | 30 L | B | 56, 58, 95, 138
* * * * * * *
G | Oxidizing solid, corrosive, n.o.s | 5.1 | UN3085 | I | 5.1, 8 | 62 | None | 211 | 242 | 1 kg | 15 kg | D | 13, 56, 58, 138
|  |  |  | II | 5.1, 8 | 62, IB6, IP2, T3, TP33 | None | 212 | 242 | 5 kg | 25 kg | B | 13, 34, 56, 58, 138
|  |  |  | III | 5.1, 8 | 62, IB8, IP3, T1, TP33 | 152 | 213 | 240 | 25 kg | 100 kg | B | 13, 34, F56, 58, 138
G | Oxidizing solid, flammable, n.o.s | 5.1 | UN3137 | I | 5.1, 4.1 | 62 | None | 214 | 214 | Forbidden | Forbidden |  | 13, 147, 148
* * * * * * *
G | Oxidizing solid, toxic, n.o.s. | 5.1 | UN3087 | I | 5.1, 6.1 | 62 | None | 211 | 242 | 1 kg | 15 kg | D | 56, 58, 138
|  |  |  | II | 5.1, 6.1 | 62, IB6, IP2, T3, TP33 | 152 | 212 | 242 | 5 kg | 25 kg | B | 56, 58, 138
|  |  |  | III | 5.1, 6.1 | 62, IB8, IP3, T1, TP33 | 152 | 213 | 240 | 25 kg | 100 kg | B | 56, 58, 138
G | Oxidizing solid, water reactive, n.o.s | 5.1 | UN3121 |  | 5.1, 4.3 | 62 | None | 214 | 214 | Forbidden | Forbidden |  | 13, 148
* * * * * * *
| Oxygen generator, chemical (including when contained in associated equipment, e.g., passenger service units (PSUs), portable breathing equipment (PBE), etc) | 5.1 | UN3356 |  | 5.1 |  | None | 168 | None | Forbidden | 25 kg | D | 56, 58, 69, 106
* * * * * * *
| Paint including paint, lacquer, enamel, stain, shellac solutions, varnish, polish, liquid filler, and liquid lacquer base | 3 | UN1263 | I | 3 | 367, T11, TP1, TP8, TP27 | 150 | 201 | 243 | 1 L | 30 L | E
|  |  |  | II | 3 | 149, 367, B52, IB2, T4, TP1, TP8, TP28 | 150 | 173 | 242 | 5 L | 60 L | B
|  |  |  | III | 3 | 367, B1, B52, IB3, T2, TP1, TP29 | 150 | 173 | 242 | 60 L | 220 L | A
| Paint or Paint related material | 8 | UN3066 | II | 8 | 367, B2, IB2, T7, TP2, TP28 | 154 | 173 | 242 | 1 L | 30 L | A | 40
|  |  |  | III | 8 | 367, B52, IB3, T4, TP1, TP29 | 154 | 173 | 241 | 5 L | 60 L | A | 40
| Paint, corrosive, flammable (including paint, lacquer, enamel, stain, shellac solutions, varnish, polish, liquid filler, and liquid lacquer base) | 8 | UN3470 | II | 8, 3 | 367, IB2, T7, TP2, TP8, TP28 | 154 | 202 | 243 | 1 L | 30 L | B | 40
| Paint, flammable, corrosive, (including paint , lacquer, enamel, stain, shellac, varnish, polish, liquid filler and liquid lacquer base) | 3 | UN3469 | I | 3, 8 | 367, T11, TP2, TP27 | None | 201 | 243 | 0.5 L | 2.5 L | E | 40
|  |  |  | II | 3, 8 | 367, IB2, T7, TP2, TP8, TP28 | 150 | 202 | 243 | 1 L | 5 L | B | 40
|  |  |  | III | 3, 8 | 367, IB3, T4, TP1, TP29 | 150 | 203 | 242 | 5 L | 60 L | A | 40
| Paint related material including paint thinning, drying, removing, or reducing compound | 3 | UN1263 | I | 3 | 367, T11, TP1, TP8, TP27 | 150 | 201 | 243 | 1 L | 30 L | E
|  |  |  | II | 3 | 149,367, B52, IB2, T4, TP1, TP8, TP28 | 150 | 173 | 242 | 5 L | 60 L | B
|  |  |  | III | 3 | 367, B1, B52, IB3, T2, TP1, TP29 | 150 | 173 | 242 | 60 L | 220 L | A
| Paint related material corrosive, flammable (including paint thinning or reducing compound) | 8 | UN3470 | II | 8, 3 | 367, IB2, T7, TP2, TP8, TP28 | 154 | 202 | 243 | 1 L | 30 L | B | 40
| Paint related material, flammable, corrosive (including paint thinning or reducing compound) | 3 | UN3469 | I | 3, 8 | 367, T11, TP2, TP27 | None | 201 | 243 | 0.5 L | 2.5 L | E | 40
|  |  |  | II | 3, 8 | 367, IB2, T7, TP2, TP8, TP28 | 150 | 202 | 243 | 1 L | 5 L | B | 40
|  |  |  | III | 3, 8 | 367, IB3, T4, TP1, TP29 | 150 | 203 | 242 | 5 L | 60 L | A | 40
* * * * * * *
+ | Pentaborane | 4.2 | UN1380 | I | 4.2, 6.1 | 1 | None | 205 | 245 | Forbidden | Forbidden | D | 13, 148
* * * * * * *
| Peroxides, inorganic, n.o.s | 5.1 | UN1483 | II | 5.1 | A7, A20, IB6, IP2, N34, T3, TP33 | None | 212 | 242 | 5 kg | 25 kg | C | 13, 52, 66, 75, 148
|  |  |  | III | 5.1 | A7, A20, IB8, IP3, N34, T1, TP33 | 152 | 213 | 240 | 25 kg | 100 kg | C | 13, 52, 66, 75, 148
* * * * * * *
| Persulfates, inorganic, aqueous solution, n.o.s | 5.1 | UN3216 | III | 5.1 | IB2, T4, TP1, TP29 | 152 | 203 | 241 | 2.5 L | 30 L | A | 56, 58, 133
* * * * * * *
G | Pesticides, liquid, flammable, toxic, flash point less than 23 degrees C | 3 | UN3021 | I | 3, 6.1 | B5, T14, TP2, TP13, TP27 | None | 201 | 243 | Forbidden | 30 L | B | 40
|  |  |  | II | 3, 6.1 | IB2, T11, TP2, TP13, TP27 | 150 | 202 | 243 | 1 L | 60 L | B | 40
* * * * * * *
| Phenyl chloroformate | 6.1 | UN2746 | II | 6.1, 8 | IB2, T7, TP2, TP13 | 153 | 202 | 243 | 1 L | 30 L | A | 12, 13, 25, 40
* * * * * * *
| Phosphorus heptasulfide, free from yellow or white phosphorus | 4.1 | UN1339 | II | 4.1 | A20, IB4, N34, T3, TP33 | None | 212 | 240 | 15 kg | 50 kg | B | 13, 74, 147, 148
* * * * * * *
| Phosphorus oxybromide | 8 | UN1939 | II | 8 | B8, IB8, IP2, IP4, N41, N43, T3, TP33 | None | 212 | 240 | Forbidden | 50 kg | C | 12, 25, 40
* * * * * * *
| Phosphorus pentabromide | 8 | UN2691 | II | 8 | A7, IB8, IP2, IP4, N34, T3, TP33 | 154 | 212 | 240 | Forbidden | 50 kg | B | 12, 25, 40, 53, 55
* * * * * * *
| Phosphorus pentasulfide, free from yellow or white phosphorus | 4.3 | UN1340 | II | 4.3, 4.1 | A20, B59, IB4, T3, TP33 | 151 | 212 | 242 | 15 kg | 50 kg | B | 13, 74, 148
* * * * * * *
| Phosphorus trioxide | 8 | UN2578 | III | 8 | IB8, IP3, T1, TP33 | 154 | 213 | 240 | 25 kg | 100 kg | A | 12, 25
| Phosphorus trisulfide, free from yellow or white phosphorus | 4.1 | UN1343 | II | 4.1 | A20, IB4, N34, T3, TP33 | None | 212 | 240 | 15 kg | 50 kg | B | 13, 74, 147, 148
* * * * * * *
| Piperazine | 8 | UN2579 | III | 8 | IB8, IP3, T1, TP33 | 154 | 213 | 240 | 25 kg | 100 kg | A | 12, 25, 52
* * * * * * *
| Potassium | 4.3 | UN2257 | I | 4.3 | A7, A19, A20, B27, IB4, IP1, N6, N34, T9, TP7, TP33 | None | 211 | 244 | Forbidden | 15 kg | D | 13, 52, 148
* * * * * * *
| Potassium borohydride | 4.3 | UN1870 | I | 4.3 | A19, N40 | None | 211 | 242 | Forbidden | 15 kg | E | 13, 52, 148
* * * * * * *
| Potassium, metal alloys, liquid | 4.3 | UN1420 | I | 4.3 | A7, A19, A20, B27 | None | 201 | 244 | Forbidden | 1 L | E | 13, 40, 52, 148
| Potassium, metal alloys, solid | 4.3 | UN3403 | I | 4.3 | A19, A20, B27, IB4, IP1, T9, TP7, TP33 | None | 211 | 244 | Forbidden | 15 kg | D | 13, 52, 148
* * * * * * *
| Potassium peroxide | 5.1 | UN1491 | I | 5.1 | A20, IB6, IP1, N34 | None | 211 | None | Forbidden | 15 kg | C | 13, 52, 66, 75, 148
* * * * * * *
| Potassium phosphide | 4.3 | UN2012 | I | 4.3, 6.1 | A19, N40 | None | 211 | None | Forbidden | 15 kg | E | 13, 40, 52, 85, 148
* * * * * * *
| Potassium sodium alloys, liquid | 4.3 | UN1422 | I | 4.3 | A7, A19, B27, N34, N40, T9, TP3, TP7, TP31 | None | 201 | 244 | Forbidden | 1 L | E | 13, 40, 52, 148
| Potassium sodium alloys, solid | 4.3 | UN3404 | I | 4.3 | A19, B27, N34, N40, T9, TP7, TP33 | None | 211 | 244 | Forbidden | 15 kg | D | 13, 52, 148
* * * * * * *
| Potassium superoxide | 5.1 | UN2466 | I | 5.1 | A20, IB6, IP1 | None | 211 | None | Forbidden | 15 kg | E | 13, 52, 66, 75, 148
* * * * * * *
| Printing ink, flammable or Printing ink related material (including printing ink thinning or reducing compound), flammable | 3 | UN1210 | I | 3 | 367, T11, TP1, TP8 | 150 | 173 | 243 | 1 L | 30 L | E
|  |  |  | II | 3 | 149, 367, IB2, T4, TP1, TP8 | 150 | 173 | 242 | 5 L | 60 L | B
|  |  |  | III | 3 | 367, B1, IB3, T2, TP1 | 150 | 173 | 242 | 60 L | 220 L | A
* * * * * * *
G | Pyrophoric liquid, inorganic, n.o.s | 4.2 | UN3194 | I | 4.2 |  | None | 181 | 244 | Forbidden | Forbidden | D | 13, 78, 148
G | Pyrophoric liquids, organic, n.o.s | 4.2 | UN2845 | I | 4.2 | B11, T22, TP2, TP7 | None | 181 | 244 | Forbidden | Forbidden | D | 13, 78, 148
G | Pyrophoric metals, n.o.s., or Pyrophoric alloys, n.o.s | 4.2 | UN1383 | I | 4.2 | B11, T21, TP7, TP33 | None | 187 | 242 | Forbidden | Forbidden | D | 13, 148
G | Pyrophoric solid, inorganic, n.o.s | 4.2 | UN3200 | I | 4.2 | T21, TP7, TP33 | None | 187 | 242 | Forbidden | Forbidden | D | 13, 148
G | Pyrophoric solids, organic, n.o.s | 4.2 | UN2846 | I | 4.2 |  | None | 187 | 242 | Forbidden | Forbidden | D | 13, 148
* * * * * * *
| Quinoline | 6.1 | UN2656 | III | 6.1 | IB3, T4, TP1 | 153 | 203 | 241 | 60 L | 220 L | A | 12, 25
* * * * * * *
| Radioactive material, excepted package-limited quantity of material | 7 | UN2910 |  | None | 368 | 421, 422 | 421, 422 | 421, 422 |  |  | A
* * * * * * *
| Rubidium | 4.3 | UN1423 | I | 4.3 | 22, A7, A19, IB4, IP1, N34, N40, N45 | None | 211 | 242 | Forbidden | 15 kg | D | 13, 52, 148
* * * * * * *
I | Seed cake with not more than 1.5 percent oil and not more than 11 percent moisture | 4.2 | UN2217 | III | None | IB8, IP3, IP7, N7 | None | 213 | 241 | Forbidden | Forbidden | A | 13, 25, 120
* * * * * * *
G | Self-reactive liquid type B | 4.1 | UN3221 | II | 4.1 | 53 | 151 | 224 | None | Forbidden | Forbidden | D | 25, 52, 53, 127
G | Self-reactive liquid type B, temperature controlled | 4.1 | UN3231 | II | 4.1 | 53 | None | 224 | None | Forbidden | Forbidden | D | 2, 25, 52, 53
G | Self-reactive liquid type C | 4.1 | UN3223 | II | 4.1 |  | 151 | 224 | None | 5 L | 10 L | D | 25, 52, 53
G | Self-reactive liquid type C, temperature controlled | 4.1 | UN3233 | II | 4.1 |  | None | 224 | None | Forbidden | Forbidden | D | 2, 25, 52, 53
G | Self-reactive liquid type D | 4.1 | UN3225 | II | 4.1 |  | 151 | 224 | None | 5 L | 10 L | D | 25, 52, 53
G | Self-reactive liquid type D, temperature controlled | 4.1 | UN3235 | II | 4.1 |  | None | 224 | None | Forbidden | Forbidden | D | 2, 25, 52, 53
G | Self-reactive liquid type E | 4.1 | UN3227 | II | 4.1 |  | 151 | 224 | None | 10 L | 25 L | D | 25, 52, 53
G | Self-reactive liquid type E, temperature controlled | 4.1 | UN3237 | II | 4.1 |  | None | 224 | None | Forbidden | Forbidden | D | 2, 25, 52, 53
G | Self-reactive liquid type F | 4.1 | UN3229 | II | 4.1 |  | 151 | 224 | None | 10 L | 25 L | D | 25, 52, 53
G | Self-reactive liquid type F, temperature controlled | 4.1 | UN3239 | II | 4.1 |  | None | 224 | None | Forbidden | Forbidden | D | 2, 25, 52, 53
G | Self-reactive solid type B | 4.1 | UN3222 | II | 4.1 | 53 | 151 | 224 | None | (1) | (2) | D | 25, 52, 53, 127
G | Self-reactive solid type B, temperature controlled | 4.1 | UN3232 | II | 4.1 | 53 | None | 224 | None | Forbidden | Forbidden | D | 2, 25, 52, 53
G | Self-reactive solid type C | 4.1 | UN3224 | II | 4.1 |  | 151 | 224 | None | 5 kg | 10 kg | D | 25, 52, 53
G | Self-reactive solid type C, temperature controlled | 4.1 | UN3234 | II | 4.1 |  | None | 224 | None | Forbidden | Forbidden | D | 2, 25, 52, 53
G | Self-reactive solid type D | 4.1 | UN3226 | II | 4.1 |  | 151 | 224 | None | 5 kg | 10 kg | D | 25, 52, 53
G | Self-reactive solid type D, temperature controlled | 4.1 | UN3236 | II | 4.1 |  | None | 224 | None | Forbidden | Forbidden | D | 2, 25, 52, 53
G | Self-reactive solid type E | 4.1 | UN3228 | II | 4.1 |  | 151 | 224 | None | 10 kg | 25 kg | D | 25, 52, 53
G | Self-reactive solid type E, temperature controlled | 4.1 | UN3238 | II | 4.1 |  | None | 224 | None | Forbidden | Forbidden | D | 2, 25, 52, 53
G | Self-reactive solid type F | 4.1 | UN3230 | II | 4.1 |  | 151 | 224 | None | 10 kg | 25 kg | D | 25, 52, 53
G | Self-reactive solid type F, temperature controlled | 4.1 | UN3240 | II | 4.1 |  | None | 224 | None | Forbidden | Forbidden | D | 2, 25, 52, 53
* * * * * * *
| Sodium | 4.3 | UN1428 | I | 4.3 | A7, A8, A19, A20, B9, B48, B68, IB4, IP1, N34, T9, TP7, TP33, TP46 | None | 211 | 244 | Forbidden | 15 kg | D | 13, 52, 148
* * * * * * *
| Sodium aluminum hydride | 4.3 | UN2835 | II | 4.3 | A8, A19, A20, IB4, T3, TP33 | 151 | 212 | 242 | Forbidden | 50 kg | E | 13, 52, 148
* * * * * * *
| Sodium borohydride | 4.3 | UN1426 | I | 4.3 | N40 | None | 211 | 242 | Forbidden | 15 kg | E | 13, 52, 148
* * * * * * *
| Sodium dinitro-o-cresolate, wetted with not less than 10% water, by mass | 4.1 | UN3369 | I | 4.1 | 162, A8, A19, N41, N84 | None | 211 | None | 0.5 kg | 0.5 kg | E | 28, 36
* * * * * * *
| Sodium hydride | 4.3 | UN1427 | I | 4.3 | A19, N40 | None | 211 | 242 | Forbidden | 15 kg | E | 13, 52, 148
* * * * * * *
| Sodium peroxide | 5.1 | UN1504 | I | 5.1 | A20, IB5, IP1, N34 | None | 211 | None | Forbidden | 15 kg | C | 13, 52, 66, 75, 148
* * * * * * *
| Sodium phosphide | 4.3 | UN1432 | I | 4.3, 6.1 | A19, N40 | None | 211 | None | Forbidden | 15 kg | E | 13, 40, 52, 85, 148
* * * * * * *
| Sodium superoxide | 5.1 | UN2547 | I | 5.1 | A20, IB6, IP1, N34 | None | 211 | None | Forbidden | 15 kg | D | 13, 52, 66, 75, 148
* * * * * * *
| Stannic phosphide | 4.3 | UN1433 | I | 4.3, 6.1 | A19, N40 | None | 211 | 242 | Forbidden | 15 kg | E | 13, 40, 52, 85, 148
* * * * * * *
| Strontium peroxide | 5.1 | UN1509 | II | 5.1 | IB6, IP2, T3, TP33 | 152 | 212 | 242 | 5 kg | 25 kg | C | 13, 52, 66, 75, 148
| Strontium phosphide | 4.3 | UN2013 | I | 4.3, 6.1 | A19, N40 | None | 211 | None | Forbidden | 15 kg | E | 13, 40, 52, 85, 148
* * * * * * *
| Tear gas candles | 6.1 | UN1700 |  | 6.1, 4.1 |  | None | 340 | None | Forbidden | 50 kg | D | 40
* * * * * * *
| Titanium powder, dry | 4.2 | UN2546 | I | 4.2 |  | None | 211 | 242 | Forbidden | Forbidden | D | 13, 148
|  |  |  | II | 4.2 | A19, A20, IB6, IP2, N5, N34, T3, TP33 | None | 212 | 241 | 15 kg | 50 kg | D | 13, 148
|  |  |  | III | 4.2 | IB8, IP3, T1, TP33 | None | 213 | 241 | 25 kg | 100 kg | D | 13, 148
* * * * * * *
| Titanium sponge granules or Titanium sponge powders | 4.1 | UN2878 | III | 4.1 | A1, IB8, IP3, T1, TP33 | None | 213 | 240 | 25 kg | 100 kg | D | 13, 74, 147, 148
* * * * * * *
| Titanium trichloride, pyrophoric or Titanium trichloride mixtures, pyrophoric | 4.2 | UN2441 | I | 4.2, 8 | N34 | None | 181 | 244 | Forbidden | Forbidden | D | 13, 40, 148
* * * * * * *
G | Toxic by inhalation liquid, water-reactive, n.o.s. with an LC50 lower than or equal to 200 ml/m³ and saturated vapor concentration greater than or equal to 500 LC50 | 6.1 | UN3385 | I | 6.1, 4.3 | 1, B9, B14, B30, T22, TP2, TP13, TP38, TP44 | None | 226 | 244 | Forbidden | Forbidden | D | 13, 40, 148
G | Toxic by inhalation liquid, water-reactive, n.o.s. with an LC50 lower than or equal to 1000 ml/m³ and saturated vapor concentration greater than or equal to 10 LC50 | 6.1 | UN3386 | I | 6.1, 4.3 | 2, B9, B14, B32, T20, TP2, TP13, TP38, TP44 | None | 227 | 244 | Forbidden | Forbidden | D | 13, 40, 148
G | Toxic by inhalation liquid, water-reactive, flammable, n.o.s. with an LC50 lower than or equal to 200 ml/m3 and saturated vapor concentration greater than or equal to 500 LC50 | 6.1 | UN3490 | I | 6.1, 4.3, 3 | 1, B9, B14, B30, T22, TP2, TP13, TP27, TP38, TP44 | None | 226 | 244 | Forbidden | Forbidden | D | 13, 21, 28, 40, 49, 148
G | Toxic by inhalation liquid, water-reactive, flammable, n.o.s. with an LC50 lower or equal to 1000 ml/m3 and saturated vapor concentration greater than or equal to 10 LC50 | 6.1 | UN3491 | I | 6.1, 4.3, 3 | 2, B9, B14, B32, T20, TP2, TP13, TP27, TP38, TP45 | None | 227 | 244 | Forbidden | Forbidden | D | 13, 21, 28, 40, 49, 148
* * * * * * *
G | Toxic liquid, corrosive, inorganic, n.o.s | 6.1 | UN3289 | I | 6.1, 8 | T14, TP2, TP13, TP27 | None | 201 | 243 | 0.5 L | 2.5 L | A | 40
|  |  |  | II | 6.1, 8 | IB2, T11, TP2, TP27 | 153 | 202 | 243 | 1 L | 30 L | A | 40
* * * * * * *
G | Toxic liquid, inorganic, n.o.s | 6.1 | UN3287 | I | 6.1 | T14, TP2, TP13, TP27 | None | 201 | 243 | 1 L | 30 L | A | 40
|  |  |  | II | 6.1 | IB2, T11, TP2, TP27 | 153 | 202 | 243 | 5 L | 60 L | A | 40
|  |  |  | III | 6.1 | IB3, T7, TP1, TP28 | 153 | 203 | 241 | 60 L | 220 L | A | 40
* * * * * * *
G | Toxic liquids, water-reactive, n.o.s | 6.1 | UN3123 | I | 6.1, 4.3 | A4 | None | 201 | 243 | Forbidden | 1 L | E | 13,40, 148
|  |  |  | II | 6.1, 4.3 | IB2 | None | 202 | 243 | 1 L | 5 L | E | 13, 40, 148
* * * * * * *
G | Toxic solid, corrosive, inorganic, n.o.s | 6.1 | UN3290 | I | 6.1, 8 | IB7, T6, TP33 | None | 211 | 242 | 1 kg | 25 kg | A | 40
|  |  |  | II | 6.1, 8 | IB6, IP2, T3, TP33 | 153 | 212 | 242 | 15 kg | 50 kg | A | 40
G | Toxic solid, inorganic, n.o.s. | 6.1 | UN3288 | I | 6.1 | IB7, T6, TP33 | None | 211 | 242 | 5 kg | 50 kg | A | 40
|  |  |  | II | 6.1 | IB8, IP2, IP4, T3, TP33 | 153 | 212 | 242 | 25 kg | 100 kg | A | 40
|  |  |  | III | 6.1 | IB8, IP3, T1, TP33 | 153 | 213 | 240 | 100 kg | 200 kg | A | 40
* * * * * * *
G | Toxic solids, water-reactive, n.o.s | 6.1 | UN3125 | I | 6.1, 4.3 | A5, T6, TP33 | None | 211 | 242 | 5 kg | 15 kg | D | 13, 40, 148
|  |  |  | II | 6.1, 4.3 | IB6, IP2, T3, TP33 | 153 | 212 | 242 | 15 kg | 50 kg | D | 13, 40, 148
* * * * * * *
| Trifluoroacetic acid | 8 | UN2699 | I | 8 | A3, A6, A7, B4, N3, N34, N36, T10, TP2 | None | 201 | 243 | 0.5 L | 2.5 L | B | 12, 25, 40
* * * * * * *
| Trimethylacetyl chloride | 6.1 | UN2438 | I | 6.1, 8, 3 | 2, B3, B9, B14, B32, N34, T20, TP2, TP13, TP38, TP45 | None | 227 | 244 | Forbidden | Forbidden | D | 21, 25, 40, 100
* * * * * * *
| Trinitrobenzene, wetted, with not less than 10% water, by mass | 4.1 | UN3367 | I | 4.1 | 162, A8, A19, N41, N84 | None | 211 | None | 0.5 kg | 0.5 kg | E | 28, 36
* * * * * * *
| Trinitrobenzoic acid, wetted with not less than 10% water by mass | 4.1 | UN3368 | I | 4.1 | 162, A8, A19, N41, N84 | None | 211 | None | 0.5 kg | 0.5 kg | E | 28, 36
| Trinitrobenzoic acid, wetted with not less than 30 percent water, by mass | 4.1 | UN1355 | I | 4.1 | 23, A2, A8, A19, N41 | None | 211 | None | 0.5 kg | 0.5 kg | E | 28, 36
* * * * * * *
| Trinitrochlorobenzene (picryl chloride), wetted, with not less than 10% water by mass | 4.1 | UN3365 | I | 4.1 | 162, A8, A19, N41, N84 | None | 211 | None | 0.5 kg | 0.5 kg | E | 28, 36
* * * * * * *
| Trinitrophenol (picric acid), wetted, with not less than 10 percent water by mass | 4.1 | UN3364 | I | 4.1 | 162, A8, A19, N41, N84 | None | 211 | None | 0.5 kg | 0.5 kg | E | 28, 36
* * * * * * *
| Trinitrotoluene (TNT), wetted, with not less than 10 percent water by mass | 4.1 | UN3366 | I | 4.1 | 162, A8, A19, N41, N84 | None | 211 | None | 0.5 kg | 0.5 kg | E | 28, 36
* * * * * * *
| Urea nitrate, wetted, with not less than 10 percent water by mass | 4.1 | UN3370 | I | 4.1 | 162, A8, A19, N41, N84 | None | 211 | None | 0.5 kg | 0.5 kg | E | 28, 36
* * * * * * *
| Vinylpyridines, stabilized | 6.1 | UN3073 | II | 6.1, 3, 8 | IB1, T7, TP2, TP13 | 153 | 202 | 243 | 1 L | 30 L | B | 21, 40, 52, 100
* * * * * * *
G | Water-reactive liquid, corrosive, n.o.s | 4.3 | UN3129 | I | 4.3, 8 | T14, TP2, TP7, TP13 | None | 201 | 243 | Forbidden | 1 L | D | 13, 148
|  |  |  | II | 4.3, 8 | IB1, T11, TP2, TP7 | None | 202 | 243 | 1 L | 5 L | E | 13, 85, 148
|  |  |  | III | 4.3, 8 | IB2, T7, TP2, TP7 | None | 203 | 242 | 5 L | 60 L | E | 13, 148
G | Water-reactive liquid, n.o.s | 4.3 | UN3148 | I | 4.3 | T13, TP2, TP7, TP41 | None | 201 | 244 | Forbidden | 1 L | E | 13, 40, 148
|  |  |  | II | 4.3 | IB1, T7, TP2, TP7 | None | 202 | 243 | 1 L | 5 L | E | 13, 40, 148
|  |  |  | III | 4.3 | IB2, T7, TP2, TP7 | None | 203 | 242 | 5 L | 60 L | E | 13, 40, 148
G | Water-reactive liquid, toxic, n.o.s | 4.3 | UN3130 | I | 4.3, 6.1 | A4 | None | 201 | 243 | Forbidden | 1 L | D | 13, 148
|  |  |  | II | 4.3, 6.1 | IB1 | None | 202 | 243 | 1 L | 5 L | E | 13, 85, 148
|  |  |  | III | 4.3, 6.1 | IB2 | None | 203 | 242 | 5 L | 60 L | E | 13, 85, 148
G | Water-reactive solid, corrosive, n.o.s | 4.3 | UN3131 | I | 4.3, 8 | IB4, IP1, N40, T9, TP7, TP33 | None | 211 | 242 | Forbidden | 15 kg | D | 13, 148
|  |  |  | II | 4.3, 8 | IB6, IP2, T3, TP33 | 151 | 212 | 242 | 15 kg | 50 kg | E | 13, 85, 148
|  |  |  | III | 4.3, 8 | IB8, IP4, T1, TP33 | 151 | 213 | 241 | 25 kg | 100 kg | E | 13, 85, 148
G | Water-reactive solid, flammable, n.o.s | 4.3 | UN3132 | I | 4.3, 4.1 | IB4, N40 | None | 211 | 242 | Forbidden | 15 kg | D | 13, 148
|  |  |  | II | 4.3, 4.1 | IB4, T3, TP33 | 151 | 212 | 242 | 15 kg | 50 kg | E | 13, 148
|  |  |  | III | 4.3, 4.1 | IB6, T1, TP33 | 151 | 213 | 241 | 25 kg | 100 kg | E | 13, 148
G | Water-reactive solid, n.o.s | 4.3 | UN2813 | I | 4.3 | IB4, N40, T9, TP7, TP33 | None | 211 | 242 | Forbidden | 15 kg | E | 13, 40, 148
|  |  |  | II | 4.3 | IB7, IP2, T3, TP33 | 151 | 212 | 242 | 15 kg | 50 kg | E | 13, 40, 148
|  |  |  | III | 4.3 | IB8, IP4, T1, TP33 | 151 | 213 | 241 | 25 kg | 100 kg | E | 13, 40, 148
G | Water-reactive, solid, oxidizing, n.o.s | 4.3 | UN3133 | II | 4.3, 5.1 |  | None | 214 | 214 | Forbidden | Forbidden | E | 13, 40, 148
|  |  |  | III | 4.3, 5.1 |  | None | 214 | 214 | Forbidden | Forbidden | E | 13, 40, 148
G | Water-reactive solid, self-heating, n.o.s | 4.3 | UN3135 | I | 4.3, 4.2 | N40 | None | 211 | 242 | Forbidden | 15 kg | E | 13, 148
|  |  |  | II | 4.3, 4.2 | IB5, IP2, T3, TP33 | None | 212 | 242 | 15 kg | 50 kg | E | 13, 148
|  |  |  | III | 4.3, 4.2 | IB8, IP4, T1, TP33 | None | 213 | 241 | 25 kg | 100 kg | E | 13, 148
G | Water-reactive solid, toxic, n.o.s | 4.3 | UN3134 | I | 4.3, 6.1 | A8, IB4, IP1, N40 | None | 211 | 242 | Forbidden | 15 kg | D | 13, 148
|  |  |  | II | 4.3, 6.1 | IB5, IP2, T3, TP33 | 151 | 212 | 242 | 15 kg | 50 kg | E | 13, 85, 148
|  |  |  | III | 4.3, 6.1 | IB8, IP4, T1, TP33 | 151 | 213 | 241 | 25 kg | 100 kg | E | 13, 85, 148
* * * * * * *
| Zinc ashes | 4.3 | UN1435 | III | 4.3 | A1, A19, IB8, IP4, T1, TP33 | 151 | 213 | 241 | 25 kg | 100 kg | A | 13, 148
* * * * * * *
| Zinc dithionite or Zinc hydrosulfite | 9 | UN1931 | III | None | IB8, IP3, T1, TP33 | 155 | 204 | 240 | 100 kg | 200 kg | A | 13, 26, 123
* * * * * * *
| Zinc peroxide | 5.1 | UN1516 | II | 5.1 | IB6, IP2, T3, TP33 | 152 | 212 | 242 | 5 kg | 25 kg | C | 13, 52, 66, 75, 148
| Zinc phosphide | 4.3 | UN1714 | I | 4.3, 6.1 | A19, N40 | None | 211 | None | Forbidden | 15 kg | E | 13, 40, 52, 85, 148
* * * * * * *
| Zinc powder or Zinc dust | 4.3 | UN1436 | I | 4.3, 4.2 | A19, IB4, IP1, N40 | None | 211 | 242 | Forbidden | 15 kg | A | 13, 52, 53, 148
|  |  |  | II | 4.3, 4.2 | A19, IB7, IP2, T3, TP33 | None | 212 | 242 | 15 kg | 50 kg | A | 13, 52, 53, 148
|  |  |  | III | 4.3, 4.2 | IB8, IP4, T1, TP33 | None | 213 | 242 | 25 kg | 100 kg | A | 13, 52, 53, 148
* * * * * * *
| Zirconium, dry, coiled wire, finished metal sheets, strip (thinner than 254 microns but not thinner than 18 microns) | 4.1 | UN2858 | III | 4.1 | A1 | 151 | 213 | 240 | 25 kg | 100 kg | A | 13, 147, 148
| Zirconium, dry, finished sheets, strip or coiled wire | 4.2 | UN2009 | III | 4.2 | A1, A19 | None | 213 | 240 | 25 kg | 100 kg | D | 13, 148
* * * * * * *
| Zirconium powder, dry | 4.2 | UN2008 | I | 4.2 | T21, TP7, TP33 | None | 211 | 242 | Forbidden | Forbidden | D | 13, 148
|  |  |  | II | 4.2 | A19, A20, IB6, IP2, N5, N34, T3, TP33 | None | 212 | 241 | 15 kg | 50 kg | D | 13, 148
|  |  |  | III | 4.2 | IB8, IP3, T1, TP33 | None | 213 | 241 | 25 kg | 100 kg | D | 13, 148
| Zirconium powder, wetted with not less than 25 percent water (a visible excess of water must be present) (a) mechanically produced, particle size less than 53 microns; (b) chemically produced, particle size less than 840 microns | 4.1 | UN1358 | II | 4.1 | A19, A20, IB6, IP2, N34, T3, TP33 | None | 212 | 241 | 15 kg | 50 kg | E | 13, 74, 147, 148
| Zirconium scrap | 4.2 | UN1932 | III | 4.2 | IB8, IP3, N34, T1, TP33 | None | 213 | 240 | Forbidden | Forbidden | D | 13, 148
* * * * * * *

* * * * *

11. In Appendix B to § 172.101, the List of Marine Pollutants is amended by removing one (1) entry and adding sixty-two (62) entries in appropriate alphabetical order to read as follows:

Appendix B to § 172.101—List of Marine Pollutants.

* * * * *

List of Marine Pollutants
S, M, P (1) | Marine Pollutant (2)
[Remove:] | Chlorotoluenes (meta-;para-)
* * * * * * *
[Add:]
* * * * * * *
| Acroleic acid, stabilized
* * * * * * *
| Acrylic Acid, Stabilized
* * * * * * *
| Allyl alcohol
* * * * * * *
| Aminobenzene
* * * * * * *
| Ammonia, anhydrous (I)
| Ammonia solution, relative density less than 0.880 at 15 degrees C in water, with more than 50 percent ammonia
| Ammonia Solution relative density less than 0.880 at 15 degrees C in water, with more than 35% but not more than 50% ammonia
| Ammonia solution, relative density between 0.880 and 0.957 at 15 degrees C in water, with more than 10 percent but not more than 35 percent ammonia, by mass
* * * * * * *
| Aniline
| Aniline oil
* * * * * * *
| Bleaching powder
* * * * * * *
| Butylbenzenes
* * * * * * *
| Calcium hypochlorite , dry with more than 39% available chlorine (8.8% available oxygen)
| Calcium hypochlorite mixture, dry with more than 10% but not more than 39% available chlorine
| Calcium hypochlorite mixture, dry with more than 39% available chlorine (8.8% available oxygen)
| Calcium hypochlorite mixture, dry, corrosive with more than 10% but not more than 39% available chlorine
| Calcium hypochlorite mixture, dry, corrosive with more than 39% available chlorine (8.8% available oxygen)
| Calcium hypochlorite, hydrated with not less than 5.5% but not more than 16% water
| Calcium hypochlorite, hydrated, corrosive with not less than 5.5% but not more than 16% water
| Calcium hypochlorite, hydrated mixture with not less than 5.5% but not more than 16% water
| Calcium hypochlorite, hydrated mixture, corrosive with not less than 5.5% but not more than 16% water
* * * * * * *
| ortho-Chlorotoluene
* * * * * * *
| Creosote salts
* * * * * * *
| Cycloheptane
* * * * * * *
| 2,4-Dichlorophenol
* * * * * * *
| 1,3-Dichloropropene
* * * * * * *
| Dimethyl Disulphide
* * * * * * *
| Dinitrotoluenes, Liquid
| Dinitrotoluenes, Molton
| Dintrotoluenes, Solid
* * * * * * *
| Dodecene
* * * * * * *
| Heptanes
* * * * * * *
| Hexane
* * * * * * *
| Isooctane
* * * * * * *
| Mesitylene
* * * * * * *
| Methyl disulphide
* * * * * * *
| 2-Methyl-2-phenylpropane
* * * * * * *
| Methyldinitrobenzenes, liquid
| Methyldinitrobenzenes, molten
| Methyldinitrobenzenes, solid
| Methyldithiomethane
| 2-Methylheptane
* * * * * * *
| 2-Methylpentane
* * * * * * *
| Naphthalene, crude or Naphthalene, refined
| Napthalene, molten
* * * * * * *
| Nonanes
* * * * * * *
| Octanes
* * * * * * *
| Phenylamine
* * * * * * *
| Pine Oil
| alpha-Pinene
* * * * * * *
| Propenoic acid, stabilized
| Propenyl alcohol
* * * * * * *
| Propylene Tetramer
* * * * * * *
| Sodium hypochlorite solution
* * * * * * *
| Tetrapropylene
* * * * * * *
| Toluidines, liquid
| Toluidines, Solid
* * * * * * *
| 1,3,5-Trimethylbenzene
* * * * * * *
| 2,2,4-Trimethylpentane
* * * * * * *
| Turpentine
* * * * * * *
| Zinc Chloride, Anhydrous
| Zinc Chloride Solution
* * * * * * *

12. In § 172.102:

a. In paragraph (c)(1), special provisions 28, 52, 147, 160, 238, 342 and 362 are revised, special provisions 367, 368, 369, 370, 371, and 372 are added, and special provision 161 is removed.

b. In paragraph (c)(2), special provision A60 is revised and A61 is added.

c. Paragraph (c)(4) introductory text, Table 1 and Table 2 in paragraph (c)(4) are revised.

d. In paragraph (c)(8)(ii), TP47 is added in numerical sequence.

The additions and revisions read as follows:

§ 172.102 Special Provisions.

* * * * *

(c) * * *

(1) * * *

28 The dihydrated sodium salt of dichloroisocyanuric acid does not meet the criteria for inclusion in Division 5.1 (Oxidizer) and is not subject to the requirements of this subchapter unless meeting the criteria for inclusion in another class or division.

* * * * *

52 This entry may only be used for substances that are too insensitive for acceptance into Class 1 (explosive) when tested in accordance with Test Series 2 in the UN Manual of Tests and Criteria, Part I (incorporated by reference; see § 171.7 of this subchapter).

* * * * *

147 This entry applies to non-sensitized emulsions, suspensions, and gels consisting primarily of a mixture of ammonium nitrate and fuel, intended to produce a Type E blasting explosive only after further processing prior to use. The mixture for emulsions typically has the following composition: 60-85% ammonium nitrate; 5-30% water; 2-8% fuel; 0.5-4% emulsifier or thickening agent; 0-10% soluble flame suppressants; and trace additives. Other inorganic nitrate salts may replace part of the ammonium nitrate. The mixture for suspensions and gels typically has the following composition: 60-85% ammonium nitrate; 0-5% sodium or potassium perchlorate; 0-17% hexamine nitrate or monomethylamine nitrate; 5-30% water; 2-15% fuel; 0.5-4% thickening agent; 0-10% soluble flame suppressants; and trace additives. Other inorganic nitrate salts may replace part of the ammonium nitrate. These substances must satisfactorily pass Tests 8(a), (b) and (c) of Test Series 8 of the UN Manual of Tests and Criteria, Part I, Section 18 (IBR, see § 171.7 of this subchapter), and may not be classified and transported unless approved by the Associate Administrator.

* * * * *

160 This entry applies to safety devices for vehicles, vessels or aircraft, e.g. air bag inflators, air bag modules, seat-belt pretensioners, and pyromechanical devices containing Class 1 (explosive) materials or materials of other hazard classes. These articles must be tested in accordance with Test series 6(c) of Part I of the UN Manual of Tests and Criteria (incorporated by reference; see § 171.7 of this subchapter), with no explosion of the device, no fragmentation of device casing or pressure vessel, and no projection hazard or thermal effect that would significantly hinder fire-fighting or other emergency response efforts in the immediate vicinity. If the air bag inflator unit satisfactorily passes the series 6(c) test, it is not necessary to repeat the test on the air bag module. This entry does not apply to life saving appliances described in § 173.219 (UN2990 and UN3072).

* * * * *

238 Neutron radiation detectors: a. Neutron radiation detectors containing non-pressurized boron trifluoride gas in excess of 1 gram and radiation detection systems containing such neutron radiation detectors as components may be transported by highway, rail, vessel, or cargo aircraft in accordance with the following:

(1) Each radiation detector must meet the following conditions:

(i) The pressure in each neutron radiation detector must not exceed 105 kPa absolute at 20 °C;

(ii) The amount of gas must not exceed 13 grams per detector; and

(iii) Each neutron radiation detector must be of welded metal construction with brazed metal to ceramic feed through assemblies. These detectors must have a minimum burst pressure of 1800 kPa as demonstrated by design type qualification testing; and

(iv) Each detector must be tested to a 1 × 10−¹⁰ cm³/s leaktightness standard before filling.

(2) Radiation detectors transported as individual components must be transported as follows:

(i) They must be packed in a sealed intermediate plastic liner with sufficient absorbent material to absorb the entire gas contents.

(ii) They must be packed in strong outer packagings and the completed package must be capable of withstanding a 1.8 meter (6-foot) drop without leakage of gas contents from detectors.

(iii) The total amount of gas from all detectors per outer packaging must not exceed 52 grams.

(3) Completed neutron radiation detection systems containing detectors meeting the conditions of paragraph (a)(1) of this special provision must be transported as follows:

(i) The detectors must be contained in a strong sealed outer casing;

(ii) The casing must contain include sufficient absorbent material to absorb the entire gas contents;

(iii) The completed system must be packed in strong outer packagings capable of withstanding a 1.8 meter (6-foot) drop test without leakage unless a system's outer casing affords equivalent protection.

b. Except for transportation by aircraft, neutron radiation detectors and radiation detection systems containing such detectors transported in accordance with paragraph (a) of this special provision are not subject to the labeling and placarding requirements of part 172 of this subchapter.

c. When transported by highway, rail, vessel, or as cargo on an aircraft, neutron radiation detectors containing not more than 1 gram of boron trifluoride, including those with solder glass joints are not subject to any other requirements of this subchapter provided they meet the requirements in paragraph (a)(1) of this special provision and are packed in accordance with paragraph (a)(2) of this special provision. Radiation detection systems containing such detectors are not subject to any other requirements of this subchapter provided they are packed in accordance with paragraph (a)(3) of this special provision.

* * * * *

342 Glass inner packagings (such as ampoules or capsules) intended only for use in sterilization devices, when containing less than 30 mL of ethylene oxide per inner packaging with not more than 300 mL per outer packaging, may be transported in accordance with § 173.4a of this subchapter, irrespective of the restriction of § 173.4a(b) and the indication of “forbidden” in columns (9A) and (9B) of the § 172.101 table provided that:

a. After filling, each glass inner packaging must be determined to be leak-tight by placing the glass inner packaging in a hot water bath at a temperature and for a period of time sufficient to ensure that an internal pressure equal to the vapor pressure of ethylene oxide at 55 °C is achieved. Any glass inner packaging showing evidence of leakage, distortion or other defect under this test must not be transported under the terms of this special provision;

b. In addition to the packaging required in § 173.4a, each glass inner packaging must be placed in a sealed plastic bag compatible with ethylene oxide and capable of containing the contents in the event of breakage or leakage of the glass inner packaging; and

c. Each glass inner packaging is protected by a means of preventing puncture of the plastic bag (e.g., sleeves or cushioning) in the event of damage to the packaging (e.g., by crushing).

* * * * *

362 This entry applies to liquids, pastes or powders, pressurized with a propellant that meets the definition of a gas in § 173.115. A chemical under pressure packaged in an aerosol dispenser must be transported under UN1950. The chemical under pressure must be classed based on the hazard characteristics of the components in the propellant; the liquid; or the solid. The following provisions also apply:

a. If one of the components, which can be a pure substance or a mixture, is classed as flammable, the chemical under pressure must be classed as flammable in Division 2.1. Flammable components are flammable liquids and liquid mixtures, flammable solids and solid mixtures or flammable gases and gas mixtures meeting the following criteria:

(1) A flammable liquid is a liquid having a flashpoint of not more than 93 °C (200 °F);

(2) A flammable solid is a solid that meets the criteria in § 173.124 of this subchapter; or

(3) A flammable gas is a gas that meets the criteria in § 173.115 of this subchapter.

b. Gases of Division 2.3 and gases with a subsidiary risk of 5.1 must not be used as a propellant in a chemical under pressure.

c. Where the liquid or solid components are classed as Division 6.1, Packing Group II or III, or Class 8, Packing Group II or III, the chemical under pressure must be assigned a subsidiary risk of Division 6.1 or Class 8 and the appropriate identification number must be assigned. Components classed as Division 6.1, Packing Group I, or Class 8, Packing Group I, must not be offered for transportation and transported under this description.

d. A chemical under pressure with components meeting the properties of: Class 1 (explosives); Class 3 (liquid desensitized explosives); Division 4.1 (self-reactive substances and solid desensitized explosives); Division 4.2 (substances liable to spontaneous combustion); Division 4.3 (substances which, in contact with water, emit flammable gases or toxic gases); Division 5.1 (oxidizing substances); Division 5.2 (organic peroxides); Division 6.2 (Infectious substances); or, Class 7 (Radioactive material), must not be offered for transportation under this description.

e. A description to which special provision 170 or TP7 is assigned in Column 7 of the § 172.101 Hazardous Materials Table, and therefore requires air to be eliminated from the package vapor space by nitrogen or other means, must not be offered for transportation under this description.

f. Chemicals under pressure containing components forbidden for transport on both passenger and cargo aircraft in Columns (9A) and (9B) of the § 172.101 Hazardous Materials Table must not be transported by air.

* * * * *

367 For the purposes of documentation and package marking:

a. The proper shipping name “Paint related material” may be used for consignments of packages containing “Paint” and “Paint related material” in the same package;

b. The proper shipping name “Paint related material, corrosive, flammable” may be used for consignments of packages containing “Paint, corrosive, flammable” and “Paint related material, corrosive, flammable” in the same package;

c. The proper shipping name “Paint related material, flammable, corrosive” may be used for consignments of packages containing “Paint, flammable, corrosive” and “Paint related material, flammable, corrosive” in the same package; and

d. The proper shipping name “Printing ink related material” may be used for consignments of packages containing “Printing ink” and “Printing ink related material” in the same package.

368 In the case of non-fissile or fissile-excepted uranium hexafluoride, the material must be classified under UN3507 or UN2978.

369 In accordance with § 173.2a, this radioactive material in an excepted package possessing corrosive properties is classified in Class 8 with a radioactive material subsidiary risk. Uranium hexafluoride may be classified under this entry only if the conditions of §§ 173.420(a)(4) and (a)(6), 173.420(d), 173.421(a)(2) and (a)(4), and, for fissile-excepted material, the conditions of 173.453 are met. In addition to the provisions applicable to the transport of Class 8 substances, the provisions of §§ 173.421(a)(3), and 173.443(a) apply. In addition, packages shall be legibly and durably marked with an identification of the consignor, the consignee, or both. No Class 7 label is required to be displayed. The consignor shall be in possession of a copy of each applicable certificate when packages include fissile material excepted by competent authority approval. When a consignment is undeliverable, the consignment shall be placed in a safe location and the appropriate competent authority shall be informed as soon as possible and a request made for instructions on further action. If it is evident that a package of radioactive material, or conveyance carrying unpackaged radioactive material, is leaking, or if it is suspected that the package, or conveyance carrying unpackaged material, may have leaked, the requirements of § 173.443(e) apply.

370 This entry also applies to Ammonium nitrate with not more than 0.2% combustible substances, including any organic substance calculated as carbon, to the exclusion of any added substance, that gives a positive result when tested in accordance with Test Series 2 of the UN Manual of Tests and Criteria, Part I (incorporated by reference; see § 171.7 of this subchapter). See also UN No. 1942.

371 a. This entry also applies to articles not conforming to the requirements of §§ 173.302, 173.304, or 173.306 of this subchapter, containing a small pressure receptacle with a release device. Such articles must comply with the following requirements:

(1) The water capacity of the pressure receptacle must not exceed 0.5 L and the working pressure must not exceed 25 bar at 15 °C (59 °F);

(2) The minimum burst pressure of the pressure receptacle must be at least four times the pressure of the gas at 15 °C (59 °F);

(3) Each article must be manufactured in such a way that unintentional firing or release is avoided under normal conditions of handling, packing, transport and use. This may be fulfilled by an additional locking device linked to the activator;

(4) Each article must be manufactured in such a way as to prevent hazardous projections of the pressure receptacle or parts of the pressure receptacle;

(5) Each pressure receptacle must be manufactured from material which will not fragment upon rupture;

(6) The design type of the article must be subjected to a fire test. For this test, the provisions of paragraphs 16.6.1.2 except letter g, 16.6.1.3.1 to 16.6.1.3.6, 16.6.1.3.7(b) and 16.6.1.3.8 of the UN Manual of Tests and Criteria must be applied. It must be demonstrated that the article relieves its pressure by means of a fire degradable seal or other pressure relief device, in such a way that the pressure receptacle will not fragment and that the article or fragments of the article do not rocket more than 10 meters; and

(7) The design type of the article must be subjected to the following test. A stimulating mechanism must be used to initiate one article in the middle of the packaging. There must be no hazardous effects outside the package such as disruption of the package, metal fragments or a receptacle which passes through the packaging.

b. The manufacturer must produce technical documentation of the design type, manufacture as well as the tests and their results. The manufacturer must apply procedures to ensure that articles produced in series are made of good quality, conform to the design type and are able to meet the requirements in (a). The manufacturer must provide such information to a representative of the Department upon request.

372 This entry applies to asymmetric capacitors with an energy storage capacity greater than 0.3 Wh. Capacitors with an energy storage capacity of 0.3 Wh or less are not subject to the requirements of this subchapter.

Energy storage capacity means the energy stored in a capacitor, as calculated according to the following equation,

Wh = 1/2CN(UR²−UL²) × (1/3600)

Using the nominal capacitance (CN), rated voltage (UR) and the rated lower limit voltage (UL).

Nickel-carbon asymmetric capacitors containing Class 8 alkaline electrolytes must be transported as UN2795, Batteries, wet, filled with alkali, electric storage.

* * * * *

(2) * * *

A60 Sterilization devices, when containing less than 30 mL per inner packaging with not more than 150 mL per outer packaging, may be transported in accordance with the provisions in § 173.4a, irrespective of § 173.4a(b), provided such packagings were first subjected to comparative fire testing. Comparative fire testing between a package as prepared for transport (including the substance to be transported) and an identical package filled with water must show that the maximum temperature measured inside the packages during testing does not differ by more than 200 °C (392 °F). Packagings may include a vent to permit the slow escape of gas (i.e. not more than 0.1 mL/hour per 30 mL inner packaging at 20 °C (68 °F) produced from gradual decomposition. The requirements of §§ 173.24(g)(1) and 173.27(c) do not apply.

A61 a. When used for purposes such as sterilization, inner packagings of peroxyacetic acid, stabilized, classified as UN 3107 Organic peroxide type E, liquid or UN 3109 Organic peroxide type F, liquid may be fitted with a vent consisting of hydrophobic membrane, provided:

(1) Each inner packaging contains not more than 70 mL;

(2) The inner packaging is designed so that the vent is not immersed in liquid in any orientation;

(3) Each inner packaging is enclosed in an intermediate rigid plastic packaging with a small opening to permit release of gas and contains a buffer that neutralizes the contents of the inner packaging in the event of leakage;

(4) Intermediate packagings are packed in a fiberboard box (4G) outer packaging;

(5) Each outer packaging contains not more than 1.4 L of liquid; and

(6) The rate of oxygen release from the outer packaging does not exceed 15 mL per hour.

b. Such packages must be transported on cargo aircraft only. The requirements of §§ 173.24(g)(1) and 173.27(c) do not apply.

* * * * *

(4) IB Codes and IP Codes. These provisions apply only to transportation in IBCs and Large Packagings. Table 1 authorizes IBCs for specific proper shipping names through the use of IB Codes assigned in the § 172.101 table of this subchapter. Table 2 defines IP Codes on the use of IBCs that are assigned to specific commodities in the § 172.101 Table of this subchapter. Table 3 authorizes Large Packagings for specific proper shipping names through the use of IB Codes assigned in the § 172.101 table of this subchapter. Large Packagings are authorized for the Packing Group III entries of specific proper shipping names when either special provision IB3 or IB8 is assigned to that entry in the § 172.101 Table. When no IB code is assigned in the § 172.101 Table for a specific proper shipping name, or in § 173.185 or § 173.225(e) Organic Peroxide Table for Type F organic peroxides, use of an IBC or Large Packaging for the material may be authorized when approved by the Associate Administrator. The letter “Z” shown in the marking code for composite IBCs must be replaced with a capital code letter designation found in § 178.702(a)(2) of this subchapter to specify the material used for the other packaging. Tables 1, 2, and 3 follow:

* * * * *

Table 1—IB Codes (IBC Codes)
IBC code | Authorized IBCs
IB1 | Authorized IBCs: Metal (31A, 31B and 31N).
| Additional Requirement: Only liquids with a vapor pressure less than or equal to 110 kPa at 50 °C (1.1 bar at 122 °F), or 130 kPa at 55 °C (1.3 bar at 131 °F) are authorized.
IB2 | Authorized IBCs: Metal (31A, 31B and 31N); Rigid plastics (31H1 and 31H2); Composite (31HZ1).
| Additional Requirement: Only liquids with a vapor pressure less than or equal to 110 kPa at 50 °C (1.1 bar at 122 °F), or 130 kPa at 55 °C (1.3 bar at 131 °F) are authorized.
IB3 | Authorized IBCs: Metal (31A, 31B and 31N); Rigid plastics (31H1 and 31H2); Composite (31HZ1 and 31HA2, 31HB2, 31HN2, 31HD2 and 31HH2).
| Additional Requirement: Only liquids with a vapor pressure less than or equal to 110 kPa at 50 °C (1.1 bar at 122 °F), or 130 kPa at 55 °C (1.3 bar at 131 °F) are authorized, except for UN2672 (also see special provision IP8 in Table 2 for UN2672).
IB4 | Authorized IBCs: Metal (11A, 11B, 11N, 21A, 21B, 21N, 31A, 31B and 31N).
IB5 | Authorized IBCs: Metal (11A, 11B, 11N, 21A, 21B, 21N, 31A, 31B and 31N); Rigid plastics (11H1, 11H2, 21H1, 21H2, 31H1 and 31H2); Composite (11HZ1, 21HZ1 and 31HZ1).
IB6 | Authorized IBCs: Metal (11A, 11B, 11N, 21A, 21B, 21N, 31A, 31B and 31N); Rigid plastics (11H1, 11H2, 21H1, 21H2, 31H1 and 31H2); Composite (11HZ1, 11HZ2, 21HZ1, 21HZ2 and 31HZ1).
| Additional Requirement: Composite IBCs 11HZ2 and 21HZ2 may not be used when the hazardous materials being transported may become liquid during transport.
IB7 | Authorized IBCs: Metal (11A, 11B, 11N, 21A, 21B, 21N, 31A, 31B and 31N); Rigid plastics (11H1, 11H2, 21H1, 21H2, 31H1 and 31H2); Composite (11HZ1, 11HZ2, 21HZ1, 21HZ2 and 31HZ1); Wooden (11C, 11D and 11F).
| Additional Requirement: Liners of wooden IBCs must be sift-proof.
IB8 | Authorized IBCs: Metal (11A, 11B, 11N, 21A, 21B, 21N, 31A, 31B and 31N); Rigid plastics (11H1, 11H2, 21H1, 21H2, 31H1 and 31H2 ); Composite (11HZ1, 11HZ2, 21HZ1, 21HZ2 and 31HZ1); Fiberboard (11G); Wooden (11C, 11D and 11F); Flexible (13H1, 13H2, 13H3, 13H4, 13H5, 13L1, 13L2, 13L3, 13L4, 13M1 or 13M2).
IB9 | IBCs are only authorized if approved by the Associate Administrator.

Table 2—IP Codes
IP code |
IP1 | IBCs must be packed in closed freight containers or a closed transport vehicle.
IP2 | When IBCs other than metal or rigid plastics IBCs are used, they must be offered for transportation in a closed freight container or a closed transport vehicle.
IP3 | Flexible IBCs must be sift-proof and water-resistant or must be fitted with a sift-proof and water-resistant liner.
IP4 | Flexible, fiberboard or wooden IBCs must be sift-proof and water-resistant or be fitted with a sift-proof and water-resistant liner.
IP5 | IBCs must have a device to allow venting. The inlet to the venting device must be located in the vapor space of the IBC under maximum filling conditions.
IP6 | Non-specification bulk bins are authorized.
IP7 | For UN identification numbers 1327, 1363, 1364, 1365, 1386, 1841, 2211, 2217, 2793 and 3314, IBCs are not required to meet the IBC performance tests specified in part 178, subpart N of this subchapter.
IP8 | Ammonia solutions may be transported in rigid or composite plastic IBCs (31H1, 31H2 and 31HZ1) that have successfully passed, without leakage or permanent deformation, the hydrostatic test specified in § 178.814 of this subchapter at a test pressure that is not less than 1.5 times the vapor pressure of the contents at 55 °C (131 °F).
IP13 | Transportation by vessel in IBCs is prohibited.
IP14 | Air must be eliminated from the vapor space by nitrogen or other means.
IP15 | For UN2031 with more than 55% nitric acid, rigid plastic IBCs and composite IBCs with a rigid plastic inner receptacle are authorized for two years from the date of IBC manufacture.
IP16 | IBCs of type 31A and 31N are only authorized if approved by the Associate Administrator.
IP20 | Dry sodium cyanide or potassium cyanide is also permitted in siftproof, water-resistant, fiberboard IBCs when transported in closed freight containers or transport vehicles.

* * * * *

(8) * * *

(ii) * * *

* * * * *

TP47 The 2.5 year internal examination may be waived or substituted by other test methods or inspection procedures specified by the competent authority or its authorized body, provided that the portable tank is dedicated to the transport of the organometallic substances to which this tank special provision is assigned. However this examination is required when the conditions of § 180.605(f) are met.

* * * * *

13. In § 172.204, paragraph (a)(2) is revised to read as follows:

§ 172.204 Shipper's certification.

(a) * * *

(2) “I hereby declare that the contents of this consignment are fully and accurately described above by the proper shipping name, and are classified, packaged, marked and labeled/placarded, and are in all respects in proper condition for transport according to applicable international and national governmental regulations.”

Note to paragraph (a)(2): In the certification the word “above” may be substituted for the word “below” as appropriate.

* * * * *

14. In § 172.315, revise paragraphs (a)(2), and (b)(2) to read as follows:

§ 172.315 Limited quantities.

(a) * * *

(2) The square-on-point must be durable, legible and of a size relative to the packaging, readily visible, and must be applied on at least one side or one end of the outer packaging. The width of the border forming the square-on-point must be at least 2 mm and the minimum dimension of each side, as measured from the outside of the lines forming the border, must be 100 mm unless the packaging size requires a reduced size marking that must be no less than 50 mm on each side and the width of the border forming the square on point may be reduced to a minimum of 1 mm. Where dimensions are not specified, all features shall be in approximate proportion to those shown. When intended for transportation by vessel, a cargo transport unit (see § 176.2 of this subchapter) containing packages of hazardous materials in only limited quantities must be marked once on each side and once on each end of the exterior of the unit with an identical mark which must have minimum dimensions of 250 mm on each side.

(i) Transitional exception. A marking in conformance with the requirements of this paragraph in effect on December 31, 2014, may continue to be used until December 31, 2016.

(ii) For domestic transportation, a packaging marked prior to January 1, 2017 and in conformance with the requirements of this paragraph in effect on December 31, 2014, may continue in service until the end of its useful life.

(b) * * *

(2) The square-on-point must be durable, legible and of a size relative to the package as to be readily visible. The square-on-point must be applied on at least one side or one end of the outer packaging. The width of the border forming the square-on-point must be at least 2 mm and the minimum dimension of each side, as measured from the outside of the lines forming the border, must be 100 mm unless the package size requires a reduced size marking that must be no less than 50 mm on each side and the width of the border forming the square on point may be reduced to a minimum of 1 mm. Where dimensions are not specified, all features shall be in approximate proportion to those shown.

(i) Transitional exception. A marking in conformance with the requirements of this paragraph in effect on December 31, 2014, may continue to be used until December 31, 2016.

(ii) For domestic transportation, a packaging marked prior to January 1, 2017 and in conformance with the requirements of this paragraph in effect on December 31, 2014, may continue in service until the end of its useful life.

* * * * *

15. In § 172.317, revise paragraph (b) to read as follows:

§ 172.317 KEEP AWAY FROM HEAT handling mark.

* * * * *

(b) Location and design. The marking must be a rectangle measuring at least 105 mm (4.1 inches) in height by 74 mm (2.9 inches) in width as measured from the outside of the lines forming the border. Markings with not less than half this dimension are permissible where the dimensions of the package can only bear a smaller mark.

(1) Transitional exception. A marking in conformance with the requirements of this paragraph in effect on December 31, 2014, may continue to be used until December 31, 2016.

(2) For domestic transportation, a packaging marked prior to January 1, 2017 and in conformance with the requirements of this paragraph in effect on December 31, 2014, may continue in service until the end of its useful life.

* * * * *

16. In § 172.322, revise paragraphs (a)(2), (b) introductory text, (e) introductory text, and (e)(2) and add paragraphs (e)(3) and (e)(4) to read as follows:

§ 172.322 Marine Pollutants.

* * * * *

(a) * * *

(2) Except as otherwise provided in this subchapter, the MARINE POLLUTANT mark shall be placed in association with the hazard warning labels required by subpart E of this part or, in the absence of any labels, in association with the marked proper shipping name.

(b) Except as otherwise provided in this subchapter, a bulk packaging that contains a marine pollutant must—

* * * * *

(e) MARINE POLLUTANT mark. The MARINE POLLUTANT mark must conform to the following:

* * * * *

(2) The marking must be in the form of a square-on-point. The symbol and border must be black on a white or suitable contrasting background. The width of the border forming the square-on-point marking must be at least 2 mm. Each side of the mark must be—

(i) At least 100 mm (4 inches) as measured from the outside of the lines forming the border for marks applied to:

(A) Non-bulk packages, except in the case of packages which, because of their size, can only bear smaller marks. If the size of the package so requires, the dimensions/line thickness may be reduced, provided the marking remains clearly visible. Where dimensions are not specified, all features shall be in approximate proportion to those shown.

(B) Bulk packages with a capacity of less than 3,785 L (1,000 gallons); or

(ii) At least 250 mm (10 inches) for marks applied to all other bulk packages.

(3) Transitional exception. A marking in conformance with the requirements of this paragraph in effect on December 31, 2014, may continue to be used until December 31, 2016.

(4) For domestic transportation, a packaging marked prior to January 1, 2017 and in conformance with the requirements of this paragraph in effect on December 31, 2014, may continue in service until the end of its useful life.

* * * * *

17. In § 172.326, paragraph (a) is revised to read as follows:

§ 172.326 Portable tanks.

(a) Shipping name. No person may offer for transportation or transport a portable tank containing a hazardous material unless it is legibly marked on two opposing sides with the proper shipping name specified for the material in the § 172.101 table. For transportation by vessel, the minimum height for a proper shipping name marked on a portable tank is 65 mm (2.5 inches); except that portable tanks with a capacity of less than 3,000 L (792.52 gallons) may reduce the marking size to not less than 12 mm (0.47 inches).

* * * * *

18. In § 172.327, revise paragraph (a) to read as follows:

§ 172.327 Petroleum sour crude oil in bulk packaging.

* * * * *

(a) The marking must be durable, legible and of a size relative to the package as to be readily visible and similar to the illustration shown in this paragraph with the minimum dimension of each side of the marking at least 100 mm (3.9 inches) as measured from the outside of the lines forming the border. The width of the border forming the square-on-point marking must be at least 5 mm. The marking must be displayed at each location (e.g., manhole, loading head) where exposure to hydrogen sulfide vapors may occur.

(1) Transitional exception—A marking in conformance with the requirements of this paragraph in effect on December 31, 2014, may continue to be used until December 31, 2016.

(2) For domestic transportation, a packaging marked prior to January 1, 2017 and in conformance with the requirements of this paragraph in effect on December 31, 2014, may continue in service until the end of its useful life.

* * * * *

19. In § 172.407, paragraphs (c)(1) and (d)(2)(iii) are revised and paragraph (d)(2)(iv) is added to read as follows:

§ 172.407 Label specifications.

* * * * *

(c) Size. (1) Each diamond (square-on-point) label prescribed in this subpart must be at least 100 mm (3.9 inches) on each side with each side having a solid line inner border 5 mm inside and parallel to the edge. The 5 mm measurement is from the outside edge of the label to the outside of the solid line forming the inner border. The width of the solid line forming the inner border must be at least 2 mm.

(i) If the size of the package so requires, the dimensions of the label and its features may be reduced provided the symbol and other elements of the label remain clearly visible. The solid line forming the inner border must remain 5 mm from the outside edge of the label and the minimum width of the line must remain 2 mm.

(ii) Where dimensions are not specified, all features shall be in approximate proportion to those shown in §§ 172.411 through 172.448 of this subpart, as appropriate.

(iii) Transitional exception—A label in conformance with the requirements of this paragraph in effect on December 31, 2014, may continue to be used until December 31, 2016.

(iv) For domestic transportation, a packaging labeled prior to January 1, 2017 and in conformance with the requirements of this paragraph in effect on December 31, 2014, may continue in service until the end of its useful life.

* * * * *

(d) * * *

(2) * * *

(iii) White may be used for the symbol for the ORGANIC PEROXIDE label.

(A) If white is used for the symbol for the ORGANIC PEROXIDE label then the solid line forming the inner border on the upper half of the label must also be white.

(B) Transitional exception. A label in conformance with the requirements of this paragraph in effect on December 31, 2014, may continue to be used until December 31, 2016.

(C) For domestic transportation, a packaging labeled prior to January 1, 2017 and in conformance with the requirements of this paragraph in effect on December 31, 2014, may continue in service until the end of its useful life.

(iv) The FLAMMABLE GAS label displayed on cylinders and gas cartridges for liquefied petroleum gases may be shown in the background color of the receptacle if adequate contrast is provided.

* * * * *

20. In § 172.512, paragraph (a)(3) is revised to read as follows:

§ 172.512 Freight containers and aircraft unit load devices.

(a) * * *

(3) Placarding is not required on a freight container or aircraft unit load device if it is only transported by air and is identified as containing a hazardous material in the manner provided in part 7, chapter 2, section 2.8, of the ICAO Technical Instructions (IBR, see § 171.7 of this subchapter).

* * * * *

21. In § 172.519, revise paragraph (c)(1) to read as follows:

§ 172.519 General specifications for placards.

* * * * *

(c) Size. (1) Each diamond (square-on-point) placard prescribed in this subpart must measure at least 250 mm (9.84 inches) on each side and must have a solid line inner border 12.5 mm inside and parallel to the edge. The 12.5 mm measurement is from the outside edge of the placard to the outside of the solid line forming the inner border. (i) Transitional exceptions A placard in conformance with the requirements of this paragraph in effect on December 31, 2014, may continue to be used until December 31, 2016.

(ii) For domestic transportation, a placard manufactured prior to January 1, 2017 in conformance with the requirements of this paragraph in effect on December 31, 2014, may continue in service until the end of its useful life provided the color tolerances are maintained and are in accordance with the display requirements of this subchapter.

* * * * *

PART 173—SHIPPERS—GENERAL REQUIREMENTS FOR SHIPMENTS AND PACKAGINGS

22. The authority citation for part 173 continues to read as follows:

Authority: 49 U.S.C. 5101-5128, 44701; 49 CFR 1.81, 1.96 and 1.97.

23. In § 173.2a, paragraph (a)(1) is revised to read as follows:

§ 173.2a Classification of a material having more than one hazard.

(a) * * *

(1) Class 7 (radioactive materials, other than limited quantities; and shipments of UN 3507, Uranium hexafluoride, radioactive material, excepted package)

* * * * *

24. In § 173.3, paragraphs (c)(3) and (d)(3)(iv) are revised and paragraph (f) is added to read as follows:

§ 173.3 Packaging and exceptions.

* * * * *

(c) * * *

(3) Each salvage packaging must be marked with the proper shipping name of the hazardous material inside the packaging and the name and address of the consignee. In addition, the packaging must be marked “SALVAGE”. The lettering of the marking must be at least 12 mm (0.5 inches) high.

(i) Transitional exception. A marking in conformance with the requirements of this paragraph in effect on December 31, 2014, may continue to be used until December 31, 2016.

(ii) For domestic transportation, a packaging marked prior to January 1, 2017 and in conformance with the requirements of this paragraph in effect on December 31, 2014, may continue in service until the end of its useful life.

* * * * *

(d) * * *

(3) * * *

(iv) The word “SALVAGE” in letters at least 12 mm (0.5 inches) high on opposite sides near the middle of the cylinder; stamping on the sidewall is not authorized.

(A) Transitional exception. A marking in conformance with the requirements of this paragraph in effect on December 31, 2014, may continue to be used until December 31, 2016.

(B) For domestic transportation, a packaging marked prior to January 1, 2017 and in conformance with the requirements of this paragraph in effect on December 31, 2014, may continue in service until the end of its useful life.

* * * * *

(f) Large salvage packagings. Except for transportation by air, packages of hazardous materials that are damaged, defective, or leaking; packages found to be not conforming to the requirements of this subchapter after having been placed in transportation; and, hazardous materials that have spilled or leaked may be placed in a large salvage packaging that is compatible with the lading and shipped for repackaging or disposal under the following conditions:

(1) Large salvage packagings must be tested and marked in accordance with part 178, subparts P and Q of this subchapter at the Packing Group II or higher performance standards for large packagings intended for the transport of solids or inner packagings, except as follows:

(i) The test substance used in performing the tests shall be water, and the large salvage packagings must be filled to not less than 98 percent of their maximum capacity; and

(ii) Large salvage packagings must have been successfully subjected to a leakproofness test of 30 kPa (4.4 psig).

(2) Each large salvage packaging shall be provided when necessary with sufficient cushioning and absorption material to prevent excessive shifting of the contents and to eliminate the presence of any free liquid at the time the packaging is closed. All cushioning and absorbent material used in the large salvage packaging must be compatible with the hazardous material.

(3) Each large salvage packaging must be marked with the proper shipping name of the hazardous material inside the packaging and the name and address of the consignee. In addition, the packaging must be marked “SALVAGE”. The lettering of the marking must be at least 12 mm (0.5 inches) high.

(4) Each large salvage packaging shall be labeled as prescribed for the respective material.

(5) The shipper shall prepare shipping papers in accordance with subpart C of part 172 of this subchapter.

(6) The overpack requirements of § 173.25 do not apply to large salvage packagings used in accordance with this paragraph.

25. In § 173.4a, revise paragraph (g)(2) to read as follows:

§ 173.4a Excepted quantities.

* * * * *

(g) * * *

(2) The marking must be durable and clearly visible and in the form of a square. The hatching must be of the same color, black or red on white or a suitable contrasting background. The minimum dimensions must not be less than 100 mm (3.9 inches) by 100 mm (3.9 inches) as measured from the outside of the hatching forming the border. Where dimensions are not specified, all features shall be in approximate proportion to those shown.

(i) Transitional exception—A marking in conformance with the requirements of this paragraph in effect on December 31, 2014, may continue to be used until December 31, 2016.

(ii) For domestic transportation, a packaging marked prior to January 1, 2017 and in conformance with the requirements of this paragraph in effect on December 31, 2014, may continue in service until the end of its useful life.

* * * * *

26. In § 173.9, revise paragraph (e)(1) to read as follows:

§ 173.9 Transport vehicles or freight containers containing lading which has been fumigated.

* * * * *

(e) FUMIGANT marking. (1) The FUMIGANT marking must consist of black letters on a white background that is a rectangle at least 400 mm (15.75 inches) wide and at least 300 mm (11.8 inches) high as measured to the outside of the lines forming the border of the marking. The minimum width of the line forming the border must be 2 mm and the text on the marking must not be less than 25 mm high. Except for size and color, the FUMIGANT marking must be as shown in the following figure. Where dimensions are not specified, all features shall be in approximate proportion to those shown.

(i) Transitional exception. A marking in conformance with the requirements of this paragraph in effect on December 31, 2014, may continue to be used until December 31, 2016.

(ii) [Reserved]

BILLING CODE 4910-60-P

BILLING CODE 4910-60-C

* * * * *

27. A new § 173.11 is added to read as follows:

§ 173.11 Exceptions for shipment of light bulbs containing hazardous materials.

The following light bulbs (lamps) are not subject to any other requirements of this subchapter provided they do not contain Class 7 (radioactive) material:

(a) Light bulbs that are collected directly from individuals and households when transported to a collection or recycling facility.

(b) Light bulbs each containing not more than 1 g of hazardous materials and packaged so that there is not more than 30 g of hazardous materials per package. Each light bulb must be packed in inner packagings separated by dividers, or surrounded by cushioning material to protect the light bulbs and packed into strong outer packagings meeting the requirements of § 173.24(b) of this subpart and capable of passing a 1.2 m (4 feet) drop test;

(c) Used, damaged, defective light bulbs each containing not more than 1 g of hazardous materials and packaged so that there is not more than 30 g of hazardous materials per package when transported from a collection or recycling facility. The light bulbs must be packed in strong outer packagings meeting the requirements of § 173.24(b) of this subpart and capable of passing a 1.2 m (4 feet) drop test.

(d) Light bulbs containing only gases of Division 2.2 provided they are packaged so that the projectile effects of any rupture of the bulb will be contained within the package.

28. In § 173.24, paragraph (c) is revised to read as follows:

§ 173.24 General requirements for packagings and packages.

* * * * *

(c) Authorized packagings. (1) A packaging is authorized for a hazardous material only if—

(i) The packaging is prescribed or permitted for the hazardous material in a packaging section specified for that material in Column 8 of the § 172.101 table and conforms to applicable requirements in the special provisions of Column 7 of the § 172.101 table and, for specification packagings (but not including UN standard packagings manufactured outside the United States), the specification requirements in parts 178 and 179 of this subchapter; or

(ii) The packaging is permitted under, and conforms to, provisions contained in subparts B or C of part 171 of this subchapter or §§ 173.3, 173.4, 173.4a, 173.4b, 173.5, 173.5a, 173.6, 173.7, 173.8, 173.27, or § 176.11 of this subchapter.

(2) The use of supplementary packagings within an outer packaging (e.g., an intermediate packaging or a receptacle inside a required inner packaging) additional to what is required by this subchapter is authorized provided all applicable requirements of this subchapter are met and, when necessary, suitable cushioning is used to prevent movement within the packaging.

* * * * *

29. In § 173.25, revise paragraph (a)(4) to read as follows:

§ 173.25 Authorized packagings and overpacks.

(a) * * *

(4) The overpack is marked with the word “OVERPACK” when specification packagings are required, unless specification markings on the inside packages are visible. The lettering on the “OVERPACK” marking must be at least 12 mm (0.5 inches) high.

(i) Transitional exception. A marking in conformance with the requirements of this paragraph in effect on December 31, 2014, may continue to be used until December 31, 2016.

(ii) For domestic transportation, an overpack marked prior to January 1, 2017 and in conformance with the requirements of this paragraph in effect on December 31, 2014, may continue in service until the end of its useful life.

* * * * *

30. In § 173.62, in paragraph (b), in the Explosives Table, the entry for UN0222 is revised; in paragraph (c), in the Table of Packing Methods, Packing Instructions 116, 117, 131, and 137 are revised to read as follows:

§ 173.62 Specific packaging requirements for explosives.

* * * * *

(b) * * *

Explosives Table
ID No. | PI
* * * * *
UN0222 | 112(b), 112(c) or 117.
* * * * *

(c) * * *

Table of Packing Methods
Packing instruction | Inner packagings | Intermediate packagings | Outer packagings
* * * * * * *
116 | Bags | Not necessary | Bags.
PARTICULAR PACKING REQUIREMENTS OR EXCEPTIONS: 1. For UN 0082, 0241, 0331 and 0332, inner packagings are not necessary if leakproof removable head drums are used as the outer packaging. 2. For UN 0082, 0241, 0331 and 0332, inner packagings are not required when the explosive is contained in a material impervious to liquid. 3. For UN 0081, inner packagings are not required when contained in rigid plastic that is impervious to nitric esters. 4. For UN 0331, inner packagings are not required when bags (5H2), (5H3) or (5H4) are used as outer packagings. 5. For UN0081, bags must not be used as outer packagings. | paper, water and oil resistant plastics textile, plastic coated or lined woven plastics, sift-proof Receptacles fiberboard, water resistant metal plastics wood, sift-proof Sheets paper, water resistant paper, waxed plastics |  | woven plastics (5H1/2/3). paper, multiwall, water resistant (5M2). plastics, film (5H4). textile, sift-proof (5L2). textile, water resistant (5L3). Boxes. steel (4A). aluminum (4B). other metal (4N). wood, natural, ordinary (4C1). natural wood, sift proof walls (4C2). plywood (4D). reconstituted wood (4F). fiberboard (4G). plastics, solid (4H2). Drums. steel (1A1 or 1A2). aluminum (1B1 or 1B2). other metal (1N1 or 1N2). plywood (1D). fiber (1G). plastics (1H1 or 1H2). Jerricans. steel (3A1 or 3A2). plastics (3H1 or 3H2).
117 | Not necessary | Not necessary | IBCs.
PARTICULAR PACKING REQUIREMENTS OR EXCEPTIONS: 1. This packing instruction may only be used for explosives of UN 0082 when they are mixtures of ammonium nitrate or other inorganic nitrates with other combustible substances that are not explosive ingredients. Such explosives must not contain nitroglycerin, similar liquid organic nitrates, liquid or solid nitrocarbons, or chlorates. 2. This packing instruction may only be used for explosives of UN 0241 that consist of water as an essential ingredient and high proportions of ammonium nitrate or other oxidizers, some or all of which are in solution. The other constituents may include hydrocarbons or aluminum powder, but must not include nitro-derivatives such as trinitrotoluene. 3. Metal IBCs must not be used for UN 0082, UN 0222 and UN 0241. 4. Flexible IBCs may only be used for solids. 5. For UN 0222, when other than metal or rigid plastics IBCs are used, they must be offered for transportation in a closed freight container or a closed transport vehicle. 6. For UN 0222, flexible IBCs must be sift-proof and water-resistant or must be fitted with a sift-proof and water-resistant liner. |  |  | metal (11A), (11B), (11N), (21A), (21B), (21N), (31A), (31B), (31N). flexible (13H2), (13H3), (13H4), (13L2), (13L3), (13L4), (13M2). rigid plastics (11H1), (11H2), (21H1), (21H2), (31H1), (31H2). composite (11HZ1), (11HZ2), (21HZ1), (21HZ2), (31HZ1), (31HZ2).
* * * * * * *
131 | Bags | Not necessary | Boxes.
PARTICULAR PACKING REQUIREMENTS OR EXCEPTIONS: 1. For UN 0029, 0267 and 0455, bags and reels may not be used as inner packagings. 2. For UN 0030, 0255 and 0456, inner packagings are not required when detonators are packed in pasteboard tubes, or when their leg wires are wound on spools with the caps either placed inside the spool or securely taped to the wire on the spool, so as to restrict free moving of the caps and to protect them from impact forces. 3. For UN 0360, 0361 and 0500, detonators are not required to be attached to the safety fuse, metal-clad mild detonating cord, detonating cord, or shock tube. Inner packagings are not required if the packing configuration restricts free moving of the caps and protects them from impact forces. | paper plastics Receptacles fiberboard metal plastics wood Reels |  | steel (4A). aluminum (4B). other metal (4N). wood, natural, ordinary (4C1). natural wood, sift proof walls (4C2). plastics, solid (4H2). plywood (4D). reconstituted wood (4F). fiberboard (4G). Drums. steel (1A1 or 1A2). Aluminum (1B1 or 1B2). other metal (1N1 or 1N2). Plywood (1D). fiber (1G). plastics (1H1 or 1H2).
* * * * * * *
137 | Bags | Not necessary | Boxes.
PARTICULAR PACKING REQUIREMENTS OR EXCEPTIONS: For UN 0059, 0439, 0440 and 0441, when the shaped charges are packed singly, the conical cavity must face downwards and the package marked “THIS SIDE UP”. When the shaped charges are packed in pairs, the conical cavities must face inwards to minimize the jetting effect in the event of accidental initiation. | plastics Boxes fiberboard wood Tubes fiberboard metal plastics Dividing partitions in the outer packagings |  | steel (4A). aluminum (4B). other metal (4N). wood, natural, ordinary (4C1). wood, natural, sift proof walls (4C2). plastics, solid (4H2). plywood (4D). reconstituted wood (4F). fiberboard (4G). Drums. steel (1A1 or 1A2). aluminum (1B1 or 1B2). other metal (1N1 or 1N2). plywood (1D). fiber (1G). plastics (1H1 or 1H2).
* * * * * * *

* * * * *

31. In § 173.115, add paragraph (m) to read as follows:

§ 173.115 Class 2, Divisions 2.1, 2.2, and 2.3—Definitions.

* * * * *

(m) Adsorbed gas. A gas which when packaged for transport is adsorbed onto a solid porous material resulting in an internal receptacle pressure of less than 101.3 kPa at 20 °C and less than 300 kPa at 50 °C.

32. In § 173.121, paragraph (b)(1)(ii) is revised to read as follows:

§ 173.121 Class 3—Assignment of packing group.

* * * * *

(b) * * *

(1) * * *

(ii) The mixture or any separated solvent does not contain any substances with a primary or a subsidiary risk of Division 6.1 or Class 8;

* * * * *

33. In § 173.127, paragraphs (a)(1) and (b) are revised to read as follows.

§ 173.127 Class 5, Division 5.1—Definition and assignment of packing groups.

(a) * * *

(1) A solid material is classed as a Division 5.1 material if, when tested in accordance with the UN Manual of Tests and Criteria (IBR, see § 171.7 of this subchapter):

(i) If test O.1 is used (UN Manual of Tests and Criteria, sub-section 34.4.1), the mean burning time is less than or equal to the burning time of a 3:7 potassium bromate/cellulose mixture; or

(ii) If test O.3 is used (UN Manual of Tests and Criteria, sub-section 34.4.3), the mean burning rate is greater than or equal to the burning rate of a 1:2 calcium peroxide/cellulose mixture.

* * * * *

(b) Assignment of packing groups. (1) The packing group of a Division 5.1 material which is a solid shall be assigned using the following criteria:

(i) Packing Group I, for any material which, in either concentration tested:

(A) If test O.1 is used (UN Manual of Tests and Criteria, sub-section 34.4.1), the mean burning time is less than the mean burning time of a 3:2 potassium bromate/cellulose mixture; or

(B) If test O.3 is used (UN Manual of Tests and Criteria, sub-section 34.4.3), the mean burning rate is greater than the mean burning rate of a 3:1 calcium peroxide/cellulose mixture.

(ii) Packing Group II, for any material which, in either concentration tested:

(A) If test O.1 is used (UN Manual of Tests and Criteria, sub-section 34.4.1), the mean burning time is less than the mean burning time of a 2:3 potassium bromate/cellulose mixture and the criteria for Packing Group I are not met; or

(B) If test O.3 is used (UN Manual of Tests and Criteria, sub-section 34.4.3), the mean burning rate is greater than the mean burning rate of a 1:1 calcium peroxide/cellulose mixture and the criteria for Packing Group I are not met.

(iii) Packing Group III for any material which, in either concentration tested:

(A) If test O.1 is used (UN Manual of Tests and Criteria, sub-section 34.4.1), the mean burning time is less than the mean burning time of a 3:7 potassium bromate/cellulose mixture and the criteria for Packing Groups I and II are not met; or

(B) If test O.3 is used (UN Manual of Tests and Criteria, sub-section 34.4.3), the mean burning rate is greater than the mean burning rate of a 1:2 calcium peroxide/cellulose mixture and the criteria for Packing Groups I and II are not met.

(iv) The materials is not classified as a Division 5.1 material if, in either concentration tested:

(A) If test O.1 is used (UN Manual of Tests and Criteria, sub-section 34.4.1), the sample tested does not ignite and exhibit burn, or exhibits a mean burning time of greater than or equal to the mean burning time of a 3:7 potassium bromate/cellulose mixture.

(B) If test O.3 is used (UN Manual of Tests and Criteria, sub-section 34.4.3), the sample tested does not ignite and exhibit burn, or exhibits a mean burning rate less than or equal to the mean burning rate of a 1:2 calcium peroxide/cellulose mixture.

* * * * *

34. In § 173.151, revise paragraph (b) to read as follows:

§ 173.151 Exceptions for Class 4.

* * * * *

(b) Limited quantities of Division 4.1. (1) Limited quantities of flammable solids (Division 4.1) in Packing Groups II and III and, where authorized by this section, charcoal briquettes (Division 4.2) in Packing Group III, are excepted from labeling requirements unless the material is offered for transportation or transported by aircraft, and are excepted from the specification packaging requirements of this subchapter when packaged in combination packagings according to this paragraph. If authorized for transportation by aircraft, the package must also conform to applicable requirements of § 173.27 of this part (e.g., authorized materials, inner packaging quantity limits and closure securement) and only hazardous material authorized aboard passenger-carrying aircraft may be transported as a limited quantity. A limited quantity package that conforms to the provisions of this section is not subject to the shipping paper requirements of subpart C of part 172 of this subchapter, unless the material meets the definition of a hazardous substance, hazardous waste, marine pollutant, or is offered for transportation and transported by aircraft or vessel, and is eligible for the exceptions provided in § 173.156 of this part. In addition, shipments of limited quantities are not subject to subpart F (Placarding) of part 172 of this subchapter. Each package must conform to the packaging requirements of subpart B of this part and may not exceed 30 kg (66 pounds) gross weight. Except for transportation by aircraft, the following combination packagings are authorized:

(i) For flammable solids in Packing Group II, inner packagings not over 1.0 kg (2.2 pounds) net capacity each, packed in a strong outer packaging.

(ii) For flammable solids in Packing Group III, inner packagings not over 5.0 kg (11 pounds) net capacity each, packed in a strong outer packaging.

(2) For transportation by highway or rail, Charcoal briquettes (NA1361) may be packaged as a limited quantity in accordance with paragraph (b) of this section in packagings not exceeding 30 kg gross weight and are eligible for the exceptions provided in § 173.156.

* * * * *

35. In § 173.161, paragraph (b)(2) is revised to read as follows:

§ 173.161 Chemical kits and first aid kits.

* * * * *

(b) * * *

(2) The packing group assigned to the chemical kit and first aid kit as a whole must be the most stringent packing group assigned to any individual substance in the kit. The packing group must be shown on the shipping paper. Where the kit contains only hazardous materials to which no packing group is assigned, the packagings shall meet the Packing Group II performance level. Where the kit contains only hazardous materials to which no packing group is assigned, the packing group does not have to be indicated on the shipping paper.

* * * * *

36. In § 173.164, paragraph (a)(5) is removed and reserved:

§ 173.164 Mercury (metallic and articles containing mercury).

(a) * * *

(5) [Reserved]

* * * * *

37. Revise § 173.166 to read as follows:

§ 173.166 Safety devices.

For the purpose of this section, safety devices are articles which contain pyrotechnic substances or hazardous materials of other classes and are used in vehicles, vessels or aircraft to enhance safety to persons. Examples are: air bag inflators, air bag modules, seat-belt pretensioners and pyromechanical devices. Pyromechanical devices are assembled components for tasks such as but not limited to separation, locking, release-and-drive or occupant restraint. The term includes “Safety devices, pyrotechnic.”

(a) Definitions. An air bag inflator (consisting of a casing containing an igniter, a booster material, a gas generant and, in some cases, a pressure receptacle (cylinder)) is a gas generator used to inflate an air bag in a supplemental restraint system in a motor vehicle. An air bag module is the air bag inflator plus an inflatable bag assembly. A seat-belt pretensioner contains similar hazardous materials and is used in the operation of a seat-belt restraining system in a motor vehicle.

(b) Classification. (1) Safety devices, excluding those which contain flammable or toxic gases or mixtures thereof, may be classed as Class 9 (UN3268) if the safety device, or if more than a single safety device is involved then the representative of the maximum parameters of each design type, is examined and successfully tested by a person or agency who is authorized by the Associate Administrator to perform examination and testing of explosives under § 173.56(b)(1), and who:

(i) Does not manufacture or market explosives or safety devices, is not owned in whole or in part, or is not financially dependent upon any entity that manufactures or markets explosives or safety devices;

(ii) Performs all examination and testing in accordance with the applicable requirements as specified in special provision 160 (see § 172.102 of this subchapter); and

(iii) Maintains records in accordance with paragraph (g) of this section.

(iv) By adhering to all the provisions specified in paragraph (b)(1) of this section, a Class 9 (UN3268) air bag inflator, air bag module or seat-belt pretensioner design is not required to be submitted to the Associate Administrator for approval or assigned an EX number. All other Class 9 (UN3268) safety device designs are required to be submitted to the Associate Administrator for approval and assigned an EX number;

(2) A safety device may be classed as Division 1.4G if the maximum parameters of each design type have been examined and successfully tested by a person or agency who is authorized by the Associate Administrator to perform such examination and testing of explosives under § 173.56(b)(1). As a Class 1 explosive, the manufacturer must submit to the Associate Administrator a report of the examination and assignment of a recommended shipping description, division, and compatibility group, and if the Associate Administrator finds the approval request meets the regulatory criteria, the explosive may be approved in writing and assigned an EX number; or

(3) The manufacturer has submitted an application, including a classification issued by the competent authority of a foreign government to the Associate Administrator, and received written notification from the Associate Administrator that the device has been approved for transportation and assigned an EX number.

(c) EX numbers. (1) When a safety device is classed and approved as a Division 1.4G and offered for transportation, the shipping paper must contain the EX number or product code for each approved device in association with the basic description required by § 172.202(a) of this subchapter. Product codes must be traceable to the specific EX number assigned to the device by the Associate Administrator. Further, if the EX number or product code is contained on the shipping paper then it is not required to be marked on the outside package.

(2) A safety device, when classed as a Class 9 (UN3268), is excepted from the EX number, or product code shipping paper requirements of paragraph (c) of this section.

(d) Exceptions. (1) A safety device that is classed as a Class 9 (UN3268) under the terms of paragraph (b)(1) of this section and is installed in a motor vehicle, aircraft, boat or other transport conveyance or its completed components, such as steering columns or door panels, is not subject to the requirements of this subchapter. A safety device that has been classed as a Division 1.4G and approved by the Associate Administrator and is installed in a motor vehicle, aircraft, boat or other transport conveyance or its completed components, such as steering columns or door panels, is not subject to the requirements of this subchapter.

(2) An air bag module containing an inflator that has been previously approved by the Associate Administrator for transportation is not required to be submitted for further examination or approval. For classifications granted after July 30, 2013, if the Class 9 designation for the inflator is contingent upon packaging or other special means specified by the authorized testing agency, the modules must be tested and certified separately to determine if they can be shipped as “UN3268, Safety Devices, 9, PG III”.

(3) An air bag module containing an inflator that has previously been approved by the Associate Administrator as a Division 2.2 material is not required to be submitted for further examination to be reclassed as a Class 9 material.

(4) Shipments to recycling or waste disposal facilities. When offered for domestic transportation by highway, rail freight, cargo vessel or cargo aircraft, a serviceable safety device classed as either Class 9 (UN3268) or Division 1.4G removed from a motor vehicle that was manufactured as required for use in the United States may be offered for transportation and transported without compliance with the shipping paper requirement prescribed in paragraph (c) of this section. However, when these articles are shipped to a recycling facility, the word “Recycled” must be entered on the shipping paper immediately after the basic description prescribed in § 172.202 of this subchapter. No more than one device is authorized in the packaging prescribed in paragraph (e)(1), (2) or (3) of this section. The device must be cushioned and secured within the package to prevent movement during transportation.

(5) An air bag inflator, air bag module, or seat-belt pretensioner that was classed and approved for transportation prior to January 1, 2015 may continue to be transported under the terms of the existing approval, using the appropriate proper shipping name “Safety Devices” or “Safety Devices, Pyrotechnic” based on the classification of the device as assigned by PHMSA or the authorized person or agency that examined and tested the design type.

(6) Until January 1, 2016, for domestic transportation by highway, rail, and vessel, packages containing air bag inflators, air bag modules, or seat-belt pretensioners may be;

(i) Marked with either the appropriate proper shipping name, or an appropriate proper shipping name authorized by § 172.101 in effect on December 31, 2014; and

(ii) Described on a shipping paper with either the appropriate proper shipping name, or an appropriate proper shipping name authorized by § 172.101 in effect on December 31, 2014.

(e) Packagings. Rigid, outer packagings, meeting the general packaging requirements of part 173 are authorized as follows. Additionally, the UN specification packagings listed in paragraphs (e)(1), (2), and (3) of this section must meet the packaging specification and performance requirements of part 178 of this subchapter at the Packing Group III performance level. The packagings must be designed and constructed to prevent movement of the articles and inadvertent activation. Further, if the Class 9 designation is contingent upon packaging specified by the authorized testing agency, shipments of the safety device must be in compliance with the prescribed packaging.

(1) 1A2, 1B2, 1N2, 1D, 1G, or 1H2 drums.

(2) 3A2, 3B2, or 3H2 jerricans.

(3) 4A, 4B, 4N, 4C1, 4C2, 4D, 4F, 4G, 4H1, or 4H2 boxes.

(4) Reusable high-strength containers or dedicated handling devices. (i) Reusable containers manufactured from high-strength plastic, metal, or other suitable material, or other dedicated handling devices are authorized for shipment of safety devices from a manufacturing facility to the assembly facility, subject to the following conditions:

(A) The gross weight of the containers or handling devices may not exceed 1000 kg (2205 pounds). Containers or handling devices must provide adequate support to allow stacking at least three units high with no resultant damage;

(B) If not completely enclosed by design, the container or handling device must be covered with plastic, fiberboard, metal, or other suitable material. The covering must be secured to the container by banding or other comparable methods; and

(C) Internal dunnage must be sufficient to prevent movement of the devices within the container.

(ii) Reusable containers manufactured from high-strength plastic, metal, or other suitable material, or other dedicated handling devices are authorized for shipment of safety devices only to, between, and from, intermediate handling locations, provided they meet the conditions specified in paragraphs (e)(4)(i)(A) through (C) of this section and:

(A) The packages may be opened and re-packed by an intermediate handler as long as no modifications or changes are made to the packagings; and

(B) Transportation must be made by private or contract carrier.

(5) Packagings which were previously authorized in an approval issued by the Associate Administrator may continue to be used, provided a copy of the approval is maintained while such packaging is being used.

(6) Safety Devices removed from a vehicle. When removed from, or were intended to be used in, a motor vehicle that was manufactured as required for use in the United States and offered for domestic transportation by highway to Recycling or Waste Disposal facilities, a serviceable safety device classed as Class 9 UN3268 may be offered for transportation and transported in the following additional packaging:

(i) Specification and non-specification steel drums with a wall and lid thickness not less than 20 gauge. The lid must be securely affixed with a lever-locking or bolted-ring assembly. The lid of the drum must provide ventilation of the drum contents in a fire. The drum may be filled with any combination of safety devices to a capacity not greater than fifty (50) percent of the drum's total volume. In addition, inner packagings or cushioning may not be used to fill the void space; or

(ii) Outer packaging consisting of 4H2 solid plastic boxes or non-specification rugged reusable plastic outer packaging and inner static-resistant plastic bags or trays. If not completely enclosed by design, the container or handling device must be covered with plastic, fiberboard, metal or other suitable material. The covering must be secured to the container by banding or other comparable methods. The articles must be packed to prevent movement within the container during transportation.

(f) Labeling. Notwithstanding the provisions of § 172.402, each package or handling device must display a CLASS 9 label. Additional labeling is not required when the package contains no hazardous materials other than the devices.

(g) Recordkeeping requirements. (1) Following the examination of each new design type classed as a Class 9 in accordance with paragraph (b)(1) of this section, the person that conducted the examination must prepare a test report and provide the test report to the manufacturer of the safety device. At a minimum, the test report must contain the following information:

(i) Name and address of the test facility;

(ii) Name and address of the applicant;

(iii) Manufacturer of the device. For a foreign manufacturer, the U.S. agent or importer must be identified;

(iv) A test report number, drawing of the device, and description of the safety device in sufficient detail to ensure that the test report is traceable (e.g. a unique product identifier) to a specific design;

(v) The tests conducted and the results; and

(vi) A certification that the safety device is classed as a Class 9 (UN3268).

(2) For at least fifteen (15) years after testing, a copy of each test report must be maintained by the authorizing testing agency. For as long as any safety device design is being manufactured, and for at least fifteen (15) years thereafter, a copy of each test report must be maintained by the manufacturer of the product.

(3) Test reports must be made available to a representative of the Department upon request.

38. In § 173.167, paragraph (a)(4) is revised to read as follows:

§ 173.167 Consumer Commodities.

(a) * * *

(4) Drop test capability. Breakable inner packagings (e.g., glass, earthenware, or brittle plastic) must be packaged to prevent failure under conditions normally incident to transport. Packages of consumer commodities as prepared for transport must be capable of withstanding a 1.2 m drop on solid concrete in the position most likely to cause damage. In order to pass the test, the outer packaging must not exhibit any damage liable to affect safety during transport and there must be no leakage from the inner packaging(s).

* * * * *

39. Section 173.176, is revised to read as follows:

§ 173.176 Capacitors.

(a) Capacitors, including capacitors containing an electrolyte that does not meet the definition of any hazard class or division as defined in this part, must conform to the following requirements:

(1) Except for asymmetric capacitors, capacitors not installed in equipment must be transported in an uncharged state.

(2) Each capacitor or module must be protected against a potential short circuit hazard in transport as follows:

(i) Except for asymmetric capacitors, when a capacitor's energy storage capacity is less than or equal to 10 Wh or when the energy storage capacity of each capacitor in a module is less than or equal to 10 Wh, the capacitor or module must be protected against short circuit or be fitted with a metal strap connecting the terminals; or

(ii) Except for asymmetric capacitors, when the energy storage capacity of a capacitor or a capacitor in a module is more than 10 Wh, the capacitor or module must be fitted with a metal strap connecting the terminals.

(iii) When an asymmetric capacitor's energy storage capacity is greater than 0.3 Wh, or when the energy storage capacity of each capacitor in a module is greater than 0.3 Wh, the capacitor or module must be protected against short circuit.

(3) Capacitors containing an electrolyte that meets the definition of one or more hazard class or division as defined in this part, must be designed to withstand a 95 kPa (0.95 bar, 14 psi) pressure differential.

(4) Capacitors must be designed and constructed to safely relieve pressure that may build up in use, through a vent or a weak point in the capacitor casing. Any liquid that is released upon venting must be contained by the packaging or by the equipment in which a capacitor is installed.

(5) Except for asymmetric capacitors, capacitors manufactured after December 31, 2013, or asymmetric capacitors manufactured after December 31, 2015, must be marked with the energy storage capacity in Wh.

(b) Capacitors must be packed in strong outer packagings. For transport by air, capacitors must be securely cushioned within the outer packagings. Capacitors installed in equipment may be offered for transport unpackaged or on pallets, when the capacitors are afforded equivalent protection by the equipment in which they are contained.

(c) Capacitors containing an electrolyte not meeting the definition of any hazard class or division as defined in this part, including when configured in a module or when installed in equipment, are not subject to any other requirements of this subchapter.

(d) Except for asymmetric capacitors, capacitors containing an electrolyte that meets the definition of one or more hazard class or division as defined in this part, with an energy storage capacity of 10 Wh or less are not subject to any other requirements of this subchapter, when they are capable of withstanding a 1.2 m (3.9 feet) drop test unpackaged onto a rigid, non-resilient, flat and horizontal surface without loss of contents.

(e) Asymmetric capacitors containing an electrolyte that meets the definition of one or more hazard class or division as defined in this part, with an energy storage capacity of 20 Wh or less, including when configured in a module, are not subject to other provisions of this subchapter when the capacitors are capable of withstanding a 1.2 meter (3.9 feet) drop test unpackaged onto a rigid, non-resilient, flat and horizontal surface without loss of contents.

(f) Except for asymmetric capacitors, capacitors containing an electrolyte meeting the definition of one or more hazard class or division as defined in this part, that are not installed in equipment, and with an energy storage capacity of more than 10 Wh are subject to the requirements of this subchapter.

(g) Asymmetric capacitors containing an electrolyte meeting the definition of one or more hazard class or division as defined in this part, that are not installed in equipment, and with an energy storage capacity of more than 20 Wh are to the requirements of this subchapter.

(h) Capacitors installed in equipment and containing an electrolyte meeting the definition of one or more hazard class or division as defined in this part, are not subject to any other requirements of this subchapter, provided the equipment is packaged in a strong outer packaging and in such a manner as to prevent accidental functioning of the capacitors during transport. Large, robust equipment containing capacitors may be offered for transport unpackaged or on pallets when the capacitors are afforded equivalent protection by the equipment in which they are contained.

40. In § 173.181, paragraph (c) is revised to read as follows:

§ 173.181 Pyrophoric materials (liquids).

* * * * *

(c) Steel drums (1A1 or 1A2), aluminum drums (1B1 or 1B2), metal drums, other than steel or aluminum (1N1 or 1N2) or fiber drums (1G); steel jerricans (3A1 or 3A2) or aluminum jerricans (3B1 or 3B2); or steel boxes (4A), aluminum boxes (4B) or metal boxes, other than steel or aluminum (4N) not exceeding 220 L (58 gallons) capacity each with strong, tight inner metal cans not over 4.0 L (1 gallon) capacity each. The strong, tight metal cans must be closed by positive means, not friction.

(1) Inner packagings must have no opening exceeding 25 mm (1 inch) diameter and must be surrounded with noncombustible cushioning material.

(2) Net quantity of pyrophoric liquids may not exceed two-thirds of the rated capacity of the outer drum. For example, a 220 L (58 gallons) outer drum may contain no more than 147 L (39 gallons) of pyrophoric liquids.

(3) Each layer of inner containers must be separated by a metal plate separator in addition to cushioning material.

41. In § 173.185,

a. Paragraph (b)(6) is added;

b. Paragraphs (c) introductory text, (c)(1)(iii) and (c)(4)(v) are revised; and

d. Paragraph (f)(3) is revised.

The revisions and additions read as follows:

§ 173.185 Lithium cells and batteries.

* * * * *

(b) * * *

(6) Except for transportation by aircraft, the following rigid large packagings are authorized for a single battery, including for a battery contained in equipment, meeting provisions (b)(1) and (2) of this section and the requirements of part 178, subparts P and Q, of this subchapter at the Packing Group II level:

(i) Metal (50A, 50B, 50N);

(ii) Rigid plastic (50H);

(iii) Wooden (50C, 50D, 50F);

(iv) Rigid fiberboard (50G).

(c) Exceptions for smaller cells or batteries. Other than as specifically stated below, a package containing lithium cells or batteries, or lithium cells or batteries packed with, or contained in, equipment, that meets the conditions of this paragraph, is excepted from the requirements in subparts C through H of part 172 of this subchapter and the UN performance packaging requirements in paragraphs (b)(3)(ii) and (b)(4) of this section under the following conditions and limitations.

(1) * * *

(iii) Except when lithium metal cells or batteries are packed with or contained in equipment in quantities not exceeding 5 kg net weight, the outer package that contains lithium metal cells or batteries must be marked: “PRIMARY LITHIUM BATTERIES—FORBIDDEN FOR TRANSPORT ABOARD PASSENGER AIRCRAFT” or “LITHIUM METAL BATTERIES—FORBIDDEN FOR TRANSPORT ABOARD PASSENGER AIRCRAFT, or labeled with a CARGO AIRCRAFT ONLY” label specified in § 172.448 of this subchapter.

* * * * *

(4) * * *

(v) A package that exceeds the number or quantity (mass) limits in the table shown in (c)(4) is subject to all applicable requirements of this subchapter, except that a package containing no more than 2.5 kg lithium metal cells or batteries or 10 kg lithium ion cells or batteries is not subject to the UN performance packaging requirements in paragraphs (b)(3)(ii) of this section when the package displays both the lithium battery handling mark and the Class 9 label.

* * * * *

(f) * * *

(3) Each inner packaging must be individually placed in one of the following packagings meeting the applicable requirements of part 178, subparts L, M, P and Q of this subchapter at the Packing Group I level:

(i) Metal (4A, 4B, 4N), wooden (4C1, 4C2, 4D, 4F), or solid plastic (4H2) box;

(ii) Metal (1A2, 1B2, 1N2), plywood (1D), or plastic (1H2) drum; or

(iii) Except for transportation by aircraft, for a single large battery or for a single battery contained in equipment, the following rigid large packagings are authorized:

(A) Metal (50A, 50B, 50N);

(B) Rigid plastic (50H);

(C) Plywood (50D); and

* * * * *

42. In § 173.199, revise paragraph (a)(5) to read as follows:

§ 173.199 Category B infectious substances.

* * * * *

(a) * * *

(5) The following square-on-point mark must be displayed on the outer packaging on a background of contrasting color. The width of the line forming the border must be at least 2 mm (0.08 inches) and the letters and numbers must be at least 6 mm (0.24 inches) high. The size of the mark must be such that no side of the diamond is less than 50 mm (1.97 inches) in length as measured from the outside of the lines forming the border. The proper shipping name “Biological substances, Category B” must be marked on the outer packaging adjacent to the diamond-shaped mark in letters that are at least 6 mm (0.24 inches) high.

(i) Transitional exception—A marking in conformance with the requirements of this paragraph in effect on December 31, 2014, may continue to be used until December 31, 2016.

(ii) For domestic transportation, a packaging marked prior to January 1, 2017 and in conformance with the requirements of this paragraph in effect on December 31, 2014, may continue in service until the end of its useful life.

* * * * *

§ 173.220 [Amended]

43. In § 173.220, in the last sentence of paragraph (d), add the phrase “(IBR, see § 171.7)” after the phrase “UN Manual of Tests and Criteria”.

44. In § 173.225(g), in the Organic Peroxide Portable Tank Table, the last entry in the table is revised and a new Note 1 is added immediately following the end of the table to read as follows:

§ 173.225 Packaging requirements and other provisions for organic peroxides.

* * * * *

(g) * * *

Organic Peroxide Portable Tank Table
UN No. | Hazardous material | Minimum test pressure (bar) | Minimum shell thickness (mm- reference steel) See . . . | Bottom opening requirements See . . . | Pressure relief requirements See . . . | Filling limits | Control temperature | Emergency temperature
| [REVISE]
* * * * * * *
| Peroxyacetic acid, distilled, stabilized, not more than 41%. ¹ | 4 | § 178.274(d)(2) | § 178.275(d)(3) | § 178.275(g)(1) | Not more than 90% at 59 °F (15 °C) | +30 °C | +35 °C

Note: 1. “Corrosive” subsidiary risk placard is required.

* * * * *

45. A new § 173.231 is added to read as follows

§ 173.231 Ammonium nitrate emulsion, suspension or gel.

(a) Packagings for non-bulk shipments of Ammonium nitrate emulsions, suspensions and gels must conform to the general packaging requirements of subpart B of part 173, to the requirements of part 178 of this subchapter at the Packing Group I or II performance level, and the requirements of the special provisions of column 7 of the § 172.101 table.

(1) The following combination packagings are authorized:

Outer packagings:

Drums: 1B2, 1G, 1N2, 1H2 or 1D

Boxes: 4B, 4C1, 4C2, 4D, 4G or 4H2

Jerricans: 3B2 of 3H2

Inner Packagings:

Glass, plastic or metal inner receptacles

(2) For combination packagings, the capacity of each inner packaging must not exceed 5 liters (1.3 gallons) and the maximum authorized net weight of each outer packaging must not exceed 125 kg (275 pounds).

(3) The following single packagings are authorized:

Drums: 1B1, 1B2, 1H1 or 1H2 with a maximum capacity of 250 liters (66 gallons).

Jerricans: 3B1, 3B2, 3H1 or 3H2 with a maximum capacity of 60 liters (15.9 gallons).

Plastic receptacle in aluminum, fiber, plastic or plywood drum: 6HB1, 6HG1, 6HH1 or 6HD1with the outer drum having a maximum capacity of 250 liters (66 gallons).

Plastic receptacle in aluminum wood, plywood, fiberboard, or solid plastic box: 6HB2, 6HC, 6HD2, 6HG2, or 6HH2 with the outer box having a maximum capacity of 60 liters (15.9 gallons).

Glass receptacle in aluminum, fiber, or plywood drum: 6PB1, 6PF1 or 6PD1 with the outer drum having a maximum capacity of 60 liters (15.9 gallons).

Glass receptacle in expanded plastic or solid plastic packaging: 6PH1 or 6PH2 with the outer packaging having a maximum capacity of 60 liters (15.9 gallons).

Glass receptacle in aluminum, wood, or fiberboard box, or wickerwork hamper: 6PB2, 6PC, 6PG2 or 6PD2 with the outer box or hamper having a maximum capacity of 60 liters (15.9 gallons).

(b) [Reserved]

46. Section 173.251 is added to subpart F to read as follows:

§ 173.251 Bulk packaging for ammonium nitrate emulsion, suspension, or gel.

When § 172.101 of this subchapter specifies that a hazardous material be packaged under this section, only the following bulk packagings are authorized, subject to the requirements of subparts A and B of part 173 of this subchapter and the special provisions specified in column 7 of the § 172.101 table.

(a) IBCs. IBCs are authorized subject to the conditions and limitations of this section provided:

(1) The IBC type is authorized according to the IBC packaging code for the specific hazardous material in Column (7) of the § 172.101 Table;

(2) The IBC conforms to the requirements in subpart O of part 178 of this subchapter at the Packing Group performance level in Column (5) of the § 172.101 Table for the material being transported.

(b) [Reserved]

47. In § 173.301b, paragraphs (c)(1), (c)(2)(ii) and (iii) are revised to read as follows:

§ 173.301b Additional general requirements for shipment of UN pressure receptacles.

(c) Pressure receptacle valve requirements. (1) When the use of a valve is prescribed, the valve must conform to the requirements in ISO 10297:2006 (IBR, see § 171.7 of this subchapter). Until December 31, 2008, the manufacture of a valve conforming to the requirements in ISO 10297:1999 (IBR, see § 171.7 of this subchapter) is authorized.

(2) * * *

(ii) By equipping the UN pressure receptacle with a valve cap conforming to the requirements in ISO 11117:2008 and Technical Corrigendum 1 (IBR, see § 171.7 of this subchapter). Until December 31, 2014, the manufacture of a valve cap conforming to the requirements in ISO 11117:1998 (IBR, see § 171.7 of this subchapter) is authorized. The cap must have vent-holes of sufficient cross-sectional area to evacuate the gas if leakage occurs at the valve;

(iii) By protecting the valves by shrouds or guards conforming to the requirements in ISO 11117:2008 and Technical Corrigendum 1 (IBR; see § 171.7 of this subchapter). Until December 31, 2014, the manufacture of a shroud or guard conforming to the requirements in ISO 11117:1998 (IBR, see § 171.7 of this subchapter) is authorized. For metal hydride storage systems, by protecting the valves in accordance with the requirements in ISO 16111:2008 (IBR; see § 171.7 of this subchapter).

* * * * *

48. In § 173.302, revise the section heading and paragraphs (a)(1) and (2) to read as follows:

§ 173.302 Filling of cylinders with nonliquefied (permanent) compressed gases or adsorbed gases.

(a) General requirements. (1) A cylinder filled with a non-liquefied compressed gas (except gas in solution) must be offered for transportation in accordance with the requirements of this section and § 173.301. In addition, a DOT specification cylinder must meet the requirements in §§ 173.301a, 173.302a and 173.305, as applicable. UN pressure receptacles must meet the requirements in §§ 173.301b and 173.302b, as applicable. Where more than one section applies to a cylinder, the most restrictive requirements must be followed.

(2) Adsorbed gas. A cylinder filled with an adsorbed gas must be offered for transportation in accordance with the requirements of paragraph (d) of this section, § 173.301, and § 173.302c. UN cylinders must meet the requirements in §§ 173.301b and 173.302b, as applicable. Where more than one section applies to a cylinder, the most restrictive requirements must be followed.

* * * * *

49. A new § 173.302c is added to read as follows:

§ 173.302c Additional requirements for the shipment of adsorbed gases in UN pressure receptacles.

(a) A cylinder filled with an adsorbed gas must be offered for transportation in UN pressure receptacles subject to the requirements in this section and § 173.302, as well as, §§ 173.301 and 173.301b.

(b) The pressure of each filled cylinder must be less than 101.3 kPa at 20 °C (68 °F) and must not exceed 300 kPa at 50 °C (122 °F).

(c) The minimum test pressure of the cylinder must be 21 bar.

(d) The minimum burst pressure of the cylinder must be 94.5 bar.

(e) The internal pressure at 65 °C (149 °F) of the filled cylinder must not exceed the test pressure of the cylinder.

(f) The adsorbent material must be compatible with the cylinder and must not form harmful or dangerous compounds with the gas to be adsorbed. The gas in combination with the adsorbent material must not affect or weaken the cylinder or cause a dangerous reaction (e.g., a catalyzing reaction).

(g) The quality of the adsorbent material must be verified at the time of each fill to assure the pressure and chemical stability requirements of this section are met each time an adsorbed gas package is offered for transport.

(h) The adsorbent material must not meet the definition of any other hazard class.

(i) Cylinders and closures containing toxic gases with an LC50 less than or equal to 200 ml/m3 (ppm) (see the following Adsorbed Gases Table) must meet the following requirements:

(1) Valve outlets must be fitted with pressure retaining gas-tight plugs or caps having threads matching those of the valve outlets.

(2) Each valve must either be of the packless type with non-perforated diaphragm, or be of a type which prevents leakage through or past the packing.

(3) Each cylinder and closure must be tested for leakage after filling.

(4) Each valve must be capable of withstanding the test pressure of the cylinder and be directly connected to the cylinder by either a taper-thread or other means which meets the requirements of ISO 10692-2 (IBR, see § 171.7 of this subchapter); and

(5) Cylinders and valves must not be fitted with a pressure relief device.

(j) Valve outlets for cylinders containing pyrophoric gases must be fitted with gas-tight plugs or caps having threads matching those of the valve outlets.

(k) The filling procedure must be in accordance with Annex A of ISO 11513 (IBR, see § 171.7 of this subchapter).

(l) The maximum period for periodic requalification must be in accordance with § 180.207(c) of this subchapter.

Adsorbed Gases Table
ID No. | Hazardous material | LC50 ml/m³ | Notes
3510 | Adsorbed gas, flammable, n.o.s. |  | z.
3511 | Adsorbed gas, n.o.s. |  | z.
3512 | Adsorbed gas, toxic, n.o.s. | ≤5000 | z.
3513 | Adsorbed gas, oxidizing, n.o.s. |  | z.
3514 | Adsorbed gas, toxic, flammable, n.o.s. | ≤5000 | z.
3515 | Adsorbed gas, toxic, oxidizing, n.o.s. | ≤5000 | z.
3516 | Adsorbed gas, toxic, corrosive, n.o.s. | ≤5000 | z.
3517 | Adsorbed gas, toxic, flammable, corrosive, n.o.s. | ≤5000 | z.
3518 | Adsorbed gas, toxic, oxidizing, corrosive, n.o.s. | ≤5000 | z.
3519 | Boron trifluoride, adsorbed | 387 | a.
3520 | Chlorine, adsorbed | 293 | a.
3521 | Silicon tetrafluoride, adsorbed | 450 | a.
3522 | Arsine, adsorbed | 20 | d.
3523 | Germane, adsorbed | 620 | d, r.
3524 | Phosphorus pentafluoride, adsorbed | 190
3525 | Phosphine, adsorbed | 20 | d.
3526 | Hydrogen selenide, adsorbed | 2
Notes:
a: Aluminum alloy cylinders must not be used.
d: When steel cylinders are used, only those bearing the “H” mark in accordance with § 173.302b(f) are authorized.
r: The filling of this gas must be limited such that, if complete decomposition occurs, the pressure does not exceed two thirds of the test pressure of the cylinder.
z: The construction materials of the cylinders and their accessories must be compatible with the contents and must not react to form harmful or dangerous compounds therewith.

50. In § 173.307, paragraphs (a)(5) and (a)(6) are revised to read as follows:

§ 173.307 Exceptions for compressed gases.

(a) * * *

(5) Manufactured articles or apparatuses, other than light bulbs each containing not more than 100 mg (0.0035 ounce) of inert gas and packaged so that the quantity of inert gas per package does not exceed 1 g (0.35 ounce).

(6) Light bulbs (lamps) conforming to the requirements of § 173.11.

* * * * *

51. In § 173.309, an introductory paragraph and a new paragraph (e) are added to read as follows:

§ 173.309 Fire extinguishers.

This section applies to portable fire extinguishers for manual handling and operation, fire extinguishers for installation in aircraft, and large fire extinguishers. Large fire extinguishers include fire extinguishers mounted on wheels for manual handling; fire extinguishing equipment or machinery mounted on wheels or wheeled platforms or units transported similar to (small) trailers; and fire extinguishers composed of a non-rollable pressure drum and equipment, and handled, for example, by fork lift or crane when loaded or unloaded.

* * * * *

(e) Large fire extinguishers may be transported while unpackaged under the following conditions:

(1) The requirements of § 173.24(b) are met;

(2) The valves are protected in accordance with § 173.301(c)(2)(i), (ii), (iii) or (v); and

(3) Other equipment mounted on the fire extinguisher is protected to prevent accidental activation.

* * * * *

52. In § 173.403, the definitions of “Exclusive use” and “Freight container” are revised to read as follows:

§ 173.403 Definitions.

* * *

Exclusive use means sole use by a single consignor of a conveyance for which all initial, intermediate, and final loading and unloading and shipment are carried out in accordance with the direction of the consignor or consignee where required by this subchapter. The consignor and the carrier must ensure that any loading or unloading is performed by personnel having radiological training and resources appropriate for safe handling of the consignment. The consignor must provide to the initial carrier specific written instructions for maintenance of exclusive use shipment controls, including the vehicle survey requirement of § 173.443(c) as applicable, and include these instructions with the shipping paper information provided to the carrier by the consignor.

* * * * *

Freight container means a reusable container having a volume of 1.81 cubic meters (64 cubic feet) or more, designed and constructed to permit it being lifted with its contents intact and intended primarily for containment of packages in unit form during transportation. A “small freight container” is one which has an internal volume of not more than 3.0 cubic meters (106 cubic feet). All other freight containers are designated as “large freight containers.”

* * * * *

53. In § 173.420, paragraph (d) is revised to read as follows:

§ 173.420 Uranium hexafluoride (fissile, fissile excepted and non-fissile).

* * * * *

(d) Uranium hexafluoride not exceeding the limits specified in the limited quantity package limits column of table 4 in § 173.425 may be classified as UN 3507, Uranium hexafluoride, radioactive material, excepted package, less than 0.1 kg (0.22 pounds) per package, non-fissile or fissile-excepted, provided that:

(1) The mass of uranium hexafluoride in the package is less than 0.1 kg (0.22 pounds); and

(2) The conditions of §§ 173.24, 173.24a, 173.421(a)(1) and (a)(4) are met.

* * * * *

54. In § 173.415, paragraph (d) is revised to read as follows:

§ 173.415 Authorized Type A packages.

* * * * *

(d) Any foreign-made packaging that meets the standards in the ” IAEA Regulations for the Safe Transport of Radioactive Material, SSR-6” (IBR, see § 171.7 of this subchapter) and bears the marking “Type A”. Such packagings may be used for domestic and export shipments of Class 7 (radioactive) materials provided the offeror obtains the applicable documentation of tests and engineering evaluations and maintains the documentation on file in accordance with paragraph (a) of this section. These packagings must conform with requirements of the country of origin (as indicated by the packaging marking) and the IAEA regulations applicable to Type A packagings.

55. In § 173.416, paragraph (b) is revised to read as follows:

§ 173.416 Authorized Type B packages.

* * * * *

(b) Any Type B(U) or B(M) packaging that meets the applicable requirements in “IAEA Regulations for the Safe Transport of Radioactive Material, SSR-6” (IBR, see § 171.7 of this subchapter) and for which the foreign Competent Authority Certificate has been revalidated by DOT pursuant to § 173.473. These packagings are authorized only for export and import shipments.

* * * * *

56. In § 173.417, paragraphs (a)(1)(iii) and (b)(2) are revised to read as follows:

§ 173.417 Authorized fissile materials packages.

(a) * * *

(1) * * *

(iii) Any Type AF, Type B(U)F, or Type B(M)F packaging that meets the applicable requirements for fissile material packages in Section VI of the International Atomic Energy Agency “Regulations for the Safe Transport of Radioactive Material, SSR-6 (IBR, see § 171.7 of this subchapter),” and for which the foreign Competent Authority certificate has been revalidated by the U.S. Competent Authority, in accordance with § 173.473. These packages are authorized only for export and import shipments.

* * * * *

(b) * * *

(2) Type B(U) or Type B(M) packaging that also meets the applicable requirements for fissile material packaging in Section VI of the International Atomic Energy Agency “Regulations for the Safe Transport of Radioactive Material, SSR-6,” and for which the foreign Competent Authority certificate has been revalidated by the U.S. Competent Authority in accordance with § 173.473. These packagings are authorized only for import and export shipments; or

* * * * *

57. In § 173.435, note (a) is revised to read as follows:

§ 173.435 Table of A1 and A2 values for radionuclides.

* * * * *

ᵃA1 and/or A2 values for these parent radionuclides include contributions from daughter nuclides with half-lives less than 10 days as listed in footnote (a) to Table 2 in the “IAEA Regulations for the Safe Transport of Radioactive Material, SSR-6” (IBR, see § 171.7 of this subchapter).

* * * * *

58. In § 173.466, paragraph (a) is revised to read as follows:

§ 173.466 Additional tests for Type A packagings designed for liquids and gases.

(a) In addition to the tests prescribed in § 173.465, Type A packagings designed for liquids and gases must be capable of withstanding the following tests in this section. The tests are successful if the requirements of § 173.412(k) are met.

(1) Free drop test. The packaging specimen must drop onto the target so as to suffer the maximum damage to its containment. The height of the drop measured from the lowest part of the packaging specimen to the upper surface of the target must be 9 m (30 feet) or greater. The target must be as specified in § 173.465(c)(5).

(2) Penetration test. The specimen must be subjected to the test specified in § 173.465(e) except that the height of the drop must be 1.7 m (5.5 feet).

* * * * *

59. In § 173.473, the introductory paragraph and paragraph (a)(1) are revised to read as follows:

* * * * *

§ 173.473 Requirements for foreign-made packages.

In addition to other applicable requirements of this subchapter, each offeror of a foreign-made Type B(U), Type B(M), Type C, Type CF, Type H(U), Type H(M), or fissile material package for which a Competent Authority Certificate is required by IAEA's “Regulations for the Safe Transport of Radioactive Material, SSR-6, ” (IBR, see § 171.7 of this subchapter) shall also comply with the following requirements:

(a) * * *

(1) Have the foreign competent authority certificate revalidated by the U.S. Competent Authority, unless this has been done previously. Each request for revalidation must be in triplicate, contain all the information required by Section VIII of the IAEA regulations in “IAEA Regulations for the Safe Transport of Radioactive Material, SSR-6” (IBR, see § 171.7 of this subchapter), and include a copy in English of the foreign competent authority certificate. The request and accompanying documentation must be sent to the Associate Administrator for Hazardous Materials Safety (PHH-23), Department of Transportation, East Building, 1200 New Jersey Avenue SE., Washington, DC 20590-0001. Alternatively, the request with any attached supporting documentation submitted in an appropriate format may be sent by facsimile (fax) to (202) 366-3753 or (202) 366-3650, or by electronic mail to “ramcert@dot.gov.” Each request is considered in the order in which it is received. To allow sufficient time for consideration, requests must be received at least 90 days before the requested effective date;

* * * * *

PART 175—CARRIAGE BY AIRCRAFT

60. The authority citation for part 175 continues to read as follows:

Authority: 49 U.S.C. 5101-5128, 44701; 49 CFR 1.81 and 1.97.

61. In § 175.9, paragraphs (b)(6) introductory text and (b)(6)(v) are revised to read as follows:

§ 175.9 Special aircraft operations.

* * * * *

(b) * * *

(6) Hazardous materials that are loaded and carried on or in cargo only aircraft, and that are to be dispensed or expended during flight for weather control, environmental restoration or protection, forest preservation and protection, firefighting and prevention, flood control, avalanche control, landslide clearance, or ice jam control purposes, when the following requirements are met:

* * * * *

(v) When Division 1.1, 1.2, and 1.3 materials (except detonators and detonator assemblies) and detonators or detonator assemblies are carried for avalanche control, landslide clearance, or ice jam control flights, the explosives must be handled by, and at all times be under the control of, a qualified blaster. When required by a State or local authority, the blaster must be licensed and the State or local authority must be identified in writing to the FAA Principal Operations Inspector assigned to the operator.

* * * * *

62. In § 175.10:

a. Paragraphs (a)(11) and (24) are revised;

b. Paragraphs (a)(18)(iii) and (iv) are added.

The revisions and additions read as follows:

§ 175.10 Exceptions for passengers, crewmembers, and air operators.

(a) * * *

(11) A single self-inflating personal safety device such as a life jacket or vest fitted with no more than two small gas cartridges (containing no hazardous material other than a Div. 2.2 gas) for inflation purposes plus no more than two spare cartridges. The personal safety device and spare cartridges may be carried in carry-on or checked baggage, with the approval of the aircraft operator, and must be packed in such a manner that it cannot be accidently activated.

* * * * *

(18) * * *

(iii) For a non-spillable battery, the battery and equipment must conform to § 173.159a(d). Each battery must not exceed a voltage greater than 12 volts and a watt-hour rating of not more than 100 Wh. No more than two individually protected spare batteries may be carried. Such equipment and spare batteries must be carried in checked or carry-on baggage.

(iv) Articles containing lithium metal or lithium ion cells or batteries the primary purpose of which is to provide power to another device must be carried as spare batteries in accordance with the provisions of this paragraph.

* * * * *

(24) Small cartridges fitted into devices with no more than four small cartridges of carbon dioxide or other suitable gas in Division 2.2, without subsidiary risk with the approval of the operator. The water capacity of each cartridge must not exceed 50 mL (equivalent to a 28 g cartridge).

* * * * *

63. In § 175.25, paragraphs (b) and (c) are revised to read as follows:

§ 175.25 Notification at air passenger facilities of hazardous materials restrictions.

(a) * * *

(b) Ticket purchase. An aircraft operator must ensure that information on the types of hazardous materials which a passenger is forbidden to transport aboard an aircraft is presented at the point of ticket purchase or, if this is not practical, made available in another manner to passengers prior to the check-in process. Information provided via the Internet may be in text or pictorial form but must be such that ticket purchase cannot be completed until the passenger, or a person acting on their behalf, has been presented with this information and indicated that they have understood the restrictions on hazardous materials in baggage.

(c) Check-in. When the flight check-in process is conducted remotely (e.g., via the Internet) or when completed at the airport, without assistance from another person (e.g., automated check-in kiosk), the aircraft operator must ensure that information on the types of hazardous materials a passenger is forbidden to transport aboard an aircraft is presented to passengers. Information may be in text or in pictorial form but must be such that the check-in process cannot be completed until the passenger, or a person acting on their behalf, has been presented with this information and indicated that they have understood the restrictions on hazardous materials in baggage.

* * * * *

§ 175.30 [Amended]

64. In § 175.30, remove paragraphs (a)(5) and (e)(1), and redesignate (e)(2) and (3) as (e)(1) and (2).

§ 175.33 [Amended]

65. In § 175.33, revise paragraphs (a)(1)(i) and remove paragraphs (a)(12) and (c)(5).

The revision reads as follows:

§ 175.33 Shipping paper and notification of pilot-in-command.

(a) * * *

(1) * * *

(i) Section 172.101 of this subchapter. Except for the requirement to indicate the type of package or technical name, any additional description requirements provided in §§ 172.202, and 172.203 of this subchapter must also be shown on the notification.

* * * * *

§ 175.630 [Amended]

66. In § 175.630, paragraph (a) is removed and reserved.

* * * * *

67. In § 175.705, paragraph (c) is revised to read as follows:

§ 175.705 Radioactive contamination.

* * * * *

(c) An aircraft in which Class 7 (radioactive) material has been released must be taken out of service and may not be returned to service or routinely occupied until the aircraft is checked for radioactive substances and it is determined that any radioactive substances present do not meet the definition of radioactive material, as defined in § 173.403 of this subchapter, and it is determined in accordance with § 173.443 of this subchapter that the dose rate at every accessible surface must not exceed 0.005 mSv per hour (0.5 mrem per hour) and there is no significant removable surface contamination.

* * * * *

PART 176—CARRIAGE BY VESSEL

68. The authority citation for part 176 continues to read as follows:

Authority: 49 U.S.C. 5101-5128; 49 CFR 1.81 and 1.97.

69. In § 176.80, paragraph (b) is revised to read as follows:

§ 176.80 Applicability.

* * * * *

(b) Hazardous materials in limited quantities when loaded in transport vehicles and freight containers, are excepted from the segregation requirements of this subpart and any additional segregation specified in this subchapter for transportation by vessel; except that articles of division 1.4, compatibility group S, shall not be stowed in the same compartment or hold, or cargo transport unit with hazardous materials of Class 1 of compatibility groups A and L.

70. In § 176.83, Table 176.83(b) is revised to read as follows:

§ 176.83 Segregation.

* * * * *

Table 176.83(b)—General Segregation Requirements for Hazardous Materials
[Segregation must also take account of a single secondary hazard label, as required by paragraph (a)(6) of this section.]
Class | 1.1, 1.2, 1.5 | 1.3 | 1.4, 1.6 | 2.1 | 2.2 | 2.3 | 3 | 4.1 | 4.2 | 4.3 | 5.1 | 5.2 | 6.1 | 6.2 | 7 | 8 | 9
Explosives, 1.1, 1.2, 1.5 | (*) | (*) | (*) | 4 | 2 | 2 | 4 | 4 | 4 | 4 | 4 | 4 | 2 | 4 | 2 | 4 | X
Explosives, 1.3 | (*) | (*) | (*) | 4 | 2 | 2 | 4 | 3 | 3 | 4 | 4 | 4 | 2 | 4 | 2 | 2 | X
Explosives, 1.4, 1.6 | (*) | (*) | (*) | 2 | 1 | 1 | 2 | 2 | 2 | 2 | 2 | 2 | X | 4 | 2 | 2 | X
Flammable gases 2.1 | 4 | 4 | 2 | X | X | X | 2 | 1 | 2 | 2 | 2 | 2 | X | 4 | 2 | 1 | X
Non-toxic, non-flammable gases 2.2 | 2 | 2 | 1 | X | X | X | 1 | X | 1 | X | X | 1 | X | 2 | 1 | X | X
Poisonous gases 2.3 | 2 | 2 | 1 | X | X | X | 2 | X | 2 | X | X | 2 | X | 2 | 1 | X | X
Flammable liquids 3 | 4 | 4 | 2 | 2 | 1 | 2 | X | X | 2 | 2 | 2 | 2 | X | 3 | 2 | X | X
Flammable solids 4.1 | 4 | 3 | 2 | 1 | X | X | X | X | 1 | X | 1 | 2 | X | 3 | 2 | 1 | X
Spontaneously combustible substances 4.2 | 4 | 3 | 2 | 2 | 1 | 2 | 2 | 1 | X | 1 | 2 | 2 | 1 | 3 | 2 | 1 | X
Substances which are dangerous when wet 4.3 | 4 | 4 | 2 | 2 | X | X | 2 | X | 1 | X | 2 | 2 | X | 2 | 2 | 1 | X
Oxidizing substances 5.1 | 4 | 4 | 2 | 2 | X | X | 2 | 1 | 2 | 2 | X | 2 | 1 | 3 | 1 | 2 | X
Organic peroxides 5.2 | 4 | 4 | 2 | 2 | 1 | 2 | 2 | 2 | 2 | 2 | 2 | X | 1 | 3 | 2 | 2 | X
Poisons 6.1 | 2 | 2 | X | X | X | X | X | X | 1 | X | 1 | 1 | X | 1 | X | X | X
Infectious substances 6.2 | 4 | 4 | 4 | 4 | 2 | 2 | 3 | 3 | 3 | 2 | 3 | 3 | 1 | X | 3 | 3 | X
Radioactive materials 7 | 2 | 2 | 2 | 2 | 1 | 1 | 2 | 2 | 2 | 2 | 1 | 2 | X | 3 | X | 2 | X
Corrosives 8 | 4 | 2 | 2 | 1 | X | X | X | 1 | 1 | 1 | 2 | 2 | X | 3 | 2 | X | X
Miscellaneous dangerous substances 9 | X | X | X | X | X | X | X | X | X | X | X | X | X | X | X | X | X
Numbers and symbols relate to the following terms as defined in this section:
1—“Away from.”
2—“Separated from.”
3—“Separated by a complete compartment or hold from.”
4—“Separated longitudinally by an intervening complete compartment or hold from.”
X—The segregation, if any, is shown in the § 172.101 table.
*—See § 176.144 of this part for segregation within Class 1.

* * * * *

71. In § 176.84:

a. Revise the section heading;

b. Footnote 3 is added and assigned to stowage code 12 and 13; and

c. Provisions 147 and 148 are added:

§ 176.84 Other requirements for stowage, cargo handling, and segregation for cargo vessels and passenger vessels.

Code | Provisions
* * * * * * *
12 | Keep as cool as reasonably practicable.³
13 | Keep as dry as reasonably practicable.³
* * * * * * *
147 | Stow “separated from” flammable gases and flammable liquids.
148 | In addition: from flammable gases and flammable liquids when stowed on deck of a containership a minimum distance of two container spaces athwartship shall be maintained, when stowed on ro-ro ships a distance of 6 m athwartship shall be maintained.
* * * * * * *
* * * * * * *
³ These requirements apply to the loading of hazardous materials in cargo transport units as well as the stowage of cargo transport units.

72. In § 176.905, paragraph (i) is revised as follows:

§ 176.905 Stowage of motor vehicles or mechanical equipment.

* * * * *

(i) * * *

(1) The vehicle or mechanical equipment has an internal combustion engine using liquid fuel that has a flashpoint less than 38 °C (100 °F), the fuel tank is empty, installed batteries are protected from short circuit, and the engine is run until it stalls for lack of fuel;

(2) The vehicle or mechanical equipment has an internal combustion engine using liquid fuel that has a flashpoint of 38 °C (100 °F) or higher, the fuel tank contains 450 L (119 gallons) of fuel or less, installed batteries are protected from short circuit, and there are no fuel leaks in any portion of the fuel system;

(3) The vehicle or mechanical equipment is stowed in a hold or compartment designated by the administration of the country in which the vessel is registered as specially designed and approved for vehicles and mechanical equipment and there are no signs of leakage from the battery, engine, fuel cell, compressed gas cylinder or accumulator, or fuel tank, as appropriate. For vehicles with batteries connected and fuel tanks containing gasoline transported by U.S. vessels, see 46 CFR 70.10-1 and 90.10-38;

(4) The vehicle or mechanical equipment is electrically powered solely by wet electric storage batteries (including non-spillable batteries) or sodium batteries and the installed batteries are protected from short circuit;

(5) The vehicle or mechanical equipment is equipped with liquefied petroleum gas or other compressed gas fuel tanks, the tanks are completely emptied of liquefied or compressed gas and the positive pressure in the tank does not exceed 2 bar (29 psig), the fuel shut-off or isolation valve is closed and secured, and installed batteries are protected from short circuit; or

(6) The vehicle or mechanical equipment is powered by a fuel cell engine, the engine is protected from inadvertent operation by closing fuel supply lines or by other means, and the fuel supply reservoir has been drained and sealed.

* * * * *

PART 178—SPECIFICATIONS FOR PACKAGINGS

73. The authority citation for part 178 continues to read as follows:

Authority: 49 U.S.C. 5101-5128; 49 CFR 1.81 and 1.97.

74. In § 178.71, revise paragraphs (a), (d)(2), (g)(1), (2),and (3), (k)(1)(i), and (k)(1)(ii), redesignate paragraphs (n) through (s) as paragraphs (o) through (t) revise the newly redesignated paragraphs (o), (r), and (t); and add new paragraphs (n), (u) and (v) to read as follows:

§ 178.71 Specifications for UN pressure receptacles.

* * * * *

(a) General. Each UN pressure receptacle must meet the requirements of this section. UN pressure receptacles and service equipment constructed according to the standards applicable at the date of manufacture may continue in use subject to the continuing qualification and maintenance provisions of part 180 of this subchapter. Requirements for approval, qualification, maintenance, and testing are contained in § 178.70, and subpart C of part 180 of this subchapter.

* * * * *

(d) * * *

(2) Service equipment must be configured or designed to prevent damage that could result in the release of the pressure receptacle contents during normal conditions of handling and transport. Manifold piping leading to shut-off valves must be sufficiently flexible to protect the valves and the piping from shearing or releasing the pressure receptacle contents. The filling and discharge valves and any protective caps must be secured against unintended opening. The valves must conform to ISO 10297:2006 (IBR, see § 171.7 of this subchapter), or ISO 13340 (IBR, see § 171.7 of this subchapter) for non-refillable pressure receptacles, and be protected as specified in § 173.301b(f) of this subchapter. Until December 31, 2008, the manufacture of a valve conforming to the requirements in ISO 10297:1999 (IBR, see § 171.7 of this subchapter) is authorized.

* * * * *

(g) * * *

(1) ISO 9809-1:2010 Gas cylinders—Refillable seamless steel gas cylinders—Design, construction and testing—Part 1: Quenched and tempered steel cylinders with tensile strength less than 1100 MPa. (IBR, see § 171.7 of this subchapter). Until December 31, 2018, the manufacture of a cylinder conforming to the requirements in ISO 9809-1:1999 (IBR, see § 171.7 of this subchapter) is authorized.

(2) ISO 9809-2: Gas cylinders—Refillable seamless steel gas cylinders—Design, construction and testing—Part 2: Quenched and tempered steel cylinders with tensile strength greater than or equal to 1100 MPa. (IBR, see § 171.7 of this subchapter). Until December 31, 2018, the manufacture of a cylinder conforming to the requirements in ISO 9809-2:2000 (IBR, see § 171.7 of this subchapter) is authorized.

(3) ISO 9809-3: Gas cylinders—Refillable seamless steel gas cylinders—Design, construction and testing—Part 3: Normalized steel cylinders. (IBR, see § 171.7 of this subchapter). Until December 31, 2018, the manufacture of a cylinder conforming to the requirements in ISO 9809-3:2000 (IBR, see § 171.7 of this subchapter) is authorized.

* * * * *

(k) * * *

(1) * * *

(i) ISO 9809-1:2010 Gas cylinders—Refillable seamless steel gas cylinders—Design, construction and testing—Part 1: Quenched and tempered steel cylinders with tensile strength less than 1100 MPa. Until December 31, 2018, the manufacture of a cylinder conforming to the requirements in ISO 9809-1:1999 (IBR, see § 171.7 of this subchapter) is authorized.

(ii) ISO 9809-3: Gas cylinders—Refillable seamless steel gas cylinders—Design, construction and testing—Part 3: Normalized steel cylinders. Until December 31, 2018, the manufacture of a cylinder conforming to the requirements in ISO 9809-3:2000 (IBR, see § 171.7 of this subchapter) is authorized.

* * * * *

(n) Design and construction requirements for UN cylinders for the transportation of adsorbed gases. In addition to the general requirements of this section, UN cylinders for the transportation of adsorbed gases must conform to the following ISO standards, as applicable: ISO 11513:2011, Gas cylinders—Refillable welded steel cylinders containing materials for sub-atmospheric gas packaging (excluding acetylene)—Design, construction, testing, use and periodic inspection, or ISO 9809-1:2010: Gas cylinders—Refillable seamless steel gas cylinders—Design, construction and testing—Part 1: Quenched and tempered steel cylinders with tensile strength less than 1100 MPa. (IBR, see § 171.7 of this subchapter.)

* * * * *

(o) Material compatibility. In addition to the material requirements specified in the UN pressure receptacle design and construction ISO standards, and any restrictions specified in part 173 for the gases to be transported, the requirements of the following standards must be applied with respect to material compatibility:

(1) ISO 11114-1:2012: Gas cylinders—Compatibility of cylinder and valve materials with gas contents—Part 1: Metallic materials. (IBR, see § 171.7 of this subchapter).

(2) ISO 11114-2: Transportable gas cylinders—Compatibility of cylinder and valve materials with gas contents—Part 2: Non-metallic materials. (IBR, see § 171.7 of this subchapter).

* * * * *

(r) Marking sequence. The marking required by paragraph (q) of this section must be placed in three groups as shown in the example below:

(1) The top grouping contains manufacturing marks and must appear consecutively in the sequence given in paragraphs (q)(13) through (19) of this section.

(2) The middle grouping contains operational marks described in paragraphs (q)(6) through (11) of this section.

(3) The bottom grouping contains certification marks and must appear consecutively in the sequence given in paragraphs (q)(1) through (5) of this section.

* * * * *

(t) Marking of UN non-refillable pressure receptacles. Unless otherwise specified in this paragraph, each UN non-refillable pressure receptacle must be clearly and legibly marked as prescribed in paragraph (q) of this section. In addition, permanent stenciling is authorized. Except when stenciled, the marks must be on the shoulder, top end or neck of the pressure receptacle or on a permanently affixed component of the pressure receptacle (e.g., a welded collar).

(1) The marking requirements and sequence listed in paragraphs (q)(1) through (19) of this section are required, except the markings in paragraphs (q)(8), (9), (12) and (18) are not applicable. The required serial number marking in paragraph (q)(14) may be replaced by the batch number.

(2) Each receptacle must be marked with the words “DO NOT REFILL” in letters of at least 5 mm in height.

(3) A non-refillable pressure receptacle, because of its size, may substitute the marking required by this paragraph with a label. Reduction in marking size is authorized only as prescribed in ISO 7225, Gas cylinders—Precautionary labels. (IBR, see § 171.7 of this subchapter).

(4) Each non-refillable pressure receptacle must also be legibly marked by stenciling the following statement: “Federal law forbids transportation if refilled-penalty up to $500,000 fine and 5 years in imprisonment (49 U.S.C. 5124).”

(u) Marking of bundles of cylinders. (1) Individual cylinders in a bundle of cylinders must be marked in accordance with paragraphs (q), (r), (s) and (t) of this section as appropriate.

(2) Refillable UN bundles of cylinders must be marked clearly and legibly with certification, operational, and manufacturing marks. These marks must be permanently affixed (e.g., stamped, engraved, or etched) on a plate permanently attached to the frame of the bundle of cylinders. Except for the “UN” mark, the minimum size of the marks must be 5 mm. The minimum size of the “UN” mark must be 10 mm. A refillable UN bundle of cylinders must be marked with the following:

(i) The UN packaging symbol;

(ii) The ISO standard, for example ISO 9809-1, used for design, construction and testing. Acetylene cylinders must be marked to indicate the porous mass and the steel shell, for example: “ISO 3807-2/ISO 9809-1”;

(iii) The mark of the country where the approval is granted. The letters “USA” must be marked on UN pressure receptacles approved by the United States. The manufacturer must obtain an approval number from the Associate Administrator. The manufacturer approval number must follow the country of approval mark, separated by a slash (for example, USA/MXXXX). Pressure receptacles approved by more than one national authority may contain the mark of each country of approval, separated by a comma;

(iv) The identity mark or stamp of the IIA;

(v) The date of the initial inspection, the year in four digits followed by the two digit month separated by a slash, for example “2006/04”;

(vi) The test pressure in bar, preceded by the letters “PH” and followed by the letters “BAR”;

(vii) For pressure receptacles intended for the transport of compressed gases and UN 1001 acetylene, dissolved, the working pressure in bar, proceeded by the letters “PW”;

(viii) For liquefied gases, the water capacity in liters expressed to three significant digits rounded down to the last digit, followed by the letter “L”. If the value of the minimum or nominal water capacity is an integer, the digits after the decimal point may be omitted;

(ix) The total mass of the frame of the bundle and all permanently attached parts (cylinders, manifolds, fittings and valves). Bundles intended for the carriage of UN 1001 acetylene, dissolved must bear the tare mass as specified in clause N.4.2 of ISO 10961:2010;

(x) The country of manufacture. The letters “USA” must be marked on cylinders manufactured in the United States;

(xi) The serial number assigned by the manufacturer; and

(xii) For steel pressure receptacles, the letter “H” showing compatibility of the steel, as specified in 1SO 11114-1.

(v) Marking sequence. The marking required by paragraph (u) of this section must be placed in three groups as follows:

(1) The top grouping contains manufacturing marks and must appear consecutively in the sequence given in paragraphs (u)(2)(x) through (u)(2)(xii) of this section as applicable.

(2) The middle grouping contains operational marks described in paragraphs (u)(2)(vi) through (u)(2)(ix) of this section as applicable. When the operational mark specified in paragraph (u)(2)(vii) is required, it must immediately precede the operational mark specified in paragraph (u)(2)(vi).

(3) The bottom grouping contains certification marks and must appear consecutively in the sequence given in paragraphs (u)(2)(i) through (u)(2)(v) of this section as applicable.

75. In § 178.75, paragraphs (d)(3)(i), (ii), and (iii) are revised to read as follows:

§ 178.75 Specifications for MEGCs.

* * * * *

(d) * * *

(3) * * *

(i) ISO 9809-1: Gas cylinders—Refillable seamless steel gas cylinders—Design, construction and testing—Part 1: Quenched and tempered steel cylinders with tensile strength less than 1100 MPa. (IBR, see § 171.7 of this subchapter). Until December 31, 2018, the manufacture of a cylinder conforming to the requirements in ISO 9809-1:1999 (IBR, see § 171.7 of this subchapter) is authorized;

(ii) ISO 9809-2: Gas cylinders—Refillable seamless steel gas cylinders—Design, construction and testing—Part 2: Quenched and tempered steel cylinders with tensile strength greater than or equal to 1100 MPa. (IBR, see § 171.7 of this subchapter). Until December 31, 2018, the manufacture of a cylinder conforming to the requirements in ISO 9809-2:2000 (IBR, see § 171.7 of this subchapter) is authorized;

(iii) ISO 9809-3: Gas cylinders—Refillable seamless steel gas cylinders—Design, construction and testing—Part 3: Normalized steel cylinders. (IBR, see § 171.7 of this subchapter). Until December 31, 2018, the manufacture of a cylinder conforming to the requirements in ISO 9809-3:2000 (IBR, see § 171.7 of this subchapter) is authorized; or

* * * * *

76. In § 178.703, paragraph (b)(7)(iii) is revised to read as follows:

§ 178.703 Marking of IBCs.

* * * * *

(b) * * *

(7) * * *

(iii) The symbol must be a square with each side being not less than 100 mm (3.9 inches) by 100 mm (3.9 inches) as measured from the corner printer marks shown on the figures in paragraph (b)(7)(i) of this section. Where dimensions are not specified, all features must be in approximate proportion to those shown.

(A) Transitional exception. A marking in conformance with the requirements of this paragraph in effect on December 31, 2014, may continue to be applied to all IBCs manufactured, repaired or remanufactured between January 1, 2011 and December 31, 2016.

(B) For domestic transportation, an IBC marked prior to January 1, 2017 and in conformance with the requirements of this paragraph in effect on December 31, 2014, may continue in service until the end of its useful life.

* * * * *

77. In § 178.910, revise paragraphs (a)(1)(ii), (b) introductory text, and add paragraphs (a)(2)(iv), (b)(1) and (b)(2) to read as follows.

§ 178.910 Marking of Large Packagings.

* * * * *

(a) * * *

(1) * * *

(ii) The code number designating the Large Packaging design type according to § 178.905. The letters “T” or “W” may follow the Large Packaging design type identification code on a Large Packaging. Large Salvage Packagings conforming to the requirements of subpart P of this part must be marked with the letter “T”. Large Packagings must be marked with the letter “W” when the Large Packaging differs from the requirements in subpart P of this part, or is tested using methods other than those specified in this subpart, and is approved by the Associate Administrator in accordance with the provisions in § 178.955;

* * * * *

(2) * * *

(iv) For a steel Large Salvage Packaging suitable for stacking; stacking load: 2,500 kg; maximum gross mass: 1,000 kg.

(b) All Large Packagings manufactured, repaired or remanufactured after January 1, 2015 must be marked with the symbol applicable to a Large Packaging designed for stacking or not designed for stacking, as appropriate. The symbol must be a square with each side being not less than 100 mm (3.9 inches) by 100 mm (3.9 inches) as measured from the corner printer marks shown on the following figures. Where dimensions are not specified, all features must be in approximate proportion to those shown.

* * * * *

(1) Transitional exception—A marking in conformance with the requirements of this paragraph in effect on December 31, 2014, may continue to be applied to all Large Packagings manufactured, repaired or remanufactured between January 1, 2015 and December 31, 2016.

(2) For domestic transportation, a Large Packaging marked prior to January 1, 2017 and in conformance with the requirements of this paragraph in effect on December 31, 2014, may continue in service until the end of its useful life.

* * * * *

PART 180—CONTINUING QUALIFICATION AND MAINTENANCE OF PACKAGINGS

78. The authority citation for part 180 continues to read as follows:

Authority: 49 U.S.C. 5101-5128; 49 CFR 1.81 and 1.97.

79. In § 180.207, in paragraph (c), a new entry is added to the end of Table 1 and a new paragraph (d)(5) is added to read as follows:

§ 180.207 Requirements for requalification of UN pressure receptacles.

* * * * *

(c) * * *

Table 1—Requalification Intervals of UN Pressure Receptacles
Interval (years) | UN pressure receptacles/hazardous materials
* * * * *
5 | Pressure receptacles used for adsorbed gases.

(d) * * *

(5) UN cylinders for adsorbed gases: Each UN cylinder for adsorbed gases must be inspected and tested in accordance with § 173.302c and ISO 11513:2011 (IBR, see § 171.7 of this subchapter).

Issued in Washington, DC, on December 23, 2014 under authority delegated in 49 CFR 1.97.
Timothy P. Butters,
Acting Administrator.

[FR Doc. 2014-30462 Filed 12-31-14; 4:15 pm]

BILLING CODE 4910-60-P